DEPARTMENT OF HEALTH AND HUMAN SERVICES

Centers for Medicare & Medicaid Services

42 CFR Parts 412 and 424

[CMS-1306-F]

RIN 0938-AN82

Medicare Program; Inpatient Psychiatric Facilities Prospective Payment System Payment Update for Rate Year Beginning July 1, 2006 (RY 2007)

AGENCY: Centers for Medicare & Medicaid Services (CMS), HHS.

ACTION: Final rule.

SUMMARY: This final rule updates the prospective payment rates for Medicare inpatient hospital services provided by inpatient psychiatric facilities (IPFs). These changes are applicable to IPF discharges occurring during the rate year beginning July 1, 2006 through June 30, 2007. In addition, we are adopting the new Office of Management and Budget (OMB) labor market area definitions for the purpose of geographic classification and the wage index. We are also making revisions to existing policies and implementing new polices.

DATES: Effective Date: These regulations are effective on July 1, 2006.

FOR FURTHER INFORMATION CONTACT: Dorothy Colbert, (410) 786-4533 for general information. Mary Lee Seifert, (410) 786-0030 for information regarding the market basket and labor-related share. Theresa Bean, (410) 786-2287 for information regarding the regulatory impact analysis. Matthew Quarrick, (410) 786-9867 for information on the wage index.

SUPPLEMENTARY INFORMATION:

Table of Contents

To assist readers in referencing sections contained in this document, we are providing the following table of contents.

I. Background

A. General and Legislative History

B. Overview of the Establishment of the IPF PPS

C. Applicability of the IPF PPS

II. Overview for Updating the IPF PPS

A. Requirements for Updating the IPF PPS

B. Transition Period for Implementation of the IPF PPS

III. Provisions of the Proposed Regulation

IV. Analysis of and Responses to Public Comments

V. Updates to the IPF PPS for RY Beginning July 1, 2006

A. Calculation of the Average Per Diem Cost

B. Determining the Standardized Budget-Neutral Federal Per Diem Base Rate

1. Standardization of the Federal Per Diem Base Rate

2. Calculation of the Budget Neutrality Adjustment

a. Outlier Adjustment

b. Stop-Loss Provision Adjustment

c. Behavioral Offset

3. Revision of Standardization Factor

C. Update of the Federal Per Diem Base Rate

1. Market Basket for IPFs Reimbursed Under the IPF PPS

a. Market Basket Index for IPF PPS

b. Overview of the RPL Market Basket

2. Methodology for Operating Portion of the RPL Market Basket

3. Methodology for Capital Portion of the RPL Market Basket

4. Labor-Related Share

VI. Update of the IPF PPS Adjustment Factors

A. Overview of the IPF PPS Adjustment Factors

B. Patient-Level Adjustments

1. Adjustment for DRG Assignment

2. Payment for Comorbid Conditions

3. Patient Age Adjustments

4. Variable Per Diem Adjustments

C. Facility-Level Adjustments

1. Wage Index Adjustment

a. Revisions of IPF PPS Geographic Classifications

b. Current IPF PPS Labor Market Areas Based on MSAs

c. Core-Based Statistical Areas

d. Revision of the IPF PPS Labor Market Areas

i. New England MSAs

ii. Metropolitan Divisions

iii. Micropolitan Areas

e. Implementation of the Revised Labor Market Areas Under the IPF PPS

f. Wage Index Budget Neutrality

2. Adjustment for Rural Location

3. Teaching Adjustment

4. Cost of Living Adjustment for IPFs Located in Alaska and Hawaii

5. Adjustment for IPFs With a Qualifying Emergency Department (ED)

a. New Source of Admission Code To Implement the ED Adjustment

b. Applicability of the ED Adjustment to IPFs in Critical Access Hospitals

D. Other Payment Adjustments and Policies

1. Outlier Payments

a. Update to the Outlier Fixed Dollar Loss Threshold Amount

b. Statistical Accuracy of Cost-to-Charge Ratios

2. Stop-Loss Provision

3. Patients Who Receive Electroconvulsive Therapy (ECT)

4. Physician Certification and Recertification Requirements

5. Provision of Therapeutic Recreation in IPFs

6. Same Day Transfers

VII. Miscellaneous Public Comments Within the Scope of the Proposed Rule

VIII. Provisions of the Final Rule

IX. Collection of Information Requirements

X. Regulatory Impact Analysis

Acronyms

Because of the many terms to which we refer by acronym in this final rule, we are listing the acronyms used and their corresponding terms in alphabetical order below:

BBA Balanced Budget Act of 1997, (Pub. L. 105-33)

BBRA Medicare, Medicaid and SCHIP [State Children's Health Insurance Program] Balanced Budget Refinement Act of 1999, (Pub. L. 106-113)

BIPA Medicare, Medicaid, and SCHIP [State Children's Health Insurance Program] Benefits Improvement and Protection Act of 2000, (Pub. L. 106-554)

CBSA Core-Based Statistical Area

CCR Cost-to-charge ratio

CMS Centers for Medicare & Medicaid Services

CMSA Consolidated Metropolitan Statistical Area

DSM-IV-TR Diagnostic and Statistical Manual of Mental Disorders Fourth Edition—Text Revision

DRGs Diagnosis-related groups

FY Federal fiscal year

HCRIS Hospital Cost Report Information System

ICD-9-CM International Classification of Diseases, 9th Revision, Clinical Modification

IPFs Inpatient psychiatric facilities

IRFs Inpatient rehabilitation facilities

LTCHs Long-term care hospitals

MedPAR Medicare provider analysis and review file

MMA Medicare Prescription Drug, Improvement and Modernization Act of 2003, (Pub. L. 108-173)

MSA Metropolitan Statistical Area

NECMA New England County Metropolitan Area

OMB Office of Management and Budget

PIP Periodic Interim Payments

RY Rate Year (July 1 through June 30)

TEFRA Tax Equity and Fiscal Responsibility Act of 1982, (Pub. L. 97-248)

I. Background

A. General and Legislative History

The Congress directed implementation of a prospective payment system (PPS) for acute care hospitals with the enactment of Pub. L. 98-21. Section 601 of the Social Security Amendments of 1983 (Pub. L. 98-21) added a new section 1886(d) to the Social Security Act (the Act) that replaced the reasonable cost-based payment system for most hospital inpatient services with a PPS.

Although most hospital inpatient services became subject to the PPS, certain hospitals, including IPFs, inpatient rehabilitation facilities (IRFs), long term care hospitals (LTCHs), and children's hospitals were excluded from the PPS for acute care hospitals. These hospitals and units were paid their reasonable costs for inpatient services, subject to a per discharge limitation or target amount under the authority of the Tax Equity and Fiscal Responsibility Act of 1982 (TEFRA), Pub. L. 97-248. The regulations implementing the TEFRA (reasonable cost-based) payment provisions are located at 42 CFR part 413. Cancer hospitals were added to the list of excluded hospitals by section 6004(a) of the Omnibus Budget Reconciliation Act of 1989, (Pub. L. 101-239).

The Congress enacted various provisions in the Balanced Budget Act of 1997 (BBA) (Pub. L. 105-33), the Medicare, Medicaid, and SCHIP (State Children's Health Insurance Program) Balanced Budget Refinement Act of 1999 (BBRA) (Pub. L. 106-113), and the Medicare, Medicaid, and SCHIP Benefits Improvement and Protection Act of 2000 (BIPA) (Pub. L. 106-554) to replace the reasonable cost-based method of reimbursement with a PPS for IRFs, LTCHs, and IPFs. Section 124 of the BBRA required implementation of the IPF PPS.

Section 124 of the BBRA mandated that the Secretary—(1) Develop a per diem PPS for inpatient hospital services furnished in psychiatric hospitals and psychiatric units; (2) include in the PPS an adequate patient classification system that reflects the differences in patient resource use and costs among psychiatric hospitals and psychiatric units; (3) maintain budget neutrality; (4) permit the Secretary to require psychiatric hospitals and psychiatric units to submit information necessary for the development of the PPS; and (5) submit a report to the Congress describing the development of the PPS. Section 124 of the BBRA also required that the IPF PPS be implemented for cost reporting periods beginning on or after October 1, 2002.

Section 405(g)(2) of the Medicare Prescription Drug, Improvement, and Modernization Act of 2003 (MMA) (Pub. L. 108-173) extended the IPF PPS to distinct part psychiatric units of critical access hospitals (CAHs).

To implement these provisions, the following were published: a proposed rule in the Federal Register on November 28, 2003 (68 FR 66920); a final rule on November 15, 2004 (69 FR 66922); and a correction notice to the final rule on April 1, 2005 (70 FR 16724). For more detail, see the program memorandum Web site, http://www.cms.hhs.gov/transmittals/01_overview.asp.

B. Overview of the Establishment of the IPF PPS

The November 2004 IPF PPS final rule established regulations for the IPF PPS under 42 CFR 412, subpart N.

The IPF PPS established the Federal per diem base rate for each patient day in an IPF derived from the national average daily routine operating, ancillary, and capital costs in IPFs in FY 2002. The average per diem cost was updated to the midpoint of the first year under the IPF PPS, standardized to account for the overall positive effects of the IPF PPS payment adjustments, and adjusted for budget neutrality. The Federal per diem payment under the IPF PPS is comprised of the Federal per diem base rate described above and certain patient and facility payment adjustments that were found in the regression analysis to be associated with statistically significant per diem cost differences (see 69 FR 66933 through 66936 for a description of the regression analysis). The patient-level adjustments include age, DRG assignment, comorbidities, and variable per diem adjustments to reflect the higher cost incurred in the early days of a psychiatric stay. Facility-level adjustments include adjustments for the IPF's wage index, rural location, teaching status, a cost of living adjustment for IPFs located in Alaska and Hawaii, and presence of a qualifying emergency department (ED). The IPF PPS provides additional payments for outlier cases, stop-loss protection which is applicable only during the IPF PPS transition period, includes special payment provisions for interrupted stays, and a per treatment adjustment for patients who undergo electroconvulsive therapy (ECT). We refer readers to the November 2004 IPF PPS final rule for a comprehensive discussion of the research and data that supported the establishment of the IPF PPS.

We established a CMS Web site that contains useful information regarding the IPF PPS including the proposed rules, final rules, and the correction notices. The Web site URL is http://www.cms.hhs.gov/InpatientPsychFacilPPS/ and may be accessed to download or view publications and other information pertinent to the IPF PPS.

C. Applicability of the IPF PPS

The IPF PPS is applicable to freestanding psychiatric hospitals, including government-operated psychiatric hospitals, and distinct part psychiatric units of acute care hospitals and CAHs.

The regulations at § 412.402 define an IPF as a hospital that meets the requirements specified in § 412.22, § 412.23(a), § 482.60, § 482.61, and § 482.62, and units that meet the requirements specified in § 412.22, § 412.25, and § 412.27.

However, the following hospitals are paid under a special payment provision, as described in § 412.22(c) and, therefore, are not subject to the IPF PPS rules:

• Veterans Administration hospitals.

• Hospitals that are reimbursed under State cost control systems approved under 42 CFR part 403.

• Hospitals that are reimbursed in accordance with demonstration projects specified in section 402(a) of Pub. L. 90-248 (42 U.S.C. 1395b-1) or section 222(a) of Pub. L. 92-603 (42 U.S.C. 1395b-1(note)).

• Non-participating hospitals furnishing emergency services to Medicare beneficiaries.

II. Overview for Updating the IPF PPS

A. Requirements for Updating the IPF PPS

Section 124 of the BBRA does not specify an update strategy for the IPF PPS and is broadly written to give the Secretary discretion in establishing an update methodology. Therefore, we reviewed the update approach used in other hospital PPSs (specifically, the IRF and LTCH PPS update methodologies). As a result of this analysis, we stated in the November 2004 IPF PPS final rule (69 FR 66966) that we would implement the IPF PPS using the following update strategy—(1) Calculate the final Federal per diem base rate to be budget neutral for the 18-month period (that is, January 1, 2005 through June 30, 2006); (2) use a July 1 through June 30 annual update cycle; and (3) allow the IPF PPS first update to be effective for discharges July 1, 2006 through June 30, 2007.

As explained in the November 2004 IPF PPS final rule, we believe it is important to delay updating the adjustment factors derived from the regression analysis until we have IPF PPS data that include as much information as possible regarding the patient-level characteristics of the population that each IPF serves. For this reason, we do not intend to update the regression analysis and recalculate the Federal per diem base rate until we analyze IPF PPS data (that is, no earlier than FY 2008). Until that analysis is complete, we stated our intention to publish a notice in the Federal Register each spring to update the IPF PPS as specified in § 412.428.

However, since the implementation of the IPF PPS, a new market basket index was announced in the August 2005 IPPS final rule. We believe that this new market basket should be implemented in the IPF PPS as well in order to update the system using the best data available. Therefore, rather than publish a notice to update the IPF PPS in 2006, we published a proposed rule in the Federal Register on January 23, 2006 (71 FR 3616) to allow interested parties an opportunity to comment on the proposed changes.

Updates to the IPF PPS as specified in § 412.428 include:

• A description of the methodology and data used to calculate the updated Federal per diem base payment amount.

• The rate of increase factor as described in § 412.424(a)(2)(iii), which is based on the excluded hospital with capital market basket under the update methodology of 1886(b)(3)(B)(ii) of the Act for each year.

• The best available hospital wage index and information regarding whether an adjustment to the Federal per diem base rate is needed to maintain budget neutrality.

• Updates to the fixed dollar loss amount in order to maintain the appropriate outlier percentage.

• Describe the ICD-9-CM coding and DRG classification changes discussed in the annual update to the hospital IPPS regulations.

• Update the ECT adjustment by a factor specified by CMS.

B. Transition Period for Implementation of the IPF PPS

In the November 2004 IPF PPS final rule, we established § 412.426 to provide for a 3-year transition period from reasonable cost-based reimbursement to full prospective payment for IPFs. New IPFs, as defined in § 412.426(c), are paid 100 percent of the Federal per diem rate. However, for those IPFs that are transitioning to the new system, during the 3-year period as specified in the November 2004 IPF PPS final rule, payment is based on an increasing percentage of the PPS payment and a decreasing percentage of each IPF's facility-specific TEFRA reimbursement rate. The blend percentages are as follows:

Table 1.—IPF PPS Final Rule Transition Blend Factors
Transition year | Cost reporting periods beginning on or after | TEFRA rate percentage | IPF PPS Federal rate percentage
1 | January 1, 2005 | 75 | 25
2 | January 1, 2006 | 50 | 50
3 | January 1, 2007 | 25 | 75
| January 1, 2008 | 0 | 100

Changes to the blend percentages occur at the beginning of an IPF's cost reporting period. We note that we are currently in year two of the transition period. As a result, for discharges occurring during IPF cost reporting periods beginning in calendar year (CY) 2006, IPFs would receive a blended payment consisting of 50 percent of the facility-specific TEFRA payment and 50 percent of the IPF PPS payment amount. However, regardless of when an IPF's cost reporting year begins, the payment update will be effective for discharges occurring on or after July 1, 2006 through June 30, 2007. We note that we are not making any changes to the transition approach established in the November 2004 IPF PPS final rule.

III. Provisions of the Proposed Regulation

In January 2006, we published a proposed rule that appeared in the Federal Register at (71 FR 3616), and on February 24, 2006, a correction notice appeared in the Federal Register (71 FR 9505) to correct technical errors in the proposed rule and to extend the comment period for our policy concerning Electroconvulsive Therapy (ECT). The January 2006 proposed rule (hereinafter referred to as the Rate Year (RY) 2007 proposed rule) set forth the proposed annual update to the proposed prospective payment for IPFs for discharges occurring during the RY beginning July 1, 2006. As part of the update, we proposed to incorporate OMB's revised definitions for MSAs and its new definitions of Micropolitan Statistical Areas and Core-Based Statistical Areas (CBSAs). In addition, we proposed the following——

• Update payments for IPFs using a market basket reflecting the operating and capital cost structures of IRFs, IPFs, and LTCHs.

• Develop cost weights for benefits, contract labor, and blood and blood products using the FY 2002-based IPPS market basket.

• Provide weights and proxies for the FY 2002-based RPL market basket.

• Indicate the methodology for the capital portion of the FY 2002-based RPL market basket.

• Update the outlier threshold amount to maintain total estimated outlier payments at 2 percent of total estimated payments.

• Use source code “D” to identify IPF patients who have been transferred to the IPF from the same hospital or CAH.

• Retain the 17 percent adjustment for IPFs located in rural areas, the 1.31 adjustment for IPFs with a qualifying ED, the 0.5150 teaching adjustment to the Federal per diem base rate, and the DRG adjustment factors currently being paid to IPFs for discharges occurring during RY 2007.

• Update the payment rate for ECT.

• Update the DRG listing and comorbidity categories to reflect the ICD-9-CM revisions effective October 1, 2005.

In addition to addressing these issues in the proposed rule for RY 2007, we also proposed making the following specific revisions to the existing text of the regulations. We proposed to make conforming changes in 42 CFR parts 412 and 424, as discussed throughout this preamble.

In § 412.27, we proposed to revise paragraph (b) to remove the reference to recreational therapy.

In § 412.402, we proposed to revise the heading of “Fixed dollar loss-threshold” to “Fixed dollar loss threshold amount” and revise the definitions of “Fixed dollar loss threshold amount”, “Qualifying emergency department”, “Rural area” and “Urban area.” For consistency, we proposed to make conforming changes to these terminologies wherever they appear in the regulations text.

In § 412.424, we proposed to add paragraph (d)(1)(iii)(E) to clarify that the teaching adjustment is made on a claim basis as an interim payment and the final payment in full is made during the final settlement of the cost report. For clarity, we also proposed to revise paragraph (d)(2) introductory text. The current language in (d)(2)(iii) would become the introductory text for paragraph (d)(2) and paragraph (d)(2)(iii) would be removed. In addition, we proposed to revise § 412.424(d)(3)(i)(A) to clarify that an outlier payment is made if an IPF's estimated total cost for a case exceeds a fixed dollar loss threshold amount plus the Federal payment amount for the case.

In § 412.426(a), we proposed to correct the cross reference to the Federal per diem payment amount. We incorrectly referenced the Federal per diem base rate as § 412.424(c). The correct cross reference to the Federal per diem payment amount is § 412.424(d).

In § 412.428, we proposed to revise paragraph (b) to specify that for discharges occurring on or after January 1, 2005 but before July 1, 2006 the rate of increase factor for the Federal portion of the payment is based on the FY 1997-based excluded hospital with capital market basket and for discharges occurring on or after July 1, 2006, the rate of increase factor for the Federal portion of the payment is based on the FY 2002-based Rehabilitation, Psychiatric, and Long-Term Care (RPL) market basket.

In addition, we proposed to add a new paragraph (g) to state that we would update the national urban and rural cost to charge ratio medians and ceilings. Paragraph (1) through (3) would specify the types of IPFs in which to apply the national cost to charge ratio. Furthermore, we proposed to add a new paragraph (h) to update the cost of living adjustment factors, if appropriate.

In § 424.14, we proposed to revise the title to read, “Requirements for inpatient services of inpatient psychiatric facilities,” to ensure consistency in compliance with the requirements among all IPFs. We also proposed to add a new paragraph (c)(3) to clarify for purposes of payment under the IPF PPS, that the physician would also recertify that the patient continues to need, on a daily basis, active inpatient psychiatric care (furnished directly by or requiring the supervision of inpatient psychiatric facility personnel) or other professional services that can only be provided on an inpatient basis.

In addition, we proposed to revise paragraph (d)(2) to state that the first recertification is required as of the 12th day of hospitalization. Subsequent recertifications would be required at intervals established by the hospital's utilization review committee (on a case-by-case basis if it so chooses), but no less frequently than every 30 days.

IV. Analysis of and Responses to Public Comments

We provided for a 60 day comment period on the RY 2007 proposed rule. The correction notice to correct technical errors that appeared in the RY 2007 proposed rule appeared in the Federal Register on February 24, 2006. The correction notice extended the public comment period on the ECT policy, to allow the public an opportunity to comment on the corrected policy.

We received approximately 32 public comments from hospital associations, psychiatric hospitals and units, and acute care hospitals. In general, commenters expressed some concern about a few of our proposals and suggested that we wait to implement specific updates to the IPF PPS until we can analyze 2005 claims data. A few commenters requested that we provide the provider impact files that are comparable to the files prepared for the Inpatient Prospective Payment System (IPPS). In addition, several commenters requested that we retain the rural adjustment or provide a 3-year hold harmless provision for IPFs that would lose their rural adjustment if we adopted the proposed CBSA definitions. Several commenters supported the proposed changes to the IPF PPS.

Summaries of the public comments received and our responses to those comments are provided in the appropriate sections in the preamble of this final rule.

V. Updates to the IPF PPS for RY Beginning July 1, 2006

The IPF PPS is based on a standardized Federal per diem base rate calculated from IPF average per diem costs and adjusted for budget-neutrality in the implementation year. The Federal per diem base rate is used as the standard payment per day under the IPF PPS and is adjusted by the applicable wage index factor and the patient-level and facility-level adjustments that are applicable to the IPF stay.

The following is an explanation of how we calculated the Federal per diem base rate and the standardization and budget neutrality factors as described in the November 2004 IPF PPS final rule.

A. Calculation of the Average Per Diem Cost

As indicated in the November 2004 IPF PPS final rule, to calculate the Federal per diem base rate, we estimated the average cost per day for— (1) routine services from FY 2002 cost reports (supplemented with FY 2001 cost reports if the FY 2002 cost report was missing); and (2) ancillary services using data from the FY 2002 Medicare claims and corresponding data from facility cost reports.

For routine services, the per diem operating and capital costs were used to develop the average per diem cost amount. The per diem routine costs were obtained from each facility's Medicare cost report. To estimate the costs for routine services included in the Federal per diem base rate calculation, we added the total routine costs (including costs for capital) submitted on the cost report for each provider and divided it by the total Medicare days.

Some average routine costs per day were determined to be aberrant, that is, the costs were extraordinarily high or low and most likely contained data errors. We provided a detailed discussion in the November 2004 IPF PPS final rule (69 FR 66926 through 66927) of the method used to trim extraordinarily high or low cost values from the per diem rate development file in order to improve the accuracy of our results. For ancillary services, we calculated the costs by converting charges from the FY 2002 Medicare claims into costs using facility-specific, cost-center specific cost-to-charge ratios obtained from each provider's applicable cost reports. We matched each provider's departmental cost-to-charge ratios from their Medicare cost report to each charge on their claims reported in the MedPAR file. Multiplying the total charges for each type of ancillary service by the corresponding cost-to-charge ratio provided an estimate of the costs for all ancillary services received by the patient during the stay. We determined the average ancillary amount per day by dividing the total ancillary costs for all stays by the total number of covered Medicare days.

Adding the average ancillary costs per day and the average routine costs per day including capital costs provided the estimated average per diem cost for each patient day of inpatient psychiatric care in FY 2002.

B. Determining the Standardized Budget-Neutral Federal Per Diem Base Rate

Section 124(a)(1) of the BBRA requires that the implementing IPF PPS be budget neutral. In other words, the amount of total payments under the IPF PPS, including any payment adjustments, must be projected to be equal to the amount of total payments that would have been made if the IPF PPS were not implemented. Therefore, in the November 2004 IPF PPS final rule, we calculated the budget neutrality factor by setting the total estimated IPF PPS payments to be equal to the total estimated payments that would have been made under the TEFRA methodology had the IPF PPS not been implemented.

The November 2004 IPF PPS final rule includes a step-by-step description of the methodology we used to estimate payments under the TEFRA payment system (69 FR 66930). For the IPF PPS methodology, we calculated the final Federal per diem base rate to be budget neutral during the implementation period under the IPF PPS using a July 1 update cycle. Thus, the implementation period for the IPF PPS is the 18-month period January 1, 2005 through June 30, 2006.

We updated the average cost per day to the midpoint of the IPF PPS implementation period (that is, October 1, 2005). We used the most recent projection of the full percentage increase in the 1997-based excluded hospital with capital market basket index for FY 2003 and later in accordance with § 413.40(c)(3)(viii). The updated average cost per day was used in the payment model to establish the budget neutrality adjustment.

Public comments and our responses on changes for determining the standardized budget neutral federal per diem base rate are summarized below.

Comment: We received several comments regarding the determination of the target amount and the temporary caps on the facility-specific TEFRA payments which expired in FY 2002. Specifically, the commenters stated that even though the temporary caps on the facility-specific (TEFRA) payments expired in FY 2002, the capped payment amounts which were used to establish the baseline for budget neutrality purposes, were inflated by the market basket rate for each year until the PPS began in 2005.

The commenters believe that CMS should have used what would have been spent, absent the expired temporary caps inflated using the market basket rate, to establish the baseline rather than capped payments. The commenters stated that using the capped payments could have inappropriately reduced the allowed aggregate spending under the PPS each year.

Response: We are aware that there have been concerns over the method we used for calculating the target amount for cost reporting periods beginning after FY 2002 for those hospitals and units that were subject to the “payment caps” in accordance with section 1886(b)(3)(H) of the Act and regulations at § 413.40(c)(4)(iii). We have addressed this issue several times, but most recently in the FY 2006 IPPS final rule (70 FR 47278 and 70 FR 47464). Specifically, we addressed the issue of whether § 413.40(c)(4)(iii) (specifically paragraph (c)(4)(iii)(A)) continues to apply beyond FY 2002. In that rule, we stated that § 413.40(c)(4)(iii) applies only to cost reporting periods beginning on or after October 1, 1997 through September 30, 2002, for IPFs, IRFs, and LTCHs. In addition, we clarify that once the 75th percentile cap provision in paragraph (c)(4)(iii) of § 413.40 expired, the target amount is then determined based on § 413.40(c)(4)(ii) which states that, “Subject to the provisions of [§ 413.40] paragraph (c)(4)(iii) of this section, for subsequent cost reporting periods, the target amount equals the hospital's target amount for the previous cost reporting period increased by the update factor for the subject cost reporting period” unless the provisions of paragraph (c)(5)(ii) of this section apply. Thus, under the requirements of § 413.40 (c)(4)(ii), in this instance, the previous cost reporting period's target amount would be increased by the applicable update factor to arrive at the target amount for FY 2003. Similarly, for cost reporting periods beginning in years subsequent to FY 2003, we calculate a hospital's target amount by taking its previous year's target amount and updating it by the updated factor for the subject cost reporting period unless the provision of paragraph (c)(5)(ii) of this section apply. We followed the methodology in § 413.40(c)(4)(ii) and therefore our projections of what would have been spent under TEFRA and the budget neutrality adjustment are correct.

Final Rule Action: To clarify, in order to calculate the target amounts for cost reporting periods beginning in FY 2003, our policy is that the target amounts for cost reporting periods beginning in FY 2002 are updated as described in § 413.40(c)(4)(ii). Similarly, for cost reporting periods beginning in years subsequent to FY 2003, we calculate target amounts by taking the previous year's target amount and updating it, consistent with § 413.40(c)(4)(ii).

1. Standardization of the Federal Per Diem Base Rate

In the November 2004 IPF PPS final rule, we standardized the IPF PPS Federal per diem base rate in order to account for the overall positive effects of the IPF PPS payment adjustment factors. To standardize the IPF PPS payments, we compared the IPF PPS payment amounts calculated from the FY 2002 MedPAR file to the projected TEFRA payments from the FY 2002 cost report file updated to the midpoint of the IPF PPS implementation period (that is, October 2005). The standardization factor was calculated by dividing total estimated payments under the TEFRA payment system by estimated payments under the IPF PPS. The standardization factor was calculated to be 0.8367. As a result, in the November 2004 IPF PPS final rule, the $724.43 average cost per day was reduced by 16.33 percent (100 percent minus 83.67 percent).

2. Calculation of the Budget Neutrality Adjustment

To compute the budget neutrality adjustment for the IPF PPS, we separately identified each component of the adjustment, that is, the outlier adjustment, stop-loss adjustment, and behavioral offset.

a. Outlier Adjustment

Since the IPF PPS payment amount for each IPF includes applicable outlier amounts, we reduced the standardized Federal per diem base rate to account for aggregate IPF PPS payments estimated to be made as outlier payments. The appropriate outlier amount was determined by comparing the adjusted prospective payment for the entire stay to the computed cost per case. If costs were above the prospective payment plus the adjusted fixed dollar loss threshold amount, an outlier payment was computed using the applicable risk-sharing percentages (see section VI.D.1 of this final rule). The outlier amount was computed for all stays, and the total outlier amount was added to the final IPF PPS payment. The outlier adjustment was calculated to be 2 percent. As a result, the standardized Federal per diem base rate was reduced by 2 percent to account for projected outlier payments.

b. Stop-Loss Provision Adjustment

As explained in the November 2004 IPF PPS final rule, we provide a stop-loss payment to ensure that an IPF's total PPS payments are no less than a minimum percentage of their TEFRA payment, had the IPF PPS not been implemented. We reduced the standardized Federal per diem base rate by the percentage of aggregate IPF PPS payments estimated to be made for stop-loss payments.

The stop-loss payment amount was determined by comparing aggregate prospective payments that the provider would receive under the IPF PPS to aggregate TEFRA payments that the provider would have otherwise received without implementation of the IPF PPS. If an IPF's aggregate IPF PPS payments are less than 70 percent of its aggregate payments under TEFRA, a stop-loss payment was computed for that IPF. The stop-loss payment amounts were computed for those IPFs that were projected to receive the payments, and the total amount was added to the final IPF PPS payment amount. As a result, the standardized Federal per diem base rate was reduced by 0.39 percent to account for stop-loss payments.

c. Behavioral Offset

As explained in the November 2004 IPF PPS final rule, implementation of the IPF PPS may result in certain changes in IPF practices especially with respect to coding for comorbid medical conditions. As a result, Medicare may incur higher payments than assumed in our calculations. Accounting for these effects through an adjustment is commonly known as a behavioral offset.

Based on accepted actuarial practices and consistent with the assumptions made in other prospective payment systems, we assumed in determining the behavioral offset that IPFs would regain 15 percent of potential “losses” and augment payment increases by 5 percent. We applied this actuarial assumption, which is based on our historical experience with new payment systems, to the estimated “losses” and “gains” among the IPFs. The behavioral offset for the IPF PPS was calculated to be 2.66 percent. As a result, we reduced the standardized Federal per diem base rate by 2.66 percent to account for behavioral changes.

To summarize, the $724.43 updated average per diem cost was reduced by 16.33 percent to account for standardization to projected TEFRA payments for the implementation period, by 2 percent to account for outlier payments, by 0.39 percent to account for stop-loss payments, and by 2.66 percent reduction to account for the behavioral offset. The final standardized budget-neutral Federal per diem base rate for the IPF PPS implementation year was calculated to be $575.95. We discuss the Federal per diem base rate for RY 2007 below.

Public comments and our responses on the behavioral offset are summarized below.

Comment: Several commenters expressed concern that CMS continues to maintain the behavioral offset which is intended to account for changes in provider practice patterns as a result of movement to prospective payment which could result in higher Medicare payments. A few commenters stated that accurate coding is already a high priority in distinct part units and freestanding facilities. Therefore, coding practices in these facilities should not undergo major changes. The commenters suggested that because the PPS is being phased in, and only 50 percent of the payment in the second year would be based on the IPF PPS, the incentive for behavior change is diminished.

Several commenters recommended that CMS analyze the preliminary 2005 claims data and adjust the calculations for the behavioral offset to maintain IPF spending at appropriate levels. A few commenters expressed concern that CMS did not indicate whether an analysis was conducted to determine if continuing the adjustment for behavioral offset is warranted. They believe the assumptions made for both the proposed RY and the implementation year of the IPF PPS overestimated the likely impact of changes in hospital behavior.

Response: We explained in the November 2004 IPF PPS final rule and the RY 2007 proposed rule that we believe it is reasonable to expect changes in IPFs' practices especially with respect to coding for comorbid medical conditions and changes in length of stay (LOS), as a result of the implementation of the IPF PPS.

In addition, based on accepted actuarial practices and consistent with the assumptions made in implementing other prospective payment systems, we assumed in determining the behavioral offset, that IPFs would regain 15 percent of potential “losses” and augment payment increases by 5 percent. We applied this actuarial assumption, which is based on our historical experience with new payment systems, to the estimated “losses” and “gains” among the IPFs.

As indicated in the RY 2007 proposed rule, we do not plan to change adjustment factors or projections, including the behavioral offset, until we analyze IPF PPS data. At that time, we will re-assess the accuracy of the behavioral offset along with the other factors impacting budget neutrality. We anticipate analyzing 2005 IPF PPS claims and cost report data in the future.

Comment: Several commenters inquired why CMS is continuing to include budget neutrality factors in the Federal per diem base rate (behavioral offset, stop-loss adjustment, and outlier adjustment), effectively lowering the base rate. Since the PPS is only budget neutral for the implementation year, the commenters believe the base rate should not reflect budget neutrality factors that effectively lower the amount.

Response: We acknowledge that the PPS is only budget neutral for the implementation year. The standardization factor, behavioral offset, stop-loss adjustment, and outlier adjustment were included in the 2005 Federal per diem base rate of $575.95. In implementing the RY 2007 final rule, we adjust the standardization factor (see section V.B.3 of this final rule), and apply the market basket update and the wage index budget neutrality factor to the base rate. As indicated above, we do not plan to change any adjustment factors or projections, including the budget neutrality factors (behavioral offset, stop-loss adjustment, and outlier adjustment), until we analyze IPF PPS data. We will revisit all assumptions used to calculate the budget neutrality adjustment and make any necessary prospective changes to the Federal per diem base rate. In section VI.D.3 of this final rule, we address these comments with respect to the calculation of the ECT rate.

Final Rule Action: In summary, for future RYs, we will reassess the appropriateness of the behavior offset along with the other factors impacting budget neutrality. For the RY 2007 IPF PPS, we will continue to adjust the standardization factor and apply the market basket updates and the wage index budget neutrality factors.

3. Revision of the Standardization Factor

In reviewing the methodology used to simulate the IPF PPS payments used for the November 2004 IPF PPS final rule, we discovered that the computer code incorrectly assigned non-teaching status to most teaching facilities. As a result, total IPF PPS payments were underestimated by about 1.36 percent. The underestimated IPF PPS payment total was used in calculating the IPF PPS standardization factor. The standardization factor represents the amount by which the IPF PPS per diem payment rate and the ECT rate must be reduced in order to make total IPF PPS payments equal to estimated total TEFRA payments assuming IPFs continued to be paid solely under TEFRA for the first PPS payment year.

The standardization factor is calculated as the ratio of estimated total TEFRA payments to estimated total IPF PPS payments assuming no reduction to the per diem and ECT payment rates. Since the IPF PPS payment total should have been larger than the estimated figure, the standardization factor should have been smaller (0.8254 vs. 0.8367). In turn, the Federal per diem base rate and the ECT rate should have been reduced by 0.8254 instead of 0.8367.

To resolve this issue, we proposed to amend the Federal per diem base rate and the ECT payment rate prospectively. Using the standardization factor of 0.8254, the base rate should have been $568.17 for the implementation year of the IPF PPS. It is this base rate that we proposed to update using the market basket rate of increase of 4.3 percent and the budget-neutral wage index factor of 1.0042 (see section VI.C.1.f of this final rule). Applying these factors yields a proposed Federal per diem base rate of $595.09 for the RY beginning July 1, 2006 through June 30, 2007.

Public comments and our responses on the revision of the standardization factor are summarized below.

Comment: One commenter asked whether the overall increase in the base rate is appropriately calculated and sufficient.

Response: As explained above and in the RY 2007 proposed rule, the correction of the standardization factor reveals that last year's per diem rate should have been $568.17, and not $575.95. To correct this error prospectively, we apply the market basket increase of 4.3 percent to $568.17, and then apply the wage index budget neutrality factor to compute the Federal per diem base rate.

Final Rule Action: In summary, we are finalizing our decision to revise the standardization factor prospectively, and the Federal per diem base rate for RY 2007 is $595.09.

C. Update of the Federal Per Diem Base Rate

1. Market Basket for IPFs Reimbursed Under the IPF PPS

a. Market Basket Index for IPF PPS

The market basket index used to develop the IPF PPS is the excluded hospital with capital market basket. This market basket was based on 1997 Medicare cost report data and includes data for Medicare participating IPFs, IRFs, LTCHs, cancer, and children's hospitals.

We are presently unable to create a separate market basket specifically for psychiatric hospitals due to the small number of facilities and the limited data that are provided (for instance, approximately 4 percent of psychiatric facilities reported contract labor cost data for FY 2002). However, since all IRFs, LTCHs, and IPFs are now paid under a PPS, we are updating PPS payments made under the IRF PPS, the LTCH PPS, and the IPF PPS using a market basket reflecting the operating and capital cost structures for IRFs, IPFs, and LTCHs (hereafter referred to as the rehabilitation, psychiatric, long-term care (RPL) market basket). We have excluded children's and cancer hospitals from the RPL market basket because their payments are based entirely on reasonable costs subject to rate-of-increase limits established under the authority of section 1886(b) of the Act, which is implemented in regulations at § 413.40. They are not reimbursed under a PPS. Also, the FY 2002 cost structures for children's and cancer hospitals are noticeably different than the cost structures of the IRFs, IPFs, and LTCHs.

The services offered in IRFs, IPFs, and LTCHs are typically more labor-intensive than those offered in cancer and children's hospitals. Therefore, the compensation cost weights for IRFs, IPFs, and LTCHs are larger than those in cancer and children's hospitals. In addition, the depreciation cost weights for IRFs, IPFs, and LTCHs are noticeably smaller than those for children's and cancer hospitals.

In the following discussion, we provide an overview on the market basket and describe the methodologies we are using for purposes of determining the operating and capital portions of the FY 2002-based RPL market basket.

b. Overview of the RPL Market Basket

The RPL market basket is a fixed weight, Laspeyres-type price index that was constructed in three steps. First, a base period was selected (in this case, FY 2002) and total base period expenditures were estimated for a set of mutually exclusive and exhaustive spending categories based upon type of expenditure. Then the proportion of total costs that each category represents was determined. These proportions are called cost or expenditure weights. Second, each expenditure category was matched to an appropriate price or wage variable, referred to as a price proxy. In nearly every instance, these price proxies are price levels derived from publicly available statistical series that are published on a consistent schedule, preferably at least on a quarterly basis.

Finally, the expenditure weight for each cost category was multiplied by the level of its respective price proxy for a given period. The sum of these products (that is, the expenditure weights multiplied by their price levels) for all cost categories yields the composite index level of the market basket in a given period. Repeating this step for other periods produces a series of market basket levels over time. Dividing an index level for a given period by an index level for an earlier period produces a rate of growth in the input price index over that time period.

A market basket is described as a fixed-weight index because it answers the question of how much it would cost, at another time, to purchase the same mix of goods and services purchased to provide hospital services in a base period. The effects on total expenditures resulting from changes in the quantity or mix of goods and services (intensity) purchased subsequent to the base period are not measured. In this manner, the market basket measures only pure price change. Only when the index is rebased would the quantity and intensity effects be captured in the cost weights. Therefore, we rebase the market basket periodically so that cost weights reflect changes in the mix of goods and services that hospitals purchase (hospital inputs) to furnish patient care between base periods.

The terms rebasing and revising, while often used interchangeably, actually denote different activities. Rebasing means moving the base year for the structure of costs of an input price index (for example, shifting the base year cost structure from FY 1997 to FY 2002). Revising means changing data sources, methodology, or price proxies used in the input price index. We have rebased and revised the market basket used to update the IPF PPS.

2. Methodology for Operating Portion of the RPL Market Basket

The operating portion of the FY 2002-based RPL market basket consists of several major cost categories derived from the FY 2002 Medicare cost reports for IRFs, IPFs, and LTCHs: wages, drugs, professional liability insurance, and a residual. We chose to use FY 2002 as the base year because we believe this is the most recent, complete year of Medicare cost reports. Due to insufficient Medicare cost report data for IRFs, IPFs, and LTCHs, we have developed cost weights for benefits, contract labor, and blood and blood products using the FY 2002-based IPPS market basket (70 FR 23384), which we explain in more detail later in this section. For example, less than 30 percent of IRFs, IPFs, and LTCHs reported benefit cost data in FY 2002. We have noticed an increase in cost data for these expense categories over the last 4 years. The next time we rebase the RPL market basket there may be sufficient IRF, IPF, and LTCH cost report data to develop the weights for these expenditure categories.

Since the cost weights for the RPL market basket are based on facility costs, as proposed and for this final rule, we are limiting our sample to hospitals with a Medicare average LOS within a comparable range of the total facility average LOS. We believe this provides a more accurate reflection of the structure of costs for Medicare covered days. Our goal is to measure cost shares that are reflective of case mix and practice patterns associated with providing services to Medicare beneficiaries.

As proposed and for this final rule, we are using those cost reports for IRFs and LTCHs whose Medicare average LOS is within 15 percent (that is, 15 percent higher or lower) of the total facility average LOS for the hospital. This is the same edit applied to the FY 1992-based and FY 1997-based excluded hospital with capital market basket. We are using 15 percent because it includes those LTCHs and IRFs whose Medicare LOS is within approximately 5 days of the facility LOS.

As proposed and for this final rule, we use a less stringent measure of Medicare LOS for IPFs whose average LOS is within 30 or 50 percent (depending on the total facility average LOS) of the total facility average LOS. Using this less stringent edit allows us to increase our sample size by over 150 cost reports and produce a cost weight more consistent with the overall facility. The edit we applied to IPFs when developing the FY 1997-based excluded hospital with capital market basket was based on the best available data at the time.

Public comments and our responses on the proposed changes for implementing the methodology for the operating portion of the RPL market basket are summarized below.

Comment: One commenter disagreed with our proposed LOS methodology, which included those cost reports for IRFs and LTCHs whose Medicare average LOS is within 15 percent (that is, 15 percent higher or lower) of the total facility average LOS and those cost reports for IPFs whose average LOS is within 30 or 50 percent (depending on the total facility average LOS) of the total facility average LOS.

A commenter stated that the LOS methodology appears to factor into the calculation a disproportionate share of psychiatric facilities with a longer LOS. In addition, the commenter indicated that the RY 2007 proposed rule stated that costs decrease further into a patient's stay and that CMS assumes that IPFs have an incompatible cost per discharge when grouped with the lower LOS in the IRFs and LTCHs.

Response: As stated previously, since the cost weights for the RPL market basket are based on facility costs, we limited our sample to hospitals with a Medicare average LOS within a comparable range of the total facility average LOS. We believe this provides a more accurate reflection of the structure of costs for Medicare treatments.

We disagree with the commenter that the IPF LOS edit includes a disproportionate share of IPFs with a longer LOS. For clarity, we are providing below a table that compares the distribution of the Medicare and facility LOSs for IPFs using no edit and the proposed 30/50 edit.

Table 2.—IPFs FY 2002 Medicare and Facility LOS Distributions
| Medicare length of stay: No trim | Medicare length of stay: 30/50 trim | Facility length of stay: No trim | Facility length of stay: 30/50 trim
100% Max | 93 | 70 | 5334 | 75
99% | 86 | 54 | 822 | 63
95% | 59 | 36 | 333 | 39
90% | 49 | 23 | 227 | 26
75% Q3 | 28 | 15 | 57 | 15
50% Median | 13 | 11 | 13 | 10
25% Q1 | 10 | 9 | 8 | 8
10% | 8 | 7 | 6 | 6
5% | 7 | 7 | 6 | 5
1% | 4 | 5 | 5 | 5
0% Min | 1 | 3 | 1 | 3

The Medicare and facility LOS distributions are consistent when the proposed edit is applied. However, not applying the edit would include in the market basket those IPFs whose facility LOS are dramatically different from their Medicare LOS. In addition, the Medicare LOS distribution with the 30/50 edit is similar to the Medicare LOS distribution with no edit. Therefore, we believe that the proposed edit does not include a disproportionate share of IPFs with a longer LOS in the market basket.

Applying these LOS edits left us with a sample of hospitals whose average Medicare utilization was approximately 50 percent, while those excluded from the market basket had a Medicare utilization of approximately 10 percent. Given this, we firmly believe that these LOS edits help us meet our goal to measure cost shares that are reflective of case mix and practice patterns associated with providing services to Medicare beneficiaries.

The detailed cost categories under the residual (that is, the remaining portion of the market basket after excluding wages and salaries, drugs, and professional liability cost weights) are derived from the FY 2002-based IPPS market basket and the 1997 Benchmark Input-Output (I-O) Tables published by the Bureau of Economic Analysis, U.S. Department of Commerce. The FY 2002-based IPPS market basket was developed using FY 2002 Medicare hospital cost reports with the most recent and detailed cost data (see the August 12, 2005 IPPS final rule (70 FR 47388)). The 1997 Benchmark I-O is the most recent, comprehensive source of cost data for all hospitals. The RPL cost weights for benefits, contract labor, and blood and blood products were derived using the FY 2002-based IPPS market basket. For example, the ratio of the benefit cost weight to the wages and salaries cost weight in the FY 2002-based IPPS market basket was applied to the RPL wages and salaries cost weight to derive a benefit cost weight for the RPL market basket. As proposed and for this final rule, the remaining RPL operating cost categories were derived using the 1997 Benchmark I-O Tables, aged to 2002 using relative price changes. (The methodology we used to age the data involves applying the annual price changes from the price proxies to the appropriate cost categories. We repeated this practice for each year.) Therefore, using this methodology, roughly 59 percent of the RPL market basket was accounted for by wages, drugs, and professional liability insurance data from FY 2002 Medicare cost report data for IRFs, LTCHs, and IPFs.

Additional comments and our responses on the methodology for operating portion of the RPL market basket are summarized below.

Comment: Several commenters proposed that CMS regularly re-analyze the RPL cost report data, which are the basis of the RPL market basket. The commenters indicated that the methodology used for the RPL market basket includes data from the IPPS hospital market basket rather than relying solely on IPF, IRF, and LTCH data.

The commenters recommended that CMS work with providers to improve the cost reports from rehabilitation, psychiatric, and LTCHs in order to ensure that the data used for the market basket represent only the types of excluded hospitals for which the RPL market basket was developed. The commenters believe that improving the data reported on the RPL cost reports would not only refine the RPL market basket but also improve the accuracy of the labor-related share to which the wage index is applied.

Response: We rely on the IPPS cost report data to supplement the IRF, IPF, and LTCH Medicare cost report data for benefits, contract labor, and blood and blood products. For example, the ratio of the benefit cost weight to the wages and salaries cost weight in the FY 2002-based IPPS market basket was applied to the RPL wages and salaries cost weight to derive a benefit cost weight for the RPL market basket. We did not use expenditure levels from the IPPS data directly but, as explained, we developed and used the ratios from IPPS data to determine these RPL cost weights.

The wages and salaries cost weight was derived using the IRF, IPF, and LTCH Medicare cost reports and accounts for 50 percent of the RPL market basket. Due to data limitations, this was the best methodology for developing the latter cost weights.

We agree with the commenters that improving the data reported on the RPL cost reports could improve the RPL market basket and labor-related share. We have noticed this data improvement on other provider-type cost reports and encourage IRF, IPF, and LTCH providers to fully complete their cost reports. We believe that this would help us develop the most complete and accurate market basket possible. We will analyze RPL cost report data on a regular basis and continue to consider the possibility of provider-specific market basket indices.

Comment: One commenter requested that CMS explain how it computes cost category weights based on Medicare cost report data. The commenter stated that if they understood which data elements were used and how they were used, CMS could develop educational programs to improve their member hospitals' reporting.

Response: The RPL market basket cost weights are based on freestanding Medicare cost report data for IRFs, IPFs, and LTCHs. We mainly rely on data from worksheets A through G to derive the cost weights. Worksheet S-3, part II is the only worksheet which allows for the reporting of benefits and contract labor data; however, it is not a required worksheet for IRFs, IPFs, and LTCHs. As stated previously, we relied on the IPPS Medicare cost report worksheet S-3, part II data to derive the relationships for benefits and contract labor to wages and salaries.

Additionally, capital cost weights are derived using worksheet A-7. The estimates generated using this worksheet, as well as worksheet G, could be enhanced with higher reporting rates. Again, we encourage IRF, IPF, and LTCH providers to fully complete their cost reports to help us in developing the most complete and accurate market basket.

Table 3 below sets forth the complete 2002-based RPL market basket including cost categories, weights, and price proxies. For comparison purposes, the corresponding FY 1997-based excluded hospital with capital market basket is listed as well.

As proposed and for this final rule, wages and salaries are 52.895 percent of total costs in the FY 2002-based RPL market basket compared to 47.335 percent for the FY 1997-based excluded hospital with capital market basket. Employee benefits are 12.982 percent in the FY 2002-based RPL market basket compared to 10.244 percent for the FY 1997-based excluded hospital with capital market basket. As a result, compensation costs (wages and salaries plus employee benefits) for the FY 2002-based RPL market basket are 65.877 percent of costs compared to 57.579 percent for the FY 1997-based excluded hospital with capital market basket. Of the 8 percentage-point difference between the compensation shares, approximately 3 percentage points were due to the new base year (FY 2002 instead of FY 1997), 3 percentage points were due to the revised LOS edit, and the remaining 2 percentage points were due to the exclusion of other hospitals (that is, only including IPFs, IRFs, and LTCHs in the market basket).

Following the table is a summary outlining the choice of the proxies we chose to use for the operating portion of the market basket. The price proxies for the capital portion are described in more detail in the capital methodology section (see section V.C.3 of this final rule).

Table 3.—FY 2002-Based RPL Market Basket Cost Categories, Weights, and Proxies With FY 1997-Based Excluded Hospital With Capital Market Basket Used for Comparison
Expense categories | FY 1997-based excluded hospital with capital market basket | FY 2002-based RPL market basket | FY 2002 market basket price proxies
Total | 100.000 | 100.000
Compensation | 57.579 | 65.877
Wages and Salaries * | 47.335 | 52.895 | ECI—Wages and Salaries, Civilian Hospital Workers.
Employee Benefits * | 10.244 | 12.982 | ECI—Benefits, Civilian Hospital Workers.
Professional Fees, Non-Medical | 4.423 | 2.892 | ECI—Compensation for Professional, Specialty & Technical Workers.
Utilities | 1.180 | 0.656
Electricity | 0.726 | 0.351 | PPI—Commercial Electric Power.
Fuel Oil, Coal, etc | 0.248 | 0.108 | PPI—Commercial Natural Gas.
Water and Sewage | 0.206 | 0.197 | CPI-U—Water & Sewage Maintenance.
Professional Liability Insurance | 0.733 | 1.161 | CMS Professional Liability Premium Index.
All Other Products and Services | 27.117 | 19.265
All Other Products | 17.914 | 13.323
Pharmaceuticals | 6.318 | 5.103 | PPI Prescription Drugs.
Food: Direct Purchase | 1.122 | 0.873 | PPI Processed Foods & Feeds.
Food: Contract Service | 1.043 | 0.620 | CPI U Food Away From Home.
Chemicals | 2.133 | 1.100 | PPI Industrial Chemicals.
Blood and Blood Products ** | 0.748
Medical Instruments | 1.795 | 1.014 | PPI Medical Instruments & Equipment.
Photographic Supplies | 0.167 | 0.096 | PPI Photographic Supplies.
Rubber and Plastics | 1.366 | 1.052 | PPI Rubber & Plastic Products.
Paper Products | 1.110 | 1.000 | PPI Converted Paper & Paperboard Products.
Apparel | 0.478 | 0.207 | PPI Apparel.
Machinery and Equipment | 0.852 | 0.297 | PPI Machinery & Equipment.
Miscellaneous Products | 0.783 | 1.963 | PPI Finished Goods less Food & Energy.
All Other Services | 9.203 | 5.942
Telephone | 0.348 | 0.240 | CPI-U Telephone Services.
Postage | 0.702 | 0.682 | CPI-U Postage.
All Other: Labor Intensive | 4.453 | 2.219 | ECI-Compensation for Private Service Occupations.
All Other: Non-labor Intensive | 3.700 | 2.800 | CPI-U All Items.
Capital-Related Costs | 8.968 | 10.149
Depreciation | 5.586 | 6.186
Fixed Assets | 3.503 | 4.250 | Boeckh Institutional Construction 23-year useful life.
Movable Equipment | 2.083 | 1.937 | WPI Machinery & Equipment 11-year useful life.
Interest Costs | 2.682 | 2.775
Nonprofit | 2.280 | 2.081 | Average yield on domestic municipal bonds (Bond Buyer 20 bonds) vintage-weighted (23 years).
For Profit | 0.402 | 0.694 | Average yield on Moody's Aaa bonds vintage weighted (23 years).
Other Capital-Related Costs | 0.699 | 1.187 | CPI-U Residential Rent.
* Labor-related
** Blood and blood-related products is included in miscellaneous products
Note: Due to rounding, weights may not sum to total.

Below we provide the proxies that we are using for the FY 2002-based RPL market basket. With the exception of the Professional Liability proxy, all the price proxies for the operating portion of the RPL market basket are based on Bureau of Labor Statistics (BLS) data and are grouped into one of the following BLS categories:

• Producer Price Indexes—Producer Price Indexes (PPIs) measure price changes for goods sold in other than retail markets. PPIs are preferable price proxies for goods that hospitals purchase as inputs in producing their outputs because the PPIs would better reflect the prices faced by hospitals. For example, we use a special PPI for prescription drugs, rather than the Consumer Price Index (CPI) for prescription drugs because hospitals generally purchase drugs directly from the wholesaler. The PPIs that we use measure price change at the final stage of production.

• Consumer Price Indexes—Consumer Price Indexes (CPIs) measure change in the prices of final goods and services bought by the typical consumer. Because they may not represent the price faced by a producer, we use CPIs only if an appropriate PPI were not available, or if the expenditures were more similar to those of retail consumers in general rather than purchases at the wholesale level. For example, the CPI for food purchases away from home is used as a proxy for contracted food services.

• Employment Cost Indexes—Employment Cost Indexes (ECIs) measure the rate of change in employee wage rates and employer costs for employee benefits per hour worked. These indexes are fixed-weight indexes and strictly measure the change in wage rates and employee benefits per hour. Appropriately, they are not affected by shifts in employment mix.

We evaluated the price proxies using the criteria of reliability, timeliness, availability, and relevance. Reliability indicates that the index is based on valid statistical methods and has low sampling variability. Timeliness implies that the proxy is published regularly, preferably at least once a quarter. Availability means that the proxy is publicly available. Finally, relevance means that the proxy is applicable and representative of the cost category weight to which it is applied. The CPIs, PPIs, and ECIs in this regulation meet these criteria.

We note that the proxies are the same as those used for the FY 1997-based excluded hospital with capital market basket. Because these proxies meet our criteria of reliability, timeliness, availability, and relevance, we believe they continue to be the best measure of price changes for the cost categories. For further discussion on the FY 1997-based excluded hospital with capital market basket, see the August 1, 2002 IPPS final rule (67 FR at 50042).

Wages and Salaries

For measuring the price growth of wages in the FY 2002-based RPL market basket, we are using the ECI for wages and salaries for civilian hospital workers as the proxy for wages in the RPL market basket.

The rehabilitation, psychiatric, and long-term care hospital (RPL) market basket uses the Bureau of Labor Statistics' Employment Cost Indexes (ECIs) as proxies for wages and salaries, and benefits for civilian industry workers classified in the Standard Industrial Code (SIC) 806, Hospitals. However, beginning April 28, 2006 with the publication of March 2006 data, the ECIs will be converted from the SIC system to the North American Industrial Classification System (NAICS). The NAICS-based ECI for hospitals (NAICS 622) is similar (at least 90 percent identical) to the SIC-based ECI for hospitals. Therefore, when they are available, we will use the NAICS-based ECIs for hospitals as proxies to reflect the rate-of-price change for the wages and salaries and employee benefits cost categories in the 2002-based RPL market basket.

The RPL market basket and labor-related share in this final rule will use the most recent data available from the Bureau of Labor Statistics. We do not expect the RPL market basket and labor-related share to change significantly when the conversion from the SIC system to the NAICS system takes place.

Employee Benefits

The FY 2002-based RPL market basket uses the ECI for employee benefits for civilian hospital workers.

Nonmedical Professional Fees

The ECI for compensation for professional and technical workers in private industry is applied to this category since it includes occupations such as management and consulting, legal, accounting, and engineering services.

Fuel, Oil, and Gasoline

The percentage change in the price of gas fuels as measured by the PPI (Commodity Code #0552) is applied to this component.

Electricity

The percentage change in the price of commercial electric power as measured by the PPI (Commodity Code #0542) is applied to this component.

Water and Sewerage

The percentage change in the price of water and sewage maintenance as measured by the Consumer Price Index (CPI) for all urban consumers (CPI Code #CUUR0000SEHG01) is applied to this component.

Professional Liability Insurance

The FY 2002-based RPL market basket uses the percentage change in hospital professional liability insurance (PLI) premiums as estimated by the CMS Hospital Professional Liability Index for the proxy of this category. In the FY 1997-based excluded hospital with capital market basket, the same proxy was used.

We continue to research options for improving our proxy for professional liability insurance. This research includes exploring various options for expanding our current survey, including the identification of another entity that would be willing to work with us to collect more complete and comprehensive data. We are also exploring other options such as third party or industry data that might assist us in creating a more precise measure of PLI premiums. At this time we have not identified a preferred option, therefore no change is made for the proxy in this final rule.

Pharmaceuticals

The percentage change in the price of prescription drugs as measured by the PPI (PPI Code #PPI32541DRX) is used as a proxy for this cost category. This is a special index produced by BLS as a proxy in the 1997-based excluded hospital with capital market basket.

Food, Direct Purchases

The percentage change in the price of processed foods and feeds as measured by the PPI (Commodity Code #02) is applied to this component.

Food, Contract Service

The percentage change in the price of food purchased away from home as measured by the CPI for all urban consumers (CPI Code #CUUR0000SEFV) is applied to this component.

Chemicals

The percentage change in the price of industrial chemical products as measured by the PPI (Commodity Code #061) is applied to this component. While the chemicals hospitals purchase include industrial as well as other types of chemicals, the industrial chemicals component constitutes the largest proportion by far. Thus we believe that Commodity Code #061 is the appropriate proxy.

Medical Instruments

The percentage change in the price of medical and surgical instruments as measured by the PPI (Commodity Code #1562) is applied to this component.

Photographic Supplies

The percentage change in the price of photographic supplies as measured by the PPI Commodity Code #1542) is applied to this component.

Rubber and Plastics

The percentage change in the price of rubber and plastic products as measured by the PPI (Commodity Code #07) is applied to this component.

Paper Products

The percentage change in the price of converted paper and paperboard products as measured by the PPI (Commodity Code #0915) is applied to this component.

Apparel

The percentage change in the price of apparel as measured by the PPI (Commodity Code #381) is applied to this component.

Machinery and Equipment

The percentage change in the price of machinery and equipment as measured by the PPI (Commodity Code #11) is applied to this component.

Miscellaneous Products

The percentage change in the price of all finished goods less food and energy as measured by the PPI (Commodity Code #SOP3500) is applied to this component. Using this index removes the double-counting of food and energy prices, which are captured elsewhere in the market basket. The weight for this cost category is higher, in part, than in the 1997-based index because the weight for blood and blood products (1.188) is added to it. In the 1997-based excluded hospital with capital market basket, we included a separate cost category for blood and blood products, using the BLS PPI for blood and derivatives as a price proxy. A review of recent trends in the PPI for blood and derivatives suggests that its movements may not be consistent with the trends in blood costs faced by hospitals. While this proxy did not match exactly with the product hospitals are buying, its trend over time appears to be reflective of the historical price changes of blood purchased by hospitals. However, an apparent divergence over recent years led us to reevaluate whether the PPI for blood and derivatives was an appropriate measure of the changing price of blood. We ran test market baskets classifying blood in three separate cost categories: Blood and blood products, contained within chemicals as was done for the 1992-based excluded hospital with capital market basket, and within miscellaneous products. These categories use as proxies the following PPIs: The PPI for blood and blood products, the PPI for chemicals, and the PPI for finished goods less food and energy, respectively. Of these three proxies, the PPI for finished goods less food and energy moved most like the recent blood cost and price trends. In addition, the impact on the overall market basket by using different proxies for blood was negligible, mostly due to the relatively small weight for blood in the market basket.

Therefore, as proposed and for this final rule, we are using the PPI for finished goods less food and energy for the blood proxy because we believe it more appropriately proxies the price changes (not quantities or required tests) associated with blood purchased by hospitals. We will continue to evaluate this proxy for its appropriateness and will explore the development of alternative price indexes to proxy the price changes associated with this cost.

Telephone

The percentage change in the price of telephone services as measured by the CPI for all urban consumers (CPI Code #CUUR0000SEED) is applied to this component.

Postage

The percentage change in the price of postage as measured by the CPI for all urban consumers (CPI Code # CUUR0000SEEC01) is applied to this component.

All Other Services, Labor Intensive

The percentage change in the ECI for compensation paid to service workers employed in private industry is applied to this component.

All Other Services, Nonlabor Intensive

The percentage change in the all items component of the CPI for all urban consumers (CPI Code # CUUR0000SA0) is applied to this component.

3. Methodology for Capital Portion of the RPL Market Basket

Unlike for the operating costs of the FY 2002-based RPL market basket, we did not have IRF, IPF, and LTCH FY 2002 Medicare cost report data for the capital cost weights, due to a change in the FY 2002 reporting requirements. Rather, as proposed and for this final rule, we are using these hospitals' expenditure data for the capital cost categories of depreciation, interest, and other capital expenses for FY 2001, and aged the data to a FY 2002 base year using relevant price proxies.

We calculated weights for the RPL market basket capital costs using the same set of Medicare cost reports used to develop the operating share for IRFs, IPFS, and LTCHs. The resulting capital weight for the FY 2002 base year is 10.149 percent. This is based on FY 2001 Medicare cost report data for IRFs, IPFs, and LTCHs, aged to FY 2002 using relevant price proxies.

Lease expenses are not a separate cost category in the market basket, but are distributed among the cost categories of depreciation, interest, and other, reflecting the assumption that the underlying cost structure of leases is similar to capital costs in general. We assumed 10 percent of lease expenses were overhead and assigned them to the other capital expenses cost category as overhead. We base this assignment of 10 percent of lease expenses to overhead on the common assumption that overhead is 10 percent of costs. The remaining lease expenses were distributed to the three cost categories based on the weights of depreciation, interest, and other capital expenses not including lease expenses.

Depreciation contains two subcategories: Building and fixed equipment and movable equipment. As proposed and for this final rule, the split between building and fixed equipment and movable equipment was determined using the FY 2001 Medicare cost reports for IRFs, IPFs, and LTCHs. This methodology was also used to compute the 1997-based index (67 FR at 50044).

As proposed and for this final rule, the total interest expense cost category is split between the government/nonprofit and for-profit hospitals. The 1997-based excluded hospital with capital market basket allocated 85 percent of the total interest cost weight to the government nonprofit interest, proxies by average yield on domestic municipal bonds, and 15 percent to for-profit interest, proxies by average yield on Moody's Aaa bonds.

We derived the split using the relative FY 2001 Medicare cost report data for PPS hospitals on interest expenses for the government/nonprofit and for-profit hospitals. Due to insufficient Medicare cost report data for IPFs, IRFs, and LTCHs, as proposed and for this final rule, we use the same split used in the IPPS capital input price index. We believe it is important that this split reflect the latest relative cost structure of interest expenses for hospitals and, therefore, we have used a 75-25 split to allocate interest expenses to government/nonprofit and for-profit (70 FR at 47408).

Since capital is acquired and paid for over time, capital expenses in any given year are determined by both past and present purchases of physical and financial capital. The vintage-weighted capital index is intended to capture the long-term consumption of capital, using vintage weights for depreciation (physical capital) and interest (financial capital). These vintage weights reflect the purchase patterns of building and fixed equipment and movable equipment over time. Depreciation and interest expenses were determined by the amount of past and current capital purchases. Therefore, as proposed and for this final rule, we are using the vintage weights to compute vintage-weighted price changes associated with depreciation and interest expense.

Vintage weights are an integral part of the FY 2002-based RPL market basket. Capital costs are inherently complicated and are determined by complex capital purchasing decisions, over time, based on such factors as interest rates and debt financing. In addition, capital is depreciated over time instead of being consumed in the same period it is purchased. The capital portion of the FY 2002-based RPL market basket reflects the annual price changes associated with capital costs, and is a useful simplification of the actual capital investment process. By accounting for the vintage nature of capital, we have provided an accurate, stable annual measure of price changes. Annual non-vintage price changes for capital are unstable due to the volatility of interest rate changes and, therefore, do not reflect the actual annual price changes for Medicare capital-related costs. The capital component of the FY 2002-based RPL market basket reflects the underlying stability of the capital acquisition process and provides hospitals with the ability to plan for changes in capital payments.

To calculate the vintage weights for depreciation and interest expenses, we needed a time series of capital purchases for building and fixed equipment and movable equipment. We found no single source that provides the best time series of capital purchases by hospitals for all of the above components of capital purchases. The early Medicare Cost Reports did not have sufficient capital data to meet this need. While the American Hospital Association (AHA) Panel Survey provided a consistent database back to 1963, it did not provide annual capital purchases. However, the AHA Panel Survey provided a time series of depreciation expenses through 1997 which could be used to infer capital purchases over time. From 1998 to 2001, hospital depreciation expenses were calculated by multiplying the AHA Annual Survey total hospital expenses by the ratio of depreciation to total hospital expenses from the Medicare cost reports. Beginning in 2001, the AHA Annual Survey began collecting depreciation expenses. We hope to be able to use these data in future rebasings.

In order to estimate capital purchases from AHA data on depreciation and interest expenses, the expected life for each cost category (building and fixed equipment, movable equipment, and debt instruments) is needed. Due to insufficient Medicare cost report data for IPFs, IRFs, and LTCHs, as proposed and for this final rule, we are using FY 2001 Medicare Cost Reports for IPPS hospitals to determine the expected life of building and fixed equipment and movable equipment. We believe this data source reflects the latest relative cost structure of depreciation expenses for hospitals and is analogous to IPFs, IRFs, and LTCHs. The expected life of any piece of equipment was determined by dividing the value of the asset (excluding fully depreciated assets) by its current year depreciation amount. This calculation yields the estimated useful life of an asset if depreciation were to continue at current year levels, assuming straight-line depreciation. From the FY 2001 Medicare cost reports for IPPS hospitals the expected life of building and fixed equipment was determined to be 23 years, and the expected life of movable equipment was determined to be 11 years.

As proposed and for this final rule, we are also using the fixed and movable weights derived from FY 2001 Medicare cost reports for IPFs, IRFs, and LTCHs to separate the depreciation expenses into annual amounts of building and fixed equipment depreciation and movable equipment depreciation. By multiplying the annual depreciation amounts by the expected life calculations from the FY 2001 Medicare cost reports, year-end asset costs for building and fixed equipment and movable equipment were determined. We then calculated a time series back to 1963 of annual capital purchases by subtracting the previous year asset costs from the current year asset costs. From this capital purchase time series we were able to calculate the vintage weights for building and fixed equipment, movable equipment, and debt instruments. An explanation of each of these sets of vintage weights follows.

As proposed and for this final rule, for building and fixed equipment vintage weights, the real annual capital purchase amounts for building and fixed equipment derived from the AHA Panel Survey were used. The real annual purchase amount was used to capture the actual amount of the physical acquisition, net of the effect of price inflation. This real annual purchase amount for building and fixed equipment was produced by deflating the nominal annual purchase amount by the building and fixed equipment price proxy, the Boeckh Institutional Construction Index. This is the same proxy used for the FY 1997-based excluded hospital with capital market basket. We believe this proxy continues to meet our criteria of reliability, timeliness, availability, and relevance. Since building and fixed equipment has an expected life of 23 years, the vintage weights for building and fixed equipment are deemed to represent the average purchase pattern of building and fixed equipment over 23-year periods. With real building and fixed equipment purchase estimates back to 1963, sixteen 23-year periods were averaged to determine the average vintage weights for building and fixed equipment that are representative of average building and fixed equipment purchase patterns over time. Vintage weights for each 23-year period were calculated by dividing the real building and fixed capital purchase amount in any given year by the total amount of purchases in the 23-year period. This calculation was done for each year in the 23-year period, and for each of the sixteen 23-year periods. The average of each year across the sixteen 23-year periods was used to determine the 2002 average building and fixed equipment vintage weights.

As proposed and for this final rule, for movable equipment vintage weights, the real annual capital purchase amounts for movable equipment derived from the AHA Panel Survey were used to capture the actual amount of the physical acquisition, net of price inflation. This real annual purchase amount for movable equipment was calculated by deflating the nominal annual purchase amount by the movable equipment price proxy, the PPI for Machinery and Equipment. This was the same proxy used for the FY 1997-based excluded hospital with capital market basket. We believe this proxy, which meets our criteria, is the best measure of price changes for this cost category. Since movable equipment has an expected life of 11 years, the vintage weights for movable equipment were deemed to represent the average purchase pattern of movable equipment over an 11-year period. With real movable equipment purchase estimates available back to 1963, twenty-eight 11-year periods could be averaged to determine the average vintage weights for movable equipment that are representative of average movable equipment purchase patterns over time. Vintage weights for each 11-year period were calculated by dividing the real movable capital purchase amount for any given year by the total amount of purchases in the 11-year period. This calculation was done for each year in the 11-year period, and for each of the twenty-eight 11-year periods. The average of the twenty-eight 11-year periods were used to determine the FY 2002 average movable equipment vintage weights.

As proposed and for this final rule, for interest vintage weights, the nominal annual capital purchase amounts for total equipment (building and fixed and movable) derived from the AHA Panel and Annual Surveys were used. Nominal annual purchase amounts were used to capture the value of the debt instrument. Since hospital debt instruments have an expected life of 23 years, the vintage weights for interest were deemed to represent the average purchase pattern of total equipment over 23-year periods. With nominal total equipment purchase estimates available back to 1963, sixteen 23-year periods were averaged to determine the average vintage weights for interest that are representative of average capital purchase patterns over time. Vintage weights for each 23-year period were calculated by dividing the nominal total capital purchase amount for any given year by the total amount of purchases in the 23-year period. This calculation was done for each year in the 23-year period and for each of the sixteen 23-year periods. The average of the sixteen 23-year periods were used to determine the FY 2002 average interest vintage weights. The vintage weights for the index are presented in Table 4 below.

In addition to the price proxies for depreciation and interest costs described above in the vintage weighted capital section, as proposed and for this final rule, we used the CPI-U for Residential Rent as a price proxy for other capital-related costs. The price proxies for each of the capital cost categories are the same as those used for the IPPS final rule (67 FR at 50044) capital input price index.

Table 4.—CMS FY 2002-Based RPL market basket capital vintage weights
Year | Fixed assets (23 year weights) | Movable assets (11 year weights) | Interest: capital- related (23 year weights)
1 | 0.021 | 0.065 | 0.010
2 | 0.022 | 0.071 | 0.012
3 | 0.025 | 0.077 | 0.014
4 | 0.027 | 0.082 | 0.016
5 | 0.029 | 0.086 | 0.019
6 | 0.031 | 0.091 | 0.023
7 | 0.033 | 0.095 | 0.026
8 | 0.035 | 0.100 | 0.029
9 | 0.038 | 0.106 | 0.033
10 | 0.040 | 0.112 | 0.036
11 | 0.042 | 0.117 | 0.039
12 | 0.045 |  | 0.043
13 | 0.047 |  | 0.048
14 | 0.049 |  | 0.053
15 | 0.051 |  | 0.056
16 | 0.053 |  | 0.059
17 | 0.056 |  | 0.062
18 | 0.057 |  | 0.064
19 | 0.058 |  | 0.066
20 | 0.060 |  | 0.070
21 | 0.060 |  | 0.071
22 | 0.061 |  | 0.074
23 | 0.061 |  | 0.076
Total | 1.000 | 1.000 | 1.000

The RY (that is, beginning July 1, 2006) update for the IPF PPS using the FY 2002-based RPL market basket and Global Insight's 1st quarter 2006 forecast is 4.3 percent. This includes increases in both the operating section and the capital section for the 18-month period (that is, January 1, 2005 through June 30, 2006). Global Insight, Inc. is a nationally recognized economic and financial forecasting firm that contracts with CMS to forecast the components of the market baskets. Using the current FY 1997-based excluded hospital with capital market basket (66 FR 41427), Global Insight's 1st quarter 2006 forecast for the RY beginning July 1, 2006 is 3.4 percent. Table 5 below compares the RY 2002-based RPL market basket and the FY 1997-based excluded hospital with capital market basket percent changes. For both the historical and forecasted periods between RY 2000 and RY 2008, the difference between the two market baskets is minor with the exception of RY 2002, where the FY-2002-based RPL market basket increased three tenths of a percentage point higher than the FY 1997-based excluded hospital with capital market basket. This is primarily due to the FY 2002-based RPL having a larger compensation (that is, the sum of wages and salaries and benefits) cost weight than the FY 1997-based index and the price changes associated with compensation costs increasing much faster than the prices of other market basket components. Also contributing is the “all other nonlabor intensive” cost weight, which is smaller in the FY 2002-based RPL market basket than in the FY 1997-based index, as well as the slower price changes associated with these costs.

Table 5.—FY 2002-Based RPL market basket and FY 1997-Based excluded hospital with capital market basket, percent changes
Rate year (RY) | FY 2002-based RPL market basket | FY 1997-based excluded hospital market basket with capital
Historical data:
RY 2000 | 2.8 | 2.7
RY 2001 | 3.8 | 3.9
RY 2002 | 4.1 | 3.8
RY 2003 | 3.8 | 3.7
RY 2004 | 3.6 | 3.6
RY 2005 | 3.8 | 4.0
Average RY 2000-2005 | 3.7 | 3.5
Forecast:
RY 2006 | 3.6 | 3.8
RY 2007 | 3.4 | 3.4
RY 2008 | 3.2 | 3.1
Average RY 2006-2008 | 3.4 | 3.4
Source: Global Insight, Inc. 1stQtr 2006, @USMACRO/CONTROL0306 @CISSIM/CNTL08R3.SIM.
Note: The RY forecasts are based on the standard 12-month period of July 1 to June 30. For this rule, we are moving from an 18-month period to a 12-month period.

4. Labor-Related Share

As described below in this file rule, due to the variations in costs and geographic wage levels, we believe that payment rates under the IPF PPS should continue to be adjusted by a geographic wage index. This wage index applies to the labor-related portion of the proposed Federal per diem base rate, hereafter referred to as the labor-related share.

The labor-related share is determined by identifying the national average proportion of operating costs that are related to, influenced by, or vary with the local labor market. Using our current definition of labor-related, the labor-related share is the sum of the relative importance of wages and salaries, fringe benefits, professional fees, labor-intensive services, and a portion of the capital share from an appropriate market basket. We used the FY 2002-based RPL market basket costs to determine the labor-related share for the IPF PPS. The labor-related share for RY 2007 is the sum of the RY 2007 relative importance of each labor-related cost category, and reflects the different rates of price change for these cost categories between the base year (FY 2002) and RY 2007. The sum of the relative importance for RY 2007 for operating costs (wages and salaries, employee benefits, professional fees, and labor-intensive services) is 71.586, as shown in Table 6 below. The portion of capital that is influenced by the local labor market is estimated to be 46 percent, which is the same percentage used in the FY 1997-based IRF and IPF payment systems. Since the relative importance for capital is 8.867 percent of the FY 2002-based RPL market basket in RY 2007, we are taking 46 percent of 8.867 percent to determine the labor-related share of capital for RY 2007. The result is 4.079 percent, which we added to 71.586 percent for the operating cost amount to determine the total labor-related share for RY 2007. Thus, the labor-related share that we are using for IPF PPS in RY 2007 is 75.665 percent. This labor-related share is determined using the same methodology as employed in calculating all previous IPF labor-related shares (69 FR 66952).

Comment: One commenter noted that the proposed labor-related share based on the RPL market basket would benefit hospitals with a wage index greater than or equal to 1.000. The commenter also recommended that CMS ensure that the labor-related share is calculated appropriately, based on recent and comprehensive data for the facilities in the market basket.

Response: We recognize that the labor-related share would benefit hospitals with a wage index greater than 1.000. However, the wage index is estimated independently from the labor-related share. We do not take into consideration which hospitals would benefit from the revised and rebased labor-related share. We calculated the labor-related share using the same methodology used for the IPF implementation year and reflected the most recent and comprehensive data available. The labor-related share represents the national average while the wage index reflects geographical cost differences.

The proposed change in the labor-related share is primarily attributable to the exclusion of children's and cancer hospitals (which are less labor intensive than IRFs, IPFs, and LTCHs) and the update of the base year to reflect FY 2002 data. The FY 2002 data, the most recent and comprehensive data available, reflects that labor-related costs are increasing faster than aggregate non-labor-related costs. We will continue to analyze RPL cost report data on a regular basis to ensure it accurately reflects the cost structures facing IRFs, IPFs, and LTCHs serving Medicare beneficiaries.

Table 6 below shows the RY 2007 relative importance of labor-related shares using the FY 2002-based RPL market basket and the FY 1997-based excluded hospital with capital market basket.

Table 6.—Total Labor-Related Share—Relative Importance for RY 2007
Cost category | FY 2002-based RPL market basket relative importance (percent) RY 2007 | FY 1997 excluded hospital with capital market basket relative importance (percent) RY 2007
Wages and salaries | 52.506 | 48.021
Employee benefits | 14.042 | 11.534
Professional fees | 2.886 | 4.495
All other labor-intensive services | 2.152 | 4.411
Subtotal | 71.586 | 68.461
Labor-related share of capital costs | 4.079 | 3.222
Total | 75.665 | 71.683

IPFs Paid Based on a Blend of the Reasonable Cost-Based Payments

Under the broad authority of sections 1886(b)(3)(A) and (b)(3)(B) of the Act and as stated in the FY 2006 IPPS final rule (70 FR 47399), for IPFs that are transitioning to the fully Federal prospective payment rate, we are now using the rebased and revised FY 2002-based excluded hospital market basket to update the reasonable cost-based portion of their payments. We rebase the market basket periodically so that the cost weights reflect changes in the mix of goods and services that hospitals purchase to furnish inpatient care between base periods. We chose FY 2002 as the base year for the excluded hospital market basket because we believe this is the most recent, complete year of Medicare cost report data.

The reasonable cost-based payments, subject to TEFRA limits, are determined on a FY basis. The FY 2007 update factor for the portion of the IPF PPS transitional blend payment based on reasonable costs will be published in the FY 2007 IPPS proposed and final rules.

VI. Update of the IPF PPS Adjustment Factors

A. Overview of the IPF PPS Adjustment Factors

In developing the IPF PPS, in order to ensure that the IPF PPS would be able to account adequately for each IPF's case-mix, we performed an extensive regression analysis of the relationship between the per diem costs and certain patient and facility characteristics to determine those characteristics associated with statistically significant cost differences on a per diem basis. For characteristics with statistically significant cost differences, we used the regression coefficients of those variables to determine the size of the corresponding payment adjustments.

The IPF PPS payment adjustments were derived from a regression analysis of 100 percent of the FY 2002 MedPAR data file which contained 483,038 cases. We are using the same results of this regression analysis to implement the RY 2007 IPF PPS final rule (See 69 FR 66935 through 66936 for a more detailed description of the data file used for the regression analysis.)

We computed a per diem cost for each Medicare inpatient psychiatric stay, including routine operating, ancillary, and capital components using information from the FY 2002 MedPAR file and data from the FY 2002 Medicare cost reports. To calculate the cost per day for each inpatient psychiatric stay, routine costs were estimated by multiplying the routine cost per day from the IPF's FY 2002 Medicare cost report by the number of Medicare covered days on the FY 2002 MedPAR stay record. Ancillary costs were estimated by multiplying each departmental cost-to-charge ratio by the corresponding ancillary charges on the MedPAR stay record. The total cost per day was calculated by summing routine and ancillary costs for the stay and dividing it by the number of Medicare covered days for each day of the stay.

The IPF PPS includes a payment adjustment for IPFs with qualifying Emergency Departments (EDs), and IPFs that are part of acute care hospitals and CAHs with qualifying EDs. As a result, ED costs were excluded from the dependent variable used in the cost regression in order to remove the effects of ED costs from other payment adjustment factors with which ED costs may be correlated and thus avoid overpaying ED costs.

The log of per diem cost, like most health care cost measures, appeared to be normally distributed. Therefore, the natural logarithm of the per diem cost was the dependent variable in the regression analysis. We included variables in the regression to control for psychiatric hospitals that do not bill ancillary costs and for ECT costs that we pay separately. The per diem cost was adjusted for differences in labor cost across geographic areas using the FY 2005 hospital wage index unadjusted for geographic reclassifications, in order to be consistent with our use of the market basket labor share in applying the wage index adjustment.

As discussed in the November 2004 IPF PPS final rule (69 FR 66936), we computed a wage adjustment factor for each case by multiplying the Medicare 2005 hospital wage index based on MSA definitions defined by OMB in 1993 for each facility by the labor-related share and adding the non-labor share. We used the 1997-based excluded hospital with capital market basket to determine the labor-related share. The per diem cost for each case was divided by this factor before taking the natural logarithm. The payment adjustment for the wage index was computed consistently with the wage adjustment factor, which is equivalent to separating the per diem cost into a labor portion and a non-labor portion and adjusting the labor portion by the wage index.

With the exception of the teaching adjustment, the independent variables were specified as one or more categorical variables. Once the regression model was finalized based on the log normal variables, the regression coefficients for these variables were converted to payment adjustment factors by treating each coefficient as an exponent of the base “e” for natural logarithms, which is approximately equal to 2.718. The payment adjustment factors represent the proportional effect of each variable relative to a reference variable. As a result of the regression analysis, we established patient-level payment adjustments for age, DRG assignment based on patients' principal diagnoses, selected comorbidities, and a day of stay adjustment (the variable per diem adjustments) to reflect higher resource use in the early days of an IPF stay. We also established facility-level payment adjustments for wage area, rural location, teaching status, cost of living adjustment for IPFs located in Alaska and Hawaii, and an adjustment for IPFs with a qualifying ED. We do not plan to update the regression analysis until we analyze IPF PPS data (that is, no earlier than RY 2008). CMS plans to monitor claims and payment data independently from cost report data to assess issues, or whether changes in case-mix or payment shifts have occurred between free standing governmental, non-profit, and private psychiatric hospitals, and/or psychiatric units of general hospital, and other impact issues of importance to psychiatric facilities.

B. Patient-Level Adjustments

In the November 2004 IPF PPS final rule, we provided payment adjustments for the following payment-level characteristics: DRG assignment of the patient's principal diagnosis, selected comorbidities, patient age, and the variable per diem adjustments.

1. Adjustment for DRG Assignment

The IPF PPS includes payment adjustments for the psychiatric DRG assigned to the claim based on each patient's principal diagnosis. In the November 2004 IPF PPS final rule, we explained that the IPF PPS includes 15 diagnosis-related group (DRG) adjustment factors (69 FR 66936). The adjustment factors were expressed relative to the most frequently reported DRG in FY 2002, that is, DRG 430. The coefficient values and adjustment factors were derived from the regression analysis.

In accordance with § 412.27, payment under the IPF PPS is made for claims with a principal diagnosis included in the Diagnostic and Statistical Manual of Mental Disorder—Fourth Edition—Text Revision (DSM-IV-TR) or Chapter Five of the International Classification of Diseases—9th Revision—Clinical Modifications (ICD-9-CM). The Standards for Electronic Transaction final rule published in the Federal Register on August 17, 2000 (65 FR 50312), adopted the ICD-9-CM as the designated code set for reporting diseases, injuries, impairments, other health related problems, their manifestations, and causes of injury, disease, impairment, or other health-related problems. As a result, the DSM-IV-TR, while essential for the diagnosis and treatment of mentally ill patients, may not be reported on Medicare claims. However, in order to recognize the importance of the DSM-IV-TR in mental health treatment, we updated the reference to the DSM in § 412.27 from DSM-III-TR to DSM-IV-TR in the November 2004 IPF PPS final rule. As a result, under the revised § 412.27, IPFs that are distinct part psychiatric units of acute care hospitals and CAHs may only admit patients who have a principal diagnosis in the DSM-IV-TR or Chapter Five of the ICD-9-CM although DSM codes may not be reported on medical claims.

IPF claims with a principal diagnosis included in Chapter Five of the ICD-9-CM or the DSM-IV-TR will be paid the Federal per diem base rate under the IPF PPS. Psychiatric principal diagnoses that do not group to one of the 15 designated DRGs receive the Federal per diem base rate and all other applicable adjustments, but the payment would not include a DRG adjustment. Only those claims with diagnoses that group to one of these psychiatric DRGs would receive a DRG adjustment.

We believe it is vital to maintain the same diagnostic coding and DRG classification for IPFs that is used under the IPPS for providing the same psychiatric care. As we explained in the IPF PPS proposed rule (68 FR 66924), all changes to the ICD-9-CM coding system that would impact the IPF PPS are addressed annually in the IPPS proposed and final rules published each year. The updated codes are effective October 1 of each year and must be used to report diagnostic or procedure information. The official version of the ICD-9-CM is available on CD-ROM from the U.S. Government Printing Office. The FY 2006 version can be ordered by contacting the Superintendent of Documents, U.S. Government Printing Office, Department 50, Washington, DC 20402-9329, telephone number (202) 512-1800. The stock number is 017-022-01544-7, and the price is $25.00. In addition, private vendors publish the ICD-9-CM. Questions concerning the ICD-9-CM should be directed to Patricia E. Brooks, Co-Chairperson, ICD-9-CM Coordination and Maintenance Committee, CMS, Center for Medicare Management, Hospital and Ambulatory Policy Group, Division of Acute Care, Mailstop C4-08-06, 7500 Security Boulevard, Baltimore, Maryland 21244-1850. Questions and comments may be sent via e-mail to: Patricia.Brooks1@cms.hhs.gov.

Further information concerning the Official Version of the ICD-9-CM can be found in the IPPS final regulation, “Changes to the Hospital Inpatient Prospective Payment Systems and Fiscal Year 2006 Rates; Final Rule,” in the August 12, 2005 Federal Register (70 FR 47278) and at http://www.cms.hhs.gov/QuarterlyProviderUpdates/downloads/cms1500f.pdf.

The following two tables below list the FY 2006 new ICD diagnosis codes and FY 2006 revised diagnosis code titles, respectively. These tables are only a listing of FY 2006 changes and do not reflect all of the currently valid and applicable ICD codes classified in the DRGs. Table 7 below lists the new FY 2006 ICD diagnosis codes that are classified to one of the 15 DRGs that are provided a DRG adjustment in the IPF PPS. When coded as a principal code or diagnosis, these codes receive the correlating DRG adjustment.

Table 7.—FY 2006 New Diagnosis Codes
Diagnosis code | Description | DRG
291.82 | Alcohol induced sleep disorders | 521, 522, 523
292.85 | Drug induced sleep disorders | 521, 522, 523
327.00 | Organic insomnia, unspecified | 432
327.01 | Insomnia due to medical condition classified elsewhere | 432
327.02 | Insomnia due to mental disorder | 432
327.09 | Other organic insomnia | 432
327.10 | Organic hypersomnia, unspecified | 432
327.11 | Idiopathic hypersomnia with long sleep time | 432
327.12 | Idiopathic hypersomnia without long sleep time | 432
327.13 | Recurrent hypersomnia | 432
327.14 | Hypersomnia due to medical condition classified elsewhere | 432
327.15 | Hypersomnia due to mental disorder | 432
327.19 | Other organic hypersomnia | 432

Table 8 below lists ICD diagnosis codes whose titles have been modified in FY 2006. Title changes do not impact the DRG adjustment. When used as a principal diagnosis, these codes still receive the correlating DRG adjustment.

Table 8.—Revised Diagnosis Code Titles
Diagnosis code | Description | DRG
307.45 | Circadian rhythm sleep disorder of nonorganic origin | 432
780.52 | Insomnia, unspecified | 432
780.54 | Hypersomnia, unspecified | 432
780.55 | Disruption of 24 hour sleep wake cycle, unspecified | 432
780.58 | Sleep related movement disorder, unspecified | 432

In addition to the aforementioned, in the August 2005 IPPS final rule, we finalized ICD code 305.1, Tobacco Use Disorder, in order to designate this code as a noncovered Medicare service when reported as the principal diagnosis. Below we have republished the explanation that was included in the IPPS final rule (70 FR 47312) and published on the CMS Web site at http://www.cms.hhs.gov/QuarterlyProviderUpdates/downloads/cms1500f.pdf.

“We have become aware of the possible need to add code 305.1 (Tobacco use disorder) to the MCE in order to make admissions for tobacco use disorder a noncovered Medicare service when code 305.1 is reported as the principal diagnosis. On March 22, 2005, CMS published a final decision memorandum and related national coverage determination (NCD) on smoking cessation counseling services on its Web site: (http://www.cms.hhs.gov/coverage/). Among other things, this NCD provides that: ‘Inpatient hospital stays with the principal diagnosis of 305.1, Tobacco Use Disorder, are not reasonable and necessary for the effective delivery of tobacco cessation counseling services. Therefore, we will not cover tobacco cessation services if tobacco cessation is the primary reason for the patient's hospital stay.’ Therefore, in order to maintain internal consistency with CMS programs and decisions, we proposed to add code 305.1 to the MCE edit ‘Questionable Admission—Principal Diagnosis Only’ in order to make tobacco use disorder a noncovered admission.” (70 FR 47312).

In order to maintain consistency with the IPPS, for discharges on or after October 1, 2005, ICD code 305.1, Tobacco Use Disorder, will not be a covered principal diagnosis under the IPF PPS.

Although we are updating the IPF PPS to reflect ICD-9-CM coding changes and DRG classification changes discussed in the annual update to the IPPS, in the RY 2007 IPF PPS final rule, the DRG adjustment factors currently being paid to IPFs will remain the same (that is, for discharges occurring during the RY July 1, 2006 through June 30, 2007). As indicated in the November 2004 IPF PPS final rule, we do not plan to update the regression analysis until we analyze IPF PPS data.

As a result, we are adopting the DRG adjustments factors, the ICD-9-CM coding changes and the DRG classification changes that are currently being paid as indicated in Table 9 below.

Table 9.—FY 2006 DRGs and Adjustment Factor
DRG | DRG definition | Adjustment factor
DRG 424 | O.R. Procedure with Principal Diagnosis of Mental Illness | 1.22
DRG 425 | Acute Adjustment Reaction & Psychosocial Dysfunction | 1.05
DRG 426 | Depressive Neurosis | 0.99
DRG 427 | Neurosis, Except Depressive | 1.02
DRG 428 | Disorders of Personality & Impulse Control | 1.02
DRG 429 | Organic Disturbances & Mental Retardation | 1.03
DRG 430 | Psychoses | 1.00
DRG 431 | Childhood Mental Disorders | 0.99
DRG 432 | Other Mental Disorder Diagnoses | 0.92
DRG 433 | Alcohol/Drug Abuse or Dependence, Leave Against Medical Advice (LAMA) | 0.97
DRG 521 | Alcohol/Drug Abuse or Dependence with CC | 1.02
DRG 522 | Alcohol/Drug Abuse or Dependence with RehabilitationTherapy without CC | 0.98
DRG 523 | Alcohol/Drug Abuse or Dependence without Rehabilitation Therapy without CC | 0.88
DRG 12 | Degenerative Nervous System Disorders | 1.05
DRG 23 | Non-traumatic Stupor & Coma | 1.07

Section 412.424(d) separately identifies both “Diagnosis-related group assignment” and “Principal diagnosis” as patient level adjustments. Since publication of the November 2004 IPF PPS final rule, we have received inquiries related to whether the IPF PPS includes two patient-level payment adjustments for principal diagnosis, an adjustment for the diagnosis-related group assignment, and a separate adjustment for providing a principal diagnosis in general. We intended that the IPF PPS provide one patient-level adjustment for principal diagnosis, which is “Diagnosis-related group assignment.”

In order to clarify our policy, we proposed to modify the language in section 412.424(d) by deleting sub-paragraph § 412.424(d)(2)(iii). We received no public comments on the proposed amendment. We are adopting this change in our final rule.

Public comments and our responses on the proposed changes on the adjustment for DRG assignment are summarized below.

Comment: We received several comments concerning the update to the DRG adjustment factors. Overall, the commenters supported our decision to delay updating the patient-level adjustment factors, stating that a delay in running the regression analysis would allow CMS to use more comprehensive and accurate patient-level coding data.

However, one commenter recommended that CMS update the DRGs and adjustment factors on an on-going basis.

Response: We do not plan to update the regression analysis until we analyze IPF PPS data. We believe that this will provide the best indication of current IPF practices. Therefore, the DRG adjustment factors currently being paid to IPFs will remain the same for the RY 2007 (that is, for discharges occurring during the RY July 1, 2006 through June 30, 2007).

Comment: Several commenters requested clarification on the “code first” instructions, believing them to be contrary to regulations at § 412.27. The commenters stated that § 412.27 requires that psychiatric units only admit those patients who have a psychiatric principal diagnosis listed in the DSM or the Chapter Five of the ICD.

Response: Section 412.27 and the “code first” instructions are not contrary to each other. As explained in the November 2004 final rule (69 FR 66922) and in three subsequent Change Requests (CR) (that is, CR 3541, published December 1, 2004; CR 3678, published January 21, 2005; and CR 3752, published March 4, 2005), correct coding conventions should always be followed, including “code first” situations. According to the ICD-9-CM Official Guidelines for Coding and Reporting, when a primary diagnosis code has a code first notation, the provider follows the applicable ICD-9-CM coding convention which requires the underlying condition (etiology) to be sequenced first, followed by the manifestation due to the underlying condition. Therefore, we consider “code first” diagnoses to be the primary diagnosis. The submitted claim goes through the IPF PPS claims processing system which identifies the primary diagnosis code as non-psychiatric and searches the secondary codes for a psychiatric code to assign the DRG in order to pay “code first” claims properly.

For more coding guidance, please refer to the ICD-9-CM Official Guidelines for Coding and Reporting which can be located on the CMS Web site at http://new.cms.hhs.gov/ICD9ProviderDiagnosticCodes/.

Comment: Commenters requested that CMS include the ICD-9-CM obstetrical series of codes 648.30 to 648.34 and 648.40 to 648.44, since they are subject to sequencing priority guidelines, in our code first logic.

Response: At this point in time, we do not intend to update the regression analysis until we have analyzed one year of IPF PPS claims and cost report data. However, when we update the regression analysis, we will review the obstetric codes noted above and consider the appropriateness of including them in our code first logic. For RY 2007, no DRG Adjustment will be made to these codes.

Final Rule Action: In summary, we received no public comments concerning the proposal to amend § 412.424(d). In order to clarify our policy that the IPF PPS provides one patient level adjustment for principal diagnoses, we are modifying the language in section § 412.424(d) by deleting sub-paragraph § 412.424(d)(2)(iii). In addition, we are adopting the DRG adjustment currently in effect and as shown in Table 9.

2. Payment for Comorbid Conditions

In the November 2004 IPF PPS final rule, we established 17 comorbidity categories and identified the ICD-9-CM diagnosis codes that generate a payment adjustment under the IPF PPS.

Comorbidities are specific patient conditions that are secondary to the patient's primary diagnosis, and that require treatment during the stay. Diagnoses that relate to an earlier episode of care and have no bearing on the current hospital stay are excluded and not reported on IPF claims. Comorbid conditions must co-exist at the time of admission, develop subsequently, affect the treatment received, affect the length of stay or affect both treatment and LOS.

The intent of the comorbidity adjustment was to recognize the increased cost associated with comorbid conditions by providing additional payments for certain concurrent medical or psychiatric conditions that are expensive to treat. For each claim, an IPF may receive only one comorbidity adjustment per comorbidity category, but it may receive an adjustment for more than one comorbidity category. Billing instructions require that IPFs must enter the full ICD-9-CM codes for up to 8 additional diagnoses if they co-exist at the time of admission or developed subsequently.

The comorbidity adjustments were determined based on regression analysis using the diagnoses reported by hospitals in FY 2002. The principal diagnoses were used to establish the DRG adjustment and were not accounted for in establishing the comorbidity category adjustments, except where ICD-9-CM “code first” instructions apply. As we explained in the November 2004 IPF PPS final rule (69 FR 66922), the code first rule applies when a condition has both an underlying etiology and a manifestation due to the underlying etiology. For these conditions, the ICD-9-CM has a coding convention that requires the underlying conditions to be sequenced first followed by the manifestation. Whenever a combination exists, there is a “use additional code” note at the etiology code and a “code first” note at the manifestation code.

Although we are updating the IPF PPS to reflect updates to the ICD-9-CM codes, the comorbidity adjustment factors currently in effect will remain in effect for the RY beginning July 1, 2006. As we indicated in the November 2004 IPF PPS final rule, we do not plan to update the regression analysis until we analyze IPF PPS data. The comorbidity adjustments are shown in Table 12 below.

As previously discussed in the DRG section, we believe it is essential to maintain the same diagnostic coding set for IPFs that is used under the IPPS for providing the same psychiatric care. Therefore, as proposed and in this final rule, we are using the most current FY 2006 ICD codes. They are reflected in the FY 2006 GROUPER, version 23.0 and are effective for discharges occurring on or after October 1, 2005.

Table 10 lists the updated FY 2006 new ICD diagnosis codes that impact the comorbidity adjustment under the IPF PPS and Table 11 lists the invalid ICD codes no longer applicable for the comorbidity adjustment. Table 10 only lists the FY 2006 new codes and does not reflect all of the currently valid ICD codes applicable for the IPF PPS comorbidity adjustment.

We note that ICD diagnosis code 585 Chronic Renal Failure was modified in two ways—(1) By expanding the level of specificity to include seven new codes; and (2) by changing the original code of 585 to invalid, thereby leaving the remaining more specific codes reportable. Since diagnosis code 585 is no longer valid, we are eliminating this code from the comorbidity category “Renal Failure, Chronic.”

ICD diagnosis code 585 “Chronic Renal Failure” is defined in the ICD-9-CM as “Progressive, persistent inadequate kidney function characterized by anuria, accumulation of urea and other nitrogenous bodies in the blood, nausea, vomiting, gastrointestinal bleeding, and yellowish-brown discoloration of the skin.” This code included the various stages of chronic kidney disease, but it is no longer valid. The new codes listed below reflect the various stages of chronic kidney failure.

In this final rule, we are adopting as proposed comorbidity adjustments for 585.3, “Chronic kidney disease, Stage III (moderate),” 585.4, “Chronic kidney disease, Stage IV (severe),” 585.5, “Chronic kidney disease, Stage V,” 585.6, “End Stage renal disease,” and 585.9, “Chronic kidney disease, unspecified.” However, since the purpose of the comorbidity adjustment is to account for the higher resource costs associated with comorbid conditions that are expensive to treat on a per diem basis, we are not providing a comorbidity adjustment for 585.1, “Chronic kidney disease, Stage I” and 585.2, “Chronic kidney disease, Stage II (mild).”

We believe that these conditions (585.1 and 585.2) are less costly to treat on a per diem basis because patients with these conditions are either asymptomatic or may have only mild symptoms. These conditions represent a minimal to mild decrease in kidney function that is almost completely compensated such that the only finding is typically an abnormal laboratory test. Unlike patients with more significant kidney dysfunction, these patients do not usually require more costly patient care interventions such as additional laboratory tests to monitor renal function, special pharmacy attention to reduced dosages or kidney-sparing medications, or fluid and electrolyte precautions with special diets, frequent weights, input/output balance, and fluid restriction. The resources and costs that these patients require for staff time, medications and supplies, and administrative services are expected to be similar to other patients without these conditions.

Table 10.—FY 2006 New ICD Codes Applicable for the Comorbidity Adjustment
Diagnosis code | Description | DRG | Comorbidity category
585.3 | Chronic kidney disease, Stage III (moderate) | 315-316 | Renal Failure, Chronic.
585.4 | Chronic kidney disease, Stage IV(severe) | 315-316 | Renal Failure, Chronic.
585.5 | Chronic kidney disease, Stage V | 315-316 | Renal Failure,Chronic.
585.6 | End stage renal disease | 315-316 | Renal Failure,Chronic.
585.9 | Chronic kidney disease, unspecified | 315-316 | Renal Failure, Chronic.
V46.13 | Encounter for weaning from respirator [ventilator] | 467 | Chronic Obstructive Pulmonary Disease.
V46.14 | Mechanical complication of respirator [ventilator] | 467 | Chronic Obstructive Pulmonary Disease.

In Table 11 below, we list the FY 2006 invalid ICD diagnosis code 585 that we will be removing from the comorbidity adjustment under the IPF PPS. This table does not reflect all of the currently valid ICD codes applicable for the IPF PPS comorbidity adjustment.

Table 11.—FY 2006 Invalid ICD Codes No Longer Applicable for the Comorbidity Adjustment
Diagnosis code | Description | DR | Comorbidity category
585 | Chronic renal failure | 315-36 | Renal Failure, Chronic.

The seventeen comorbidity categories for which we are providing an adjustment, their respective codes, including the new FY 2006 ICD codes, and their respective adjustment factors, are listed below in Table 12.

Table 12.—FY 2006 Diagnosis Codes and Adjustment Factors for Comorbidity Categories
Description of comorbidity | ICD-9CM code | Adjustment factor
Developmental Disabilities | 317, 3180, 3181, 3182, and 319 | 1.04
Coagulation Factor Deficits | 2860 through 2864 | 1.13
Tracheostomy | 51900—through 51909 and V440 | 1.06
Renal Failure, Acute | 5845 through 5849, 63630, 63631, 63632, 63730, 63731, 63732, 6383, 6393, 66932, 66934, 9585 | 1.11
Renal Failure, Chronic | 40301, 40311, 40391, 40402, 40412, 40413, 40492, 40493, 5853, 5854, 5855, 5856, 5859, 586, V451, V560, V561, and V562 | 1.11
Oncology Treatment | 1400 through 2390 with a radiation therapy code 92.21-92.29 or chemotherapy code 99.25 | 1.07
Uncontrolled Diabetes-Mellitus with or without complications | 25002, 25003, 25012, 25013, 25022, 25023, 25032, 25033, 25042, 25043, 25052, 25053, 25062, 25063, 25072, 25073, 25082, 25083, 25092, and 25093 | 1.05
Severe Protein Calorie Malnutrition | 260 through 262 | 1.13
Eating and Conduct Disorders | 3071, 30750, 31203, 31233, and 31234 | 1.12
Infectious Disease | 01000 through 04110, 042, 04500 through 05319, 05440 through 05449, 0550 through 0770, 0782 through 07889, and 07950 through 07959 | 1.07
Drug and/or Alcohol Induced Mental Disorders | 2910, 2920, 29212, 2922, 30300, and 30400 | 1.03
Cardiac Conditions | 3910, 3911, 3912, 40201, 40403, 4160, 4210, 4211, and 4219 | 1.11
Gangrene | 44024 and 7854 | 1.10
Chronic Obstructive Pulmonary Disease | 49121, 4941, 5100, 51883, 51884, V4611 and V4612, V4613 and V4614 | 1.12
Artificial Openings—Digestive and Urinary | 56960 through 56969, 9975, and V441 through V446 | 1.08
Severe Musculoskeletal and Connective Tissue Diseases | 6960, 7100, 73000 through 73009, 73010 through 73019, and 73020 through 73029 | 1.09
Poisoning | 96500 through 96509, 9654, 9670 through 9699, 9770, 9800 through 9809,9830 through 9839, 986, 9890 through 9897 | 1.11

We received several comments offering suggestions on how we could improve the comorbidity adjustment category list. The suggestions ranged from requests for the addition of a single ICD-9-CM code to a request for expanding the comorbidity categories to account for every ICD-9-CM code.

Public comments and our responses to the proposed changes to payment for comorbid conditions are summarized below.

Comment: We received a comment expressing concern that the comorbidity adjustment list does not include the more common conditions seen in psychiatric patients. This commenter indicated that most psychiatric patients are treated for multiple common conditions and illnesses (for example, heart conditions, and stroke), none of which would trigger a payment adjustment under the IPF PPS.

Response: We explained in the November 2004 IPF PPS final rule (69 FR 66922), that the data used in calculating the Federal per diem base rate included all the costs for comorbid diagnoses submitted in the FY 2002 claims. Therefore, the cost for providing patient care (for example, medications, routine nursing care) required for common conditions seen in the psychiatric population, and recommended for comorbidity adjustment by commenters (that is, heart conditions or strokes) are already included in the Federal per diem base rate and a comorbidity adjustment for their presence was duplicative and unnecessary.

Further, the design of the IPF PPS with its Federal per diem base rate, provides numerous adjustments for complex cases and the availability of outlier payments, and stop loss payments during the 3-year transition.

Comment: A few commenters stated that the range of diagnostic codes proposed for adjustment did not include all the ICD-9-CM codes within a diagnostic category. A particular commenter indicated that the list of codes under diabetes did not include all the diabetes codes. In addition, other commenters provided a list of ICD-9-CM codes and comorbidity adjustments that they believe should be included in the comorbidity adjustment category list.

Response: The intent of the comorbidity adjustment is to provide additional payments for concurrent medical or psychiatric conditions that are expensive to treat and require comparatively more costly treatment during an IPF stay than other comorbid conditions.

Although we are updating the IPF PPS to reflect updates to the ICD-9-CM codes, the comorbidity adjustment categories and factors currently in effect will remain in effect for the RY beginning July 1, 2006. As indicated in the November 2004 IPF PPS final rule, we do not plan to update the regression analysis until we analyze IPF PPS data.

Comment: A commenter recommended that code 404.03 hypertensive heart and renal disease, malignant, with heart failure and renal failure continue to qualify for both Cardiac Conditions and Chronic Renal Failure comorbidity adjustments.

Response: We are aware that ICD code 404.03, hypertensive heart and renal disease, malignant, with heart failure and renal failure, has caused confusion since this ICD code is currently used to code an adjustment in two separate IPF comorbidity categories, (that is, both “Renal Failure, Chronic” and “Cardiac Conditions”). We believe that it more appropriately corresponds to the “Cardiac Conditions” comorbidity than to the “Renal Failure, Chronic” comorbidity. Therefore, to be more clinically cohesive and to eliminate confusion, we are removing ICD code 404.03 from the comorbidity adjustment category “Renal Failure, Chronic,” but retaining it in the “Cardiac Conditions” comorbidity category. Since both comorbidity categories have the same adjustment factor of 1.11, we believe no negative payment consequence will result from this change.

Final Rule Action: We are adopting the comorbidity adjustments currently in effect and as shown in Table 12 above for RY 2007 beginning July 1, 2006.

3. Patient Age Adjustments

As explained in the November 2004 IPF PPS final rule, we analyzed the impact of age on per diem cost by examining the age variable (that is, the range of ages) for payment adjustments.

In general, we found that the cost per day increases with increasing age. The older age groups are more costly than the under 45 years of age group; the differences in per diem cost increase for each successive age group, and the differences are statistically significant.

Based on the results of the regression analysis, we established 8 adjustment factors for age beginning with age groupings 45 and under 50, 50 and under 55, 55 and under 60, 60 and under 65, 65 and under 70, 70 and under 75, 75 and under 80, and 80 years of age and over. Patients under 45 years of age are assigned an age adjustment factor of 1.00. As we indicated in the November 2004 IPF PPS final rule, we do not plan to update the regression analysis until we analyze IPF PPS data. As a result, we are adopting the patient age adjustments currently in effect and shown in Table 13 below.

Table 13.—Age Groupings and Adjustment Factors
Age | Adjustment factor
Under 45 | 1.00
45 and under 50 | 1.01
50 and under 55 | 1.02
55 and under 60 | 1.04
60 and under 65 | 1.07
65 and under 70 | 1.10
70 and under 75 | 1.13
75 and under 80 | 1.15
80 and over | 1.17

Final Rule Action: In response to the RY 2007 proposed rule, we received no comments concerning the age adjustment. We are adopting the age adjustments currently in effect and as shown in Table 13 above, for RY 2007.

4. Variable Per Diem Adjustments

We explained in the November 2004 IPF PPS final rule that cost regressions indicated that per diem cost declines as the LOS increases (69 FR 66947). The variable per diem adjustments to the Federal per diem base rate account for ancillary and administrative costs that occur disproportionately in the first days after admission to an IPF.

We used regression analysis to estimate the average differences in per diem cost among stays of different length. Regression analysis simultaneously controls for cost differences associated with the other variables (for example, age, DRG, and presence of specific comorbidities). The regression coefficients measure the relative average cost per day for stays of differing lengths compared to a reference group's LOS. We analyzed through cost regression the relative cost per day for day 1 through day 30. We determined that the average per diem cost declined smoothly until the 22nd day. As a result of this analysis, we established variable per diem adjustments that begin on day 1 and decline gradually until day 21 of a patient's stay. For day 22 and thereafter, the variable per diem adjustment remains the same each day for the remainder of the stay. However, the adjustment applied to day 1 depends upon whether the IPF has a qualifying emergency department (ED). If an IPF has a qualifying ED, it receives a 1.31 adjustment for day 1 of each patient stay. If an IPF does not have a qualifying ED, it receives a 1.19 adjustment for day 1 of the stay. The ED adjustment is explained in more detail in section VI.C.5 of this final rule.

As we indicated in the November 2004 IPF PPS final rule, we do not plan to make changes to the regression analysis until we analyze IPF PPS data. As a result, for the RY beginning July 1, 2006, we are adopting the variable per diem adjustment factors currently in effect. Table 14 below shows the variable per diem adjustments that we will be using for updating the IPF PPS.

Table 14.—Variable Per Diem Adjustments
Day-of-stay | Adjustment factor
Day 1—IPF Without a Qualified ED | 1.19
Day 1—IPF With a Qualified ED | 1.31
Day 2 | 1.12
Day 3 | 1.08
Day 4 | 1.05
Day 5 | 1.04
Day 6 | 1.02
Day 7 | 1.01
Day 8 | 1.01
Day 9 | 1.00
Day 10 | 1.00
Day 11 | 0.99
Day 12 | 0.99
Day 13 | 0.99
Day 14 | 0.99
Day 15 | 0.98
Day 16 | 0.97
Day 17 | 0.97
Day 18 | 0.96
Day 19 | 0.95
Day 20 | 0.95
Day 21 | 0.95
After Day 21 | 0.92

Final Rule Action: In response to the RY 2007 proposed rule, we received no comments concerning the proposed variable per diem adjustments. We are adopting the variable per diem adjustment factors currently in effect, and as shown in Table 14 above for RY 2007.

C. Facility-Level Adjustments

The IPF PPS includes facility-level adjustments for the wage index, IPFs located in rural areas, teaching IPFs, cost of living adjustments for IPFs located in Alaska and Hawaii, and IPFs with a qualifying ED.

1. Wage Index Adjustment

a. Revisions of IPF PPS Geographic Classifications

In the November 2004 IPF PPS final rule, we explained that in establishing an adjustment for area wage levels, the labor-related portion of an IPF's Federal prospective payment is adjusted by using an appropriate wage index. We also explained that an IPF's wage index is determined based on the location of the IPF in an urban or rural area as defined in § 412.62(f)(1)(ii) and (f)(1)(iii), respectively.

An urban area under the IPF PPS is defined at § 412.62(f)(1)(ii)(A) and (B). In general, an urban area is defined as a Metropolitan Statistical Area (MSA) or New England County Metropolitan Area (NECMA) as defined by the Office of Management and Budget (OMB). In addition, a few counties located outside of MSAs are considered urban as specified at § 412.62(f)(1)(ii)(B). Under § 412.62(f)(1)(iii), a rural area is defined as any area outside of an urban area. The geographic classifications defined in § 412.62(f)(1)(ii) and (f)(1)(iii), were used under the IPPS from FYs 1984 through 2004 (§ 412.62(f) and § 412.63(b)), and have been used under the IPF PPS since it was implemented for cost reporting periods beginning on or after January 1, 2005.

Under the IPPS, the wage index is calculated and assigned to hospitals on the basis of the labor market area in which the hospital is located or geographically reclassified to in accordance with sections 1886(d)(8) and (d)(10) of the Act. Under the IPF PPS, the wage index is calculated using IPPS wage index data (as discussed below in section VI.C.1.d of this preamble) on the basis of the labor market area in which the IPF is located, without taking into account geographic reclassification under sections 1886(d)(8) and (d)(10) of the Act and without applying the “rural floor” established under section 4410 of the BBA. (Section 4410 of the BBA provides that for the purposes of section 1886(d)(3)(E) of the Act, the area wage index applicable to hospitals located in an urban area of a State may not be less than the area wage index applicable to hospitals located in rural areas in the State. This provision is commonly referred to as the “rural floor” under the IPPS.) However, when we established the IPF PPS, we did not apply the rural floor to IPFs. For this reason, the hospital wage index used for IPFs is commonly referred to as the “pre-floor” hospital wage index indicating that the “rural floor” provision of the BBA is not applied. As a result, the applicable IPF wage index value is assigned to the IPF on the basis of the labor market area in which the IPF is geographically located.

As noted above, the current IPF PPS labor market areas are defined based on the definitions of MSAs, Primary MSAs (PMSAs), and NECMAs issued by the OMB (commonly referred to collectively as “MSAs”). The MSA definitions, which are discussed in greater detail below, are currently used under the IPF PPS and other PPSs (that is, the IRF PPS, the LTCH PPS, and the PPSs for home health agencies (HHA PPS) and skilled nursing facilities (SNF PPS)). In the FY 2005 IPPS final rule (69 FR 49026 through 49034), revised labor market area definitions were adopted under the IPPS (§ 412.64(b)), which were effective October 1, 2004. These new standards, called Core-Based Statistical Areas (CBSAs), were announced by the OMB late in CY 2000 and are discussed in greater detail below.

b. Current IPF PPS Labor Market Areas Based on MSAs

When we published the November 2004 IPF PPS final rule, we explained that we were not adopting the new statistical area definitions defined by OMB for the following reasons. First, the change in labor market areas under the IPPS had not changed at the time we published the IPF PPS proposed rule on November 28, 2003. As a result, IPFs and other interested parties were not afforded an opportunity to comment on the use of the new labor market area definitions under the IPF PPS. Second, we wanted to conduct a thorough analysis of the impact of the new labor market area definitions on payments under the IPF PPS. Finally, in the November 2004 IPF PPS final rule, we indicated our intent to publish in a proposed rule any changes we were considering for new labor market definitions.

The analysis of the impact of the new labor market definitions has been completed. In the RY 2007 proposed rule, we proposed to adopt the new CBSA-based labor market area definitions. In this final rule, we are adopting these labor market area definitions for the IPF PPS. We believe it is helpful to provide a detailed description of the current IPF PPS labor market areas to help explain the changes to the IPF PPS labor market areas.

As mentioned earlier, since the implementation of the IPF PPS, we have used labor market areas to further characterize urban and rural areas as determined under § 412.62(f)(1)(ii) and (iii). To this end, we have defined labor market areas under the IPF PPS based on the definitions of MSAs, PMSAs, and NECMAs issued by the OMB in 1993, which is consistent with the IPPS approach prior to FY 2005. We note that OMB also defines Consolidated MSAs (CMSAs). A CMSA is a metropolitan area with a population of 1 million or more, comprising two or more PMSAs (identified by their separate economic and social character). However, for purposes of the wage index, we use the PMSAs rather than CMSAs because they allow a more precise breakdown of labor costs. If a metropolitan area is not designated as part of a PMSA, we use the applicable MSA.

These different designations use counties as the building blocks upon which they are based. Therefore, under the IPF PPS, hospitals are assigned to either an MSA, PMSA, or NECMA based on whether the county in which the IPF is located is part of that area. All of the counties in a State outside a designated MSA, PMSA, or NECMA are designated as rural.

c. Core-Based Statistical Areas

The OMB reviews its Metropolitan Area definitions preceding each decennial census. As discussed in the FY 2005 IPPS final rule (69 FR 49026), in the fall of 1998, OMB chartered the Metropolitan Area Standards Review Committee to examine the Metropolitan Area standards and develop recommendations for possible changes to those standards. Three notices related to the review of the standards, providing an opportunity for public comment on the recommendations of the Committee, were published in the Federal Register on the following dates: December 21, 1998 (63 FR 70526); October 20, 1999 (64 FR 56628); and August 22, 2000 (65 FR 51060).

In the December 27, 2000 Federal Register (65 FR 82228 through 82238), OMB announced its new standards. In that notice, OMB defines a Core-Based Statistical Area (CBSA), beginning in 2003, as “a geographic entity associated with at least one core of 10,000 or more population, plus adjacent territory that has a high degree of social and economic integration with the core as measured by commuting ties. The standards designate and define two categories of CBSAs: Metropolitan Statistical Areas and Micropolitan Statistical Areas.” (65 FR 82236 through 82238).

According to the OMB, MSAs are based on urbanized areas of 50,000 or more population, and Micropolitan Statistical Areas (referred to in this discussion as Micropolitan Areas) are based on urban clusters of at least 10,000 population, but less than 50,000 population. Counties that do not fall within CBSAs (either MSAs or Micropolitan Areas) are deemed “Outside CBSAs.” In the past, OMB defined MSAs around areas with a minimum core population of 50,000, and smaller areas were “Outside MSAs.” On June 6, 2003, the OMB announced the new CBSAs, comprised of MSAs and the new Micropolitan Areas based on Census 2000 data. (A copy of the announcement may be obtained at the following Internet address: http://www.whitehouse.gov/omb/bulletins/fy04/b04-03.html.)

The new CBSA designations recognize 49 new MSAs and 565 new Micropolitan Areas, and extensively revise the composition of many of the existing MSAs. There are 1,090 counties in MSAs under the new CBSA designations (previously, there were 848 counties in MSAs). Of these 1,090 counties, 737 are in the same MSA as they were prior to the change in designations, 65 are in a different MSA, and 288 were not previously designated to any MSA. There are 674 counties in Micropolitan Areas. Of these, 41 were previously in an MSA, while 633 were not previously designated to an MSA. There are five counties that previously were designated to an MSA but are no longer designated to either an MSA or a new Micropolitan Area: Carter County, KY; St. James Parish, LA; Kane County, UT; Culpepper County, VA; and King George County, VA. For a more detailed discussion of the conceptual basis of the new CBSAs, refer to the FY 2005 IPPS final rule (67 FR 49026 through 49034).

d. Revision of the IPF PPS Labor Market Areas

In its June 6, 2003 announcement, OMB cautioned that these new definitions “should not be used to develop and implement Federal, State, and local nonstatistical programs and policies without full consideration of the effects of using these definitions for such purposes. These areas should not serve as a general-purpose geographic framework for nonstatistical activities, and they may or may not be suitable for use in program funding formulas.”

We currently use MSAs to define labor market areas for purposes of Medicare wage indices in the IPF PPS since its implementation for cost reporting periods beginning on or after January 1, 2005. Until recently, MSAs were used to define labor market areas for purposes of the wage index for many of the other Medicare payment systems (for example, IRF PPS, SNF PPS, HHA PPS, and Outpatient PPS). While we recognize MSAs are not designed specifically to define labor market areas, we believe they represent a useful proxy for this purpose, because they are based upon characteristics we believe also generally reflect the characteristics of unified labor market areas. For example, CBSAs consist of a core population plus an adjacent territory that reflects a high degree of social and economic integration. This integration is measured by commuting ties, thus demonstrating that these areas may draw workers from the same general areas. In addition, the most recent CBSAs reflect the most up-to-date information. Our analysis and discussion here are focused on issues related to adopting the new CBSA designations to define labor market areas for the purposes of the IPF PPS.

Historically, Medicare PPSs have utilized Metropolitan Area definitions developed by the OMB. As noted above, the labor market areas currently used under the IPF PPS are based on the Metropolitan Area definitions issued by the OMB and the OMB reviews its Metropolitan Area definitions preceding each decennial census to reflect more recent population changes. The CBSAs are OMB's latest Metropolitan Area definitions based on the Census 2000 data. Because we believe that the OMB's latest Metropolitan Area designations more accurately reflect the local economies and wage levels of the areas in which hospitals are currently located, we adopted the revised labor market area designations based on the OMB's CBSA designations under the IPPS effective October 1, 2004. When we implemented the wage index adjustment at § 412.424(d)(1)(i) under the November 2004 IPF PPS final rule (69 FR 66952 through 66954), we explained that the IPF PPS wage index adjustment was intended to reflect the relative hospital wage levels in the geographic area of the hospital as compared to the national average hospital wage level. The OMB's CBSA designations based on Census 2000 data reflect the most recent available geographic classifications (Metropolitan Area definitions). Therefore, we are revising the labor market area definitions used under the IPF PPS based on the OMB's CBSA designations. This change ensures that the IPF PPS wage index adjustment most appropriately accounts for and reflects the relative hospital wage levels in the geographic area of the hospital as compared to the national average hospital wage level.

Specifically, we are revising the IPF PPS labor market definitions based on the OMB's new CBSA designations (as discussed in greater detail below) effective for IPF PPS discharges occurring on or after July 1, 2006. Accordingly, we are revising § 412.402, definitions for rural and urban areas. Effective for discharges occurring on or after July 1, 2006, “rural” and “urban” areas will be defined in § 412.64(b)(1)(ii)(A) through (C). These definitions are the labor market definitions based on OMB's CBSA designations. For clarity, we are also revising the regulation text to include the urban and rural definitions applicable to discharges occurring during cost reporting periods beginning on or after January 1, 2005, but before July 1, 2006, under § 412.62(f)(1)(ii) and § 412.62(f)(1)(iii).

We note that these are the same labor market area definitions (based on the OMB's new CBSA designations) implemented for acute care hospitals under the IPPS at § 412.64(b), which were effective for those hospitals beginning October 1, 2004 as discussed in the FY 2005 IPPS final rule (69 FR 49026-49034). The IPF PPS uses the acute care inpatient hospitals' wage data in calculating the IPF PPS wage index. However, unlike the IPPS, and similar to other Medicare payment systems (for example, SNF PPS and IRF PPS), the IPF PPS uses the pre-floor, pre-reclassified hospital wage index.

Below, we discuss the composition of the RY 2007 IPF PPS labor market areas based on OMB's new CBSA designations. It should be noted that OMB's new CBSA designations are comprised of several county-based area definitions as explained above, which include Metropolitan Areas, Micropolitan Areas, and areas “outside CBSAs.” We implemented the IPF PPS using two types of labor market areas, that is, urban and rural. In this final rule, we are adopting the revised labor market areas based on OMB's new CBSA-based designations. As proposed in the RY 2007 proposed rule, we will continue to have 2 types of labor market areas (urban and rural). In the discussion that follows, we explain how we are recognizing Metropolitan Areas, which include New England MSAs and Metropolitan Divisions, as urban. We also explain how we are recognizing Micropolitan Areas and areas “outside CBSAs” as rural. As discussed below in this final rule and as described in the RY 2007 proposed rule, we describe the methodology for mapping OMB's CBSA-based designations into the IPF PPS (urban area or rural area) format.

i. New England MSAs

As stated above, we currently use NECMAs to define labor market areas in New England, because these are county-based designations, rather than the 1990 MSA definitions for New England, which used minor civil divisions such as cities and towns. Under the current MSA definitions, NECMAs provided more consistency in labor market definitions for New England compared with the rest of the country, where MSAs are county-based. Under the new CBSAs, the OMB has now defined the MSAs and Micropolitan Areas in New England on the basis of counties. The OMB also established New England City and Town Areas, which are similar to the previous New England MSAs.

In order to create consistency across all IPF labor market areas, as proposed and in this final rule, we are using the county-based areas for all MSAs in the nation, including those in New England. The OMB has now defined the New England area based on counties, creating a city- and town-based system as an alternative. We believe that adopting county-based labor market areas for the entire country except those in New England will lead to inconsistencies in our designations. Adopting county-based labor market areas for the entire country provides consistency and stability in Medicare program payment because all of the labor market areas throughout the country, including New England, will be defined using the same system (that is, counties) rather than different systems in different areas of the county, and minimizes programmatic complexity.

In addition, we have consistently employed a county-based system for New England for precisely that reason: To maintain consistency with the labor market definitions used throughout the country. Since we have never used cities and towns for defining IPF labor market areas, employing a county-based system in New England maintains that consistent practice. We note that this is consistent with the implementation of the CBSA-based designations under the IPPS for New England (69 FR 49028). Accordingly, for the IPF PPS, we are using the New England MSAs as determined under the new CBSA-based labor market area definitions in defining the revised IPF PPS labor market areas.

ii. Metropolitan Divisions

Under OMB's new CBSA designations, a Metropolitan Division is a county or group of counties within a CBSA that contains a core population of at least 2.5 million, representing an employment center, plus adjacent counties associated with the main county or counties through commuting ties. A county qualifies as a main county if 65 percent or more of its employed residents work within the county and the ratio of the number of jobs located in the county to the number of employed residents is at least 0.75. A county qualifies as a secondary county if 50 percent or more, but less than 65 percent, of its employed residents work within the county and the ratio of the number of jobs located in the county to the number of employed residents is at least 0.75. After all the main and secondary counties are identified and grouped, each additional county that already has qualified for inclusion in the MSA falls within the Metropolitan Division associated with the main/secondary county or counties with which the county at issue has the highest employment interchange measure. Counties in a Metropolitan Division must be contiguous (65 FR 82236).

The construct of relatively large MSAs being comprised of Metropolitan Divisions is similar to the current construct of CMSAs comprised of PMSAs. As noted above, in the past, the OMB designated CMSAs as Metropolitan Areas with a population of 1 million or more and comprised of two or more PMSAs. Under the IPF PPS, we currently use the PMSAs rather than CMSAs to define labor market areas because they comprise a smaller geographic area with potentially varying labor costs due to different local economies. We believe that CMSAs may be too large of an area with a relatively large number of hospitals, to accurately reflect the local labor costs of all of the individual hospitals included in that relatively “large” area. A large market area designation increases the likelihood of including many hospitals located in areas with very different labor market conditions within the same market area designation. This variation could increase the difficulty in calculating a single wage index that will be relevant for all hospitals within the market area designation. Similarly, we believe that MSAs with a population of 2.5 million or greater may be too large of an area to accurately reflect the local labor costs of all of the individual hospitals included in that relatively “large” area. Furthermore, as indicated above, Metropolitan Divisions represent the closest approximation to PMSAs, the building block of the current IPF PPS labor market area definitions, and therefore, will most accurately maintain our current structuring of the IPF PPS labor market areas. As implemented under the IPPS (69 FR 49029), we proposed and for this final rule, we are using the Metropolitan Divisions where applicable (as described below) under the new CBSA-based labor market area definitions.

In addition to being comparable to the organization of the labor market areas under current MSA designations (that is, the use of PMSAs rather than CMSAs), we believe that using Metropolitan Divisions where applicable (as described below) under the IPF PPS will result in a more accurate adjustment for the variation in local labor market areas for IPFs. Specifically, if we recognize the relatively “larger” CBSA that comprises two or more Metropolitan Divisions as an independent labor market area for purposes of the wage index, it will be too large and include data from too many hospitals to compute a wage index that will accurately reflect the various local labor costs of all of the individual hospitals included in that relatively “large” CBSA. As mentioned earlier, a large market area designation increases the likelihood of including many hospitals located in areas with very different labor market conditions within the same market area designation. This variation could increase the difficulty in calculating a single wage index that will be relevant for all hospitals within the market area designation. Rather, by recognizing the Metropolitan Divisions where applicable (as described below) under the proposed new CBSA-based labor market area definitions under the IPF PPS, we believe that in addition to more accurately maintaining the current structuring of the IPF PPS labor market areas, the local labor costs will be more accurately reflected, thereby resulting in a wage index adjustment that better reflects the variation in the local labor costs of the local economies of the IPFs located in these relatively “smaller” areas.

Below we describe where Metropolitan Divisions will be applicable under the new CBSA-based labor market area definitions under the IPF PPS.

Under OMB's new CBSA-based designations, there are 11 MSAs containing Metropolitan Divisions: Boston; Chicago; Dallas; Detroit; Los Angeles; Miami; New York; Philadelphia; San Francisco; Seattle; and Washington, D.C. Although these MSAs were also CMSAs under the prior definitions, in some cases these areas have been significantly altered. Under the current IPF PPS MSA designations, Boston is a single NECMA. Under the CBSA-based labor market area designations, it is comprised of four Metropolitan Divisions. Los Angeles will go from four PMSAs under the current IPF PPS MSA designations to two Metropolitan Divisions under the CBSA-based labor market area designations because two MSAs became separate MSAs. The New York CMSA will go from 15 PMSAs under the current IPF PPS MSA designations to only four Metropolitan Divisions under the CBSA-based labor market area designations. The five PMSAs in Connecticut under the current IPF PPS MSA designations will become separate MSAs under the CBSA-based labor market area designations, and the number of PMSAs in New Jersey under the current IPF PPS MSA designations will go from five to two, with the consolidation of two New Jersey PMSAs (Bergen-Passaic and Jersey City) into the New York-Wayne-White Plains, NY-NJ Division, under the CBSA-based labor market area designations. In San Francisco, under the CBSA-based labor market area designations, there are only two Metropolitan Divisions. Currently, there are six PMSAs, some of which are now separate MSAs under the current IPF PPS labor market area designations.

Under the current IPF PPS labor market area designations, Cincinnati, Cleveland, Denver, Houston, Milwaukee, Portland, Sacramento, and San Juan are all designated as CMSAs, but will no longer be designated as CMSAs under the CBSA-based labor market area designations. As noted previously, the population threshold to be designated as a CMSA under the current IPF PPS labor market area designations is 1 million. In most of these cases, counties currently in a PMSA under the current IPF PPS labor market area designations will become separate, independent MSAs under the CBSA-based labor market area designations.

We note that subsequent to the publication of the RY 2007 IPF PPS proposed rule, titles to certain CBSAs were changed based on OMB Bulletin No. 06-01 (December 2005). The title changes listed below are nomenclatures that do not result in substantive changes to the CBSA-based designations. Thus, these changes are listed below and will be incorporated into the FY 2007 CBSA-based urban wage index tables.

• CBSA 26900: Indianapolis-Carmel, IN

• CBSA 42680: Sebastian-Vero Beach, FL

• CBSA 19780: Des Moines-West Des Moines, IA

• CBSA 47644: Warren-Troy-Farmington Hills, MI

• CBSA 31140: Louisville-Jefferson County, KY-IN

iii. Micropolitan Areas

Under OMB's new CBSA-based designations, Micropolitan Areas are essentially a third area definition consisting primarily of currently rural areas, but also include some or all of areas that are currently designated as an urban MSA. As discussed in greater detail in the FY 2005 IPPS final rule (69 FR 49029 through 49032), how these areas are treated will have significant impacts on the calculation and application of the wage index. Specifically, whether or not Micropolitan Areas are included as part of the respective statewide rural wage indices will impact the value of statewide rural wage index of any State that contains a Micropolitan Area because a hospital's classification as urban or rural affects which hospitals' wage data are included in the statewide rural wage index. We combine all of the counties in a State outside a designated urban area together to calculate the statewide rural wage index for each State.

Including Micropolitan Areas as part of the statewide rural labor market area would result in an increase to the statewide rural wage index because hospitals located in those Micropolitan Areas typically have higher labor costs than other rural hospitals in the State. Alternatively, if Micropolitan Areas were to be recognized as independent labor market areas, because there would be so few hospitals in each labor market area, the wage indices for IPFs in those areas could become relatively unstable as they might change considerably from year to year.

We currently use MSAs to define urban labor market areas and group all the hospitals in counties within each State that are not assigned to an MSA together into a statewide rural labor market area. We have used the terms “urban” and “rural” wage indexes in the past for ease of reference. However, the introduction of Micropolitan Areas by the OMB potentially complicates this terminology because these areas include many hospitals that are currently included in the statewide rural labor market areas.

We proposed to treat Micropolitan Areas as rural labor market areas under the IPF PPS for the reasons outlined below. That is, counties that are assigned to a Micropolitan Area under the CBSA-based designations would be treated the same as other “rural” counties that are not assigned to either an MSA (Metropolitan Statistical Area) or a Micropolitan Area. Therefore, in determining an IPF's applicable wage index (based on IPPS hospital wage index data), an IPF in a Micropolitan Area under OMB's CBSA-based designations would be classified as “rural” and would be assigned the statewide rural wage index for the State in which it resides.

In the FY 2005 IPPS final rule (69 FR 49029 through 49032), we discuss our evaluation of the impact of treating Micropolitan Areas as part of the statewide rural labor market area instead of treating Micropolitan Areas as independent labor market areas for hospitals paid under the IPPS. As discussed in that same final rule, one of the reasons Micropolitan Areas have such a dramatic impact on the wage index is because Micropolitan Areas encompass smaller populations than MSAs. In addition, they tend to include fewer hospitals per Micropolitan Area. Currently, there are only 25 MSAs with one hospital in the MSA. However, under the new CBSA-based definitions, there are 373 Micropolitan Areas with one hospital, and 49 MSAs with only one hospital.

Since Micropolitan Areas encompass smaller populations than MSAs, they tend to include fewer hospitals per Micropolitan Area, recognizing Micropolitan Areas as independent labor market areas will generally increase the potential for dramatic shifts in those areas' wage indices from 1 year to the next because a single hospital (or group of hospitals) could have a disproportionate effect on the wage index of the area. The large number of labor market areas with only one hospital and the increased potential for dramatic shifts in the wage indexes from 1 year to the next is a problem for several reasons. First, it creates instability in the wage index from year to year for a large number of hospitals. Second, it reduces the averaging effect (averaging effect allows for more data points to be used to calculate a representative standard of measured labor costs within a market area.) lessening some of the incentive for hospitals to operate efficiently. This incentive is inherent in a system based on the average hourly wages for a large number of hospitals, as hospitals could profit more by operating below that average. In labor market areas with a single hospital, high wage costs are passed directly into the wage index with no counterbalancing averaging with lower wages paid at nearby competing hospitals. Third, it creates an arguably inequitable system when so many hospitals have wage indexes based solely on their own wages, while other hospitals' wage indexes are based on an average hourly wage across many hospitals.

For the reasons noted above, and consistent with the treatment of these areas under the IPPS, as proposed and consist with this final rule, we are not adopting Micropolitan Areas as independent labor market areas under the IPF PPS. Under the CBSA-based labor market area definitions, Micropolitan Areas are considered a part of the statewide rural labor market area. Accordingly, we will determine an IPF PPS statewide rural wage index using the acute-care IPPS hospital wage data from hospitals located in non-MSA areas (for example, rural areas, including Micropolitan Areas) and that statewide rural wage index will be assigned to IPFs located in those non-MSA areas.

e. Implementation of the Revised Labor Market Areas Under the IPF PPS

Section 124 of the BBRA is broadly written and gives the Secretary discretion in developing and making adjustments to the IPF PPS.

When the revised labor market areas based on the OMB's new CBSA-based designations were adopted under the acute care hospital IPPS beginning on October 1, 2004, a transition to the new labor market area designations was established due to the scope and substantial implications of these new boundaries and to buffer the subsequent significant impacts it may have on payments to numerous hospitals. As discussed in the FY 2005 IPPS final rule (69 FR 49032), during FY 2005, a blend of wage indexes is calculated for those acute care IPPS hospitals experiencing a drop in their wage indexes because of the adoption of the new labor market areas.

While we recognize that, just like IPPS hospitals, some IPFs may experience decreases in their wage index as a result of the labor market area changes, our analysis shows that a majority of IPFs either expect no change in wage index or an increase in wage index based on CBSA definitions. In addition, a very small number of IPFs (fewer than 3 percent) will experience a decline of 5 percent or more in the wage index based on CBSA designations. We also found that a very small number of IPFs (approximately 5 percent) will experience a change in either rural or urban designation under the CBSA-based definitions. Since a majority of IPFs will not be significantly impacted by the labor market areas, we believe it is not necessary for a transition to the new CBSA-based labor market area for the purposes of the IPF PPS wage index.

We received several comments on our proposed changes for implementing the area wage adjustments. Public comments and our responses on the proposed changes for implementing the area wage adjustments are summarized below:

Comment: Several commenters requested that CMS provide a transition period to phase in the CBSA-based labor market definitions. One commenter requested that IPFs should be allowed to choose whether or not they wanted a phase-in of the CBSA wage indices.

Response: For cost reporting periods beginning in 2006, IPFs are paid based on a blend of 50 percent reasonable cost payments and 50 percent PPS payments. The wage index adjustment is being phased in on the PPS portion of the payment. Since we are already in the middle of a transition to a full wage-index adjustment under the IPF PPS, we believe that the effects on the IPF PPS wage index from the changes to the IPF PPS labor market areas definitions will be mitigated. Specifically, most IPFs will be in their FY 2006 cost reporting period and therefore will be in the second year of the 3-year phase-in of the IPF PPS wage index adjustment when the revised labor market area designations will be applied. During the second year of the transition to the IPF PPS, the applicable wage index value is one-half (50 percent) of the applicable full IPF PPS wage index adjustment. Since most IPFs will be in the second year of the 3-year phase-in of the wage index adjustment, for most IPFs, the labor-related portion of the Federal rate is only adjusted by 50 percent of the applicable full wage index (that is, one-half wage index value). As noted above, the IPF PPS wage index adjustment is made by multiplying the labor-related share of the IPF PPS Federal per diem base rate (75.66 percent) by the applicable wage index value.

Consequently, for most IPFs, only approximately 38 percent of the Federal per diem base rate is affected by the wage index adjustment (75.665 percent × 0.50 = 37.8325 percent), and the revision to the labor market area definitions based on OMB's new CBSA-based designations will only have a minimal impact on IPF PPS payments.

For the reasons discussed above, and also addressed in the RY 2007 proposed rule (71 FR 3633), we are not providing a transition under the IPF PPS from the current MSA-based labor market areas designations to the new CBSA-based labor market area designations. Rather, we are adopting the current CBSA-based labor market area definitions beginning July 1, 2006 without a transition period.

Comment: Several commenters do not believe that because the IPF PPS is in the second year of the transition blend, the effects of the wage index changes would be mitigated. The commenters stated that similar wage transitions have been applied in HHA and IRF, and therefore inconsistencies exist between payment systems.

Response: We do not believe a need exists to implement a separate transition for the wage index changes. We acknowledge that similar wage transitions exist in other PPSs. However, unlike the IPF PPS, in those instances, the payment systems were not already in a transition period (as described above).

Comment: Several commenters agreed with CMS's approach to wait 1 full year until IPF PPS claims and cost report data could be analyzed before changing the wage index definitions. Other commenters indicated that if CMS were to implement this change now, it would be inconsistent with the approach to wait a year before analyzing IPF PPS data.

The same commenters expressed concern that if CMS changes urban and rural classifications without any recourse (such as the Medicare Geographic Classification Review Board (MGCRB)) when CMS analyzes the PPS data and compares urban and rural IPFs, rural IPF data under MSA definitions would not be comparable to rural IPF data under CBSA definitions.

Response: In the November 2004 IPF PPS rule, we stated that we would use the best available hospital wage index data, and that we would propose any changes to the wage index in a proposed rule. We note that all of the other PPSs have adopted, or begun to adopt, the CBSA definitions. Consistent with other Medicare PPSs, and in order to utilize the best available data, as we indicated we would do, the IPF PPS will adopt the CBSA definitions. We want to ensure that the IPF PPS wage index adjustment most appropriately accounts for and reflects the relative hospital wage levels in the geographic area of the hospital as compared to the national average hospital wage level, and we believe that OMB's CBSA designations based on Census 2000 data reflect the most recent available geographic classifications.

With respect to the last comment, the meaning is not completely clear. If the commenters are concerned that changes to the area wage definitions will limit our ability to analyze the impact of the IPF PPS, CMS does not believe this is an issue. When we analyze the first year of IPF PPS claims and cost report data, the urban and rural designations will be under MSA definitions. We are now adopting the latest OMB definitions of urban and rural under CBSAs and we will view rural IPFs under these definitions. Finally, we want to note that, since the IPF PPS Provider Specific File is cumulative, CMS will have a record of which IPFs changed designations.

Comment: One commenter expressed support for the proposed change to the CBSA-based labor market definitions. The commenter believes that the CBSAs provide an accurate measure of the labor market areas in the United States.

Response: We agree with the commenter that the CBSAs represent the best available wage data.

Comment: The IPPS adopted a hold-harmless policy and an “out-commuting adjustment.” Several commenters believe that since the majority of IPFs are distinct part units, there is an inconsistency when the acute care hospitals are paid the out-commuting or out-migration adjustment and the IPFs are not paid the adjustment. The commenters stated that CMS should assume that IPF employees follow the same commuting patterns as those who work in the acute care hospital.

In addition, the commenters indicated that distinct part units would be at a disadvantage in recruiting and retaining workers for the IPF unless CMS adopted an out-commuting or out-migration adjustment.

Response: We are not providing a hold harmless policy or an “out-commuting” adjustment under the IPF PPS from the current MSA-based labor market areas designations to the new CBSA-based labor market area designations. Nor do we believe that we are required to provide an out-commuting adjustment. We note that section 505 of the MMA established new section 1886(d)(13) of the Act. Section 1886(d)(13) of the Act requires that the Secretary establish a process to make adjustments to the hospital wage index based on commuting patterns of hospital employees. We believe that this requirement for an “out-commuting” or “out-migration” adjustment applies specifically to the IPPS and not to other PPS. Therefore, consistent with other PPS (for example, IRF and LTCH PPS), we did not propose out-commuting or out-migration adjustment under the IPF PPS, nor are we establishing such an adjustment under the IPF PPS in this final rule.

We believe that our decisions not to adopt a transition or an out-commuting adjustment are appropriate for IPFs because, despite some similarities between the IPF PPS and the IPPS, there are clear distinctions between the payment systems, particularly regarding wage index issues.

For example, a wage index adjustment has been a stable feature of the acute care hospital IPPS since its 1983 implementation and the IPPS had utilized the prior MSA-based labor market area designation for over 10 years. The IPF PPS has only been implemented since January 1, 2005.

The most significant distinction between acute care hospitals under the IPPS and IPFs is that acute care hospitals have been paid using full wage index adjusted payments since 1983 and had used the previous IPPS MSA-based labor market area designations for over 10 years, whereas under the IPF PPS, a wage index adjustment is being phased-in over a 3-year period. As previously explained, the impact that the wage index can have on IPF PPS payments is limited at this point, since only a small percentage of the IPF PPS Federal per diem base rate is affected by the wage index (approximately 38 percent in most cases) because of the 3-year phase-in of the wage index adjustment.

In contrast, a transition policy to the revised IPPS labor market area definitions under the IPPS was appropriate because there is no phase-in of a wage index adjustment under the IPPS and the full labor-related share of the IPPS standardized amount (that is, Federal rate) is affected by the IPPS wage index adjustment, which resulted in a more significant projected impact for acute care hospitals under the IPPS.

Comment: Several commenters indicated that IPFs that are distinct part units should be allowed to be reclassified to the same geographic area as the acute care hospital. The commenters also stated that wage issues between acute care hospitals and IPFs are similar, and that it is not logical for IPFs that are distinct part units to receive a different area wage index value than the acute care hospital. Commenters requested that CMS implement a rural floor like that of IPPS.

Response: As stated above, the IPF PPS wage index is calculated using IPPS wage index data on the basis of the labor market area in which the IPF is located, without taking into account geographic reclassification under sections 1886(d)(8) and (d)(10) of the Act and without applying the “rural floor” established under section 4410 of the BBA. We believe that the actual location of an IPF (as opposed to the location of affiliated providers) is most appropriate for determining the wage adjustment because the prevailing wages in the area in which the IPF is located influence the cost of a case. In addition, we are using the latest OMB labor market area definitions based on 2000 Census data. Since these data are more recent than the data used for the wage index in the IPF PPS implementation year (2000 versus 1993 data), we do not see a need for a reclassification policy. Finally, as discussed above, by recognizing the Metropolitan Divisions where applicable under the new CBSA-based labor market area definitions under the IPF PPS, we believe that the local labor costs will be more accurately reflected, thereby resulting in a wage index adjustment that better reflects the variation in the local labor costs of the local economies of the IPFs located in these relatively “smaller” areas when compared with CMSAs.

Although some commenters request CMS to develop a “rural floor” like the IPPS, we believe the “rural floor” is required only for the acute care hospital payment system because, as stated in section VI.B.2, section 4410 of the Balanced Budget Act of 1997 (Pub. L. 105-33) applies specifically to acute care hospitals and not excluded hospitals and excluded units. We believe that the “pre-reclassification and pre-floor” wage data is the best proxy and most appropriate wage index for IPFs.

Comment: Many commenters expressed concern regarding those IPFs who would lose the rural adjustment if they are redefined as urban under the CBSA-based labor market definitions. Specifically, the commenters stated that IPFs' reimbursement would decrease over the next several years due to the wage index changes. The commenters also indicated that the loss of the rural adjustment would increase the financial vulnerability of IPFs that are necessary to provide continued access to care in previously rural areas. As a result, the commenters requested that CMS provide a grandfathering provision to allow IPFs to continue to receive the rural adjustment or a hold harmless provision that would prevent payments from dropping below what the IPF would have received had they remained designated as a rural IPF.

Response: We are finalizing our proposal to transition IPFs to CBSA-based labor market definitions. We recognize that IPFs that were previously considered rural will lose the 17 percent rural facility-level adjustment when they are redesignated as urban. However, as discussed above, since we are currently in the middle of a transition period from reasonable-cost based payments to PPS payments, the effects of changing to CBSA-based definitions are mitigated, since currently the wage index affects approximately 38 percent of an IPF's payment, and the rural adjustment affects 50 percent of an IPF's payment.

In addition, the IPF PPS has a stop-loss policy in place to protect IPFs that receive less than 70 percent of what they would have received under TEFRA. In general, the group of providers that stands to lose the rural adjustment did well under TERFA, and the purpose of the transition from TERFA to PPS is to allow IPFs to control and reduce their costs.

As discussed in the August 11, 2004 IPPS final rule (69 FR 49032), during FY 2005, a hold harmless policy was implemented to minimize the overall impact of hospitals that were designated in FY 2004 as urban under the MSA designations, but would become rural under the CBSA designations. In the same final rule, hospitals were afforded a 3-year hold harmless policy because the IPPS determined that acute-care hospitals that changed designations from urban to rural would be substantially impacted by the significant change in wage index. Currently, under the IPF PPS, urban facilities that become rural would receive the rural facility adjustment (that is, 17 percent). As discussed in section VI.C.2 of this final rule, we are adopting the 17 percent rural adjustment. The rural facility adjustment will be applied in the same way to urban facilities that will become rural under the CBSA-based definitions. Thus, we believe that the impact of the wage index changes on any urban facilities that become rural under the new definitions will be mitigated by the rural adjustment. Finally, as discussed above, the IPF PPS has a stop-loss policy in effect during the transition from TEFRA to PPS payments. Therefore, we do not believe it is appropriate or necessary to adopt a hold harmless policy for facilities that would experience a change in designation under the CBSA-based definitions.

We note that for the CBSA designations, we identified some geographic areas where there were no hospitals, and thus no hospital wage index data on which to base the calculation of the RY 2007 IPF PPS wage index. In addressing this situation, we proposed approaches that we believe would serve as proxies for hospital wage data and provide an appropriate standard that accounts for geographic variation in labor costs.

The first situation involves rural locations in Massachusetts and Puerto Rico. We have determined that there are no rural hospitals in those locations. Since there is no reasonable proxy for more recent rural data within those areas, we are using last year's wage index value for rural Massachusetts and rural Puerto Rico. This approach is consistent with other Medicare PPSs (for example, SNF PPS and IRF PPS).

The second situation has to do with the urban area of Hinesville, GA (CBSA 25980). Under the new labor market areas there are no urban hospitals within this area. Therefore, we are using the urban areas within the State to serve as a reasonable proxy for the urban areas without specific hospital wage index data in determining the IPF PPS wage index. In this final rule, we are calculating the urban wage index value for purposes of the wage index for these areas without urban hospital data as the average wage index for all urban areas within the State. This approach is consistent with other Medicare PPSs (for example, SNF PPS and IRF PPS).

We could not apply a similar averaging in rural areas because in the rural areas there are no State rural hospital wage data available for averaging on a State-wide basis. We did not receive comments on these approaches for calculating the wage index values for areas without hospitals for RY 2007 and subsequent years. We are adopting the proposed approach in this final rule.

To facilitate an understanding of the policies related to the changes to the IPF PPS labor market areas discussed above, in the MSA/CBSA Crosswalk included as Addendum B of this final rule, we are providing a listing of each Social Security Administration (SSA) State and county location code; State and county name; existing MSA-based labor market area designation; MSA-based wage index value; CBSA-based labor market area; and the new CBSA-based wage index value. We are also providing in Addenda C the wage index for urban and rural areas based on CBSA labor market areas.

Final Rule Action: In summary, we are finalizing our proposal to adopt the CBSA labor market area definitions without a transition, without a hold-harmless policy, and without an out-commuting or out-migration adjustment.

f. Wage Index Budget Neutrality

Any adjustment or update to the IPF wage index will be made in a budget neutral manner that assures that the estimated aggregated payments under this subsection in the RY beginning July 1, 2006 are not greater or less than those that would have been made in the year without such an adjustment. Therefore, as proposed and in this final rule, we calculate a budget-neutral wage index adjustment factor using the following steps:

Steps 1: Determine the total amount of the estimated IPF PPS payments for the implementation year using the labor-related share and wage indices from FY 2005 (based on MSAs).

Step 2: Calculate the total amount of estimated IPF PPS payments for RY 2007 using the labor-related share and wage indices from FY 2006 (based on CBSAs).

Step 3: Divide the amount calculated in Step 1 by the amount calculated in Step 2 which yields a RY 2007 budget-neutral wage adjustment of 1.0042.

This factor is applied in the update of the Federal per diem base rate for RY 2007.

2. Adjustment for Rural Location

In the November 2004 IPF PPS final rule, we provided a 17 percent payment adjustment for IPFs located in a rural area. This adjustment was based on the regression analysis which indicated that the per diem cost of rural facilities was 17 percent higher than that of urban facilities after accounting for the influence of the other variables included in the regression. Many rural IPFs are small psychiatric units within small general acute care hospitals. We also stated in the November 2004 IPF PPS final rule that small-scale facilities are more costly on a per diem basis because there are minimum levels of fixed costs that cannot be avoided, and they do not have the economies of size advantage.

Based on the results of our regression analysis, we provided a payment adjustment for IPFs located in rural areas of 17 percent. In this final rule, we are not changing this adjustment factor. In addition, we stated in the November 2004 IPF PPS final rule that we do not plan to conduct another regression analysis until we analyze IPF PPS data. At that time, we can compare rural and urban IPFs to determine how much more costly rural facilities are on a per diem basis under the IPF PPS. In the meantime, we are applying a 17 percent payment adjustment for IPFs located in a rural area as defined at § 412.64(b)(1)(ii)(C).

Final Rule Action: In summary, we are adopting the 17 percent rural adjustment currently in effect for RY 2007.

3. Teaching Adjustment

In the November 2004 IPF PPS final rule, we established a facility-level adjustment for IPFs that are, or are part of, teaching institutions. The teaching status adjustment accounts for the higher indirect operating costs experienced by facilities that participate in graduate medical education (GME) programs. We have received numerous requests for clarification of the IPF PPS teaching adjustment, especially with regard to comparisons with the IPPS IME adjustment that were included in the November 2004 IPF PPS final rule. As a result, we are including an expanded explanation of the IPF PPS teaching status adjustment and are clarifying the changes to § 412.424(d)(1)(iii) regarding the teaching adjustment.

Medicare makes direct GME payments (for direct costs such as resident and teaching physician salaries, and other direct teaching costs) to all teaching hospitals including those paid under the IPPS, and those that were once paid under the TEFRA rate-of-increase limits but are now paid under other PPSs. These direct GME payments are made separately from payments for hospital operating costs and are not part of the PPSs. However, the direct GME payments do not address the higher indirect operating costs experienced by teaching hospitals. For teaching hospitals paid under the TEFRA rate-of-increase limits, Medicare did not make separate medical education payments because payments to these hospitals were based on the hospitals' reasonable costs. Since payments under TEFRA were based on hospitals' reasonable costs, the higher indirect costs that might be associated with teaching programs would automatically have been factored into the TEFRA payments.

As previously mentioned, we conducted regression analysis of FY 2002 IPF data as the basis for the payment adjustments included in the November 2004 IPF PPS final rule. In conducting the analysis, we used the resident counts reported on hospital cost reports (worksheet S-3, Part 1, line 12, column 7 for freestanding psychiatric hospitals and worksheet S-3, Part 1, line 14 (or line 14.01 for subprovider 2), column 7 for psychiatric units of acute care hospitals). That is, for the freestanding psychiatric hospitals, we used the number of residents and interns reported for the entire hospital. For the psychiatric units of acute care hospitals, we used the number of residents and interns reported for the psychiatric unit, which are reported separately on the cost report from the number reported for the rest of the hospital.

The regression analysis (with the logarithm of costs as the dependent variable) showed that the indirect teaching cost variable is significant in explaining the higher costs of IPFs that have teaching programs. We calculated the teaching adjustment based on the IPF's “teaching variable,” which is one plus the ratio of the number of full-time equivalent (FTE) residents training in the IPF (subject to limitations described below) to the IPF's average daily census (ADC).

In the cost regressions conducted for the November 2004 IPF PPS final rule, the logarithm of the teaching variable had a coefficient value of 0.5150. We converted this cost effect to a teaching payment adjustment by treating the regression coefficient as an exponent and raising the teaching variable to a power equal to the coefficient value. In other words, the teaching adjustment is calculated by raising the teaching variable (1 + FTE residents/ADC) to the 0.5150 power. To compute the percentage increase in the IPF PPS payment attributable to the teaching adjustment (that is, the amount to be reconciled at cost report settlement), raise the teaching variable (1 + FTE residents/ADC) to the 0.5150 power. For example, for an IPF with a teaching variable of 0.10 and using a coefficient value of 0.5150, the per diem payment would increase by 5.03 percent; for an IPF with a teaching variable of 0.05, the per diem payment would increase by 2.54 percent. We note that the coefficient value of 0.5150 was based on regression analysis holding all other components of the payment system constant.

In addition, we established the teaching adjustment in a manner that limited the incentives for IPFs to add FTE residents for the purpose of increasing their teaching adjustment. We imposed a cap on the number of FTE residents that may be counted for purposes of calculating the teaching adjustment, similar to that established by sections 4621 (IME FTE cap for IPPS hospitals) and 4623 (direct GME FTE cap for all hospitals) of the BBA. We emphasize that the cap limits the number of FTE residents that teaching IPFs may count for the purposes of calculating the IPF PPS teaching adjustment, not the number of residents teaching institutions can hire or train.

The FTE resident cap is applied the same way in freestanding teaching psychiatric hospitals and in distinct part psychiatric units with GME programs. Similar to the regulations for counting FTE residents under the IPPS as described in § 412.105(f), we calculated the number of FTE residents that trained in the IPF during a “base year” and use that FTE resident number as the cap. An IPF's FTE resident cap would ultimately be determined based on the final settlement of the IPF's most recent cost report filed before November 15, 2004 (that is, the publication date of the IPF PPS final rule).

Similar to teaching hospitals under the IPPS, IPFs that first begin training residents after November 15, 2004 initially receive an FTE cap of “0”. The FTE caps for teaching IPFs (whether they are new or existing IPFs) that start training residents in a new GME program may be subsequently adjusted in accordance with the IPPS policies described in § 412.105(f)(1)(vii) and GME policies described in § 413.79(e)(1)(i) and (ii). For purposes of the teaching status adjustment for IPFs, a new graduate medical education program means a medical education program that receives initial accreditation by the appropriate accrediting body or begins training residents on or after November 15, 2004. However, contrary to the policy for IME FTE resident caps under the IPPS, we do not allow IPFs to aggregate the FTE resident caps used to compute the IPF PPS teaching adjustment through affiliation agreements. We included these policies because we believe it is important to limit the total pool of resident FTE cap positions within the IPF community and avoid incentives for IPFs to add FTE residents in order to increase their payments.

Residents with less than full-time status and residents rotating through the psychiatric hospital or unit for less than the entire cost reporting period are counted in proportion to the time they spend in their assignment with the IPF. For example, a 3-month rotation by a full-time resident to the IPF during a 12-month cost reporting period will be counted as 0.25 FTE for purposes of counting residents to calculate the ratio. No FTE resident time counted for purposes of the IPPS IME adjustment is permitted to be counted for purposes of the teaching status adjustment for the IPF PPS.

As noted previously, the denominator used to calculate the teaching adjustment under the IPF PPS is the IPF's ADC from the current cost reporting period. We chose to use the ADC because it is closely related to the IPF's patient load, which affects the number of interns and residents the IPF can train. We also believe the ADC is a measure that can be defined precisely and is difficult to manipulate. Although the IPPS IME adjustment uses the hospital's number of beds as the denominator, the capital PPS (as specified at § 412.322) and the IRF PPS (as specified at § 412.624(e)(4) both use the ADC as the denominator for the indirect medical education and teaching adjustments, respectively.

If a psychiatric hospital's or unit's FTE count of residents in a given year is higher than the FTE count in the base year (the base year being used to establish the cap), we base payments in that year on the lower number (the cap amount). This approach is consistent with the IME adjustment under the IPPS and the teaching adjustment under the IRF PPS. The IPF remains free to add FTE residents above the cap amount, but it cannot count the number of FTE residents above the cap for purposes of calculating the teaching adjustment. This means that the cap serves as an upper limit on the number of FTE residents that may be counted for purposes of calculating the teaching status adjustment. IPFs can adjust their number of FTE residents counted for purposes of calculating the teaching adjustment as long as they remain under the cap. On the other hand, if a psychiatric hospital or unit were to have fewer FTE residents in a given year than in the base year (that is, fewer residents than its FTE resident cap), teaching adjustment payments in that year would be based on the lower number (that is, the current year's FTE count of resident).

In response to inquiries about how the teaching adjustment is applied under the IPF PPS, we proposed to add a new paragraph § 412.424(d)(1)(iii)(E) to clarify that the teaching adjustment is made on a claim basis as an interim payment and the final payment for the claim would be made in full during the final settlement of the cost report. The difference between those interim payments and the actual teaching adjustment amount computed in the cost report would be adjusted through lump sum payments/recoupments when the cost report is filed and later settled.

As noted in section VI.D.1.a of this final rule, in reviewing the methodology used to simulate the IPF PPS payments used for the November 2004 IPF PPS final rule, we discovered that the computer code incorrectly assigned non-teaching status to most teaching facilities. As a result, total IPF PPS payments were underestimated by about 1.36 percent. To resolve the issue, as discussed in section V.B.3 of this final rule, we are amending the Federal per diem base rate prospectively for all IPFs.

As with other adjustment factors derived through the regression analysis, we do not plan to rerun the regression analysis until we analyze IPF PPS data. Until then, as proposed, we are retaining the 0.5150 teaching adjustment to the Federal per diem base rate.

Public comments and our responses on the proposed changes for implementing the teaching adjustment are summarized below:

Comment: A commenter stated that the use of “final settled” cost reports may allow hospitals to report accurate counts during the audit process. However, the commenter indicated that if this is not correct, or if certain hospitals' 2004 cost reports have already gone through final settlement, CMS should take action to ensure that accurate resident counts for purposes of determining the IPF teaching adjustment resident cap.

The commenter indicated that for the regression analysis, CMS used the resident count reported on Worksheet S-3, Part 1, lines 14 and 14.01, column 7 for psychiatric units of acute care hospitals. The commenter expressed concern regarding the data used for the regression analysis due to the ambiguity of the cost reporting instructions. The commenter believes that this count may not accurately reflect the resident count in the hospital's psychiatric unit. Specifically, since the cost reporting instructions state that one should “enter the number of interns and full time equivalents in an approved program determined in accordance with 42 CFR 412.105(g) for the indirect medical education adjustment.” The commenter further stated that for cost reports before November 15, 2004, psychiatric unit resident counts were not eligible to be counted for purposes of the acute inpatient IME adjustment.

Response: As explained in the November 2004 IPF PPS final rule and the RY 2007 proposed rule, similar to the regulations for counting FTE residents under the IPPS as described in § 412.105(f), we calculate the number of FTE residents that trained in the IPF during a “base year” and use that FTE resident number as the cap. An IPF's FTE resident cap would ultimately be determined based on the final settlement of the IPF's most recent cost report filed before November 15, 2004.

Although we are concerned about the accuracy of the information reported in the cost report, including the number of FTE residents reported on Wkst. S-3, Part 1, Column 7, it is, foremost, the hospital's responsibility to report this data accurately. An official of the hospital certifies that the information on all the worksheets in the cost report is correct to the best of his or her knowledge and belief.

Although the instructions for Column 7 of Wkst. S-3, Part I contain an outdated reference to § 412.105(g) (that is, this reference was changed in the Code of Federal Regulations to § 412.105(f) in 1997 but the Wkst. S-3, Part I instructions were not updated accordingly), these instructions specify that the FTE resident count to be reported in Column 7 is determined in accordance with the policies for IME adjustment. We do not believe the redesignation of the relevant regulation should have caused confusion.

If the hospitals believe that the FTE resident counts on the base year cost report are incorrect, they have an option of submitting an amended cost report or requesting a reopening.

Comment: One commenter indicated a discrepancy between the reference to the regulation regarding the base period for determining the IPF's FTE resident in the RY 2007 IPF PPS proposed rule (71 FR 3653) and the reference to that regulation in the current Code of Federal Regulations (CFR). The commenter stated that the RY 2007 IPF PPS proposed rule cited § 412.424(d)(1)(iii)(C) as the relevant regulation, while the current CFR reference can be found at § 412.424(d)(1)(iii)(B)(1).

Response: The existing regulation at § 412.424(d)(1)(iii)(C) implements the FTE resident cap for purposes of the IPF teaching status adjustment. The FTE resident cap is established in the base period as specified in the November 2004 IPF PPS final rule (69 FR 66979), and codified in regulations at § 412.424(d)(1)(iii)(B)(1). The reference in the RY 2007 IPF PPS proposed rule (71 FR 3653) reflects the proposal to redesignate portions of the reference to the teaching status adjustment. In this final rule, we will finalize the reference (and all other changes as proposed) to the base period to be § 412.424(d)(1)(iii)(C) and will replace § 412.424(d)(1)(iii)(B)(1) currently in the CFR.

Comment: One commenter requested clarification about application of the FTE resident cap for those IPFs that begin training residents after November 15, 2004.

Response: As we indicated in the RY 2007 proposed rule, IPFs that did not train interns and residents during the time period of the IPF's most recent cost report filed before November 15, 2005 would receive an FTE cap of “zero”. As a result, we would not apply a teaching adjustment to claims submitted by the IPF. However, if the IPF (whether it is new or existing) begins training residents in a new medical residency training program after that date, the IPF will begin to receive the teaching adjustment under the IPF PPS in the next cost reporting period based on the FTE intern and resident count in accordance with the policies applicable under the IPPS.

In this case, the FTE resident cap would not be revised until the beginning of the fourth year of the new training program. The cap is set based on a review of the number of interns and residents in each of the first three program years. Before the completion of the third year of the new training program, the actual intern and resident count is reported on the cost report and used for the calculation of the teaching adjustment for the first three years of the new teaching program. After the third year of the new program, we revise the IPF's FTE resident cap to reflect the new training program. The revised cap is calculated by multiplying the highest number of interns and residents in any program year by the number of years in which residents are expected to complete the program.

For subsequent years, we compare the actual number of interns and residents trained in the IPF that year to the revised FTE resident cap and base the teaching adjustment on the lower number.

Final Rule Action: In summary, we are retaining the coefficient value of 0.5150 for the teaching adjustment. In § 412.402, we are providing a definition for “new graduate medical education program” to mean a medical education program that receives initial accreditation by the appropriate accrediting body or begins training residents on or after November 15, 2004.

We are also clarifying at § 412.424(d)(1)(iii)(E) that the teaching adjustment is made on a claim basis as an interim payment, and the final payment in full for the claim is made during the final settlement of the cost report.

4. Cost of Living Adjustment for IPFs Located in Alaska and Hawaii

The IPF PPS includes a payment adjustment for IPFs located in Alaska and Hawaii based upon the county in which the IPF is located. As we explained in the November 2004 IPF PPS final rule, the FY 2002 data demonstrated that IPFs in Alaska and Hawaii had per diem costs that were disproportionately higher than other IPFs. Other Medicare PPSs (for example, IPPS and IRF PPS) have adopted a cost of living adjustment (COLA) to account for the cost differential of care furnished in Alaska and Hawaii. We analyzed the effect of applying a COLA to payments for IPFs located in Alaska and Hawaii. The results of our analysis demonstrated that a COLA for IPFs located in Alaska and Hawaii would improve payment equity for these facilities. As a result of this analysis, we provided a COLA adjustment in the November 2004 IPF PPS final rule. We are also adopting the same COLA adjustment in this final rule.

In general, the COLA accounts for the higher costs in the IPF and eliminates the projected loss that IPFs in Alaska and Hawaii would experience absent the COLA. A COLA factor for IPFs located in Alaska and Hawaii is made by multiplying the non-labor share of the Federal per diem base rate by the applicable COLA factor based on the county in which the IPF is located.

Table 15 below lists the specific COLA for Alaska and Hawaii IPFs. The COLA factors were obtained from the U.S. Office of Personnel Management (OPM). The COLA factors are published on the U.S. Office of Personnel Management (OPM) Web site (http://www.opm.gov/oca/cola/rates.asp). As proposed and in this final rule, we are adopting the COLA adjustments obtained from OPM. We will update the COLA factors if OPM updates them and as updated by OPM. Any change in the COLA factors will be made in one of our IPF PPS RY update documents. We are also amending § 412.428 to enable us to update the COLA factors if appropriate.

Table 15.—Proposed COLA Factors for Alaska and Hawaii IPFs
| Location | COLA
Alaska | All areas | 1.25
Hawaii | Honolulu County | 1.25
| Hawaii County | 1.165
| Kauai County | 1.2325
| Maui County | 1.2375
| Kalawao County | 1.2375

Final Rule Action: In summary, we did not receive any public comments on the proposed COLA for IPFs located in Alaska and Hawaii. We are adopting the COLA adjustments obtained from OPM currently in effect, and as shown in Table 15 above. We will update the COLA factors as updated by OPM. In addition, we are amending § 412.428 to enable us to update the COLA factors, if appropriate.

5. Adjustment for IPFs With a Qualifying Emergency Department (ED)

Currently, the IPF PPS includes a facility-level adjustment for IPFs with qualifying EDs. As explained in the November 2004 IPF PPS final rule, we provide an adjustment to the standardized Federal per diem base rate to account for the costs associated with maintaining a full-service ED. The adjustment is intended to account for ED costs allocated to the hospital's distinct part psychiatric unit for preadmission services otherwise payable under Medicare Part B furnished to a beneficiary during the day immediately preceding the date of admission to the IPF (see § 413.40(c)) and the overhead cost of maintaining the ED. This payment is a facility-level adjustment that applies to all IPF admissions (with the one exception as described below), regardless of whether a particular patient receives preadmission services in the hospital's ED.

The ED adjustment is incorporated into the variable per diem adjustment for the first day of each stay for IPFs with a qualifying ED. That is, IPFs with a qualifying ED receive a 31 percent adjustment as the variable per diem adjustment for day 1 of each stay. If an IPF does not have a qualifying ED, it receives a 19 percent adjustment as the variable per diem adjustment for day 1 of each patient stay.

While any IPF with a qualifying ED receives the adjustment, the adjustment is paid most often to IPFs that are psychiatric units of acute care hospitals or critical access hospitals because these providers are more likely to have an ED that meets the definition of a qualified ED in § 412.424(d)(1)(v). We defined a qualifying ED in order to avoid providing the ED adjustment to an intake unit that is not comparable to a full-service ED with respect to the array of emergency services available or cost. We defined a qualifying ED as one that is staffed and equipped to furnish a comprehensive array of emergency services and that meets the definition of a “dedicated emergency department” as specified in § 489.24(b) and the definition of “provider-based status” as specified in § 413.65. We intended that a qualifying ED provide a comprehensive array of medical and psychiatric services. In order to clarify that a comprehensive array of emergency services includes medical as well as psychiatric services, we proposed to amend § 412.424(d)(1)(v)(A).

As specified in § 489.24, a dedicated ED means “any department or facility of the hospital, regardless of whether it is located on or off the main hospital campus, that meets at least one of the following requirements:

• It is licensed by the State in which it is located under applicable State law as an emergency room or emergency department;

• It is held out to the public (by name, posted signs, advertising, or other means) as a place that provides care for emergency medical conditions on an urgent basis without requiring a previously scheduled appointment; or

• During the calendar year immediately preceding the calendar year in which a determination under this section is being made, based on a representative sample of patient visits that occurred during the calendar year, it provides at least one-third of all its outpatient visits for the treatment of emergency medical conditions on an urgent basis without requiring a previously scheduled appointment.”

As specified in § 413.65, provider-based status means “the relationship between a main provider and a provider-based entity or a department of a provider, remote location of a hospital, or satellite facility that complies with the provisions.” Including provider-based status in the definition of a qualifying ED reflects the common ownership of the hospital and the distinct part psychiatric unit.

As discussed in the November 2004 IPF PPS final rule, three steps were involved in the calculation of the ED adjustment factor.

Step 1: We estimated the proportion by which the ED costs of a case would increase the cost of the first day of the stay. Using the IPFs with ED admissions in FY 2002, we divided their average ED cost per stay admitted through the ED ($198) by their average cost per day ($715), which equals 0.28.

Step 2: We adjusted the factor estimated in step 1 to account for the fact that we would pay the higher first day adjustment for all cases in the qualifying IPFs, not just the cases admitted through the ED. Since on average, 44 percent of the cases in IPFs with ED admissions are admitted through the ED, we multiplied 0.28 by 0.44, which equals 0.12.

Step 3: We added the adjusted factor calculated in the previous 2 steps to the variable per diem adjustment derived from the regression equation that we used to derive our other payment adjustment factors. The first day payment factor from this regression is 1.19. Adding the 0.12, we obtained a first day variable per diem adjustment for IPFs with a qualifying ED equal to 1.31.

The ED adjustment is made on every qualifying claim except as described below. As specified in § 412.424(d)(1)(v)(B), the ED adjustment is not made where a patient is discharged from an acute care hospital or CAH and admitted to the same hospital's or CAH's psychiatric unit. An ED adjustment is not made in this case because the costs associated with ED services are reflected in the DRG payment to the acute care hospital or through the reasonable cost payment made to the CAH. As we explained in the November 2004 IPF PPS final rule, if we provided the ED adjustment in these cases, the hospital would be paid twice for the overhead costs of the ED (69 FR 66960).

Therefore, when patients are discharged from an acute care hospital or CAH and admitted to the same hospital's or CAH's psychiatric unit, the IPF receives the 1.19 adjustment factor as the variable per diem adjustment for the first day of the patient's stay in the IPF. We do not intend to conduct a new regression analysis for this IPF PPS update. Rather, we plan to wait until we analyze IPF PPS data. Therefore, we are retaining the 1.31 adjustment factor for IPFs with qualifying EDs for the RY beginning July 1, 2006.

As we indicated in the November 2004 IPF PPS final rule, in FY 2002, one third of the IPFs admissions were through the ED. In the November 2003 IPF proposed rule (68 FR 66920) the percentage of admissions through the ED were understated. We plan to monitor claims data to determine the number of IPF admissions admitted through the ED.

Public comments and our responses on the proposed adjustment for IPFs with qualifying EDs are summarized below:

Comment: A few commenters questioned whether IPFs would have to reapply for the ED adjustment annually. Specifically, commenters asked whether it is necessary to re-submit verification of a qualifying ED each year.

Other commenters asked for clarification as to whether the ED adjustment can still be applied based on the date the attestation letter is received or would the IPFs lose the adjustment for the entire cost reporting year.

Response: We indicated in instructions ( Transmittal 384, CR 3541 dated December 1, 2004 and Transmittal 444, CR 3678 dated January 21, 2005) that IPFs should notify their FIs 30 days before the beginning of their cost reporting period regarding if they have a qualifying ED. FIs have the discretion as to how they wish to be notified and as to the type of documentation they require. Once the FI is satisfied that the IPF has a qualifying ED, the FI should enter the information in the provider-specific file within a reasonable timeframe so that the IPF can begin to receive the ED adjustment. This is a one-time verification. Application of the ED adjustment is prospective.

FIs may also use the date the documentation was received from the IPF to implement the ED adjustment. The provider-specific file can be updated from the date of the attestation and claims processed from that date will receive the ED adjustment. We do not intend that IPFs would have to wait until the beginning of their next cost report period to receive the ED adjustment.

However, if an IPF no longer meets the definition of a qualified ED, the IPF must notify their FI. The FI would immediately remove the flag from the provider-specific file and the provider will not receive the ED adjustment. If the provider should once again meet the definition of a qualified ED, they should contact their FI immediately in order to update their file.

Comment: One commenter asked what criteria CMS would use to determine what constitutes a “comprehensive” array of medical as well as psychiatric services. In addition, the commenter asked if the criteria are appropriate and would ensure high-quality care for psychiatric patients.

Response: In most cases, the FI would be familiar enough with the providers they service to know if the hospital has a qualifying ED. In those rare cases where the FI does not know whether the hospital's ED meets our definition of a qualifying ED (for example, new IPFs), the FI will establish that the IPF's ED is staffed and equipped to furnish a comprehensive array of emergency services. In response to the comment, we are clarifying in § 412.424(d)(1)(v)(A) that a qualifying ED is staffed and equipped to furnish both medical as well as psychiatric emergency services.

Final Rule Action: We are retaining the 1.31 percent adjustment factor for IPFs with qualifying EDs for the RY 2007.

a. New Source of Admission Code to Implement the ED Adjustment

In order to ensure that the ED adjustment is not paid for patients who are discharged from an acute care hospital or CAH and admitted to the same hospital's or CAH's psychiatric unit, we directed IPFs to enter source of admission code “4” (transfers from hospital inpatient) on those claims. The source of admission code is a required field on Medicare claims and indicates the source of the patient admissions. However, as we implemented the IPF PPS, we realized that admission code “4” is too broad to distinguish these claims because it reflects transfers from any acute care hospital or CAH. Currently, where admission code “4” is entered on a claim, the ED adjustment is not paid, even if the patient is transferred from a different acute hospital or CAH.

In order to pay these IPF claims appropriately, CMS requested a new source of admission code from the National Uniform Billing Committee to identify transfers from the same hospital or CAH. On June 07, 2005, the National Uniform Billing Committee granted our request to establish a new source of admission code to indicate transfers from the same hospital or CAH. The new source of admission code “D” is effective April 1, 2006. As proposed and in this final rule, the new code will be used by IPFs to identify IPF patients who have been transferred to the IPF from the same hospital or CAH. Claims with source of admission code “D” will not receive the ED adjustment.

Public comments and our response on the proposed new source of admission code to implement the ED adjustment are summarized below:

Comment: Several commenters indicated that CMS should not penalize IPFs if they receive a transfer from the acute care medical-surgical units of the same hospital. A commenter stated that there may only be one hospital with a psychiatric emergency department in a particular area. The commenter believes that to penalize the transfers is unfair; each facility whether it is the ED, surgical unit, medical unit or psychiatric unit is doing their job and should be appropriately compensated.

Response: As stated in the November 2004 final rule and the RY 2007 proposed rule, in § 412.424(d)(1)(v)(B) we specify that the ED adjustment is not made when a patient is discharged from an acute care hospital or CAH and admitted to the same hospital's or CAH's psychiatric unit. The ED adjustment is not made in this case because the costs associated with the ED services are already reflected in the DRG payment paid to the acute care hospital or through the reasonable cost payment made to the CAH. As explained in the November 2004 IPF PPS final rule and in the RY 2007 proposed rule, if we provided the ED adjustment in these cases, the hospital would be paid twice for overhead costs of the ED (see 69 FR 66960 and 71 FR 3641 respectively).

We note that the ED adjustment is a facility-level adjustment, rather than a patient-level adjustment. This facility-level adjustment applies to psychiatric hospitals and acute care hospitals with distinct part units, and CAHs that maintain a qualifying ED. We are providing the adjustment to psychiatric units in acute care hospitals or CAHs, and psychiatric hospitals because the costs of the ED are allocated to all hospital departments, including the psychiatric units. Also, the adjustment is intended to account for ED costs allocated to the distinct part psychiatric unit for preadmission services otherwise payable under Medicare Part B furnished to a beneficiary during the day immediately preceding the date of admission to the IPF and the overhead cost of maintaining the ED.

In order to ensure that Medicare does not pay twice for these types of transfers, we proposed that admission code “D” be used by IPFs to identify IPF patients who have been transferred to the IPF from the same hospital or CAH. Claims with source of admission code “D” will not receive the ED adjustment.

Final Rule Action: We are finalizing our decision to adopt the new source of admission code “D”. Claims with source of admission code “D” will not receive the ED adjustment.

b. Applicability of the ED Adjustment to IPFs in Critical Access Hospitals

The BBA created the CAH program, designed to represent a separate provider type to provide acute care services in rural areas. Generally, in order to qualify as a CAH, a hospital must—

• Be located in a rural area;

• Provide 24-hour emergency care services;

• Have an average LOS of 96 hours or less;

• Operate up to 25 beds for inpatient critical access care;

• Be located more than 35 miles from a hospital or another CAH or more than 15 miles in mountainous terrain or only secondary roads;

• Or be certified by the State as of December 31, 2005 as being a “necessary provider” of health care services to residents in the area.

Section 405(g) of the MMA authorizes CAHs to establish distinct part psychiatric and rehabilitation units of up to 10 beds effective for cost reporting periods beginning on or after October 1, 2004. Services in these units are paid under the payment methodology that would apply if the services were provided in a distinct part psychiatric or rehabilitation unit of a hospital. As a result, IPFs that are distinct part units of CAHs are paid the same as if they were a distinct part unit of a hospital. Otherwise, the CAH is paid on a reasonable cost basis for inpatient critical access services.

In the November 2004 IPF PPS final rule, we amended § 413.70(e) to clarify that payments for services of distinct part psychiatric units in CAHs are made in accordance with the IPF PPS. In order to pay CAHs the same as other IPFs, CAHs would be subject to the 1-day preadmission services bundling provision specified in § 413.40(c)(2) for patients who are admitted to the CAH's IPF. As a result, the cost of preadmission services, including ED services furnished to CAH IPF patients would be allocated to the IPF.

D. Other Payment Adjustments and Policies

The IPF PPS includes the following payment adjustments: (1) An outlier policy to promote access to IPF care for those patients who require expensive care and to limit the financial risk of IPFs treating unusually costly patients; (2) a stop-loss provision, applicable during the transition period, to reduce financial risk to IPFs projected to experience substantial reductions in Medicare payments under the IPF PPS; (3) an interrupted stay policy to avoid overpaying stays that include a brief absence from the IPF followed by readmission to the IPF; and (4) a payment for patients who receive ECT. As proposed, we are updating those policies in this final rule. We are also making clarifications to the physician certification and recertification requirements in order to ensure consistent practices across IPFs. In addition, we are clarifying coverage of recreation therapy.

1. Outlier Payments

In the November 2004 IPF PPS final rule, we implemented regulations at § 412.424(d)(3)(i) to provide a payment adjustment for IPF stays that have extraordinarily high costs. Providing additional payments for outlier cases to IPFs that are beyond the IPF's control strongly improves the accuracy of the IPF PPS in determining resource costs at the patient and facility level because facilities receive additional compensation over and above the adjusted Federal prospective payment amount for uniquely high-cost cases. These additional payments reduce the financial losses that would otherwise be caused by treating patients who require more costly care and, therefore, reduce the incentives to under-serve these patients.

Under the IPF PPS, outlier payments are made on a per case basis rather than on a per diem basis because it is the overall financial “gain” or “loss” of the case, and not of individual days, that determines an IPF's financial risk. In addition, because patient-level charges (from which costs are estimated) are typically aggregated for the entire IPF stay, they are not reported in a manner that would permit accurate accounting on a daily basis.

Currently, we make outlier payments for discharges in which an IPF's estimated total cost for a case exceeds a fixed dollar loss threshold amount (multiplied by the IPF's facility-level adjustments) plus the Federal per diem payment amount for the case.

In instances when the case qualifies for an outlier payment, we pay 80 percent of the difference between the estimated cost for the case and the adjusted threshold amount for days 1 through 9 of the stay (consistent with the median length of stay for IPFs in FY 2002), and 60 percent of the difference for day 10 and thereafter. We established the 80 percent and 60 percent loss sharing ratios because we were concerned that a single ratio established at 80 percent (like other Medicare hospital PPSs) might provide an incentive under the IPF per diem payment system to increase length of stay in order to receive additional payments. After establishing the loss sharing ratios, we determined the current fixed dollar loss threshold amount of $5,700 through payment simulations designed to compute a dollar loss beyond which payments are estimated to meet the 2 percent outlier spending target.

a. Update to the Outlier Fixed Dollar Loss Threshold Amount

As indicated in section II.A. of this final rule, in accordance with the update methodology described in § 412.428(d), we are updating the fixed dollar loss threshold amount used under the IPF PPS outlier policy. Based on the regression analysis and payment simulations used to develop the IPF PPS, we established a 2 percent outlier policy to make an appropriate balance between protecting IPFs from extraordinarily costly cases while ensuring the adequacy of the Federal per diem base rate for all other cases that are not outlier cases.

We continue to believe a 2 percent outlier policy is an appropriate target percentage and proposed to retain the 2 percent outlier policy. However, we believe it is necessary to update the fixed dollar loss threshold amount because analysis of the latest available data and rate increases indicates adjusting the fixed dollar loss amount is necessary in order to maintain an outlier percentage that equals 2 percent of total estimated IPF PPS payments. We intend to continue to analyze estimated outlier payments for subsequent years using the best available data in order to maintain estimated outlier payments at 2 percent of total estimated IPF PPS payments.

We have determined that in certain sections of the November 2004 IPF PPS final rule, we used the phrase “Fixed-dollar loss threshold” and, in other sections, we used the phrase “Fixed-dollar loss amount” to describe the dollar amount by which the costs of a case exceed payment in order to qualify for an outlier payment. In order to avoid confusion regarding these phrases, we are using the term “fixed-dollar loss threshold amount” when we are referring to the dollar amount by which the costs of a case exceed payment in order to qualify for an outlier payment.

As a result of this clarification, in § 412.402, we are revising the term “Fixed dollar loss threshold” to “Fixed dollar loss threshold amount.” We are also making clarifying changes to § 412.424(d)(3)(i) and § 412.424(d)(3)(i)(A) to state that we will provide an outlier payment if an IPF's estimated total cost for a case exceeds a “fixed dollar loss threshold amount” plus the total IPF adjusted payment amount for the stay, and that it is the fixed dollar loss threshold amount that is adjusted by the IPF's facility-level adjustments.

Aside from updating the terminology “fixed dollar loss threshold amount” and making the conforming changes to the regulation text described above, we did not propose to make any other changes to the outlier policy. Therefore, we will continue to adjust the fixed dollar loss threshold amount by the applicable facility-level payment adjustments and add this amount to the IPF PPS payment amount in order to determine if a case qualifies for an outlier payment. For cases that meet the threshold amount, we will pay 80 percent for days 1 through 9 and 60 percent for day 10 and thereafter.

In the November 2004 IPF PPS final rule, we described the process by which we calculate the outlier fixed dollar loss threshold amount. We will continue to use this process in this final rule. We begin by simulating aggregate payments with and without an outlier policy, and applying an iterative process to a fixed dollar loss amount that will result in outlier payments being equal to 2 percent of total simulated payments under the simulation. Based on this process, we proposed a fixed dollar loss threshold amount of $6200 for RY 2007. In this final rule, we are finalizing this amount. For RY 2007, IPF PPS will use $6200 as the fixed dollar loss threshold amount in the outlier calculation in order to maintain the proposed 2 percent outlier policy.

We note that the simulation analysis used to calculate the $6200 fixed dollar loss threshold amount includes all of the changes to the IPF PPS discussed in this final rule.

Public comments and our responses to changes to the outlier fixed dollar loss threshold amount are summarized below.

Comment: Several commenters requested that CMS use FY 2005 claims data to ensure that the fixed dollar loss threshold amount is correctly set, and if that data are not available, the commenters recommended that CMS keep the threshold at its current level.

Other commenters suggested that since CMS is not making any other changes to the major adjustments, changes should not be made to adjust the fixed dollar loss threshold amount. They felt that an increase in the threshold is unnecessary and might lead to a financial burden on IPFs. One commenter asked how CMS could accurately determine that 2 percent is the best outlier percentage and that the threshold amounts are appropriate.

Response: A complete set of FY 2005 claims data will not be available until later in the year, therefore we will not be able to analyze this data in time for publication of this final rule. It is necessary to update the fixed dollar loss threshold amount because we are increasing the Federal per diem base rate and the ECT payment rate. We are using the best available data to compute the updated fixed dollar loss threshold amount in our payment simulations. As stated above, we believe 2 percent is the optimal outlier percentage because it strikes an appropriate balance between protecting IPFs from extraordinarily costly cases while ensuring the adequacy of the Federal per diem base rate for all other cases that are not outlier cases. In the future, as IPF PPS data becomes available, we can analyze the accuracy of the fixed dollar loss threshold amount.

Comment: Several commenters recommended that CMS provide a detailed description of the methodology used in calculating the fixed dollar loss threshold amount.

Response: We estimate the cost of each case and inflate these costs to RY 2007 dollars in our simulations. We used FY 2002 claims and cost report data to estimate the cost per stay. We calculated these costs by taking routine per diem costs from the cost report (for the routine costs) and by taking departmental charges and cost-to-charge ratios (for the ancillary costs). These are the costs we then inflated to RY 2007 dollars in our payment simulations. We then applied RY 2007 rates and policies in our payment simulations to compute the updated fixed dollar loss threshold amount.

Comment: Several commenters requested that CMS use the same methodology as IPPS to calculate the threshold.

Response: The cost-to-charge ratio applied to charges provides Medicare the most accurate measure of a provider's per-case cost for the purpose of paying for high-cost outlier cases at the point that we process the initial claim. The cost-to-charge ratio is based on the providers' own cost and charge information as reported by the providers. In this final rule, we have applied the cost-to-charge ratios to the reported charges to estimate the cost per case, and inflated the costs to current dollars. In the future, when more recent data is available, we will consider whether using the IPPS methodology of inflating the charges and applying the latest cost-to-charge ratios to estimate the cost per case is an even more accurate method of calculating the threshold amount.

Comment: One commenter suggested that CMS investigate the possibility and legality of carrying over any unused outlier money from year to year.

Response: We have responded to similar comments a number of times in the context of other PPS regulations, ((70 FR 24168), (70 FR 24196 through 24197), (57 FR 39784), (58 FR 46347), (59 FR 45408), (60 FR 45856), (61 FR 27496), (56 FR 43227), and (61 FR 46229 through 46230)). As we have explained before and as explained below, we do not make adjustments to PPS payment rates to account for differences between projected and actual outlier payments in a previous year.

We implemented the IPF PPS outlier policy at § 412.424(d)(3)(i). We set outlier criteria so that outlier payments are projected to equal 2 percent of estimated total IPF PPS payments. In doing so, we use the best available data at the time to make our estimates.

Outlier payments are “funded” through a prospective adjustment to the base rate. We do not set money aside into a discrete “pool” dedicated solely for outlier payments. Outlier payments are based on estimates. If outlier payments for a given year are greater than projected, we do not recoup money from IPFs; if outlier payments for a given year are lower than projected, we do not make an adjustment to account for the difference. If estimates turn out to be inaccurate, we believe the more appropriate action is to continue to examine the outlier policy and to try to refine the methodology for setting outlier thresholds. Thus, consistent with this approach, for this final rule we are finalizing our decision to update the outlier threshold amount to $6200 for RY 2007 to make estimated outlier payments equal to 2 percent of total estimated IRF PPS payments in RY 2007.

Final Rule Action: In this final rule, we are adopting $6200 as the fixed dollar loss threshold amount for RY 2007.

b. Statistical Accuracy of Cost-to-Charge Ratios

As stated previously, under the IPF PPS, an outlier payment is made if an IPF's cost for a stay exceeds a fixed dollar loss threshold amount. In order to establish an IPF's cost for a particular case, we multiply the IPF's reported charges on the discharge bill by their overall cost to charge ratio (CCR). This approach to determining a provider's cost is consistent with the approach used under the IPPS and other prospective payment systems. In FY 2004, we implemented changes to the IPPS outlier policy used to determine CCRs for acute care hospitals because we became aware that payment vulnerabilities resulted in inappropriate outlier payments. Under the IPPS, we established a statistical measure of accuracy for CCRs in order to ensure that aberrant CCR data did not result in inappropriate outlier payments. As we indicated in the November 2004 IPF PPS final rule, because we believe the IPF outlier policy is susceptible to the same payment vulnerabilities as the IPPS, we adopted an approach to ensure the statistical accuracy of CCRs under the IPF PPS. Therefore, we adopted the following in the November 2004 IPF PPS final rule:

• We calculated two national ceilings, one for IPFs located in rural areas and one for IPFs located in urban areas. We computed the ceilings by first calculating the national average and the standard deviation of the CCR for both urban and rural IPFs.

To determine the rural and urban ceilings, we multiplied each of the standard deviations by 3 and added the result to the appropriate national CCR average (either rural or urban). The upper threshold CCR for IPFs in RY 2007 is 1.7447 for rural IPFs, and 1.7179 for urban IPFs, based upon CBSA-based geographic designations. If an IPF's CCR is above the applicable ceiling, the ratio is considered statistically inaccurate and we assign the appropriate national (either rural or urban) median CCR to the IPF.

Additional information regarding the national median CCRs is included in the November 2004 IPF PPS final rule (69 FR 66961).

• We do not apply the applicable national median CCR when an IPF's CCR falls below a floor. We made this decision because using the national median CCR in place of the provider's actual CCR would overstate the IPF's costs. We are applying the national CCRs to the following situations:

++ New IPFs that have not yet submitted their first Medicare cost report.

++ IPFs whose operating or capital CCR is in excess of 3 standard deviations above the corresponding national geometric mean (that is, above the ceiling).

++ Other IPFs for whom the fiscal intermediary obtains inaccurate or incomplete data with which to calculate either an operating or capital CCR or both.

For new facilities, we are using these national ratios until the facility's actual CCR can be computed using the first tentatively settled or final settled cost report, which will then be used for the subsequent cost report period.

We are not making any changes to the procedures for ensuring the statistical accuracy of CCRs in RY 2007. However, we are updating the national urban and rural CCRs (ceilings and medians) for IPFs for RY 2007 based on the full CY 2005 CCRs entered in the provider-specific file. In addition, we are updating the ceilings and national median CCRs will be based on CBSA-based geographic designations because the CBSAs are the geographic designations we are adopting for purposes of computing the proposed wage index adjustment to IPF payments beginning July 1, 2006. The national CCRs for RY 2007 were estimated to be 0.7100 for rural IPFs and 0.5500 for urban IPFs and will be used in each of the three situations cited above. These estimates were based on the IPF's location (either urban or rural) using the CBSA-based geographic designations.

In this final rule, we are finalizing our decision to update the national urban and rural CCRs (median and ceilings) based on the previous full CYs' provider-specific file. These CCRs will be announced in each year's annual notice of prospective payment rates published in the Federal Register. We are adding a new paragraph (g) to § 412.428 to clarify that we intend to update the national urban and rural ceilings and medians as part of the annual update of the IPF PPS and to specify when the national median urban and rural CCRs will be used.

Comment: One commenter asked that a provision be added to the national median CCR policy that an exception to the computed CCR be allowed to be filed with the FI if using the national median CCR overstates the IPF's costs.

Response: CMS believes that the actual CCR reported on the cost report should be used to calculate outlier payments. In the vast majority of cases, the IPF's CCR will be updated within a year, when the next cost report is filed. An interim cost report can be filed for special cases, in which case the updated CCR can be used. However, allowing IPFs to continually submit cost and charge data could create a burden for Fiscal Intermediaries. Finally, if the IPF is dissatisfied with the amount of payment, they can invoke existing appeal rights.

2. Stop-Loss Provision

In the November 2004 IPF PPS final rule, we implemented a stop-loss policy to reduce financial risk for those facilities expected to experience substantial reductions in Medicare payments during the IPF PPS transition period. This stop-loss policy guarantees that each facility receives total IPF PPS payments that are no less than 70 percent of its TEFRA payments, had the IPF PPS not been implemented.

This policy is applied to the IPF PPS portion of Medicare payments during the 3-year transition. Hence, during year 1, when three-quarters of the payment were based on TEFRA and one-quarter on the IPF PPS; stop loss payments guarantee payments which are at least 70 percent of the TEFRA payments. The resulting 92.5 percent of TEFRA payments in year 1 is the sum of 75 percent and 25 percent times 70 percent.

In year 2, one-half of the payment will be based on TEFRA and one-half on the IPF PPS. In year 3, one-quarter of the payment will be based on TEFRA and three-quarters on the IPF PPS. In year 4 of the IPF PPS, Medicare payments are based 100 percent on the IPF PPS.

The combined effects of the transition and the stop-loss policies will be to ensure that the total estimated IPF PPS payments are no less than 92.5 percent in year 1, 85 percent in year 2, and 77.5 percent in year 3. We are not making any changes to the Stop-Loss provision.

3. Patients Who Receive Electroconvulsive Therapy (ECT)

In developing the IPF PPS, we received numerous public comments recommending that we include a payment adjustment for patients who receive ECT treatments during their IPF stay because furnishing ECT treatment, either directly or under arrangements, adds significantly to the cost of these stays. When we analyzed the FY 2002 MedPAR data, we found that ECT cases comprised about 6 percent of all cases and that almost 95 percent of ECT cases were treated in IPFs that are psychiatric units of acute care hospitals. Even among psychiatric units, ECT cases are concentrated among a relatively small number of facilities. Overall, approximately 450 facilities had cases with ECT. Among these facilities, we estimated the mean number of ECT cases per facility to be approximately 25. In addition, approximately one-half of the IPFs providing ECT had no more than 15 cases in FY 2002.

Our analysis confirmed that cases with ECT are substantially more costly than cases without ECT. We found that on a per case basis, ECT cases are approximately twice as expensive as non-ECT cases ($16,287 compared to $7,684). Most of this difference is due to variation in LOS (20.5 days for ECT cases compared to 11.6 days for non-ECT cases). In addition, the ancillary costs per case for ECT cases are $2,740 higher than those for non-ECT cases.

Although we are able to determine the cost of stays with ECT, we are unable to develop an ECT cost per treatment using the FY 2002 IPF claims data because the claims do not include the number of treatments. As a result, in the November 2004 IPF PPS final rule, we established the following methodology for calculating the IPF PPS ECT payment adjustment.

We established an ECT base rate using the pre-scaled and pre-adjusted median hospital cost for CPT procedure code 90870 used for payment under hospital outpatient PPS (OPPS), based on hospital claims data. The median cost for all OPPS services are posted after publication of the OPPS proposed rule at the following address: http://www.cms.hhs.gov/hospitaloutpatientPPS. We used unadjusted hospital claims data under the OPPS, that is, the pre-scaled and pre-adjusted median hospital cost per treatment, to establish the ECT base rate because we did not want the ECT payment under the IPF PPS to be affected by factors that are relevant to OPPS but not specifically applicable to IPFs. The median cost ($311.88) was then standardized and adjusted for budget neutrality, resulting in an ECT payment adjustment of $247.96 per treatment. The ECT base rate is adjusted for wage and COLA differences in the same manner that we adjust the Federal per diem base rate.

In order to receive the payment adjustment, IPFs must indicate on their claims the revenue code for ECT (901), along with the total number of units (ECT treatments) provided to the patient during their IPF stay. In addition, IPFs must include the ICD-9-CM procedure code for ECT (94.27) and the date of the last ECT treatment the patient received.

As we stated in the November 2004 IPF PPS final rule, although we established the ECT adjustment as a distinct payment under the IPF PPS, our preferred approach would be to include a patient level adjustment as a component of the model (for example, determined through the regression analyses) to account for the higher costs associated with ECT (69 FR 66951). We believe the approach will better control incentives towards over-utilization and be more consistent with the approach used for other patient level adjustments under the PPS. During the transition period we expect to collect more data on the number of ECT treatments per stay, and associated costs. We will utilize these data to evaluate alternative approaches for incorporating an adjustment for ECT in the payment system. To the extent that we change the payment methodology, we would propose the change first in a future rulemaking. Although our analysis will continue, we do not plan to redo the regression analysis until we analyze IPF PPS data.

It is important to note that since ECT treatment is a specialized procedure, not all providers are equipped to provide the treatment. Therefore, many patients who need ECT treatment during their IPF stay must be referred to other providers to receive the ECT treatments, and then return to the IPF. In accordance with § 412.404(d)(3), in these cases where the IPF is not able to furnish necessary treatment directly, the IPF would furnish ECT under arrangements with another provider. While a patient is an inpatient of the IPF, the IPF is responsible for all services furnished, including those furnished under arrangements by another provider. As a result, the IPF claim for these cases should reflect the services furnished under arrangements by other providers.

Public comments and our responses on the proposed ECT payment policy are summarized below.

Comment: Several commenters asked why CMS was continuing to adjust the ECT rate by the standardization factor, behavioral offset, stop-loss adjustment, and outlier adjustment when the IPF PPS is no longer budget neutral after the implementation year.

Response: We proposed to treat the ECT rate in a similar manner to the Federal per diem base rate. Specifically, we proposed to adjust the CY 2006 OPPS median rate for ECT by the standardization factor, behavioral offset, stop-loss adjustment, and outlier adjustment in addition to applying the wage index budget neutrality factor. This way, all of the adjustments that are incorporated into the Federal per diem base rate would be incorporated into the ECT rate. However, based on the comments we received, and in order to improve consistency and give more predictability in the ECT rate from year to year, we believe it is more appropriate to use the CY 2005 ECT rate as a base, and then update that amount by the market basket each rate year.

This methodology, we believe, will be even more consistent with the methodology we use to update the Federal per diem base rate because we will use the RPL market basket increase to increase both rates. Exactly as the standardization factor, behavioral offset, stop-loss adjustment, and outlier adjustment are already built into the Federal per diem base rate before we apply the market basket and the wage index budget neutrality factor, the implementation year ECT rate of $247.96 includes the standardization factor, behavioral offset, stop-loss adjustment, and outlier adjustment. Then, just as we updated the federal per diem base rate, we will then apply the corrected standardization factor (please see section V.B for a discussion of how we adjust this factor on Federal per diem base rate), the market basket increase of 4.3 percent, and the wage index budget neutrality factor of 1.0042 to compute a RY 2007 ECT rate of $256.20.

We will monitor ECT payments and usage under the IPF PPS and the OPPS to ensure that the increased payments for ECT do not lead to changes in the frequency of utilization by reviewing the FY 2005 MedPAR claims data.

Comment: One commenter stated that CMS should ensure that the ECT amount adequately reflects the cost of providing the treatment.

Response: We believe using the CY 2005 median cost for ECT under the OPPS as a basis for our ECT payment rate is the best option at this time to ensure the most appropriate payment for ECT. We will continue to monitor ECT payments as new data become available, and will make changes, if warranted.

Final Rule Action: In summary, we will finalize the update methodology for the ECT rate by using the CY 2005 ECT rate as a base and then updating that amount by the market basket increase each rate year. We will also continue to monitor ECT payments under the IPF PPS and the OPPS.

4. Physician Certification and Recertification Requirements

Since the publication of the November 2004 IPF PPS final rule, we have received inquiries related to physician certification and recertification. It appears that some psychiatric units in acute care hospitals have been following the timeframes that are applicable to the acute care hospital of which they are a part (as specified in § 424.13) rather than those that apply to psychiatric hospitals (as specified in § 424.14).

To eliminate the confusion that we believe may be caused by the titles of § 424.13 and § 424.14 and to ensure consistency in compliance with the requirements among all IPFs, in the RY 2007 proposed rule (71 FR 3616), we proposed to revise the title of § 424.14 from “Requirements for inpatient services of psychiatric hospitals” to “Requirements for inpatient services of inpatient psychiatric facilities.” In addition, we proposed that for the purposes of payment under the IPF PPS, all IPFs would follow the physician certification and recertification requirements as specified in § 424.14.

In the November 28, 2003 IPF PPS proposed rule (68 FR 66920), we proposed to—(1) amend § 424.14 to state that in recertifying a patient's need for continued inpatient care in an IPF, a physician must indicate that the patient continues to need, on a daily basis, inpatient psychiatric care (furnished directly by or requiring the supervision of IPF personnel) or other professional services that, as a practical matter, can be provided only on an inpatient basis; and (2) revise § 424.14(d) to require that a physician recertify a patient's continued need for inpatient psychiatric care on the 10th day following admission to the IPF rather than the 18th day following admission to the IPF (68 FR 66939).

However, in the November 2004 IPF PPS final rule, we did not include the proposed physician recertification requirement changes because most of the public comments we received on this issue did not support the proposed changes and indicated that there are inconsistencies in the timeframes currently required for IPFs that warranted additional analysis. Instead, we stated that we would continue to require that a physician recertify a patient's continued need for inpatient psychiatric care on the 18th day following admission to the IPF.

Since publication of the November 2004 IPF PPS final rule, we have received additional inquiries related to the physician certification and recertification timeframes that currently apply to IPFs. As noted above, it appears that some psychiatric units in acute care hospitals have continued to follow the timeframes that are applicable to the acute care hospital of which they are a part (as specified in § 424.13) rather than those that apply to psychiatric hospitals (as specified in § 424.14). Section 424.13(d) requires the initial certification no later than as of the 12th day of hospitalization and the first recertification is required no later than as of the 18th day of hospitalization. Section § 424.14(d) requires certification at the time of admission or as soon thereafter as is reasonable and practicable and the first recertification is required as of the 18th day of hospitalization.

In order to clarify requirements and establish further consistency among provider types, for purposes of payment under the IPF PPS, we proposed that all IPFs (distinct part units of acute care hospitals and CAHs and psychiatric hospitals) meet the physician certification and recertification timeframes in § 424.14.

As proposed, we are revising § 424.14(d) to provide that the initial physician certification will be required at the time of admission or as soon thereafter as is reasonable and practicable and the first recertification will be required as of the 12th day of hospitalization. Subsequent recertifications will be required at intervals established by the hospital's UR committee (on a case-by-case basis if desired), but no less frequently then every 30 days.

We chose to propose the 12th day because it is more in line with the median LOS and it is current practice for certification in psychiatric units.

In addition, we received inquiries from FIs requesting guidance on the content requirement of physician certifications at § 424.14(c), relating to the medical necessity of continued inpatient psychiatric care. As a result, we are adding language to clarify that for purposes of payment under the IPF PPS, the physician will also recertify that the patient continues to need, on a daily basis, active treatment furnished directly by or requiring the supervision of inpatient psychiatric facility personnel.

We received several comments related to the various changes we proposed making to the Certification and Plan of Treatment Requirements of § 424.14.

Commenters were silent with respect to our proposed title revision to § 424.14 from “Requirements for inpatient services of psychiatric hospitals” to “Requirements for inpatient services of inpatient psychiatric facilities.” We are finalizing the title revision for § 424.14 as “Requirements for inpatient services of inpatient psychiatric facilities.”

Overall, commenters supported making the physician certification requirements consistent among distinct part psychiatric units of acute care hospitals and CAHs and psychiatric hospitals. Therefore, for the purposes of payment under the IPF PPS, we are requiring that all IPFs (distinct part psychiatric units of acute care hospitals and CAHs and psychiatric hospitals) follow the physician certification and recertification requirements as specified in § 424.14.

We received mixed responses from commenters concerning our proposed physician certification and recertification timeframes.

Specific comments and our responses on the proposed changes implementing physician certification and recertification requirements are summarized below.

Comment: One hospital association expressed support for a 12-day recertification requirement, finding it preferable to 18 days. Other commenters requested the current requirement of 18 days for the initial recertification remain in place, citing added administrative burden since most patients are discharged before the 18th day. A couple of the commenters recommended maintaining the 18-day recertification requirement since it is part of the original language for § 424.14 and further believe it is the established practice in psychiatric hospitals.

Response: When § 424.14(d)(2) was developed in the 1980s, the average LOS for inpatient psychiatric hospitalization was much longer than the current median LOS of 9 days, thereby necessitating a parallel recertification requirement of 18 days, which was reflective of current treatment practice at that time. However, as inpatient psychiatric treatment has evolved with the development of new medications and therapies, so has the average length of inpatient care.

According to the MedPar 2002 claims data, the median LOS for Medicare beneficiaries in IPFs is 9 days. Since the duration of inpatient psychiatric hospitalization stays have shortened, the certification and recertification timeframe and practices need to be updated in order to remain consistent with current practice. Thus, an earlier recertification timeframe is indicated by the shorter LOS for inpatient psychiatric hospitalization. Therefore, we continue to believe that an 18-day recertification requirement is outdated and not reflective of current inpatient psychiatric treatment.

As a result, we are finalizing that for § 424.14(d)(2), the first recertification is required as of the 12th day of hospitalization. Subsequent recertifications will be required at intervals established by the hospital's Utilization Review committee (on a case-by-case basis if desired), but no less frequently then every 30 days.

Comment: In general, commenters were silent concerning our proposal to modify the certification and recertification language of § 424.14(c), relating to the medical necessity of continued inpatient psychiatric care. However, a couple of commenters requested that the language required for certification and recertification remain consistent with § 424.14(b) and § 424.14(c). Another commenter requested clarification on the proposed language requiring “the physician would recertify that the patient continues to need, on a daily basis* * *”. The commenter questioned whether physicians would need to chart daily in the patient's record that the patient continues to need active treatment.

Response: We proposed only one modification to § 424.14(c), “Content of recertification”, by adding language requiring that the physician would also recertify that the patient continues to need, on a daily basis, active treatment furnished directly by or requiring the supervision of inpatient psychiatric facility personnel. This means, the patient continues to need daily, active treatment that is furnished directly by or requiring the supervision of inpatient psychiatric facility personnel. To clarify, physician certification and recertification, under § 424.14, are not the same as progress notes. A physician must certify the necessity of the services and, in some instances, recertify the continued need for those services to ensure that Medicare pays only for services of the type appropriate for Medicare coverage. Progress notes, under § 412.27(c)(4), must also be recorded by the patient's physician, in addition to a nurse, social worker, and when appropriate, others significantly involved in active treatment modalities, but are used to document the progress of the patient's treatment, and are more frequent than the certification and recertification timelines. In addition to the purpose of clarifying the recertification content requirements, this modification is consistent with the medical necessity requirement for continued inpatient psychiatric care.

As a result, for purposes of payment under the IPF PPS, the physician would also recertify that the patient continues to need, on a daily basis, active treatment furnished directly by or requiring the supervision of inpatient psychiatric facility personnel.

Final Rule Action: In summary, we are changing the title for § 424.14 from “Requirements for inpatient services of psychiatric hospitals” to “Requirements for inpatient services of inpatient psychiatric facilities.”

In addition, for the purposes of payment under the IPF PPS, we are requiring that all IPFs (distinct part psychiatric units of acute care hospitals and CAHs and psychiatric hospitals) follow the physician certification and recertification requirements as specified in § 424.14.

Furthermore, § 424.14(d)(2) will require the first recertification as of the 12th day of hospitalization. Subsequent recertifications will be required at intervals established by the hospital's UR committee (on a case-by-case basis if desired), but no less frequently than every 30 days.

We are also finalizing the content requirement of physician certifications at § 424.14(c)(iii) by adding the following language, “the physician will also recertify that the patient continues to need, on a daily basis, active treatment furnished directly by or requiring the supervision of inpatient psychiatric facility personnel.”

5. Provision of Therapeutic Recreation in IPFs

Before the implementation of the IPPS payment methodology, Medicare coverage guidelines gave specific recognition to therapeutic recreation in inpatient psychiatric hospitals. The guidelines in § 3102.1.A of the Medicare Intermediary Manual, Part 3 (MIM-3), and in § 212.1 of the Medicare Hospital Manual (which now appear in the CMS Internet Online Manual at Pub. 100-02, Chapter 2, § 20.1ff.) specifically identify therapeutic recreation as one of the services that can constitute “active treatment” in this setting when they are—

• Provided under an individualized treatment or diagnostic plan;

• Reasonably expected to improve the patient's condition or for the purpose of diagnosis; and

• Supervised and evaluated by a physician.

However, these guidelines refer to therapeutic recreation in terms of being an “adjunctive” therapy, indicating that even in this setting, it will not independently serve as a patient's sole or primary form of therapeutic treatment, but rather, will be furnished in support of (but subordinate to) some other, primary form of therapy.

When the IPPS was developed in 1983, to the extent that therapeutic recreation and other services had been furnished during the IPPS base period, the bundled IPPS payment for that setting would reflect these costs. However, during the IPPS rulemaking process, we received public comments concerned that, “the cost-saving incentives of the PPS would lead hospitals paid under the system to stop providing recreational therapy services.” In response, in the January 3, 1984 IPPS final rule (49 FR 242) we indicated that implementation of the IPPS would not, in fact, prohibit the provision of recreational therapy services, and that “these services will continue to be covered to the same extent they always have been under existing Medicare policies”.

In implementing the IPPS regulations, we included criteria for identifying certain types of institutions (for example, psychiatric hospitals) that would be excluded from the IPPS and, thus, would continue to be paid under some other methodology. The regulations also introduced criteria for identifying an IPPS-excluded inpatient psychiatric unit housed within a larger acute-care hospital that would itself be subject to the IPPS. One of these identifying criteria at 42 CFR 405.471(c)(4)(ii)(B) (later recodified at 42 CFR 412.27(b)) was the provision, through the use of qualified personnel, of a number of specified types of services, including psychological services, social work services, psychiatric nursing, occupational therapy, and recreational therapy.

As we explained in the IPPS interim final rule published on September 1, 1983 (48 FR 39758), the regulations designated these particular services because their provision “is typical of units which treat patients whose characteristics are like those in psychiatric hospitals. Consequently, the provision of these services is an identifier of such a patient population”. We note that the designation of these particular services in this context did not serve to define the scope of their coverage under Medicare, nor to mandate their provision in this setting, but merely to identify them as being characteristic of the type of psychiatric unit that would qualify for exclusion from the IPPS.

At the same time the IPPS was being developed, a parallel evolution was taking place in the certification requirements that facilities must meet in order to participate in the Medicare program: a shift from primarily “process-oriented” requirements to more “outcome-oriented” requirements, which focus more on direct indicators of the quality of care actually being furnished to the facility's patients (as reflected in the presence of positive results and the absence of negative ones), and less on the specific “process” through which the facility achieves the desired outcome.

In order to participate in the Medicare program, psychiatric hospitals not only had to meet the conditions of participation (COPs) that apply to general, acute-care hospitals, but additionally had to meet special conditions related to medical records and staffing. Consistent with the recognition of therapeutic recreation as constituting active treatment in this one particular setting (as discussed above), the original COPs for psychiatric hospitals at 42 CFR 405.1038(g) mandated the presence of qualified therapists, assistants, or aides “sufficient in number to provide comprehensive therapeutic activities, including at least occupational, recreational and physical therapy, as needed, to assure that appropriate treatment is rendered for each patient, and to establish and maintain a therapeutic milieu.” Furthermore, 42 CFR 405.1038(g)(3) specified that “recreational or activity therapy services are available under the direct supervision of a member of the staff who has demonstrated competence in therapeutic recreation programs,” and § 405.1038(g)(4) and § 405.1038(g)(5) went on to prescribe additional standards regarding therapy assistants or aides and overall staffing for recreational and activity therapy.

However, when the special medical record and staffing COPs for psychiatric hospitals were subsequently recodified at § 482.62(g), the specific references to recreation therapy were deleted and replaced with a more general requirement to provide a therapeutic activities program. In response to public comments that recommended us to restore the deleted requirements, we indicated that we believe that the deleted requirements concerning therapeutic activities were overly and unnecessarily prescriptive and that the hospital should have the flexibility to determine which activities are most appropriate to its patient population and to determine the criteria to be met by employees providing these services. (See the IPPS PPS rule published on June 17, 1986 (51 FR 22032)).

However, when the 1986 COP changes applicable to psychiatric hospitals were made, we inadvertently retained specific references to recreation therapy in § 412.27. Since the intent of § 412.27(b) is to identify services provided in psychiatric units that are characteristic of services furnished in psychiatric hospitals, we believe it is no longer appropriate to include references to specific therapies in § 412.27. Therefore, in order to have consistent requirements among IPFs, in the RY 2007 IPF PPS proposed rule, we proposed removing recreational therapy from § 412.27(b).

We went on to further explain in the RY 2007 IPF PPS proposed rule that in addition to being consistent with current provisions, we believe the IPF PPS base rate which was developed using FY 2002 data, already reflects the provision of recreation therapy.

We received a few public comments concerning our proposal to remove reference to recreational therapy in § 412.27(b). Overall the commenters recommended that we not delete the reference to recreational therapy.

Public comments and our responses on the proposed changes for removing the reference to recreational therapy are summarized below:

Comment: An industry organization suggested that if CMS'; goal is to maintain consistency, CMS should adopt the language as specified in § 482.62 from the COPs for § 412.27(b).

Response: We believe that this commenter raises a valid concern in terms of maintaining consistency. We also agree with the suggestion of applying the same language to both § 482.62 and § 412.27(b), thereby maintaining consistent requirements among IPFs. Since § 482.62 refers to “therapeutic activities,” we are revising § 412.27(b), to be consistent with § 482.62, by replacing the reference to recreational and occupational therapy with the term “therapeutic activities.”

Comment: Several commenters stated that the inclusion of recreational therapy in § 412.27(b), is no more specific than the references included for social work or occupational therapy.

Response: As we indicated in the RY 2007 IPF PPS proposed rule, since the intent of § 412.27(b) is to identify services provided in psychiatric units that are characteristic of services furnished in psychiatric hospitals, we believe it is essential to maintain consistency among the provisions for § 482.62 and § 412.27(b). Therefore, we are removing the reference to both recreational and occupational therapy from § 412.27(b) and replacing them with the more general reference to therapeutic activities which is currently used in § 482.62.

However, we believe it is important to maintain the reference to social work services in § 412.27, since it is currently included in § 482.62.

Comment: One commenter requested that CMS continue to pay for recreational therapy. Other commenters were concerned that if the reference to recreational therapy is removed, people may not know that Medicare has traditionally recognized recreational therapy as an adjunctive therapy in psychiatric facilities.

Response: As we discussed in the RY 2007 IPF PPS proposed rule, we believe the IPF PPS base rate, which was developed using FY 2002 data, reflects the provision of recreation and occupational therapy. Even though we are removing the specific reference to recreation and occupational therapy in § 412.27(b), both recreational and occupational therapy services will continue to be covered to the same extent they always have been under existing Medicare policies.

In addition, although we are removing the specific references to recreational and occupational therapy from § 412.27(b), we want to emphasize that both therapies are, and continue to be, valuable therapeutic interventions in psychiatric treatment.

Final Rule Action: In summary, for consistency, we are adopting the language as specified in § 482.62 from the COPs for § 412.27(b). Specifically, 412.27(b) will state—“Furnish, through the use of qualified personnel, psychological services, social work services, psychiatric nursing services and therapeutic activities.”

6. Same Day Transfers

Currently, when a transfer, discharge, or death occurs on the same day as an admission to an IPF, the IPF PPS PRICER does not recognize any covered IPF days and the IPF claims are suspended. Based on review of a limited sample of the IPF and subsequent IPPS claims, it appears that many of these patients are first seen in a hospital's ED, are admitted to the hospital's psychiatric unit and, later the same day, determined to be too medically compromised to be managed in the psychiatric unit. This scenario may occur because the patient presents at the ED and is admitted to the psychiatric unit in the middle of the night, and when the patient's admission to the unit is reviewed by a psychiatrist the next morning, the physician determines that the patient should be discharged for acute care. In other cases, a patient may have been admitted to a freestanding psychiatric hospital based on the information furnished by an ED of an acute care hospital. However, after admission, the psychiatric hospital staff evaluates the patient and determines that the patient has medical needs that they are not staffed or equipped to meet.

The Provider Reimbursement Manual addresses the same day transfer issue from the perspective of counting Medicare days for the purpose of Medicare cost reporting. Section 2205 indicates that only full patient days may be used to apportion inpatient routine care service costs and that a day begins at midnight and ends 24 hours later. However, section 2205.1 explains how to count a day if the day of admission and the day of discharge are the same. Section 2205.1 indicates that when a patient is admitted and then transferred from one participating provider to another before midnight of the same day, a day (except for utilization purposes) is counted at both providers. A day of Medicare utilization is charged only for the admission to the second provider. This distinction is important for psychiatric admissions because IPF stays are subject to the 190-day lifetime limit on inpatient psychiatric care.

Section 1812(b) of the Act and 42 CFR 409.62 indicate that payment is not available for inpatient psychiatric hospital services furnished beyond the 190-day lifetime limit. Thus, Medicare coverage of IPF services, specifically IPF services furnished in freestanding psychiatric hospitals is limited to 190 days. In consideration of the limit on coverage of IPF services, where there is a same day transfer between Medicare participating providers, we only count the second admission for utilization purposes. Therefore, the initial admission to the IPF does not count against a beneficiary's lifetime psychiatric services limit.

We have some concerns regarding same day transfers from an IPF. Under TEFRA, a hospital receives its cost up to the hospital's TEFRA limit. The TEFRA limit is based on the hospital's average cost per discharge in a base period. When an admission and discharge occur on the same day, the hospital's cost is unlikely to exceed the TEFRA limit, so the hospital receives its cost for the day. These same day transfers also improve the hospital's payment under TEFRA by slightly reducing its cost per discharge. We are also concerned that when the transfer occurs in the same hospital, this practice circumvents bundling rules under the IPPS, in that it unbundles the ED charges from the IPPS claim and allocates the ED costs to the psychiatric unit even though the patient may have been inappropriately admitted to the unit.

Based on the review of IPF PPS claims we conducted, it did not appear that the admissions to the IPF were medically reasonable and necessary. However, we believe it is important to base a decision regarding coverage of these days on a comprehensive review of the claims. Therefore, in the RY 2007 IPF PPS proposed rule, we did not propose a change in payment policy. However, we did consider several alternative methods for addressing same day transfers under the IPF PPS which are described below. Any change to treatment of same day transfers would be made prospectively.

We could treat these days as covered days under the IPF PPS. However, under the IPF PPS, a 19 percent adjustment to the base rate is applied to day 1 of the stay to reflect the additional administrative and clinical costs associated with admission and the day 1 adjustment is increased to 31 percent when the IPF has a qualifying ED. The IPF may also receive, for example, a teaching adjustment or rural adjustment, for these partial days of care. Several of the claims in our analysis indicate a stay of 2 hours. We are concerned that this approach would overpay IPFs and encourage inappropriate admissions and transfers.

Another option would be to make no PPS payment, but continue making TEFRA payments during the IPF PPS transition period. For example, for cost reporting periods beginning in 2006, IPFs would receive a blended payment consisting of 50 percent PPS and 50 percent TEFRA. Therefore, under this approach we would allow some payment for these days for cost reporting periods in 2006 and 2007, but once the IPF PPS transition period is over, the IPFs would receive no payment for these days. We think this approach would encourage changes in admission practices in order to avoid the need to transfer patients. However, once the IPF PPS transition is over, there would be no payment mechanism to pay IPFs for stays in which there is a circumstance, not reasonably foreseeable by the admitting IPF, for example, a serious change in health status on the day of admission.

We could treat these same day transfer cases as covered days under the IPF PPS but limit payment to the Federal per diem base rate or some other payment amount, for example, half the Federal per diem base rate. This approach would limit payment to IPFs in order to provide an incentive for IPFs to make medical clearance determinations as early in the IPF stay as possible. However, we are concerned that this approach would not lead to changes in admission practices to avoid inappropriate admissions and the need for subsequent transfers.

It is important to note that the cost for these days was included in the cost reports used to develop the IPF PPS, and, as a result, the average cost per day that was used to establish the Federal per diem base rate is higher than it would otherwise have been had those days not been included.

We specifically request public comment from IPFs on this issue to help us to develop a payment policy that pays IPFs appropriately for these days and provides an incentive to avoid same day transfers wherever possible.

Public comments and our responses on the proposed changes for implementing the same day transfers are summarized below.

Comment: We received several comments concerning the issue of an appropriate payment for same day transfers. Many commenters indicated that CMS should conduct a thorough examination of the 2005 claims because they do not believe that same day transfers would be found to be prevalent occurrences. The same commenters also stated that if CMS decides to investigate other options, the agency should convene the field through an open-door forum or other such venue to discuss the possibilities.

In addition, several commenters requested that when sufficient data is available to fully evaluate same day transfers, CMS should request input from the field before making any changes to current policy. Other commenters also indicated that CMS should continue to reimburse same day transfers as 1-day stays unless it can demonstrate empirically that the cost of the former is sufficiently less than the cost of the latter to justify a partial payment.

Another commenter requested that CMS release a version of the MedPar with relevant information to qualified researchers who would be pleased to conduct an empirical analysis for the agency.

Many commenters supported CMS' instructions for its payment methodology for the suspended IPF PPS same day transfer claims from January 1, 2005. The instructions counted these days as covered for cost reporting purposes if the day of admission and the day of discharge are the same. Other commenters indicated that CMS should not penalize provider's evaluation and treatment efforts, stating that the work was done, therefore providers should be compensated.

Furthermore, commenters support the way section 2205.1 of the Provider Reimbursement Manual instructs FIs to count a day if the day of admission and the day of discharge are the same. The majority of the commenters recommended paying the PPS per diem for these transfers.

Response: We will take all comments into consideration as we develop a payment policy that not only pays appropriately for these days, but will also provide an incentive to avoid same day transfers wherever possible.

Final Rule Action: In summary, we received multiple comments on the same day transfer. We will take all comments into consideration as we develop a payment policy for same day transfers. We will develop the policy for same day transfers in the future, after we analyze IPF PPS data.

VII. Miscellaneous Public Comments Within the Scope of the Proposed Rule

Comment: A commenter requested an inner-city adjustment, indicating that the difficulties of inner-city IPFs are related to a high volume of non-payment in contrast to the more likely rural under use and low volume costs. The commenter suggested a 20 percent adjustment at least, for inner-city IPFs.

Response: We did not include an explicit payment adjustment for inner city facilities in the November 2004 IPF PPS final rule nor did we propose an urban adjustment in the RY 2007 proposed rule. As indicated in the November 2004 IPF PPS final rule (69 FR 66954), we did not include an adjustment for urban IPFs because the regression analysis we conducted did not indicate that urban IPFs were more costly on a per diem basis.

As previously stated, we do not plan to rerun the regression analysis until we analyze IPF PPS data (that is no earlier than FY 2008). When we rerun the regression analysis, we will test for the need for an urban or inner city adjustment.

Comment: A commenter objected to CMS not posting the proposed rule to the CMS Web site until January 18, 2006 while the rule actually went on public display January 13, 2006 and was not published in the Federal Register until January 23, 2006. The commenter stated that if CMS chooses to start the comment period based on the date of display, CMS must ensure that the display copy is promptly posted on the Web site to provide interested parties sufficient time to review the rule and draft comments before the comment period ends.

Response: It is our general practice to post Federal Register documents on our website as soon as practicable after the documents are on public display at the Office of the Federal Register. When we chose to start the comment period from the day of public display, while we are not required to do so, it was our intent to post the proposed rule on CMS website immediately. However, due to circumstances out of our control, we were unable to immediately do so because our Web site at http://www.cms.hhs.gov was being redesigned. However, we did publish a press release on January 13, 2006, announcing the IPF PPS proposed rule went on public display at the Federal Register on January 13, 2006 and that it would be published in the Federal Register on January 23, 2006. In addition, we posted the rule as soon as was practicable for us to do so, on Wednesday, January 18, 2006.

VIII. Provisions of the Final Rule

This final rule essentially incorporates the provisions of the proposed rule, in which we proposed to update the IPF PPS for RY 2007 applicable to IPF discharges occurring during the RY beginning July 1, 2006 through June 30, 2007. In addition, we proposed to adopt the new OMB labor market area definitions for our geographic classifications. The provisions of this final rule that differ from the proposed rule are as follows.

ECT policy Payment

In the RY 2007 IPF PPS proposed rule, we proposed to update the ECT base rate using the pre-scaled pre-adjusted hospital median cost for ECT used for the CY 2006 update of the OPPS. The median cost would then be standardized, adjusted for budget neutrality, and adjusted for wage and COLA differences in the same manner that we adjust the per diem rate.

However, based on the public comments, we are changing the methodology used for calculating the ECT policy payment rate. In order to improve consistency with our updates to the Federal per diem base rate and provide IPFs more predictability for the ECT rate from year to year, we will use the CY 2005 ECT rate as a base, and then update that amount by the market basket increase each rate year.

Section 412.402 Definition

In § 412.402, we are adding the definition of “New GME education program” to mean a medical education program that receives initial accreditation by the appropriate accrediting body or begins training residents on or after November 15, 2004.

Section 412.27 Excluded psychiatric units: Additional requirements.

In § 412.27, we are amending paragraph (b) to remove the specific reference to “occupational therapy, and recreational therapy.” We are adding in its place “therapeutic activities” in order to maintain consistency with current provisions and since the IPF PPS base rate already reflects the provision of recreational therapy.

Section 412.428 Publication of updates to the inpatient psychiatric facility prospective payment system.

In § 412.428, we are revising paragraph (b)(3) to reflect that the rate of increase factor is revised as of October 1 of each year.

Other Issues

In the Inpatient Prospective Payment System proposed rule, published April 25, 2006 (71 FR 23996), we discussed in detail the Health Care Information Transparency Initiative and our efforts to promote effective use of health information technology (HIT) as a means to help improve health care quality and improve efficiency. Specifically, with regard to the transparency initiative, we discuss several potential options for making pricing and quality information available to the public (71 FR 24120 through 24121). We solicited comments on ways the Department can encourage transparency in health care quality and pricing whether through its leadership on voluntary initiatives or through regulatory requirements. We also are seeking comment on the Department's statutory authority to impose such requirements.

In addition, we discussed the potential for HIT to facilitate improvements in the quality and efficiency of health care services (71 FR 24100 through 24101). We solicited comments on our statutory authority to encourage the adoption and use of HIT. The 2007 Budget states that “the Administration supports the adoption of health information technology (IT) as a normal cost of doing business to ensure patients receive high quality care.” We also are seeking comments on the appropriate role of HIT in potential value-based purchasing program, beyond the intrinsic incentives of a PPS to provide efficient care, encourage the avoidance of unnecessary costs, and increase quality of care. In addition, we are seeking comments on promotion of the use of effective HIT through Medicare conditions of participation.

We intend to consider both the health care information transparency initiative and the use of health information technology as we refine and update all Medicare payment systems. Therefore, while these initiatives are not included in this final rule, we are in the process of seeking input on these initiatives in various proposed Medicare payment rules being issued this year and may pursue these policies in future rulemaking for the IPF PPS.

IX. Collection of Information Requirement

This document does not impose information collection and recordkeeping requirements. Consequently, it need not be reviewed by the Office of Management and Budget under the authority of the Paperwork Reduction Act of 1995.

X. Regulatory Impact Analysis

A. Overall Impact

We have examined the impact of this final rule as required by Executive Order 12866 (September 1993, Regulatory Planning and Review), the Regulatory Flexibility Act (RFA) (September 19, 1980, Pub. L. 96-354), section 1102(b) of the Social Security Act, the Unfunded Mandates Reform Act of 1995 (UMRA) (Pub. L. 104-4), and Executive Order 13132.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year).

Based on the impact analysis, we estimate the expenditures from the IPF PPS implementation year to the 2007 IPF PPS RY will be increased by $160 million. The updates to the IPF labor-related share and wage indices are made in a budget neutral manner and thus have no effect on estimated costs to the Medicare program. Therefore, the estimated increased cost to the Medicare program is the result of a combination of the updated IPF market baskets, which is offset by the transition blend and the revision of the standardization factor. The IPF PPS was budget neutral in the implementation year, but it is not budget neutral in RY 2007. As discussed in section V.B.2 of this final rule, the standardization factor and budget neutrality factors (behavioral offset, stop-loss adjustment, and outlier adjustment) are built into the Federal per diem base rate and the ECT rate. We are increasing these rates by the market basket, resulting in a $160 million increase in payments from the implementation year to RY 2007.

We note that aspects of the transition, including the stop-loss policy and the transition to the 50/50 percent blend in RY 2007 and the transition to the 75/25 percent blend in the 2008 IPF PPS RY, were included in the November 2004 IPF PPS final rule and thus are not incremental to this rule. Nevertheless, it is essential to analyze the impact of the transition blend in order to calculate the increase in cost to the Medicare program.

The impact of the transition blend is an approximately 0.2 percent (about $10 million) decrease in overall payments in RY 2007 and the distribution of that impact is summarized in Table 15. Therefore, the impact attributable to the policy changes finalized in this rulemaking, primarily the market basket update and the standardization correction, is approximately $170 million in the IPF PPS RY 2007.

Since costs to the Medicare program are estimated to be greater than $100 million, this final rule is considered a major economic rule, as defined in 5 U.S.C. 40(2).

The RFA requires agencies to analyze options for regulatory relief of small businesses. For purposes of the RFA, small entities include small businesses, nonprofit organizations, and governmental jurisdictions. Most IPFs and most other providers and suppliers are considered small entities, either by nonprofit status or by having revenues of $6 million to $29 million in any 1 year. (For details, see the Small Business Administration's regulation that set forth size standards for health care industries at (65 FR 69432).)

HHS considers that a substantial number of entities are affected if the rule impacts more than 5 percent of the total number of small entities as it does in this rule. We included all freestanding psychiatric hospitals (79 are non-profit hospitals) in the analysis since their total revenues do not exceed the $29 million threshold. We also included psychiatric units of small hospitals, that is, those hospitals with fewer than 100 beds. We did not include psychiatric units within larger hospitals in the analysis because we believe this final rule would not significantly impact total revenues of the entire hospital that supports the unit. We have provided the following RFA analysis in section V.B to emphasize that, although the final rule will impact a substantial number of IPFs that were identified as small entities, we do not believe it will have a significant economic impact. Based on the analysis of the 1063 psychiatric facilities that were classified as small entities as described above, we estimate the combined impact of the IPF PPS will be a 4.2 percent increase in payments in RY 2007 relative to their payments in the implementation year of the IPF PPS. Based on the information available, we believe that Medicare payments may constitute a small portion of governmental IPFs' revenue stream. We have prepared the impact analysis in section X.B.2 to describe the impact of the final rule in order to provide a factual basis for our conclusions regarding small business impact.

In addition, section 1102(b) of the Act requires us to prepare a regulatory impact analysis if a final rule may have a significant impact on the operations of a substantial number of small rural hospitals. This analysis must conform to the provisions of section 604 of the RFA. With the exception of hospitals located in certain New England counties, for purposes of section 1102(b) of the Act, we previously defined a small rural hospital as a hospital with fewer than 100 beds that is located outside of a Metropolitan Statistical Area (MSA) or New England County Metropolitan Area (NECMA). However, under the new labor market definitions, we will no longer employ NECMAs to define urban areas in New England. Therefore, for purposes of this analysis, we now define a small rural hospital as a hospital with fewer than 100 beds that is located outside of an MSA. We have determined that this final rule will have a substantial impact on hospitals classified as located in rural areas. As discussed earlier in this preamble, we will continue to provide a payment adjustment of 17 percent for IPFs located in rural areas. In addition, we have established a 3-year transition to the new system to allow IPFs an opportunity to adjust to the new system. Therefore, the impacts shown in Table 15 below reflect the adjustments that are designed to minimize or eliminate any potentially significant negative impact that the IPF PPS may otherwise have on small rural IPFs.

Section 202 of the Unfunded Mandates Reform Act of 1995 also requires that agencies assess anticipated costs and benefits before issuing any final rule whose mandates require spending in any 1 year of $100 million in 1995 dollars, updated annually for inflation. That threshold level is currently approximately $120 million. This final rule will not mandate any requirements for State, local, or tribal governments, nor would it affect private sector costs.

Executive Order 13132 establishes certain requirements that an agency must meet when it promulgates a final rule that imposes substantial direct requirement costs on State and local governments, preempts State law, or otherwise has Federalism implications.

We have reviewed this final rule under the criteria set forth in Executive Order 13132 and have determined that the final rule will not have any substantial impact on the rights, roles, and responsibilities of State, local, or tribal governments.

B. Anticipated Effects of the Final Rule

We discuss below the impact of this final rule on the Federal Medicare budget and on IPFs.

1. Budgetary Impact

As discussed in detail in the IPF PPS proposed rule and summarized in section V.B. of this final rule, we applied a budget neutrality factor to the Federal per diem and ECT base rates to ensure that total payments under the IPF PPS in the implementation period would equal the amount that would have been paid if the IPF PPS had not been implemented. The budget neutrality factor includes the following components: outlier adjustment, stop-loss adjustment, and the behavioral offset. We do not plan to change any of these adjustment factors or projections until we analyze IPF PPS data. In accordance with § 412.424(c)(3)(ii), we will evaluate the accuracy of the budget neutrality adjustment within the first 5 years after implementation of the payment system. We may make a one-time prospective adjustment to the Federal per diem and ECT base rates to account for differences between the historical data on cost-based TEFRA payments (the basis of the budget neutrality adjustment) and estimates of TEFRA payments based on actual data from the first year of the IPF PPS. As part of that process, we will re-assess the accuracy of all of the factors impacting budget neutrality.

In addition, as discussed in section VI.C.1 of this final rule, we are adopting the new CBSAs and labor market share in a budget neutral manner by applying a wage index budget neutrality factor to the Federal per diem and ECT base rates. Thus, the budgetary impact to the Medicare program by the update of the IPF PPS will be the combination of the market basket updates (see section V.C of this final rule), the revision of the standardization factor (see section V.B.3 of this final rule), and the planned update of the payment blend discussed below.

2. Impacts on Providers

To understand the impact of the changes to the IPF PPS discussed in this final rule on providers, it is necessary to compare estimated payments under the IPF PPS rates and factors for the RY 2007 to estimated payments under the IPF PPS rates and factors for the IPF PPS implementation year. The estimated payments for the IPF implementation year are a blend of: 75 percent of the facility-specific TEFRA payment and 25 percent of the IPF PPS payment with stop loss payment. The estimated payments for the IPF PPS RY 2007 are a blend of: 50 percent of the facility-specific TEFRA payment and 50 percent of the IPF PPS payment with stop loss payment. We determined the percent change of estimated 2007 IPF PPS RY payments to estimated IPF PPS implementation year payments for each category of IPFs. In addition, for each category of IPFs, we have included the estimated percent change in payments resulting from the revision of the standardization factor (as discussed in section V.B.3 of this final rule, the ratio of estimated total TEFRA payments to estimated total PPS payments in the implementation year was overestimated and therefore needed to be reduced. We will apply the revised standardization factor prospectively to the Federal per diem base rate and ECT amount), the wage index changes for the IPF PPS RY 2007, the market basket update to IPF PPS payments, and the transition blend for the IPF PPS RY 2007 payment and the facility-specific TEFRA payment.

To illustrate the impacts of the final RY 2007 changes, our analysis begins with an implementation year baseline simulation model based on FY 2002 IPF payments inflated to 2005 with market baskets; the estimated outlier payments in 2005; the estimated stop-loss payments in 2005; the MSA designations for IPFs based on OMB's MSA definitions before June 2003; the 2005 MSA wage index; the implementation year labor-market share; and the implementation year percentage amount of the rural adjustment. During the simulation, the outlier payment is maintained at the target of 2 percent of total PPS payments.

Each of the following changes is added incrementally to this baseline model in order for us to isolate the effects of each change:

• IPF PPS payments adjusted by the revised standardization factor.

• The new CBSAs based on new geographic area definitions announced by OMB in June 2003 and the RY 2007 final budget-neutral labor-related share and wage index adjustment.

• A blended market basket update of 4.5 percent resulting in an update to the hospital-specific TEFRA target amount and an update to the IPF PPS base rates as discussed below.

++ In the IPPS final rule published August 12, 2005 (70 FR 47707), we established an update factor of 3.8 percent effective for cost reporting periods beginning on or after October 1, 2005 using the 2002-based excluded hospital market basket. The 3.8 percent update is applied to the IPF's established TEFRA target amount for cost reporting periods beginning on or after October 1, 2005. However, since the midpoints of the RY 2007 and the IPF PPS implementation period are 15 months apart, the TEFRA payment increase is projected to be 4.6 percent.

++ An update to the Federal per diem base rate of 4.3 percent based on the 2002-based RPL market basket (see section V.C.1.b of this final rule). The market basket update is based on a 15-month time period (from the midpoint of the IPF PPS implementation period to the midpoint of the RY 2007).

• The transition to 50 percent IPF PPS payment and 50 percent facility-specific TEFRA payment.

Our final comparison illustrates the percent change in payments from the IPF PPS implementation year (that is, January 1, 2005 to June 30, 2006) to RY 2007 (that is, July 1, 2006 to June 30, 2007).

Table 15.—Projected Impacts
Facility by type (1) | Number of facilities (2) | Standardization factor correction (percent) (3) | CBSA wage index and labor share (percent) (4) | Market basket (percent) (5) | Transition blend (percent) (6) | Total (percent) (7)
All Facilities | 1,806 | −0.3 | 0.0 | 4.5 | −0.2 | 4.0
By Type of Ownership:
Psychiatric Hospitals:
Government | 178 | −0.5 | 0.1 | 4.5 | 11.0 | 15.6
Non-profit | 79 | −0.4 | 0.1 | 4.5 | 1.6 | 6.0
For-profit | 150 | −0.4 | 0.1 | 4.5 | 4.3 | 8.7
Psychiatric Units | 1,399 | −0.3 | 0.0 | 4.5 | −1.8 | 2.3
Rural | 385 | −0.3 | 0.0 | 4.5 | −0.9 | 3.2
Urban | 1,421 | −0.3 | 0.0 | 4.5 | −0.1 | 4.1
By Urban or Rural Classification:
Urban by Facility Type:
Psychiatric Hospitals:
Government | 144 | −0.5 | 0.1 | 4.5 | 10.9 | 15.4
Non-profit | 73 | −0.4 | 0.1 | 4.5 | 1.7 | 6.1
For-profit | 143 | −0.4 | 0.1 | 4.5 | 4.4 | 8.8
Psychiatric Units | 1,061 | −0.3 | 0.0 | 4.5 | −1.7 | 2.4
Rural by Facility Type:
Psychiatric Hospitals:
Government | 34 | −0.5 | −0.1 | 4.5 | 12.0 | 16.3
Non-profit | 6 | −0.3 | 0.3 | 4.5 | −0.7 | 3.9
For-profit | 7 | −0.2 | −0.1 | 4.5 | −1.8 | 2.4
Psychiatric Units | 338 | −0.3 | 0.0 | 4.5 | −2.0 | 2.1
By Teaching Status:
Non-teaching | 1,537 | −0.3 | 0.0 | 4.5 | −0.4 | 3.8
Less than 10% interns and residents to beds | 148 | −0.3 | 0.1 | 4.5 | 0.5 | 4.7
10% to 30% interns and residents to beds | 72 | −0.3 | 0.0 | 4.5 | 0.4 | 4.6
More than 30% interns and residents to beds | 49 | −0.4 | 0.1 | 4.5 | 0.0 | 4.3
By Region:
New England | 126 | −0.3 | 0.0 | 4.5 | −0.4 | 3.8
Mid-Atlantic | 306 | −0.4 | 0.2 | 4.5 | 2.9 | 7.3
South Atlantic | 238 | −0.3 | −0.2 | 4.5 | 0.1 | 4.0
East North Central | 325 | −0.3 | −0.1 | 4.5 | −1.5 | 2.6
East South Central | 159 | −0.4 | −0.1 | 4.5 | −0.3 | 3.7
West North Central | 169 | −0.3 | −0.2 | 4.5 | −1.0 | 3.0
West South Central | 237 | −0.3 | −0.1 | 4.5 | −2.7 | 1.4
Mountain | 83 | −0.3 | −0.1 | 4.5 | −0.4 | 3.7
Pacific | 156 | −0.3 | 0.3 | 4.5 | −0.5 | 4.0
By Bed Size:
Psychiatric Hospitals:
Under 12 beds | 26 | −0.2 | 0.1 | 4.5 | −3.8 | 0.6
12 to 25 beds | 46 | −0.3 | −0.2 | 4.5 | 0.2 | 4.3
25 to 50 beds | 91 | −0.4 | 0.1 | 4.5 | 4.2 | 8.6
50 to 75 beds | 82 | −0.4 | 0.1 | 4.5 | 3.8 | 8.3
Over 75 beds | 162 | −0.5 | 0.1 | 4.5 | 8.6 | 13.0
Psychiatric Units:
Under 12 beds | 600 | −0.3 | −0.1 | 4.5 | −4.5 | −0.5
12 to 25 beds | 474 | −0.3 | 0.0 | 4.5 | −1.9 | 2.2
25 to 50 beds | 228 | −0.3 | 0.0 | 4.5 | −0.6 | 3.5
50 to 75 beds | 58 | −0.3 | 0.0 | 4.5 | 0.1 | 4.3
Over 75 beds | 39 | −0.4 | 0.0 | 4.5 | 1.3 | 5.5

3. Results

Table 15 above displays the results of our analysis. The table groups IPFs into the categories listed below based on characteristics provided in the Online Survey and Certification and Reporting (OSCAR) file and the FY 2002 cost report data from HCRIS:

• Facility Type

• Location

• Teaching Status Adjustment

• Census Region

• Size

The top row of the table shows the overall impact on the 1,806 IPFs included in the analysis.

In column 3, we present the effects of the revised standardization factor (see section V.B.3 of this final rule for a discussion of this revision). This is defined to be the comparison of the simulated implementation year payments under the revised standardization factor to the simulated implementation year payments under the original standardization factor. In aggregate, the revision is projected to result in a 0.3 percent decrease in overall payments to IPFs. There are small distributional effects among different categories of IPFs. For example, urban and rural government psychiatric hospitals and psychiatric hospitals with over 75 beds will receive the largest decrease of 0.5 percent, while rural for-profit psychiatric hospitals and psychiatric hospitals with fewer than 12 beds will receive the smallest decrease of 0.2 percent.

In column 4, we present the effects of the budget-neutral update to the labor-related share and the wage index adjustment under the new CBSA geographic area definitions announced by OMB in June 2003. This is a comparison of the simulated implementation year payments under revised budget neutral factor and labor-related share and wage index under CBSA classification to the simulated implementation year payments under revised budget neutral factor and labor-related share and wage index under current MSA classifications. There is no projected change in aggregate payments to IPFs, as indicated in the first row of column 4. There would, however, be small distributional effects among different categories of IPFs. For example, several categories of IPFs, such as IPFs located in the South Atlantic and West North Central regions, and psychiatric hospitals with between 12 and 25 beds, will experience a 0.2 percent decrease in payments. Rural non-profit hospitals and hospitals located in the Pacific region will receive the largest increase of 0.3 percent.

In column 5, we present the effects of the market basket update to the IPF PPS payments by applying the TEFRA and PPS updates to payments under revised budget neutral factor and labor-related share and wage index under CBSA classification. In the aggregate this update is projected to be a 4.5 percent increase in overall payments to IPFs. This 4.5 percent reflects the current blend of the 4.6 percent update for IPF TEFRA payments and the 4.3 percent update for the IPF PPS payments.

In column 6, we present the effects of the payment change in transition blend percentages to transition year 2 (TEFRA Rate Percentage = 50 percent, IPF PPS Federal Rate Percentage = 50 percent) from transition year 1 (TEFRA Rate Percentage = 75 percent, IPF PPS Federal Rate Percentage = 25 percent) of the IPF PPS under revised budget neutral factor, labor-related share and wage index under CBSA classification, and TEFRA and PPS updates to RY 2007. The overall aggregate effect, across all hospital groups, is projected to be a 0.2 percent decrease in payments to IPFs. There are distributional effects of these changes among different categories of IPFs. The largest increases will be among government psychiatric hospitals, with rural government hospitals receiving a 12.0 percent increase and urban government hospitals receiving a 10.9 percent increase. Alternatively, psychiatric hospitals and units with fewer than 12 beds will receive the largest decreases of 3.8 percent and 4.5 percent, respectively.

Column 7 compares our estimates of the changes reflected in this final rule for RY 2007, to our estimates of payments in the implementation year (without these changes). This column reflects all RY 2007 changes relative to the implementation year (as shown in columns 3 through 6). The average increase for all IPFs is approximately 4.0 percent. This increase includes the effects of the market basket updates resulting in a 4.5 percent increase in total RY 2007 payments. It also includes a 0.3 percent decrease in RY 2007 payments for the standardization factor revision and a 0.2 percent decrease in RY 2007 payments for the transition blend.

Overall, the largest payment increase is projected to be among government IPFs. Urban government psychiatric hospitals will receive a 15.4 percent increase and rural government psychiatric hospitals will receive a 16.3 percent increase. Psychiatric hospitals with fewer than 12 beds will receive a 0.6 percent increase and psychiatric units with fewer than 12 beds will receive a 0.5 percent decrease.

4. Effect on the Medicare Program

Based on actuarial projections resulting from our experience with other PPSs, we estimate that Medicare spending (total Medicare program payments) for IPF services over the next 5 years would be as follows:

Table 16.—Estimated Payments
Rate year | Dollars in millions
July 1, 2006 to June 30, 2007 | $4,299
July 1, 2007 to June 30, 2008 | 4,427
July 1, 2008 to June 30, 2009 | 4,613
July 1, 2009 to June 30, 2010 | 4,813
July 1, 2010 to June 30, 2011 | 5,033

These estimates are based on the current estimate of increases in the excluded hospital with capital market basket as follows:

• 3.4 percent for RY 2007;

• 3.1 percent for RY 2008;

• 2.8 percent for RY 2009;

• 2.3 percent for RY 2010; and

• 2.7 percent for RY 2011.

We estimate that there would be a change in fee-for-service Medicare beneficiary enrollment as follows:

• −0.3 percent in RY 2007;

• 0.1 percent in RY 2008;

• 0.2 percent in RY 2009;

• −0.3 percent in RY 2010; and

• −0.2 percent in RY 2011.

In the implementation year we estimated aggregate payments under the IPF PPS to equal the estimated aggregate payments that would be made if the IPF PPS were not implemented. Our methodology for estimating payments for purposes of the budget-neutrality calculations uses the best available data.

We will evaluate the accuracy of the assumptions used to compute the budget-neutrality calculation in the implementation year. We intend to analyze claims and cost report data from the implementation year of the IPF PPS to determine whether the factors used to develop the Federal per diem base rate are not significantly different from the actual results experienced in that year. We plan to compare payments under the final IPF PPS (which relies on an estimate of cost-based TEFRA payments using historical data from a base year and assumptions that trend the data to the initial implementation period) to estimated cost-based TEFRA payments based on actual data from the first year of the IPF PPS. If we find that an adjustment is necessary, the percent difference (either positive or negative) would be applied prospectively to the established prospective payment rates to ensure the rates accurately reflect the payment levels intended by the statute.

Section 124 of Pub. L. 106-113 provides the Secretary broad authority to make an adjustment. We intend to perform this analysis within the first 5 years of the implementation of the IPF PPS.

5. Effect on Beneficiaries

Under the IPF PPS, IPFs will receive payment based on the average resources consumed by patients for each day. We do not expect changes in the quality of care or access to services for Medicare beneficiaries under the IPF PPS. In fact, we believe that access to IPF services will be enhanced due to the patient and facility level adjustment factors, all of which are intended to adequately reimburse IPFs for expensive cases. Finally, the stop-loss policy is intended to assist IPFs during the transition. In addition, we expect that setting payment rates prospectively for IPF services would enhance the efficiency of the Medicare program.

6. Computer Hardware and Software

We do not anticipate that IPFs would incur additional systems operating costs in order to effectively participate in the IPF PPS. We believe that IPFs and CAHs possess the computer hardware capability to handle the billing requirements under the IPF PPS. Our belief is based on indications that approximately 99 percent of hospital inpatient claims are submitted electronically. In addition, we are not adopting significant changes in claims processing.

C. Accounting Statement

As required by OMB Circular A-4 (available at http://www.whitehouse.gov/omb/circulars/a004/a-4.pdf), in Table 17 below, we have prepared an accounting statement showing the classification of the expenditures associated with the provisions of this final rule. This table provides our best estimate of the increase in Medicare payments under the IPF PPS as a result of the changes presented in this final rule based on the data for 1,806 IPFs in our database. All expenditures are classified as transfers to Medicare providers (that is, IPFs).

Table 17.—Accounting Statement: Classification of Estimated Expenditures, From the 2006 IPF PPS RY to the 2007 IPF PPS RY
[In millions]
Category | Transfers
Annualized Monetized Transfers | $170.
From Whom To Whom? | Federal Government To IPFs Medicare Providers.

D. Alternatives Considered

We considered the following alternatives in developing the update to the IPF PPS:

One option we considered was incorporating a transition from MSA-based labor market definitions to CBSA-based labor market definitions for the purpose of applying the area wage index. As stated in section VI.C.1.e of this final rule, we are not adopting a transition policy here because IPFs are already in a transition from reasonable cost based reimbursement to IPF PPS payments. In addition, as evident in Table 15 above, the wage index change does not appear to have a large impact on IPFs.

We also considered increasing our outlier percentage so that outlier payments would be projected to be 3 percent (or higher) of total PPS payments. However, this approach would not target the truly costly cases. Instead, implementing such a policy would have the effect of lowering the fixed dollar loss threshold amount, therefore spreading outlier payments across more IPFs. In addition, the Federal per diem base rate would have to be reduced by another percentage point.

In this final rule, we used the best available complete data set (that is, FY 2002 claims and cost report data) to assess the impact of the various policy changes. As previously stated, we will not know the true impact of the wage index changes, the transition blend period, or the market basket increases until we analyze IPF PPS data.

We considered alternative policies in order to reduce financial risk to facilities in the event that they experience substantial reductions in Medicare payments during the period of transition to the IPF PPS. The stop-loss adjustment is applied to the IPF PPS portion of Medicare payments during the transition. We estimate that about 10 percent of IPFs would receive additional payments under the stop-loss policy.

The 70 percent of TEFRA stop-loss policy required a reduction in the per diem rate to make the stop-loss policy budget neutral during the implementation year. As a result, in the November 2004 IPF PPS final rule, we made a reduction to the Federal per diem base rate of 0.4 percent for budget neutrality.

In developing this final rule, we again considered an 80 percent stop-loss policy for RY 2007. Adopting an 80 percent policy would require a reduction in the Federal per diem base rate of over 2.5 percent, and we estimate that about 29 percent of IPFs would receive additional payments. We chose to stay with the 70 percent policy for the same reasons discussed in the November 2004 IPF PPS final rule. Specifically, the 70 percent stop-loss policy targets the IPFs that experience the greatest impact relative to current payments, and it limits the size of the reduction to the Federal per diem base rate.

In accordance with the provisions of Executive Order 12866, this rule was previously reviewed by OMB.

List of Subjects

42 CFR Part 412

Administrative practice and procedure, Health facilities, Medicare, Puerto Rico, Reporting and recordkeeping requirements.

42 CFR Part 424

Emergency medical services, Health facilities, Health professions, Medicare, Reporting and recordkeeping requirements.

For the reasons set forth in the preamble, the Centers for Medicare & Medicaid Services amends 42 CFR chapter IV as follows:

PART 412—PROSPECTIVE PAYMENT SYSTEMS FOR HOSPITAL SERVICES

1. The authority citation for part 412 is revised to read as follows:

Authority: Secs. 1102 and 1871 of the Social Security Act (42 U.S.C. 1302 and 1395hh), Sec. 124 of Pub. L. 106-113, 113 Stat. 1515, and Sec. 405 of Pub. L. 108-173, 117 Stat. 2266.

2. Amend § 412.27 by revising paragraph (b) to read as follows:

§ 412.27 Excluded psychiatric units: Additional requirements.

* * * * *

(b) Furnish, through the use of qualified personnel, psychological services, social work services, psychiatric nursing, and therapeutic activities.

* * * * *

3. Section 412.402 is amended by—

A. Republishing the introductory text.

B. Removing the definition of “Fixed dollar loss threshold.”

C. Adding the definitions of “Fixed dollar loss threshold amount,” and “new graduate medical education program” in alphabetical order.

D. Revising the definitions of “Qualifying emergency department,” “Rural area,” and “Urban area.”

The revisions and additions read as follows:

§ 412.402 Definitions.

As used in this subpart—

* * * * *

Fixed dollar loss threshold amount means a dollar amount which, when added to the Federal payment amount for a case, the estimated costs of a case must exceed in order for the case to qualify for an outlier payment.

* * * * *

New graduate medical education program means a medical education program that receives initial accreditation by the appropriate accrediting body or begins training residents on or after November 15, 2004.

* * * * *

Qualifying emergency department means an emergency department that is staffed and equipped to furnish a comprehensive array of emergency services and meeting the definitions of a dedicated emergency department as specified in § 489.24(b) of this chapter and the definition of “provider-based status” as specified in § 413.65 of this chapter.

Rural area means for cost reporting periods beginning January 1, 2005, with respect to discharges occurring during the period covered by such cost reports but before July 1, 2006, an area as defined in § 412.62(f)(1)(iii). For discharges occurring on or after July 1, 2006, rural area means an area as defined in § 412.64(b)(1)(ii)(C).

Urban area means for cost reporting periods beginning on or after January 1, 2005, with respect to discharges occurring during the period covered by such cost reports but before July 1, 2006, an area as defined in § 412.62(f)(1)(ii). For discharges occurring on or after July 1, 2006, urban area means an area as defined in § 412.64(b)(1)(ii)(A) and § 412.64(b)(1)(ii)(B).

4. Section 412.424 is amended by—

A. Revising paragraph (d)(l)(iii).

B. Republishing the heading of paragraph (d)(1)(v).

C. Revising paragraph (d)(1)(v)(A).

D. Adding paragraph (d)(2) introductory text.

E. Removing and reserving paragraph (d)(2)(iii).

F. Revising paragraphs (d)(3)(i) introductory text and (d)(3)(i)(A).

The revisions and additions read as follows:

§ 412.424 Methodology for calculating the Federal per diem payment amount.

* * * * *

(d) * * *

(1) * * *

(iii) Teaching adjustment. CMS adjusts the Federal per diem base rate by a factor to account for indirect teaching costs.

(A) An inpatient psychiatric facility's teaching adjustment is based on the ratio of the number of full-time equivalent residents training in the inpatient psychiatric facility divided by the facility's average daily census.

(B) Residents with less than full-time status and residents rotating through the inpatient psychiatric facility for less than a full year will be counted in proportion to the time they spend in the inpatient psychiatric facility.

(C) Except as described in paragraph (d)(1)(iii)(D) of this section, the actual number of current year full-time equivalent residents used in calculating the teaching adjustment is limited to the number of full-time equivalent residents in the inpatient psychiatric facility's most recently filed cost report filed with its fiscal intermediary before November 15, 2004 (base year).

(D) If the inpatient psychiatric facility first begins training residents in a new approved graduate medical education program after November 15, 2004, the number of full-time equivalent residents determined under paragraph (d)(1)(iii)(C) of this section may be adjusted using the method described in § 413.79(e)(1)(i) and (ii) of this chapter.

(E) The teaching adjustment is made on a claim basis as an interim payment, and the final payment in full for the claim is made during the final settlement of the cost report.

* * * * *

(v) Adjustment for IPF with qualifying emergency departments. (A) CMS adjusts the Federal per diem base rate to account for the costs associated with maintaining a qualifying emergency department. A qualifying emergency department is staffed and equipped to furnish a comprehensive array of emergency services (medical and psychiatric) and meets the requirements of § 489.24(b) and § 413.65 of this chapter.

* * * * *

(2) Patient-level adjustments. The inpatient psychiatric facility must identify a principal psychiatric diagnosis as specified in § 412.27(a) for each patient. CMS adjusts the Federal per diem base rate by a factor to account for the diagnosis-related group assignment associated with the principal diagnosis, as specified by CMS.

* * * * *

(3) Other adjustments. (i) Outlier payments. CMS provides an outlier payment if an inpatient psychiatric facility's estimated total cost for a case exceeds a fixed dollar loss threshold amount for an inpatient psychiatric facility as defined in § 412.402 plus the Federal payment amount for the case.

(A) The fixed dollar loss threshold amount is adjusted for the inpatient psychiatric facility's adjustments for wage area, teaching, rural locations, and cost of living adjustment for facilities located in Alaska and Hawaii.

* * * * *

§ 412.426 [Amended]

5. In § 412.426, paragraph (a) introductory text is amended by removing the reference “§ 412.424(c)” and adding the reference “§ 412.424(d)” in its place.

6. Section 412.428 is amended by—

A. Republishing the introductory text.

B. Revising paragraph (b) and (d).

C. Adding a new paragraph (g).

D. Adding a new paragraph (h).

The revision and additions reads as follows:

§ 412.428 Publication of updates to the inpatient psychiatric facility prospective payment system.

CMS will publish annually in the Federal Register information pertaining to updates to the inpatient psychiatric facility prospective payment system. This information includes:

* * * * *

(b)(1) For discharges occurring on or after January 1, 2005 but before July 1, 2006, the rate of increase factor, described in § 412.424(a)(2)(iii), for the Federal portion of the inpatient psychiatric facility's payment is based on the excluded hospital with capital market basket under the update methodology described in section 1886(b)(3)(B)(ii) of the Act for each year.

(2) For discharges occurring on or after July 1, 2006, the rate of increase factor for the Federal portion of the inpatient psychiatric facility's payment is based on the Rehabilitation, Psychiatric, and Long-Term Care (RPL) market basket.

(3) For discharges occurring on or after January 1, 2005 but before October 1, 2005, the rate of increase factor, described in § 412.424(a)(2)(iii), for the reasonable cost portion of the inpatient psychiatric facility's payment is based on the 1997-based excluded hospital market basket under the updated methodology described in section 1886(b)(3)(B)(ii) of the Act for each year.

(4) For discharges occurring on or after October 1, 2005, the rate of increase factor for the reasonable cost portion of the inpatient psychiatric facility's payment is based on the 2002-based excluded hospital market basket.

* * * * *

(d) Updates to the fixed dollar loss threshold amount in order to maintain the appropriate outlier percentage.

* * * * *

(g) Update the national urban and rural cost to charge ratio median and ceilings. CMS will apply the national cost to charge ratio to—

(1) New inpatient psychiatric facilities that have not submitted their first Medicare cost report.

(2) Inpatient psychiatric facilities whose operating or capital cost to charge ratio is in excess of 3 standard deviations above the corresponding national geometric mean.

(3) Other inpatient psychiatric facilities for which the fiscal intermediary obtains inaccurate or incomplete data with which to calculate either an operating or capital cost to charge ratio or both.

(h) Update the cost of living adjustment factor if appropriate.

PART 424—CONDITIONS FOR MEDICARE PAYMENT

7. The authority citation for part 424 continues to read as follows:

Authority: Secs. 1102 and 1871 of the Social Security Act (42 U.S.C. 1302 and 1395hh).

8. Section 424.14 is amended by—

A. Revising the heading.

B. Adding a new paragraph (c)(3).

C. Revising paragraph (d)(2).

The addition and revisions read as follows:

§ 424.14 Requirements for inpatient services of inpatient psychiatric facilities.

* * * * *

(c) * * *

(3) The patient continues to need, on a daily basis, active inpatient psychiatric care (furnished directly by or requiring the supervision of inpatient psychiatric facility personnel) or other professional services that can only be provided on an inpatient basis.

(d) * * *

(2) The first recertification is required as of the 12th day of hospitalization. Subsequent recertifications are required at intervals established by the UR committee (on a case-by-case basis if it so chooses), but no less frequently than every 30 days.

* * * * *

(Catalog of Federal Domestic Assistance Program No. 93.778, Medical Assistance Program)

(Catalog of Federal Domestic Assistance Program No. 93.773, Medicare—Hospital Insurance; and Program No. 93.774, Medicare—Supplementary Medical Insurance Program)

Dated: April 19, 2006.
Mark B. McClellan,
Administrator, Centers for Medicare & Medicaid Services.
Approved: April 28, 2006.
Michael O. Leavitt,
Secretary.

Addendum A—Rate and Adjustment Factors

Per Diem Rate
Federal Per Diem Base Rate | $595.09
Labor Share (0.75665) | 450.27
Non-Labor Share (0.24335) | 144.82

Fixed Dollar Loss Threshold Amount
$6200

Facility Adjustments
Rural Adjustment Factor | 1.17.
Teaching Adjustment Factor | 0.5150.
Wage Index | Pre-reclass Hospital Wage Index (FY2006).

Cost of Living Adjustments (COLAs)
Alaska | 1.25
Hawaii:
Honolulu County | 1.25
Hawaii County | 1.165
Kauai County | 1.2325
Maui County | 1.2375
Kalawao County | 1.2375

Patient Adjustments
ECT—Per Treatment | $256.20

Variable Per Diem Adjustments
| Adjustment factor
Day 1—Facility Without a Qualifying Emergency Department | 1.19
Day 1—Facility With a Qualifying Emergency Department | 1.31
Day 2 | 1.12
Day 3 | 1.08
Day 4 | 1.05
Day 5 | 1.04
Day 6 | 1.02
Day 7 | 1.01
Day 8 | 1.01
Day 9 | 1.00
Day 10 | 1.00
Day 11 | 0.99
Day 12 | 0.99
Day 13 | 0.99
Day 14 | 0.99
Day 15 | 0.98
Day 16 | 0.97
Day 17 | 0.97
Day 18 | 0.96
Day 19 | 0.95
Day 20 | 0.95
Day 21 | 0.95
After Day 21 | 0.92

Age Adjustments
Age (in years) | Adjustment factor
Under 45 | 1.00
45 and under 50 | 1.01
50 and under 55 | 1.02
55 and under 60 | 1.04
60 and under 65 | 1.07
65 and under 70 | 1.10
70 and under 75 | 1.13
75 and under 80 | 1.15
80 and over | 1.17

DRG Adjustments
DRG | DRG definition | Adjustment factor
DRG 424 | O.R. Procedure with Principal Diagnosis of Mental Illness | 1.22
DRG 425 | Acute Adjustment Reaction & Psychosocial Dysfunction | 1.05
DRG 426 | Depressive Neurosis | 0.99
DRG 427 | Neurosis, Except Depressive | 1.02
DRG 428 | Disorders of Personality & Impulse Control | 1.02
DRG 429 | Organic Disturbances & Mental Retardation | 1.03
DRG 430 | Psychosis | 1.00
DRG 431 | Childhood Mental Disorders | 0.99
DRG 432 | Other Mental Disorders Diagnoses | 0.92
DRG 433 | Alcohol/Drug Abuse or Dependence Leave Against Medical Advice (LAMA) | 0.97
DRG 521 | Alcohol/Drug Abuse or Dependence with Comorbid Conditions | 1.02
DRG 522 | Alcohol/Drug Abuse or Dependence with Rehabilitation Therapy without Comorbid Conditions | 0.98
DRG 523 | Alcohol/Drug Abuse or Dependence without Rehabilitation Therapy | 0.88
DRG 12 | Degenerative Nervous System Disorders without Comorbid Conditions | 1.05
DRG 23 | Non-traumatic Stupor & Coma | 1.07

Comorbidity Adjustments
Comorbidity | Adjustment factor
Developmental Disabilities | 1.04
Coagulation Factor Deficit | 1.13
Tracheostomy | 1.06
Eating and Conduct Disorders | 1.12
Infectious Diseases | 1.07
Renal Failure, Acute | 1.11
Renal Failure, Chronic | 1.11
Oncology Treatment | 1.07
Uncontrolled Diabetes Mellitus with or without Complications | 1.05
Severe Protein Calorie Malnutrition | 1.13
Drug/Alcohol Induced Mental Disorders | 1.03
Cardiac Conditions | 1.11
Gangrene | 1.10
Chronic Obstructive Pulmonary Disease | 1.12
Artificial Openings - Digestive & Urinary | 1.08
Severe Musculoskeletal & Connective Tissue Diseases | 1.09
Poisoning | 1.11

Addendum B—RY 2007 IPF PPS Wage Index Table

SSA State/County Code | County name | MSA No. | MSA urban/rural | 2006 MSA-based WI | CBSA No. | CBSA urban/rural | 2006 CBSA-based WI
01000 | Autauga County, Alabama | 5240 | Urban | 0.8618 | 33860 | Urban | 0.8618
01010 | Baldwin County, Alabama | 5160 | Urban | 0.7861 | 99901 | Rural | 0.7446
01020 | Barbour County, Alabama | 01 | Rural | 0.7432 | 99901 | Rural | 0.7446
01030 | Bibb County, Alabama | 01 | Rural | 0.7432 | 13820 | Urban | 0.8959
01040 | Blount County, Alabama | 1000 | Urban | 0.9000 | 13820 | Urban | 0.8959
01050 | Bullock County, Alabama | 01 | Rural | 0.7432 | 99901 | Rural | 0.7446
01060 | Butler County, Alabama | 01 | Rural | 0.7432 | 99901 | Rural | 0.7446
01070 | Calhoun County, Alabama | 0450 | Urban | 0.7682 | 11500 | Urban | 0.7682
01080 | Chambers County, Alabama | 01 | Rural | 0.7432 | 99901 | Rural | 0.7446
01090 | Cherokee County, Alabama | 01 | Rural | 0.7432 | 99901 | Rural | 0.7446
01100 | Chilton County, Alabama | 01 | Rural | 0.7432 | 13820 | Urban | 0.8959
01110 | Choctaw County, Alabama | 01 | Rural | 0.7432 | 99901 | Rural | 0.7446
01120 | Clarke County, Alabama | 01 | Rural | 0.7432 | 99901 | Rural | 0.7446
01130 | Clay County, Alabama | 01 | Rural | 0.7432 | 99901 | Rural | 0.7446
01140 | Cleburne County, Alabama | 01 | Rural | 0.7432 | 99901 | Rural | 0.7446
01150 | Coffee County, Alabama | 01 | Rural | 0.7432 | 99901 | Rural | 0.7446
01160 | Colbert County, Alabama | 2650 | Urban | 0.8272 | 22520 | Urban | 0.8272
01170 | Conecuh County, Alabama | 01 | Rural | 0.7432 | 99901 | Rural | 0.7446
01180 | Coosa County, Alabama | 01 | Rural | 0.7432 | 99901 | Rural | 0.7446
01190 | Covington County, Alabama | 01 | Rural | 0.7432 | 99901 | Rural | 0.7446
01200 | Crenshaw County, Alabama | 01 | Rural | 0.7432 | 99901 | Rural | 0.7446
01210 | Cullman County, Alabama | 01 | Rural | 0.7432 | 99901 | Rural | 0.7446
01220 | Dale County, Alabama | 2180 | Urban | 0.7701 | 99901 | Rural | 0.7446
01230 | Dallas County, Alabama | 01 | Rural | 0.7432 | 99901 | Rural | 0.7446
01240 | De Kalb County, Alabama | 01 | Rural | 0.7432 | 99901 | Rural | 0.7446
01250 | Elmore County, Alabama | 5240 | Urban | 0.8618 | 33860 | Urban | 0.8618
01260 | Escambia County, Alabama | 01 | Rural | 0.7432 | 99901 | Rural | 0.7446
01270 | Etowah County, Alabama | 2880 | Urban | 0.7938 | 23460 | Urban | 0.7938
01280 | Fayette County, Alabama | 01 | Rural | 0.7432 | 99901 | Rural | 0.7446
01290 | Franklin County, Alabama | 01 | Rural | 0.7432 | 99901 | Rural | 0.7446
01300 | Geneva County, Alabama | 01 | Rural | 0.7432 | 20020 | Urban | 0.7721
01310 | Greene County, Alabama | 01 | Rural | 0.7432 | 46220 | Urban | 0.8645
01320 | Hale County, Alabama | 01 | Rural | 0.7432 | 46220 | Urban | 0.8645
01330 | Henry County, Alabama | 01 | Rural | 0.7432 | 20020 | Urban | 0.7721
01340 | Houston County, Alabama | 2180 | Urban | 0.7701 | 20020 | Urban | 0.7721
01350 | Jackson County, Alabama | 01 | Rural | 0.7432 | 99901 | Rural | 0.7446
01360 | Jefferson County, Alabama | 1000 | Urban | 0.9000 | 13820 | Urban | 0.8959
01370 | Lamar County, Alabama | 01 | Rural | 0.7432 | 99901 | Rural | 0.7446
01380 | Lauderdale County, Alabama | 2650 | Urban | 0.8272 | 22520 | Urban | 0.8272
01390 | Lawrence County, Alabama | 2030 | Urban | 0.8469 | 19460 | Urban | 0.8469
01400 | Lee County, Alabama | 0580 | Urban | 0.8100 | 12220 | Urban | 0.8100
01410 | Limestone County, Alabama | 3440 | Urban | 0.9146 | 26620 | Urban | 0.9146
01420 | Lowndes County, Alabama | 01 | Rural | 0.7432 | 33860 | Urban | 0.8618
01430 | Macon County, Alabama | 01 | Rural | 0.7432 | 99901 | Rural | 0.7446
01440 | Madison County, Alabama | 3440 | Urban | 0.9146 | 26620 | Urban | 0.9146
01450 | Marengo County, Alabama | 01 | Rural | 0.7432 | 99901 | Rural | 0.7446
01460 | Marion County, Alabama | 01 | Rural | 0.7432 | 99901 | Rural | 0.7446
01470 | Marshall County, Alabama | 01 | Rural | 0.7432 | 99901 | Rural | 0.7446
01480 | Mobile County, Alabama | 5160 | Urban | 0.7861 | 33660 | Urban | 0.7891
01490 | Monroe County, Alabama | 01 | Rural | 0.7432 | 99901 | Rural | 0.7446
01500 | Montgomery County, Alabama | 5240 | Urban | 0.8618 | 33860 | Urban | 0.8618
01510 | Morgan County, Alabama | 2030 | Urban | 0.8469 | 19460 | Urban | 0.8469
01520 | Perry County, Alabama | 01 | Rural | 0.7432 | 99901 | Rural | 0.7446
01530 | Pickens County, Alabama | 01 | Rural | 0.7432 | 99901 | Rural | 0.7446
01540 | Pike County, Alabama | 01 | Rural | 0.7432 | 99901 | Rural | 0.7446
01550 | Randolph County, Alabama | 01 | Rural | 0.7432 | 99901 | Rural | 0.7446
01560 | Russell County, Alabama | 1800 | Urban | 0.8560 | 17980 | Urban | 0.8560
01570 | St Clair County, Alabama | 1000 | Urban | 0.9000 | 13820 | Urban | 0.8959
01580 | Shelby County, Alabama | 1000 | Urban | 0.9000 | 13820 | Urban | 0.8959
01590 | Sumter County, Alabama | 01 | Rural | 0.7432 | 99901 | Rural | 0.7446
01600 | Talladega County, Alabama | 01 | Rural | 0.7432 | 99901 | Rural | 0.7446
01610 | Tallapoosa County, Alabama | 01 | Rural | 0.7432 | 99901 | Rural | 0.7446
01620 | Tuscaloosa County, Alabama | 8600 | Urban | 0.8764 | 46220 | Urban | 0.8645
01630 | Walker County, Alabama | 01 | Rural | 0.7432 | 13820 | Urban | 0.8959
01640 | Washington County, Alabama | 01 | Rural | 0.7432 | 99901 | Rural | 0.7446
01650 | Wilcox County, Alabama | 01 | Rural | 0.7432 | 99901 | Rural | 0.7446
01660 | Winston County, Alabama | 01 | Rural | 0.7432 | 99901 | Rural | 0.7446
02013 | Aleutians County East, Alaska | 02 | Rural | 1.1888 | 99902 | Rural | 1.1977
02016 | Aleutians County West, Alaska | 02 | Rural | 1.1888 | 99902 | Rural | 1.1977
02020 | Anchorage County, Alaska | 0380 | Urban | 1.1784 | 11260 | Urban | 1.1895
02030 | Angoon County, Alaska | 02 | Rural | 1.1888 | 99902 | Rural | 1.1977
02040 | Barrow-North Slope County, Alaska | 02 | Rural | 1.1888 | 99902 | Rural | 1.1977
02050 | Bethel County, Alaska | 02 | Rural | 1.1888 | 99902 | Rural | 1.1977
02060 | Bristol Bay Borough County, Alaska | 02 | Rural | 1.1888 | 99902 | Rural | 1.1977
02068 | Denali County, Alaska | 02 | Rural | 1.1888 | 99902 | Rural | 1.1977
02070 | Bristol Bay County, Alaska | 02 | Rural | 1.1888 | 99902 | Rural | 1.1977
02080 | Cordova-Mc Carthy County, Alaska | 02 | Rural | 1.1888 | 99902 | Rural | 1.1977
02090 | Fairbanks County, Alaska | 02 | Rural | 1.1888 | 21820 | Urban | 1.1408
02100 | Haines County, Alaska | 02 | Rural | 1.1888 | 99902 | Rural | 1.1977
02110 | Juneau County, Alaska | 02 | Rural | 1.1888 | 99902 | Rural | 1.1977
02120 | Kenai-Cook Inlet County, Alaska | 02 | Rural | 1.1888 | 99902 | Rural | 1.1977
02122 | Kenai Peninsula Borough, Alaska | 02 | Rural | 1.1888 | 99902 | Rural | 1.1977
02130 | Ketchikan County, Alaska | 02 | Rural | 1.1888 | 99902 | Rural | 1.1977
02140 | Kobuk County, Alaska | 02 | Rural | 1.1888 | 99902 | Rural | 1.1977
02150 | Kodiak County, Alaska | 02 | Rural | 1.1888 | 99902 | Rural | 1.1977
02160 | Kuskokwin County, Alaska | 02 | Rural | 1.1888 | 99902 | Rural | 1.1977
02164 | Lake and Peninsula Borough, Alaska | 02 | Rural | 1.1888 | 99902 | Rural | 1.1977
02170 | Matanuska County, Alaska | 02 | Rural | 1.1888 | 11260 | Urban | 1.1895
02180 | Nome County, Alaska | 02 | Rural | 1.1888 | 99902 | Rural | 1.1977
02185 | North Slope Borough, Alaska | 02 | Rural | 1.1888 | 99902 | Rural | 1.1977
02188 | Northwest Arctic Borough, Alaska | 02 | Rural | 1.1888 | 99902 | Rural | 1.1977
02190 | Outer Ketchikan County, Alaska | 02 | Rural | 1.1888 | 99902 | Rural | 1.1977
02200 | Prince Of Wales County, Alaska | 02 | Rural | 1.1888 | 99902 | Rural | 1.1977
02201 | Prince of Wales-Outer Ketchikan Census Area, Alaska | 02 | Rural | 1.1888 | 99902 | Rural | 1.1977
02210 | Seward County, Alaska | 02 | Rural | 1.1888 | 99902 | Rural | 1.1977
02220 | Sitka County, Alaska | 02 | Rural | 1.1888 | 99902 | Rural | 1.1977
02230 | Skagway-Yakutat County, Alaska | 02 | Rural | 1.1888 | 99902 | Rural | 1.1977
02231 | Skagway-Yakutat-Angoon Census Area, Alaska | 02 | Rural | 1.1888 | 99902 | Rural | 1.1977
02232 | Skagway-Hoonah-Angoon Census Area, Alaska | 02 | Rural | 1.1888 | 99902 | Rural | 1.1977
02240 | Southeast Fairbanks County, Alaska | 02 | Rural | 1.1888 | 99902 | Rural | 1.1977
02250 | Upper Yukon County, Alaska | 02 | Rural | 1.1888 | 99902 | Rural | 1.1977
02260 | Valdz-Chitna-Whitier County, Alaska | 02 | Rural | 1.1888 | 99902 | Rural | 1.1977
02261 | Valdex-Cordove Census Area, Alaska | 02 | Rural | 1.1888 | 99902 | Rural | 1.1977
02270 | Wade Hampton County, Alaska | 02 | Rural | 1.1888 | 99902 | Rural | 1.1977
02280 | Wrangell-Petersburg County, Alaska | 02 | Rural | 1.1888 | 99902 | Rural | 1.1977
02282 | Yakutat Borough, Alaska | 02 | Rural | 1.1888 | 99902 | Rural | 1.1977
02290 | Yukon-Koyukuk County, Alaska | 02 | Rural | 1.1888 | 99902 | Rural | 1.1977
03000 | Apache County, Arizona | 03 | Rural | 0.9045 | 99903 | Rural | 0.8768
03010 | Cochise County, Arizona | 03 | Rural | 0.9045 | 99903 | Rural | 0.8768
03020 | Coconino County, Arizona | 2620 | Urban | 1.1845 | 22380 | Urban | 1.2092
03030 | Gila County, Arizona | 03 | Rural | 0.9045 | 99903 | Rural | 0.8768
03040 | Graham County, Arizona | 03 | Rural | 0.9045 | 99903 | Rural | 0.8768
03050 | Greenlee County, Arizona | 03 | Rural | 0.9045 | 99903 | Rural | 0.8768
03055 | La Paz County, Arizona | 03 | Rural | 0.9045 | 99903 | Rural | 0.8768
03060 | Maricopa County, Arizona | 6200 | Urban | 1.0127 | 38060 | Urban | 1.0127
03070 | Mohave County, Arizona | 4120 | Urban | 1.1155 | 99903 | Rural | 0.8768
03080 | Navajo County, Arizona | 03 | Rural | 0.9045 | 99903 | Rural | 0.8768
03090 | Pima County, Arizona | 8520 | Urban | 0.9007 | 46060 | Urban | 0.9007
03100 | Pinal County, Arizona | 6200 | Urban | 1.0127 | 38060 | Urban | 1.0127
03110 | Santa Cruz County, Arizona | 03 | Rural | 0.9045 | 99903 | Rural | 0.8768
03120 | Yavapai County, Arizona | 03 | Rural | 0.9045 | 39140 | Urban | 0.9869
03130 | Yuma County, Arizona | 9360 | Urban | 0.9126 | 49740 | Urban | 0.9126
04000 | Arkansas County, Arkansas | 04 | Rural | 0.7744 | 99904 | Rural | 0.7466
04010 | Ashley County, Arkansas | 04 | Rural | 0.7744 | 99904 | Rural | 0.7466
04020 | Baxter County, Arkansas | 04 | Rural | 0.7744 | 99904 | Rural | 0.7466
04030 | Benton County, Arkansas | 2580 | Urban | 0.8661 | 22220 | Urban | 0.8661
04040 | Boone County, Arkansas | 04 | Rural | 0.7744 | 99904 | Rural | 0.7466
04050 | Bradley County, Arkansas | 04 | Rural | 0.7744 | 99904 | Rural | 0.7466
04060 | Calhoun County, Arkansas | 04 | Rural | 0.7744 | 99904 | Rural | 0.7466
04070 | Carroll County, Arkansas | 04 | Rural | 0.7744 | 99904 | Rural | 0.7466
04080 | Chicot County, Arkansas | 04 | Rural | 0.7744 | 99904 | Rural | 0.7466
04090 | Clark County, Arkansas | 04 | Rural | 0.7744 | 99904 | Rural | 0.7466
04100 | Clay County, Arkansas | 04 | Rural | 0.7744 | 99904 | Rural | 0.7466
04110 | Cleburne County, Arkansas | 04 | Rural | 0.7744 | 99904 | Rural | 0.7466
04120 | Cleveland County, Arkansas | 04 | Rural | 0.7744 | 38220 | Urban | 0.8680
04130 | Columbia County, Arkansas | 04 | Rural | 0.7744 | 99904 | Rural | 0.7466
04140 | Conway County, Arkansas | 04 | Rural | 0.7744 | 99904 | Rural | 0.7466
04150 | Craighead County, Arkansas | 3700 | Urban | 0.7911 | 27860 | Urban | 0.7911
04160 | Crawford County, Arkansas | 2720 | Urban | 0.8246 | 22900 | Urban | 0.8230
04170 | Crittenden County, Arkansas | 4920 | Urban | 0.9416 | 32820 | Urban | 0.9397
04180 | Cross County, Arkansas | 04 | Rural | 0.7744 | 99904 | Rural | 0.7466
04190 | Dallas County, Arkansas | 04 | Rural | 0.7744 | 99904 | Rural | 0.7466
04200 | Desha County, Arkansas | 04 | Rural | 0.7744 | 99904 | Rural | 0.7466
04210 | Drew County, Arkansas | 04 | Rural | 0.7744 | 99904 | Rural | 0.7466
04220 | Faulkner County, Arkansas | 4400 | Urban | 0.8747 | 30780 | Urban | 0.8747
04230 | Franklin County, Arkansas | 04 | Rural | 0.7744 | 22900 | Urban | 0.8230
04240 | Fulton County, Arkansas | 04 | Rural | 0.7744 | 99904 | Rural | 0.7466
04250 | Garland County, Arkansas | 04 | Rural | 0.7744 | 26300 | Urban | 0.9005
04260 | Grant County, Arkansas | 04 | Rural | 0.7744 | 30780 | Urban | 0.8747
04270 | Greene County, Arkansas | 04 | Rural | 0.7744 | 99904 | Rural | 0.7466
04280 | Hempstead County, Arkansas | 04 | Rural | 0.7744 | 99904 | Rural | 0.7466
04290 | Hot Spring County, Arkansas | 04 | Rural | 0.7744 | 99904 | Rural | 0.7466
04300 | Howard County, Arkansas | 04 | Rural | 0.7744 | 99904 | Rural | 0.7466
04310 | Independence County, Arkansas | 04 | Rural | 0.7744 | 99904 | Rural | 0.7466
04320 | Izard County, Arkansas | 04 | Rural | 0.7744 | 99904 | Rural | 0.7466
04330 | Jackson County, Arkansas | 04 | Rural | 0.7744 | 99904 | Rural | 0.7466
04340 | Jefferson County, Arkansas | 6240 | Urban | 0.8680 | 38220 | Urban | 0.8680
04350 | Johnson County, Arkansas | 04 | Rural | 0.7744 | 99904 | Rural | 0.7466
04360 | Lafayette County, Arkansas | 04 | Rural | 0.7744 | 99904 | Rural | 0.7466
04370 | Lawrence County, Arkansas | 04 | Rural | 0.7744 | 99904 | Rural | 0.7466
04380 | Lee County, Arkansas | 04 | Rural | 0.7744 | 99904 | Rural | 0.7466
04390 | Lincoln County, Arkansas | 04 | Rural | 0.7744 | 38220 | Urban | 0.8680
04400 | Little River County, Arkansas | 04 | Rural | 0.7744 | 99904 | Rural | 0.7466
04410 | Logan County, Arkansas | 04 | Rural | 0.7744 | 99904 | Rural | 0.7466
04420 | Lonoke County, Arkansas | 4400 | Urban | 0.8747 | 30780 | Urban | 0.8747
04430 | Madison County, Arkansas | 04 | Rural | 0.7744 | 22220 | Urban | 0.8661
04440 | Marion County, Arkansas | 04 | Rural | 0.7744 | 99904 | Rural | 0.7466
04450 | Miller County, Arkansas | 8360 | Urban | 0.8283 | 45500 | Urban | 0.8283
04460 | Mississippi County, Arkansas | 04 | Rural | 0.7744 | 99904 | Rural | 0.7466
04470 | Monroe County, Arkansas | 04 | Rural | 0.7744 | 99904 | Rural | 0.7466
04480 | Montgomery County, Arkansas | 04 | Rural | 0.7744 | 99904 | Rural | 0.7466
04490 | Nevada County, Arkansas | 04 | Rural | 0.7744 | 99904 | Rural | 0.7466
04500 | Newton County, Arkansas | 04 | Rural | 0.7744 | 99904 | Rural | 0.7466
04510 | Ouachita County, Arkansas | 04 | Rural | 0.7744 | 99904 | Rural | 0.7466
04520 | Perry County, Arkansas | 04 | Rural | 0.7744 | 30780 | Urban | 0.8747
04530 | Phillips County, Arkansas | 04 | Rural | 0.7744 | 99904 | Rural | 0.7466
04540 | Pike County, Arkansas | 04 | Rural | 0.7744 | 99904 | Rural | 0.7466
04550 | Poinsett County, Arkansas | 04 | Rural | 0.7744 | 27860 | Urban | 0.7911
04560 | Polk County, Arkansas | 04 | Rural | 0.7744 | 99904 | Rural | 0.7466
04570 | Pope County, Arkansas | 04 | Rural | 0.7744 | 99904 | Rural | 0.7466
04580 | Prairie County, Arkansas | 04 | Rural | 0.7744 | 99904 | Rural | 0.7466
04590 | Pulaski County, Arkansas | 4400 | Urban | 0.8747 | 30780 | Urban | 0.8747
04600 | Randolph County, Arkansas | 04 | Rural | 0.7744 | 99904 | Rural | 0.7466
04610 | St Francis County, Arkansas | 04 | Rural | 0.7744 | 99904 | Rural | 0.7466
04620 | Saline County, Arkansas | 4400 | Urban | 0.8747 | 30780 | Urban | 0.8747
04630 | Scott County, Arkansas | 04 | Rural | 0.7744 | 99904 | Rural | 0.7466
04640 | Searcy County, Arkansas | 04 | Rural | 0.7744 | 99904 | Rural | 0.7466
04650 | Sebastian County, Arkansas | 2720 | Urban | 0.8246 | 22900 | Urban | 0.8230
04660 | Sevier County, Arkansas | 04 | Rural | 0.7744 | 99904 | Rural | 0.7466
04670 | Sharp County, Arkansas | 04 | Rural | 0.7744 | 99904 | Rural | 0.7466
04680 | Stone County, Arkansas | 04 | Rural | 0.7744 | 99904 | Rural | 0.7466
04690 | Union County, Arkansas | 04 | Rural | 0.7744 | 99904 | Rural | 0.7466
04700 | Van Buren County, Arkansas | 04 | Rural | 0.7744 | 99904 | Rural | 0.7466
04710 | Washington County, Arkansas | 2580 | Urban | 0.8661 | 22220 | Urban | 0.8661
04720 | White County, Arkansas | 04 | Rural | 0.7744 | 99904 | Rural | 0.7466
04730 | Woodruff County, Arkansas | 04 | Rural | 0.7744 | 99904 | Rural | 0.7466
04740 | Yell County, Arkansas | 04 | Rural | 0.7744 | 99904 | Rural | 0.7466
05000 | Alameda County, California | 5775 | Urban | 1.5346 | 36084 | Urban | 1.5346
05010 | Alpine County, California | 05 | Rural | 1.0775 | 99905 | Rural | 1.1054
05020 | Amador County, California | 05 | Rural | 1.0775 | 99905 | Rural | 1.1054
05030 | Butte County, California | 1620 | Urban | 1.0511 | 17020 | Urban | 1.0511
05040 | Calaveras County, California | 05 | Rural | 1.0775 | 99905 | Rural | 1.1054
05050 | Colusa County, California | 05 | Rural | 1.0775 | 99905 | Rural | 1.1054
05060 | Contra Costa County, California | 5775 | Urban | 1.5346 | 36084 | Urban | 1.5346
05070 | Del Norte County, California | 05 | Rural | 1.0775 | 99905 | Rural | 1.1054
05080 | Eldorado County, California | 6920 | Urban | 1.3143 | 40900 | Urban | 1.2969
05090 | Fresno County, California | 2840 | Urban | 1.0428 | 23420 | Urban | 1.0538
05100 | Glenn County, California | 05 | Rural | 1.0775 | 99905 | Rural | 1.1054
05110 | Humboldt County, California | 05 | Rural | 1.0775 | 99905 | Rural | 1.1054
05120 | Imperial County, California | 05 | Rural | 1.0775 | 20940 | Urban | 0.8906
05130 | Inyo County, California | 05 | Rural | 1.0775 | 99905 | Rural | 1.1054
05140 | Kern County, California | 0680 | Urban | 1.0470 | 12540 | Urban | 1.0470
05150 | Kings County, California | 05 | Rural | 1.0775 | 25260 | Urban | 1.0036
05160 | Lake County, California | 05 | Rural | 1.0775 | 99905 | Rural | 1.1054
05170 | Lassen County, California | 05 | Rural | 1.0775 | 99905 | Rural | 1.1054
05200 | Los Angeles County, California | 4480 | Urban | 1.1783 | 31084 | Urban | 1.1783
05210 | Los Angeles County, California | 4480 | Urban | 1.1783 | 31084 | Urban | 1.1783
05300 | Madera County, California | 2840 | Urban | 1.0428 | 31460 | Urban | 0.8713
05310 | Marin County, California | 7360 | Urban | 1.4994 | 41884 | Urban | 1.4994
05320 | Mariposa County, California | 05 | Rural | 1.0775 | 99905 | Rural | 1.1054
05330 | Mendocino County, California | 05 | Rural | 1.0775 | 99905 | Rural | 1.1054
05340 | Merced County, California | 4940 | Urban | 1.1109 | 32900 | Urban | 1.1109
05350 | Modoc County, California | 05 | Rural | 1.0775 | 99905 | Rural | 1.1054
05360 | Mono County, California | 05 | Rural | 1.0775 | 99905 | Rural | 1.1054
05370 | Monterey County, California | 7120 | Urban | 1.4128 | 41500 | Urban | 1.4128
05380 | Napa County, California | 8720 | Urban | 1.3983 | 34900 | Urban | 1.2643
05390 | Nevada County, California | 05 | Rural | 1.0775 | 99905 | Rural | 1.1054
05400 | Orange County, California | 5945 | Urban | 1.1559 | 42044 | Urban | 1.1559
05410 | Placer County, California | 6920 | Urban | 1.3143 | 40900 | Urban | 1.2969
05420 | Plumas County, California | 05 | Rural | 1.0775 | 99905 | Rural | 1.1054
05430 | Riverside County, California | 6780 | Urban | 1.1027 | 40140 | Urban | 1.1027
05440 | Sacramento County, California | 6920 | Urban | 1.3143 | 40900 | Urban | 1.2969
05450 | San Benito County, California | 05 | Rural | 1.0775 | 41940 | Urban | 1.5099
05460 | San Bernardino County, California | 6780 | Urban | 1.1027 | 40140 | Urban | 1.1027
05470 | San Diego County, California | 7320 | Urban | 1.1413 | 41740 | Urban | 1.1413
05480 | San Francisco County, California | 7360 | Urban | 1.4994 | 41884 | Urban | 1.4994
05490 | San Joaquin County, California | 8120 | Urban | 1.1307 | 44700 | Urban | 1.1307
05500 | San Luis Obispo County, California | 7460 | Urban | 1.1349 | 42020 | Urban | 1.1349
05510 | San Mateo County, California | 7360 | Urban | 1.4994 | 41884 | Urban | 1.4994
05520 | Santa Barbara County, California | 7480 | Urban | 1.1694 | 42060 | Urban | 1.1694
05530 | Santa Clara County, California | 7400 | Urban | 1.5118 | 41940 | Urban | 1.5099
05540 | Santa Cruz County, California | 7485 | Urban | 1.5166 | 42100 | Urban | 1.5166
05550 | Shasta County, California | 6690 | Urban | 1.2203 | 39820 | Urban | 1.2203
05560 | Sierra County, California | 05 | Rural | 1.0775 | 99905 | Rural | 1.1054
05570 | Siskiyou County, California | 05 | Rural | 1.0775 | 99905 | Rural | 1.1054
05580 | Solano County, California | 8720 | Urban | 1.3983 | 46700 | Urban | 1.4936
05590 | Sonoma County, California | 7500 | Urban | 1.3493 | 42220 | Urban | 1.3493
05600 | Stanislaus County, California | 5170 | Urban | 1.1885 | 33700 | Urban | 1.1885
05610 | Sutter County, California | 9340 | Urban | 1.0921 | 49700 | Urban | 1.0921
05620 | Tehama County, California | 05 | Rural | 1.0775 | 99905 | Rural | 1.1054
05630 | Trinity County, California | 05 | Rural | 1.0775 | 99905 | Rural | 1.1054
05640 | Tulare County, California | 8780 | Urban | 1.0123 | 47300 | Urban | 1.0123
05650 | Tuolumne County, California | 05 | Rural | 1.0775 | 99905 | Rural | 1.1054
05660 | Ventura County, California | 8735 | Urban | 1.1622 | 37100 | Urban | 1.1622
05670 | Yolo County, California | 9270 | Urban | 0.9950 | 40900 | Urban | 1.2969
05680 | Yuba County, California | 9340 | Urban | 1.0921 | 49700 | Urban | 1.0921
06000 | Adams County, Colorado | 2080 | Urban | 1.0723 | 19740 | Urban | 1.0723
06010 | Alamosa County, Colorado | 06 | Rural | 0.9380 | 99906 | Rural | 0.9380
06020 | Arapahoe County, Colorado | 2080 | Urban | 1.0723 | 19740 | Urban | 1.0723
06030 | Archuleta County, Colorado | 06 | Rural | 0.9380 | 99906 | Rural | 0.9380
06040 | Baca County, Colorado | 06 | Rural | 0.9380 | 99906 | Rural | 0.9380
06050 | Bent County, Colorado | 06 | Rural | 0.9380 | 99906 | Rural | 0.9380
06060 | Boulder County, Colorado | 1125 | Urban | 0.9734 | 14500 | Urban | 0.9734
06070 | Chaffee County, Colorado | 06 | Rural | 0.9380 | 99906 | Rural | 0.9380
06080 | Cheyenne County, Colorado | 06 | Rural | 0.9380 | 99906 | Rural | 0.9380
06090 | Clear Creek County, Colorado | 06 | Rural | 0.9380 | 19740 | Urban | 1.0723
06100 | Conejos County, Colorado | 06 | Rural | 0.9380 | 99906 | Rural | 0.9380
06110 | Costilla County, Colorado | 06 | Rural | 0.9380 | 99906 | Rural | 0.9380
06120 | Crowley County, Colorado | 06 | Rural | 0.9380 | 99906 | Rural | 0.9380
06130 | Custer County, Colorado | 06 | Rural | 0.9380 | 99906 | Rural | 0.9380
06140 | Delta County, Colorado | 06 | Rural | 0.9380 | 99906 | Rural | 0.9380
06150 | Denver County, Colorado | 2080 | Urban | 1.0723 | 19740 | Urban | 1.0723
06160 | Dolores County, Colorado | 06 | Rural | 0.9380 | 99906 | Rural | 0.9380
06170 | Douglas County, Colorado | 2080 | Urban | 1.0723 | 19740 | Urban | 1.0723
06180 | Eagle County, Colorado | 06 | Rural | 0.9380 | 99906 | Rural | 0.9380
06190 | Elbert County, Colorado | 06 | Rural | 0.9380 | 19740 | Urban | 1.0723
06200 | El Paso County, Colorado | 1720 | Urban | 0.9468 | 17820 | Urban | 0.9468
06210 | Fremont County, Colorado | 06 | Rural | 0.9380 | 99906 | Rural | 0.9380
06220 | Garfield County, Colorado | 06 | Rural | 0.9380 | 99906 | Rural | 0.9380
06230 | Gilpin County, Colorado | 06 | Rural | 0.9380 | 19740 | Urban | 1.0723
06240 | Grand County, Colorado | 06 | Rural | 0.9380 | 99906 | Rural | 0.9380
06250 | Gunnison County, Colorado | 06 | Rural | 0.9380 | 99906 | Rural | 0.9380
06260 | Hinsdale County, Colorado | 06 | Rural | 0.9380 | 99906 | Rural | 0.9380
06270 | Huerfano County, Colorado | 06 | Rural | 0.9380 | 99906 | Rural | 0.9380
06280 | Jackson County, Colorado | 06 | Rural | 0.9380 | 99906 | Rural | 0.9380
06290 | Jefferson County, Colorado | 2080 | Urban | 1.0723 | 19740 | Urban | 1.0723
06300 | Kiowa County, Colorado | 06 | Rural | 0.9380 | 99906 | Rural | 0.9380
06310 | Kit Carson County, Colorado | 06 | Rural | 0.9380 | 99906 | Rural | 0.9380
06320 | Lake County, Colorado | 06 | Rural | 0.9380 | 99906 | Rural | 0.9380
06330 | La Plata County, Colorado | 06 | Rural | 0.9380 | 99906 | Rural | 0.9380
06340 | Larimer County, Colorado | 2670 | Urban | 1.0122 | 22660 | Urban | 1.0122
06350 | Las Animas County, Colorado | 06 | Rural | 0.9380 | 99906 | Rural | 0.9380
06360 | Lincoln County, Colorado | 06 | Rural | 0.9380 | 99906 | Rural | 0.9380
06370 | Logan County, Colorado | 06 | Rural | 0.9380 | 99906 | Rural | 0.9380
06380 | Mesa County, Colorado | 2995 | Urban | 0.9550 | 24300 | Urban | 0.9550
06390 | Mineral County, Colorado | 06 | Rural | 0.9380 | 99906 | Rural | 0.9380
06400 | Moffat County, Colorado | 06 | Rural | 0.9380 | 99906 | Rural | 0.9380
06410 | Montezuma County, Colorado | 06 | Rural | 0.9380 | 99906 | Rural | 0.9380
06420 | Montrose County, Colorado | 06 | Rural | 0.9380 | 99906 | Rural | 0.9380
06430 | Morgan County, Colorado | 06 | Rural | 0.9380 | 99906 | Rural | 0.9380
06440 | Otero County, Colorado | 06 | Rural | 0.9380 | 99906 | Rural | 0.9380
06450 | Ouray County, Colorado | 06 | Rural | 0.9380 | 99906 | Rural | 0.9380
06460 | Park County, Colorado | 06 | Rural | 0.9380 | 19740 | Urban | 1.0723
06470 | Phillips County, Colorado | 06 | Rural | 0.9380 | 99906 | Rural | 0.9380
06480 | Pitkin County, Colorado | 06 | Rural | 0.9380 | 99906 | Rural | 0.9380
06490 | Prowers County, Colorado | 06 | Rural | 0.9380 | 99906 | Rural | 0.9380
06500 | Pueblo County, Colorado | 6560 | Urban | 0.8623 | 39380 | Urban | 0.8623
06510 | Rio Blanco County, Colorado | 06 | Rural | 0.9380 | 99906 | Rural | 0.9380
06520 | Rio Grande County, Colorado | 06 | Rural | 0.9380 | 99906 | Rural | 0.9380
06530 | Routt County, Colorado | 06 | Rural | 0.9380 | 99906 | Rural | 0.9380
06540 | Saguache County, Colorado | 06 | Rural | 0.9380 | 99906 | Rural | 0.9380
06550 | San Juan County, Colorado | 06 | Rural | 0.9380 | 99906 | Rural | 0.9380
06560 | San Miguel County, Colorado | 06 | Rural | 0.9380 | 99906 | Rural | 0.9380
06570 | Sedgwick County, Colorado | 06 | Rural | 0.9380 | 99906 | Rural | 0.9380
06580 | Summit County, Colorado | 06 | Rural | 0.9380 | 99906 | Rural | 0.9380
06590 | Teller County, Colorado | 06 | Rural | 0.9380 | 17820 | Urban | 0.9468
06600 | Washington County, Colorado | 06 | Rural | 0.9380 | 99906 | Rural | 0.9380
06610 | Weld County, Colorado | 3060 | Urban | 0.9570 | 24540 | Urban | 0.9570
06620 | Yuma County, Colorado | 06 | Rural | 0.9380 | 99906 | Rural | 0.9380
06630 | Broomfield County, Colorado | 2080 | Urban | 1.0723 | 19740 | Urban | 1.0723
07000 | Fairfield County, Connecticut | 5483 | Urban | 1.2196 | 14860 | Urban | 1.2592
07010 | Hartford County, Connecticut | 3283 | Urban | 1.1073 | 25540 | Urban | 1.1073
07020 | Litchfield County, Connecticut | 3283 | Urban | 1.1073 | 25540 | Urban | 1.1073
07030 | Middlesex County, Connecticut | 3283 | Urban | 1.1073 | 25540 | Urban | 1.1073
07040 | New Haven County, Connecticut | 5483 | Urban | 1.2196 | 35300 | Urban | 1.1887
07050 | New London County, Connecticut | 5523 | Urban | 1.1345 | 35980 | Urban | 1.1345
07060 | Tolland County, Connecticut | 3283 | Urban | 1.1073 | 25540 | Urban | 1.1073
07070 | Windham County, Connecticut | 07 | Rural | 1.1730 | 99907 | Rural | 1.1730
08000 | Kent County, Delaware | 2190 | Urban | 0.9776 | 20100 | Urban | 0.9776
08010 | New Castle County, Delaware | 9160 | Urban | 1.0527 | 48864 | Urban | 1.0471
08020 | Sussex County, Delaware | 08 | Rural | 0.9579 | 99908 | Rural | 0.9579
09000 | Washington Dc County, Dist Of Col | 8840 | Urban | 1.0976 | 47894 | Urban | 1.0926
10000 | Alachua County, Florida | 2900 | Urban | 0.9388 | 23540 | Urban | 0.9388
10010 | Baker County, Florida | 10 | Rural | 0.8677 | 27260 | Urban | 0.9290
10020 | Bay County, Florida | 6015 | Urban | 0.8005 | 37460 | Urban | 0.8005
10030 | Bradford County, Florida | 10 | Rural | 0.8677 | 99910 | Rural | 0.8568
10040 | Brevard County, Florida | 4900 | Urban | 0.9839 | 37340 | Urban | 0.9839
10050 | Broward County, Florida | 2680 | Urban | 1.0432 | 22744 | Urban | 1.0432
10060 | Calhoun County, Florida | 10 | Rural | 0.8677 | 99910 | Rural | 0.8568
10070 | Charlotte County, Florida | 6580 | Urban | 0.9255 | 39460 | Urban | 0.9255
10080 | Citrus County, Florida | 10 | Rural | 0.8677 | 99910 | Rural | 0.8568
10090 | Clay County, Florida | 3600 | Urban | 0.9299 | 27260 | Urban | 0.9290
10100 | Collier County, Florida | 5345 | Urban | 1.0139 | 34940 | Urban | 1.0139
10110 | Columbia County, Florida | 10 | Rural | 0.8677 | 99910 | Rural | 0.8568
10120 | Dade County, Florida | 5000 | Urban | 0.9750 | 33124 | Urban | 0.9750
10130 | De Soto County, Florida | 10 | Rural | 0.8677 | 99910 | Rural | 0.8568
10140 | Dixie County, Florida | 10 | Rural | 0.8677 | 99910 | Rural | 0.8568
10150 | Duval County, Florida | 3600 | Urban | 0.9299 | 27260 | Urban | 0.9290
10160 | Escambia County, Florida | 6080 | Urban | 0.8096 | 37860 | Urban | 0.8096
10170 | Flagler County, Florida | 2020 | Urban | 0.9325 | 99910 | Rural | 0.8568
10180 | Franklin County, Florida | 10 | Rural | 0.8677 | 99910 | Rural | 0.8568
10190 | Gadsden County, Florida | 8240 | Urban | 0.8688 | 45220 | Urban | 0.8688
10200 | Gilchrist County, Florida | 10 | Rural | 0.8677 | 23540 | Urban | 0.9388
10210 | Glades County, Florida | 10 | Rural | 0.8677 | 99910 | Rural | 0.8568
10220 | Gulf County, Florida | 10 | Rural | 0.8677 | 99910 | Rural | 0.8568
10230 | Hamilton County, Florida | 10 | Rural | 0.8677 | 99910 | Rural | 0.8568
10240 | Hardee County, Florida | 10 | Rural | 0.8677 | 99910 | Rural | 0.8568
10250 | Hendry County, Florida | 10 | Rural | 0.8677 | 99910 | Rural | 0.8568
10260 | Hernando County, Florida | 8280 | Urban | 0.9233 | 45300 | Urban | 0.9233
10270 | Highlands County, Florida | 10 | Rural | 0.8677 | 99910 | Rural | 0.8568
10280 | Hillsborough County, Florida | 8280 | Urban | 0.9233 | 45300 | Urban | 0.9233
10290 | Holmes County, Florida | 10 | Rural | 0.8677 | 99910 | Rural | 0.8568
10300 | Indian River County, Florida | 10 | Rural | 0.8677 | 42680 | Urban | 0.9434
10310 | Jackson County, Florida | 10 | Rural | 0.8677 | 99910 | Rural | 0.8568
10320 | Jefferson County, Florida | 10 | Rural | 0.8677 | 45220 | Urban | 0.8688
10330 | Lafayette County, Florida | 10 | Rural | 0.8677 | 99910 | Rural | 0.8568
10340 | Lake County, Florida | 5960 | Urban | 0.9464 | 36740 | Urban | 0.9464
10350 | Lee County, Florida | 2700 | Urban | 0.9356 | 15980 | Urban | 0.9356
10360 | Leon County, Florida | 8240 | Urban | 0.8688 | 45220 | Urban | 0.8688
10370 | Levy County, Florida | 10 | Rural | 0.8677 | 99910 | Rural | 0.8568
10380 | Liberty County, Florida | 10 | Rural | 0.8677 | 99910 | Rural | 0.8568
10390 | Madison County, Florida | 10 | Rural | 0.8677 | 99910 | Rural | 0.8568
10400 | Manatee County, Florida | 7510 | Urban | 0.9639 | 42260 | Urban | 0.9639
10410 | Marion County, Florida | 5790 | Urban | 0.8925 | 36100 | Urban | 0.8925
10420 | Martin County, Florida | 2710 | Urban | 1.0123 | 38940 | Urban | 1.0123
10430 | Monroe County, Florida | 10 | Rural | 0.8677 | 99910 | Rural | 0.8568
10440 | Nassau County, Florida | 3600 | Urban | 0.9299 | 27260 | Urban | 0.9290
10450 | Okaloosa County, Florida | 2750 | Urban | 0.8872 | 23020 | Urban | 0.8872
10460 | Okeechobee County, Florida | 10 | Rural | 0.8677 | 99910 | Rural | 0.8568
10470 | Orange County, Florida | 5960 | Urban | 0.9464 | 36740 | Urban | 0.9464
10480 | Osceola County, Florida | 5960 | Urban | 0.9464 | 36740 | Urban | 0.9464
10490 | Palm Beach County, Florida | 8960 | Urban | 1.0067 | 48424 | Urban | 1.0067
10500 | Pasco County, Florida | 8280 | Urban | 0.9233 | 45300 | Urban | 0.9233
10510 | Pinellas County, Florida | 8280 | Urban | 0.9233 | 45300 | Urban | 0.9233
10520 | Polk County, Florida | 3980 | Urban | 0.8912 | 29460 | Urban | 0.8912
10530 | Putnam County, Florida | 10 | Rural | 0.8677 | 99910 | Rural | 0.8568
10540 | Johns County, Florida | 3600 | Urban | 0.9299 | 27260 | Urban | 0.9290
10550 | St Lucie County, Florida | 2710 | Urban | 1.0123 | 38940 | Urban | 1.0123
10560 | Santa Rosa County, Florida | 6080 | Urban | 0.8096 | 37860 | Urban | 0.8096
10570 | Sarasota County, Florida | 7510 | Urban | 0.9639 | 42260 | Urban | 0.9639
10580 | Seminole County, Florida | 5960 | Urban | 0.9464 | 36740 | Urban | 0.9464
10590 | Sumter County, Florida | 10 | Rural | 0.8677 | 99910 | Rural | 0.8568
10600 | Suwannee County, Florida | 10 | Rural | 0.8677 | 99910 | Rural | 0.8568
10610 | Taylor County, Florida | 10 | Rural | 0.8677 | 99910 | Rural | 0.8568
10620 | Union County, Florida | 10 | Rural | 0.8677 | 99910 | Rural | 0.8568
10630 | Volusia County, Florida | 2020 | Urban | 0.9325 | 19660 | Urban | 0.9299
10640 | Wakulla County, Florida | 10 | Rural | 0.8677 | 45220 | Urban | 0.8688
10650 | Walton County, Florida | 10 | Rural | 0.8677 | 99910 | Rural | 0.8568
10660 | Washington County, Florida | 10 | Rural | 0.8677 | 99910 | Rural | 0.8568
11000 | Appling County, Georgia | 11 | Rural | 0.8166 | 99911 | Rural | 0.7662
11010 | Atkinson County, Georgia | 11 | Rural | 0.8166 | 99911 | Rural | 0.7662
11011 | Bacon County, Georgia | 11 | Rural | 0.8166 | 99911 | Rural | 0.7662
11020 | Baker County, Georgia | 11 | Rural | 0.8166 | 10500 | Urban | 0.8628
11030 | Baldwin County, Georgia | 11 | Rural | 0.8166 | 99911 | Rural | 0.7662
11040 | Banks County, Georgia | 11 | Rural | 0.8166 | 99911 | Rural | 0.7662
11050 | Barrow County, Georgia | 0520 | Urban | 0.9793 | 12060 | Urban | 0.9793
11060 | Bartow County, Georgia | 0520 | Urban | 0.9793 | 12060 | Urban | 0.9793
11070 | Ben Hill County, Georgia | 11 | Rural | 0.8166 | 99911 | Rural | 0.7662
11080 | Berrien County, Georgia | 11 | Rural | 0.8166 | 99911 | Rural | 0.7662
11090 | Bibb County, Georgia | 4680 | Urban | 0.9277 | 31420 | Urban | 0.9443
11100 | Bleckley County, Georgia | 11 | Rural | 0.8166 | 99911 | Rural | 0.7662
11110 | Brantley County, Georgia | 11 | Rural | 0.8166 | 15260 | Urban | 0.9311
11120 | Brooks County, Georgia | 11 | Rural | 0.8166 | 46660 | Urban | 0.8866
11130 | Bryan County, Georgia | 7520 | Urban | 0.9461 | 42340 | Urban | 0.9461
11140 | Bulloch County, Georgia | 11 | Rural | 0.8166 | 99911 | Rural | 0.7662
11150 | Burke County, Georgia | 11 | Rural | 0.8166 | 12260 | Urban | 0.9748
11160 | Butts County, Georgia | 11 | Rural | 0.8166 | 12060 | Urban | 0.9793
11161 | Calhoun County, Georgia | 11 | Rural | 0.8166 | 99911 | Rural | 0.7662
11170 | Camden County, Georgia | 11 | Rural | 0.8166 | 99911 | Rural | 0.7662
11180 | Candler County, Georgia | 11 | Rural | 0.8166 | 99911 | Rural | 0.7662
11190 | Carroll County, Georgia | 0520 | Urban | 0.9793 | 12060 | Urban | 0.9793
11200 | Catoosa County, Georgia | 1560 | Urban | 0.9088 | 16860 | Urban | 0.9088
11210 | Charlton County, Georgia | 11 | Rural | 0.8166 | 99911 | Rural | 0.7662
11220 | Chatham County, Georgia | 7520 | Urban | 0.9461 | 42340 | Urban | 0.9461
11230 | Chattahoochee County, Georgia | 1800 | Urban | 0.8560 | 17980 | Urban | 0.8560
11240 | Chattooga County, Georgia | 11 | Rural | 0.8166 | 99911 | Rural | 0.7662
11250 | Cherokee County, Georgia | 0520 | Urban | 0.9793 | 12060 | Urban | 0.9793
11260 | Clarke County, Georgia | 0500 | Urban | 0.9855 | 12020 | Urban | 0.9855
11270 | Clay County, Georgia | 11 | Rural | 0.8166 | 99911 | Rural | 0.7662
11280 | Clayton County, Georgia | 0520 | Urban | 0.9793 | 12060 | Urban | 0.9793
11281 | Clinch County, Georgia | 11 | Rural | 0.8166 | 99911 | Rural | 0.7662
11290 | Cobb County, Georgia | 0520 | Urban | 0.9793 | 12060 | Urban | 0.9793
11291 | Coffee County, Georgia | 11 | Rural | 0.8166 | 99911 | Rural | 0.7662
11300 | Colquitt County, Georgia | 11 | Rural | 0.8166 | 99911 | Rural | 0.7662
11310 | Columbia County, Georgia | 0600 | Urban | 0.9808 | 12260 | Urban | 0.9748
11311 | Cook County, Georgia | 11 | Rural | 0.8166 | 99911 | Rural | 0.7662
11320 | Coweta County, Georgia | 0520 | Urban | 0.9793 | 12060 | Urban | 0.9793
11330 | Crawford County, Georgia | 11 | Rural | 0.8166 | 31420 | Urban | 0.9443
11340 | Crisp County, Georgia | 11 | Rural | 0.8166 | 99911 | Rural | 0.7662
11341 | Dade County, Georgia | 1560 | Urban | 0.9088 | 16860 | Urban | 0.9088
11350 | Dawson County, Georgia | 11 | Rural | 0.8166 | 12060 | Urban | 0.9793
11360 | Decatur County, Georgia | 11 | Rural | 0.8166 | 99911 | Rural | 0.7662
11370 | De Kalb County, Georgia | 0520 | Urban | 0.9793 | 12060 | Urban | 0.9793
11380 | Dodge County, Georgia | 11 | Rural | 0.8166 | 99911 | Rural | 0.7662
11381 | Dooly County, Georgia | 11 | Rural | 0.8166 | 99911 | Rural | 0.7662
11390 | Dougherty County, Georgia | 0120 | Urban | 0.8628 | 10500 | Urban | 0.8628
11400 | Douglas County, Georgia | 0520 | Urban | 0.9793 | 12060 | Urban | 0.9793
11410 | Early County, Georgia | 11 | Rural | 0.8166 | 99911 | Rural | 0.7662
11420 | Echols County, Georgia | 11 | Rural | 0.8166 | 46660 | Urban | 0.8866
11421 | Effingham County, Georgia | 7520 | Urban | 0.9461 | 42340 | Urban | 0.9461
11430 | Elbert County, Georgia | 11 | Rural | 0.8166 | 99911 | Rural | 0.7662
11440 | Emanuel County, Georgia | 11 | Rural | 0.8166 | 99911 | Rural | 0.7662
11441 | Evans County, Georgia | 11 | Rural | 0.8166 | 99911 | Rural | 0.7662
11450 | Fannin County, Georgia | 11 | Rural | 0.8166 | 99911 | Rural | 0.7662
11451 | Fayette County, Georgia | 0520 | Urban | 0.9793 | 12060 | Urban | 0.9793
11460 | Floyd County, Georgia | 11 | Rural | 0.8166 | 40660 | Urban | 0.9414
11461 | Forsyth County, Georgia | 0520 | Urban | 0.9793 | 12060 | Urban | 0.9793
11462 | Franklin County, Georgia | 11 | Rural | 0.8166 | 99911 | Rural | 0.7662
11470 | Fulton County, Georgia | 0520 | Urban | 0.9793 | 12060 | Urban | 0.9793
11471 | Gilmer County, Georgia | 11 | Rural | 0.8166 | 99911 | Rural | 0.7662
11480 | Glascock County, Georgia | 11 | Rural | 0.8166 | 99911 | Rural | 0.7662
11490 | Glynn County, Georgia | 11 | Rural | 0.8166 | 15260 | Urban | 0.9311
11500 | Gordon County, Georgia | 11 | Rural | 0.8166 | 99911 | Rural | 0.7662
11510 | Grady County, Georgia | 11 | Rural | 0.8166 | 99911 | Rural | 0.7662
11520 | Greene County, Georgia | 11 | Rural | 0.8166 | 99911 | Rural | 0.7662
11530 | Gwinnett County, Georgia | 0520 | Urban | 0.9793 | 12060 | Urban | 0.9793
11540 | Habersham County, Georgia | 11 | Rural | 0.8166 | 99911 | Rural | 0.7662
11550 | Hall County, Georgia | 11 | Rural | 0.8166 | 23580 | Urban | 0.8874
11560 | Hancock County, Georgia | 11 | Rural | 0.8166 | 99911 | Rural | 0.7662
11570 | Haralson County, Georgia | 11 | Rural | 0.8166 | 12060 | Urban | 0.9793
11580 | Harris County, Georgia | 1800 | Urban | 0.8560 | 17980 | Urban | 0.8560
11581 | Hart County, Georgia | 11 | Rural | 0.8166 | 99911 | Rural | 0.7662
11590 | Heard County, Georgia | 11 | Rural | 0.8166 | 12060 | Urban | 0.9793
11591 | Henry County, Georgia | 0520 | Urban | 0.9793 | 12060 | Urban | 0.9793
11600 | Houston County, Georgia | 4680 | Urban | 0.9277 | 47580 | Urban | 0.8645
11601 | Irwin County, Georgia | 11 | Rural | 0.8166 | 99911 | Rural | 0.7662
11610 | Jackson County, Georgia | 11 | Rural | 0.8166 | 99911 | Rural | 0.7662
11611 | Jasper County, Georgia | 11 | Rural | 0.8166 | 12060 | Urban | 0.9793
11612 | Jeff Davis County, Georgia | 11 | Rural | 0.8166 | 99911 | Rural | 0.7662
11620 | Jefferson County, Georgia | 11 | Rural | 0.8166 | 99911 | Rural | 0.7662
11630 | Jenkins County, Georgia | 11 | Rural | 0.8166 | 99911 | Rural | 0.7662
11640 | Johnson County, Georgia | 11 | Rural | 0.8166 | 99911 | Rural | 0.7662
11650 | Jones County, Georgia | 4680 | Urban | 0.9277 | 31420 | Urban | 0.9443
11651 | Lamar County, Georgia | 11 | Rural | 0.8166 | 12060 | Urban | 0.9793
11652 | Lanier County, Georgia | 11 | Rural | 0.8166 | 46660 | Urban | 0.8866
11660 | Laurens County, Georgia | 11 | Rural | 0.8166 | 99911 | Rural | 0.7662
11670 | Lee County, Georgia | 0120 | Urban | 0.8628 | 10500 | Urban | 0.8628
11680 | Liberty County, Georgia | 11 | Rural | 0.8166 | 25980 | Urban | ¹ 0.91981
11690 | Lincoln County, Georgia | 11 | Rural | 0.8166 | 99911 | Rural | 0.7662
11691 | Long County, Georgia | 11 | Rural | 0.8166 | 25980 | Urban | ¹ 0.91981
11700 | Lowndes County, Georgia | 11 | Rural | 0.8166 | 46660 | Urban | 0.8866
11701 | Lumpkin County, Georgia | 11 | Rural | 0.8166 | 99911 | Rural | 0.7662
11702 | Mc Duffie County, Georgia | 0600 | Urban | 0.9808 | 12260 | Urban | 0.9748
11703 | Mc Intosh County, Georgia | 11 | Rural | 0.8166 | 15260 | Urban | 0.9311
11710 | Macon County, Georgia | 11 | Rural | 0.8166 | 99911 | Rural | 0.7662
11720 | Madison County, Georgia | 0500 | Urban | 0.9855 | 12020 | Urban | 0.9855
11730 | Marion County, Georgia | 11 | Rural | 0.8166 | 17980 | Urban | 0.8560
11740 | Meriwether County, Georgia | 11 | Rural | 0.8166 | 12060 | Urban | 0.9793
11741 | Miller County, Georgia | 11 | Rural | 0.8166 | 99911 | Rural | 0.7662
11750 | Mitchell County, Georgia | 11 | Rural | 0.8166 | 99911 | Rural | 0.7662
11760 | Monroe County, Georgia | 11 | Rural | 0.8166 | 31420 | Urban | 0.9443
11770 | Montgomery County, Georgia | 11 | Rural | 0.8166 | 99911 | Rural | 0.7662
11771 | Morgan County, Georgia | 11 | Rural | 0.8166 | 99911 | Rural | 0.7662
11772 | Murray County, Georgia | 11 | Rural | 0.8166 | 19140 | Urban | 0.9079
11780 | Muscogee County, Georgia | 1800 | Urban | 0.8560 | 17980 | Urban | 0.8560
11790 | Newton County, Georgia | 0520 | Urban | 0.9793 | 12060 | Urban | 0.9793
11800 | Oconee County, Georgia | 0500 | Urban | 0.9855 | 12020 | Urban | 0.9855
11801 | Oglethorpe County, Georgia | 11 | Rural | 0.8166 | 12020 | Urban | 0.9855
11810 | Paulding County, Georgia | 0520 | Urban | 0.9793 | 12060 | Urban | 0.9793
11811 | Peach County, Georgia | 4680 | Urban | 0.9277 | 99911 | Rural | 0.7662
11812 | Pickens County, Georgia | 0520 | Urban | 0.9793 | 12060 | Urban | 0.9793
11820 | Pierce County, Georgia | 11 | Rural | 0.8166 | 99911 | Rural | 0.7662
11821 | Pike County, Georgia | 11 | Rural | 0.8166 | 12060 | Urban | 0.9793
11830 | Polk County, Georgia | 11 | Rural | 0.8166 | 99911 | Rural | 0.7662
11831 | Pulaski County, Georgia | 11 | Rural | 0.8166 | 99911 | Rural | 0.7662
11832 | Putnam County, Georgia | 11 | Rural | 0.8166 | 99911 | Rural | 0.7662
11833 | Quitman County, Georgia | 11 | Rural | 0.8166 | 99911 | Rural | 0.7662
11834 | Rabun County, Georgia | 11 | Rural | 0.8166 | 99911 | Rural | 0.7662
11835 | Randolph County, Georgia | 11 | Rural | 0.8166 | 99911 | Rural | 0.7662
11840 | Richmond County, Georgia | 0600 | Urban | 0.9808 | 12260 | Urban | 0.9748
11841 | Rockdale County, Georgia | 0520 | Urban | 0.9793 | 12060 | Urban | 0.9793
11842 | Schley County, Georgia | 11 | Rural | 0.8166 | 99911 | Rural | 0.7662
11850 | Screven County, Georgia | 11 | Rural | 0.8166 | 99911 | Rural | 0.7662
11851 | Seminole County, Georgia | 11 | Rural | 0.8166 | 99911 | Rural | 0.7662
11860 | Spalding County, Georgia | 0520 | Urban | 0.9793 | 12060 | Urban | 0.9793
11861 | Stephens County, Georgia | 11 | Rural | 0.8166 | 99911 | Rural | 0.7662
11862 | Stewart County, Georgia | 11 | Rural | 0.8166 | 99911 | Rural | 0.7662
11870 | Sumter County, Georgia | 11 | Rural | 0.8166 | 99911 | Rural | 0.7662
11880 | Talbot County, Georgia | 11 | Rural | 0.8166 | 99911 | Rural | 0.7662
11881 | Taliaferro County, Georgia | 11 | Rural | 0.8166 | 99911 | Rural | 0.7662
11882 | Tattnall County, Georgia | 11 | Rural | 0.8166 | 99911 | Rural | 0.7662
11883 | Taylor County, Georgia | 11 | Rural | 0.8166 | 99911 | Rural | 0.7662
11884 | Telfair County, Georgia | 11 | Rural | 0.8166 | 99911 | Rural | 0.7662
11885 | Terrell County, Georgia | 11 | Rural | 0.8166 | 10500 | Urban | 0.8628
11890 | Thomas County, Georgia | 11 | Rural | 0.8166 | 99911 | Rural | 0.7662
11900 | Tift County, Georgia | 11 | Rural | 0.8166 | 99911 | Rural | 0.7662
11901 | Toombs County, Georgia | 11 | Rural | 0.8166 | 99911 | Rural | 0.7662
11902 | Towns County, Georgia | 11 | Rural | 0.8166 | 99911 | Rural | 0.7662
11903 | Treutlen County, Georgia | 11 | Rural | 0.8166 | 99911 | Rural | 0.7662
11910 | Troup County, Georgia | 11 | Rural | 0.8166 | 99911 | Rural | 0.7662
11911 | Turner County, Georgia | 11 | Rural | 0.8166 | 99911 | Rural | 0.7662
11912 | Twiggs County, Georgia | 4680 | Urban | 0.9277 | 31420 | Urban | 0.9443
11913 | Union County, Georgia | 11 | Rural | 0.8166 | 99911 | Rural | 0.7662
11920 | Upson County, Georgia | 11 | Rural | 0.8166 | 99911 | Rural | 0.7662
11921 | Walker County, Georgia | 1560 | Urban | 0.9088 | 16860 | Urban | 0.9088
11930 | Walton County, Georgia | 0520 | Urban | 0.9793 | 12060 | Urban | 0.9793
11940 | Ware County, Georgia | 11 | Rural | 0.8166 | 99911 | Rural | 0.7662
11941 | Warren County, Georgia | 11 | Rural | 0.8166 | 99911 | Rural | 0.7662
11950 | Washington County, Georgia | 11 | Rural | 0.8166 | 99911 | Rural | 0.7662
11960 | Wayne County, Georgia | 11 | Rural | 0.8166 | 99911 | Rural | 0.7662
11961 | Webster County, Georgia | 11 | Rural | 0.8166 | 99911 | Rural | 0.7662
11962 | Wheeler County, Georgia | 11 | Rural | 0.8166 | 99911 | Rural | 0.7662
11963 | White County, Georgia | 11 | Rural | 0.8166 | 99911 | Rural | 0.7662
11970 | Whitfield County, Georgia | 11 | Rural | 0.8166 | 19140 | Urban | 0.9079
11971 | Wilcox County, Georgia | 11 | Rural | 0.8166 | 99911 | Rural | 0.7662
11972 | Wilkes County, Georgia | 11 | Rural | 0.8166 | 99911 | Rural | 0.7662
11973 | Wilkinson County, Georgia | 11 | Rural | 0.8166 | 99911 | Rural | 0.7662
11980 | Worth County, Georgia | 11 | Rural | 0.8166 | 10500 | Urban | 0.8628
12005 | Kalawao County, Hawaii | 12 | Rural | 1.0551 | 99912 | Rural | 1.0551
12010 | Hawaii County, Hawaii | 12 | Rural | 1.0551 | 99912 | Rural | 1.0551
12020 | Honolulu County, Hawaii | 3320 | Urban | 1.1214 | 26180 | Urban | 1.1214
12040 | Kauai County, Hawaii | 12 | Rural | 1.0551 | 99912 | Rural | 1.0551
12050 | Maui County, Hawaii | 12 | Rural | 1.0551 | 99912 | Rural | 1.0551
13000 | Ada County, Idaho | 1080 | Urban | 0.9052 | 14260 | Urban | 0.9052
13010 | Adams County, Idaho | 13 | Rural | 0.9097 | 99913 | Rural | 0.8037
13020 | Bannock County, Idaho | 6340 | Urban | 0.9351 | 38540 | Urban | 0.9351
13030 | Bear Lake County, Idaho | 13 | Rural | 0.9097 | 99913 | Rural | 0.8037
13040 | Benewah County, Idaho | 13 | Rural | 0.9097 | 99913 | Rural | 0.8037
13050 | Bingham County, Idaho | 13 | Rural | 0.9097 | 99913 | Rural | 0.8037
13060 | Blaine County, Idaho | 13 | Rural | 0.9097 | 99913 | Rural | 0.8037
13070 | Boise County, Idaho | 13 | Rural | 0.9097 | 14260 | Urban | 0.9052
13080 | Bonner County, Idaho | 13 | Rural | 0.9097 | 99913 | Rural | 0.8037
13090 | Bonneville County, Idaho | 13 | Rural | 0.9097 | 26820 | Urban | 0.9420
13100 | Boundary County, Idaho | 13 | Rural | 0.9097 | 99913 | Rural | 0.8037
13110 | Butte County, Idaho | 13 | Rural | 0.9097 | 99913 | Rural | 0.8037
13120 | Camas County, Idaho | 13 | Rural | 0.9097 | 99913 | Rural | 0.8037
13130 | Canyon County, Idaho | 1080 | Urban | 0.9052 | 14260 | Urban | 0.9052
13140 | Caribou County, Idaho | 13 | Rural | 0.9097 | 99913 | Rural | 0.8037
13150 | Cassia County, Idaho | 13 | Rural | 0.9097 | 99913 | Rural | 0.8037
13160 | Clark County, Idaho | 13 | Rural | 0.9097 | 99913 | Rural | 0.8037
13170 | Clearwater County, Idaho | 13 | Rural | 0.9097 | 99913 | Rural | 0.8037
13180 | Custer County, Idaho | 13 | Rural | 0.9097 | 99913 | Rural | 0.8037
13190 | Elmore County, Idaho | 13 | Rural | 0.9097 | 99913 | Rural | 0.8037
13200 | Franklin County, Idaho | 13 | Rural | 0.9097 | 30860 | Urban | 0.9164
13210 | Fremont County, Idaho | 13 | Rural | 0.9097 | 99913 | Rural | 0.8037
13220 | Gem County, Idaho | 13 | Rural | 0.9097 | 14260 | Urban | 0.9052
13230 | Gooding County, Idaho | 13 | Rural | 0.9097 | 99913 | Rural | 0.8037
13240 | Idaho County, Idaho | 13 | Rural | 0.9097 | 99913 | Rural | 0.8037
13250 | Jefferson County, Idaho | 13 | Rural | 0.9097 | 26820 | Urban | 0.9420
13260 | Jerome County, Idaho | 13 | Rural | 0.9097 | 99913 | Rural | 0.8037
13270 | Kootenai County, Idaho | 13 | Rural | 0.9097 | 17660 | Urban | 0.9647
13280 | Latah County, Idaho | 13 | Rural | 0.9097 | 99913 | Rural | 0.8037
13290 | Lemhi County, Idaho | 13 | Rural | 0.9097 | 99913 | Rural | 0.8037
13300 | Lewis County, Idaho | 13 | Rural | 0.9097 | 99913 | Rural | 0.8037
13310 | Lincoln County, Idaho | 13 | Rural | 0.9097 | 99913 | Rural | 0.8037
13320 | Madison County, Idaho | 13 | Rural | 0.9097 | 99913 | Rural | 0.8037
13330 | Minidoka County, Idaho | 13 | Rural | 0.9097 | 99913 | Rural | 0.8037
13340 | Nez Perce County, Idaho | 13 | Rural | 0.9097 | 30300 | Urban | 0.9886
13350 | Oneida County, Idaho | 13 | Rural | 0.9097 | 99913 | Rural | 0.8037
13360 | Owyhee County, Idaho | 13 | Rural | 0.9097 | 14260 | Urban | 0.9052
13370 | Payette County, Idaho | 13 | Rural | 0.9097 | 99913 | Rural | 0.8037
13380 | Power County, Idaho | 13 | Rural | 0.9097 | 38540 | Urban | 0.9351
13390 | Shoshone County, Idaho | 13 | Rural | 0.9097 | 99913 | Rural | 0.8037
13400 | Teton County, Idaho | 13 | Rural | 0.9097 | 99913 | Rural | 0.8037
13410 | Twin Falls County, Idaho | 13 | Rural | 0.9097 | 99913 | Rural | 0.8037
13420 | Valley County, Idaho | 13 | Rural | 0.9097 | 99913 | Rural | 0.8037
13430 | Washington County, Idaho | 13 | Rural | 0.9097 | 99913 | Rural | 0.8037
14000 | Adams County, Illinois | 14 | Rural | 0.8301 | 99914 | Rural | 0.8271
14010 | Alexander County, Illinois | 14 | Rural | 0.8301 | 99914 | Rural | 0.8271
14020 | Bond County, Illinois | 14 | Rural | 0.8301 | 41180 | Urban | 0.8954
14030 | Boone County, Illinois | 6880 | Urban | 0.9984 | 40420 | Urban | 0.9984
14040 | Brown County, Illinois | 14 | Rural | 0.8301 | 99914 | Rural | 0.8271
14050 | Bureau County, Illinois | 14 | Rural | 0.8301 | 99914 | Rural | 0.8271
14060 | Calhoun County, Illinois | 14 | Rural | 0.8301 | 41180 | Urban | 0.8954
14070 | Carroll County, Illinois | 14 | Rural | 0.8301 | 99914 | Rural | 0.8271
14080 | Cass County, Illinois | 14 | Rural | 0.8301 | 99914 | Rural | 0.8271
14090 | Champaign County, Illinois | 1400 | Urban | 0.9594 | 16580 | Urban | 0.9594
14100 | Christian County, Illinois | 14 | Rural | 0.8301 | 99914 | Rural | 0.8271
14110 | Clark County, Illinois | 14 | Rural | 0.8301 | 99914 | Rural | 0.8271
14120 | Clay County, Illinois | 14 | Rural | 0.8301 | 99914 | Rural | 0.8271
14130 | Clinton County, Illinois | 7040 | Urban | 0.8962 | 41180 | Urban | 0.8954
14140 | Coles County, Illinois | 14 | Rural | 0.8301 | 99914 | Rural | 0.8271
14141 | Cook County, Illinois | 1600 | Urban | 1.0783 | 16974 | Urban | 1.0790
14150 | Crawford County, Illinois | 14 | Rural | 0.8301 | 99914 | Rural | 0.8271
14160 | Cumberland County, Illinois | 14 | Rural | 0.8301 | 99914 | Rural | 0.8271
14170 | De Kalb County, Illinois | 1600 | Urban | 1.0783 | 16974 | Urban | 1.0790
14180 | De Witt County, Illinois | 14 | Rural | 0.8301 | 99914 | Rural | 0.8271
14190 | Douglas County, Illinois | 14 | Rural | 0.8301 | 99914 | Rural | 0.8271
14250 | Du Page County, Illinois | 1600 | Urban | 1.0783 | 16974 | Urban | 1.0790
14310 | Edgar County, Illinois | 14 | Rural | 0.8301 | 99914 | Rural | 0.8271
14320 | Edwards County, Illinois | 14 | Rural | 0.8301 | 99914 | Rural | 0.8271
14330 | Effingham County, Illinois | 14 | Rural | 0.8301 | 99914 | Rural | 0.8271
14340 | Fayette County, Illinois | 14 | Rural | 0.8301 | 99914 | Rural | 0.8271
14350 | Ford County, Illinois | 14 | Rural | 0.8301 | 16580 | Urban | 0.9594
14360 | Franklin County, Illinois | 14 | Rural | 0.8301 | 99914 | Rural | 0.8271
14370 | Fulton County, Illinois | 14 | Rural | 0.8301 | 99914 | Rural | 0.8271
14380 | Gallatin County, Illinois | 14 | Rural | 0.8301 | 99914 | Rural | 0.8271
14390 | Greene County, Illinois | 14 | Rural | 0.8301 | 99914 | Rural | 0.8271
14400 | Grundy County, Illinois | 1600 | Urban | 1.0783 | 16974 | Urban | 1.0790
14410 | Hamilton County, Illinois | 14 | Rural | 0.8301 | 99914 | Rural | 0.8271
14420 | Hancock County, Illinois | 14 | Rural | 0.8301 | 99914 | Rural | 0.8271
14421 | Hardin County, Illinois | 14 | Rural | 0.8301 | 99914 | Rural | 0.8271
14440 | Henderson County, Illinois | 14 | Rural | 0.8301 | 99914 | Rural | 0.8271
14450 | Henry County, Illinois | 1960 | Urban | 0.8724 | 19340 | Urban | 0.8724
14460 | Iroquois County, Illinois | 14 | Rural | 0.8301 | 99914 | Rural | 0.8271
14470 | Jackson County, Illinois | 14 | Rural | 0.8301 | 99914 | Rural | 0.8271
14480 | Jasper County, Illinois | 14 | Rural | 0.8301 | 99914 | Rural | 0.8271
14490 | Jefferson County, Illinois | 14 | Rural | 0.8301 | 99914 | Rural | 0.8271
14500 | Jersey County, Illinois | 7040 | Urban | 0.8962 | 41180 | Urban | 0.8954
14510 | Jo Daviess County, Illinois | 14 | Rural | 0.8301 | 99914 | Rural | 0.8271
14520 | Johnson County, Illinois | 14 | Rural | 0.8301 | 99914 | Rural | 0.8271
14530 | Kane County, Illinois | 1600 | Urban | 1.0783 | 16974 | Urban | 1.0790
14540 | Kankakee County, Illinois | 3740 | Urban | 1.0721 | 28100 | Urban | 1.0721
14550 | Kendall County, Illinois | 1600 | Urban | 1.0783 | 16974 | Urban | 1.0790
14560 | Knox County, Illinois | 14 | Rural | 0.8301 | 99914 | Rural | 0.8271
14570 | Lake County, Illinois | 1600 | Urban | 1.0783 | 29404 | Urban | 1.0429
14580 | La Salle County, Illinois | 14 | Rural | 0.8301 | 99914 | Rural | 0.8271
14590 | Lawrence County, Illinois | 14 | Rural | 0.8301 | 99914 | Rural | 0.8271
14600 | Lee County, Illinois | 14 | Rural | 0.8301 | 99914 | Rural | 0.8271
14610 | Livingston County, Illinois | 14 | Rural | 0.8301 | 99914 | Rural | 0.8271
14620 | Logan County, Illinois | 14 | Rural | 0.8301 | 99914 | Rural | 0.8271
14630 | Mc Donough County, Illinois | 14 | Rural | 0.8301 | 99914 | Rural | 0.8271
14640 | Mc Henry County, Illinois | 1600 | Urban | 1.0783 | 16974 | Urban | 1.0790
14650 | Mclean County, Illinois | 1040 | Urban | 0.9075 | 14060 | Urban | 0.9075
14660 | Macon County, Illinois | 2040 | Urban | 0.8067 | 19500 | Urban | 0.8067
14670 | Macoupin County, Illinois | 14 | Rural | 0.8301 | 41180 | Urban | 0.8954
14680 | Madison County, Illinois | 7040 | Urban | 0.8962 | 41180 | Urban | 0.8954
14690 | Marion County, Illinois | 14 | Rural | 0.8301 | 99914 | Rural | 0.8271
14700 | Marshall County, Illinois | 14 | Rural | 0.8301 | 37900 | Urban | 0.8870
14710 | Mason County, Illinois | 14 | Rural | 0.8301 | 99914 | Rural | 0.8271
14720 | Massac County, Illinois | 14 | Rural | 0.8301 | 99914 | Rural | 0.8271
14730 | Menard County, Illinois | 7880 | Urban | 0.8792 | 44100 | Urban | 0.8792
14740 | Mercer County, Illinois | 14 | Rural | 0.8301 | 19340 | Urban | 0.8724
14750 | Monroe County, Illinois | 7040 | Urban | 0.8962 | 41180 | Urban | 0.8954
14760 | Montgomery County, Illinois | 14 | Rural | 0.8301 | 99914 | Rural | 0.8271
14770 | Morgan County, Illinois | 14 | Rural | 0.8301 | 99914 | Rural | 0.8271
14780 | Moultrie County, Illinois | 14 | Rural | 0.8301 | 99914 | Rural | 0.8271
14790 | Ogle County, Illinois | 6880 | Urban | 0.9984 | 99914 | Rural | 0.8271
14800 | Peoria County, Illinois | 6120 | Urban | 0.8870 | 37900 | Urban | 0.8870
14810 | Perry County, Illinois | 14 | Rural | 0.8301 | 99914 | Rural | 0.8271
14820 | Piatt County, Illinois | 14 | Rural | 0.8301 | 16580 | Urban | 0.9594
14830 | Pike County, Illinois | 14 | Rural | 0.8301 | 99914 | Rural | 0.8271
14831 | Pope County, Illinois | 14 | Rural | 0.8301 | 99914 | Rural | 0.8271
14850 | Pulaski County, Illinois | 14 | Rural | 0.8301 | 99914 | Rural | 0.8271
14860 | Putnam County, Illinois | 14 | Rural | 0.8301 | 99914 | Rural | 0.8271
14870 | Randolph County, Illinois | 14 | Rural | 0.8301 | 99914 | Rural | 0.8271
14880 | Richland County, Illinois | 14 | Rural | 0.8301 | 99914 | Rural | 0.8271
14890 | Rock Island County, Illinois | 1960 | Urban | 0.8724 | 19340 | Urban | 0.8724
14900 | St Clair County, Illinois | 7040 | Urban | 0.8962 | 41180 | Urban | 0.8954
14910 | Saline County, Illinois | 14 | Rural | 0.8301 | 99914 | Rural | 0.8271
14920 | Sangamon County, Illinois | 7880 | Urban | 0.8792 | 44100 | Urban | 0.8792
14921 | Schuyler County, Illinois | 14 | Rural | 0.8301 | 99914 | Rural | 0.8271
14940 | Scott County, Illinois | 14 | Rural | 0.8301 | 99914 | Rural | 0.8271
14950 | Shelby County, Illinois | 14 | Rural | 0.8301 | 99914 | Rural | 0.8271
14960 | Stark County, Illinois | 14 | Rural | 0.8301 | 37900 | Urban | 0.8870
14970 | Stephenson County, Illinois | 14 | Rural | 0.8301 | 99914 | Rural | 0.8271
14980 | Tazewell County, Illinois | 6120 | Urban | 0.8870 | 37900 | Urban | 0.8870
14981 | Union County, Illinois | 14 | Rural | 0.8301 | 99914 | Rural | 0.8271
14982 | Vermilion County, Illinois | 14 | Rural | 0.8301 | 19180 | Urban | 0.9028
14983 | Wabash County, Illinois | 14 | Rural | 0.8301 | 99914 | Rural | 0.8271
14984 | Warren County, Illinois | 14 | Rural | 0.8301 | 99914 | Rural | 0.8271
14985 | Washington County, Illinois | 14 | Rural | 0.8301 | 99914 | Rural | 0.8271
14986 | Wayne County, Illinois | 14 | Rural | 0.8301 | 99914 | Rural | 0.8271
14987 | White County, Illinois | 14 | Rural | 0.8301 | 99914 | Rural | 0.8271
14988 | Whiteside County, Illinois | 14 | Rural | 0.8301 | 99914 | Rural | 0.8271
14989 | Will County, Illinois | 1600 | Urban | 1.0783 | 16974 | Urban | 1.0790
14990 | Williamson County, Illinois | 14 | Rural | 0.8301 | 99914 | Rural | 0.8271
14991 | Winnebago County, Illinois | 6880 | Urban | 0.9984 | 40420 | Urban | 0.9984
14992 | Woodford County, Illinois | 6120 | Urban | 0.8870 | 37900 | Urban | 0.8870
15000 | Adams County, Indiana | 2760 | Urban | 0.9706 | 99915 | Rural | 0.8624
15010 | Allen County, Indiana | 2760 | Urban | 0.9706 | 23060 | Urban | 0.9793
15020 | Bartholomew County, Indiana | 15 | Rural | 0.8739 | 18020 | Urban | 0.9588
15030 | Benton County, Indiana | 15 | Rural | 0.8739 | 29140 | Urban | 0.8736
15040 | Blackford County, Indiana | 15 | Rural | 0.8739 | 99915 | Rural | 0.8624
15050 | Boone County, Indiana | 3480 | Urban | 0.9865 | 26900 | Urban | 0.9920
15060 | Brown County, Indiana | 15 | Rural | 0.8739 | 26900 | Urban | 0.9920
15070 | Carroll County, Indiana | 15 | Rural | 0.8739 | 29140 | Urban | 0.8736
15080 | Cass County, Indiana | 15 | Rural | 0.8739 | 99915 | Rural | 0.8624
15090 | Clark County, Indiana | 4520 | Urban | 0.9293 | 31140 | Urban | 0.9251
15100 | Clay County, Indiana | 8320 | Urban | 0.8337 | 45460 | Urban | 0.8304
15110 | Clinton County, Indiana | 3920 | Urban | 0.8736 | 99915 | Rural | 0.8624
15120 | Crawford County, Indiana | 15 | Rural | 0.8739 | 99915 | Rural | 0.8624
15130 | Daviess County, Indiana | 15 | Rural | 0.8739 | 99915 | Rural | 0.8624
15140 | Dearborn County, Indiana | 1640 | Urban | 0.9734 | 17140 | Urban | 0.9615
15150 | Decatur County, Indiana | 15 | Rural | 0.8739 | 99915 | Rural | 0.8624
15160 | De Kalb County, Indiana | 2760 | Urban | 0.9706 | 99915 | Rural | 0.8624
15170 | Delaware County, Indiana | 5280 | Urban | 0.8930 | 34620 | Urban | 0.8930
15180 | Dubois County, Indiana | 15 | Rural | 0.8739 | 99915 | Rural | 0.8624
15190 | Elkhart County, Indiana | 2330 | Urban | 0.9627 | 21140 | Urban | 0.9627
15200 | Fayette County, Indiana | 15 | Rural | 0.8739 | 99915 | Rural | 0.8624
15210 | Floyd County, Indiana | 4520 | Urban | 0.9293 | 31140 | Urban | 0.9251
15220 | Fountain County, Indiana | 15 | Rural | 0.8739 | 99915 | Rural | 0.8624
15230 | Franklin County, Indiana | 15 | Rural | 0.8739 | 17140 | Urban | 0.9615
15240 | Fulton County, Indiana | 15 | Rural | 0.8739 | 99915 | Rural | 0.8624
15250 | Gibson County, Indiana | 15 | Rural | 0.8739 | 21780 | Urban | 0.8713
15260 | Grant County, Indiana | 15 | Rural | 0.8739 | 99915 | Rural | 0.8624
15270 | Greene County, Indiana | 15 | Rural | 0.8739 | 14020 | Urban | 0.8447
15280 | Hamilton County, Indiana | 3480 | Urban | 0.9865 | 26900 | Urban | 0.9920
15290 | Hancock County, Indiana | 3480 | Urban | 0.9865 | 26900 | Urban | 0.9920
15300 | Harrison County, Indiana | 4520 | Urban | 0.9293 | 31140 | Urban | 0.9251
15310 | Hendricks County, Indiana | 3480 | Urban | 0.9865 | 26900 | Urban | 0.9920
15320 | Henry County, Indiana | 15 | Rural | 0.8739 | 99915 | Rural | 0.8624
15330 | Howard County, Indiana | 3850 | Urban | 0.9508 | 29020 | Urban | 0.9508
15340 | Huntington County, Indiana | 2760 | Urban | 0.9706 | 99915 | Rural | 0.8624
15350 | Jackson County, Indiana | 15 | Rural | 0.8739 | 99915 | Rural | 0.8624
15360 | Jasper County, Indiana | 15 | Rural | 0.8739 | 23844 | Urban | 0.9395
15370 | Jay County, Indiana | 15 | Rural | 0.8739 | 99915 | Rural | 0.8624
15380 | Jefferson County, Indiana | 15 | Rural | 0.8739 | 99915 | Rural | 0.8624
15390 | Jennings County, Indiana | 15 | Rural | 0.8739 | 99915 | Rural | 0.8624
15400 | Johnson County, Indiana | 3480 | Urban | 0.9865 | 26900 | Urban | 0.9920
15410 | Knox County, Indiana | 15 | Rural | 0.8739 | 99915 | Rural | 0.8624
15420 | Kosciusko County, Indiana | 15 | Rural | 0.8739 | 99915 | Rural | 0.8624
15430 | Lagrange County, Indiana | 15 | Rural | 0.8739 | 99915 | Rural | 0.8624
15440 | Lake County, Indiana | 2960 | Urban | 0.9395 | 23844 | Urban | 0.9395
15450 | La Porte County, Indiana | 15 | Rural | 0.8739 | 33140 | Urban | 0.9399
15460 | Lawrence County, Indiana | 15 | Rural | 0.8739 | 99915 | Rural | 0.8624
15470 | Madison County, Indiana | 3480 | Urban | 0.9865 | 11300 | Urban | 0.8586
15480 | Marion County, Indiana | 3480 | Urban | 0.9865 | 26900 | Urban | 0.9920
15490 | Marshall County, Indiana | 15 | Rural | 0.8739 | 99915 | Rural | 0.8624
15500 | Martin County, Indiana | 15 | Rural | 0.8739 | 99915 | Rural | 0.8624
15510 | Miami County, Indiana | 15 | Rural | 0.8739 | 99915 | Rural | 0.8624
15520 | Monroe County, Indiana | 1020 | Urban | 0.8447 | 14020 | Urban | 0.8447
15530 | Montgomery County, Indiana | 15 | Rural | 0.8739 | 99915 | Rural | 0.8624
15540 | Morgan County, Indiana | 3480 | Urban | 0.9865 | 26900 | Urban | 0.9920
15550 | Newton County, Indiana | 15 | Rural | 0.8739 | 23844 | Urban | 0.9395
15560 | Noble County, Indiana | 15 | Rural | 0.8739 | 99915 | Rural | 0.8624
15570 | Ohio County, Indiana | 1640 | Urban | 0.9734 | 17140 | Urban | 0.9615
15580 | Orange County, Indiana | 15 | Rural | 0.8739 | 99915 | Rural | 0.8624
15590 | Owen County, Indiana | 15 | Rural | 0.8739 | 14020 | Urban | 0.8447
15600 | Parke County, Indiana | 15 | Rural | 0.8739 | 99915 | Rural | 0.8624
15610 | Perry County, Indiana | 15 | Rural | 0.8739 | 99915 | Rural | 0.8624
15620 | Pike County, Indiana | 15 | Rural | 0.8739 | 99915 | Rural | 0.8624
15630 | Porter County, Indiana | 2960 | Urban | 0.9395 | 23844 | Urban | 0.9395
15640 | Posey County, Indiana | 2440 | Urban | 0.8713 | 21780 | Urban | 0.8713
15650 | Pulaski County, Indiana | 15 | Rural | 0.8739 | 99915 | Rural | 0.8624
15660 | Putnam County, Indiana | 15 | Rural | 0.8739 | 26900 | Urban | 0.9920
15670 | Randolph County, Indiana | 15 | Rural | 0.8739 | 99915 | Rural | 0.8624
15680 | Ripley County, Indiana | 15 | Rural | 0.8739 | 99915 | Rural | 0.8624
15690 | Rush County, Indiana | 15 | Rural | 0.8739 | 99915 | Rural | 0.8624
15700 | St Joseph County, Indiana | 7800 | Urban | 0.9788 | 43780 | Urban | 0.9788
15710 | Scott County, Indiana | 4520 | Urban | 0.9293 | 99915 | Rural | 0.8624
15720 | Shelby County, Indiana | 3480 | Urban | 0.9865 | 26900 | Urban | 0.9920
15730 | Spencer County, Indiana | 15 | Rural | 0.8739 | 99915 | Rural | 0.8624
15740 | Starke County, Indiana | 15 | Rural | 0.8739 | 99915 | Rural | 0.8624
15750 | Steuben County, Indiana | 15 | Rural | 0.8739 | 99915 | Rural | 0.8624
15760 | Sullivan County, Indiana | 15 | Rural | 0.8739 | 45460 | Urban | 0.8304
15770 | Switzerland County, Indiana | 15 | Rural | 0.8739 | 99915 | Rural | 0.8624
15780 | Tippecanoe County, Indiana | 3920 | Urban | 0.8736 | 29140 | Urban | 0.8736
15790 | Tipton County, Indiana | 3850 | Urban | 0.9508 | 29020 | Urban | 0.9508
15800 | Union County, Indiana | 15 | Rural | 0.8739 | 99915 | Rural | 0.8624
15810 | Vanderburgh County, Indiana | 2440 | Urban | 0.8713 | 21780 | Urban | 0.8713
15820 | Vermillion County, Indiana | 8320 | Urban | 0.8337 | 45460 | Urban | 0.8304
15830 | Vigo County, Indiana | 8320 | Urban | 0.8337 | 45460 | Urban | 0.8304
15840 | Wabash County, Indiana | 15 | Rural | 0.8739 | 99915 | Rural | 0.8624
15850 | Warren County, Indiana | 15 | Rural | 0.8739 | 99915 | Rural | 0.8624
15860 | Warrick County, Indiana | 2440 | Urban | 0.8713 | 21780 | Urban | 0.8713
15870 | Washington County, Indiana | 15 | Rural | 0.8739 | 31140 | Urban | 0.9251
15880 | Wayne County, Indiana | 15 | Rural | 0.8739 | 99915 | Rural | 0.8624
15890 | Wells County, Indiana | 2760 | Urban | 0.9706 | 23060 | Urban | 0.9793
15900 | White County, Indiana | 15 | Rural | 0.8739 | 99915 | Rural | 0.8624
15910 | Whitley County, Indiana | 2760 | Urban | 0.9706 | 23060 | Urban | 0.9793
16000 | Adair County, Iowa | 16 | Rural | 0.8594 | 99916 | Rural | 0.8509
16010 | Adams County, Iowa | 16 | Rural | 0.8594 | 99916 | Rural | 0.8509
16020 | Allamakee County, Iowa | 16 | Rural | 0.8594 | 99916 | Rural | 0.8509
16030 | Appanoose County, Iowa | 16 | Rural | 0.8594 | 99916 | Rural | 0.8509
16040 | Audubon County, Iowa | 16 | Rural | 0.8594 | 99916 | Rural | 0.8509
16050 | Benton County, Iowa | 16 | Rural | 0.8594 | 16300 | Urban | 0.8825
16060 | Black Hawk County, Iowa | 8920 | Urban | 0.8557 | 47940 | Urban | 0.8557
16070 | Boone County, Iowa | 16 | Rural | 0.8594 | 99916 | Rural | 0.8509
16080 | Bremer County, Iowa | 16 | Rural | 0.8594 | 47940 | Urban | 0.8557
16090 | Buchanan County, Iowa | 16 | Rural | 0.8594 | 99916 | Rural | 0.8509
16100 | Buena Vista County, Iowa | 16 | Rural | 0.8594 | 99916 | Rural | 0.8509
16110 | Butler County, Iowa | 16 | Rural | 0.8594 | 99916 | Rural | 0.8509
16120 | Calhoun County, Iowa | 16 | Rural | 0.8594 | 99916 | Rural | 0.8509
16130 | Carroll County, Iowa | 16 | Rural | 0.8594 | 99916 | Rural | 0.8509
16140 | Cass County, Iowa | 16 | Rural | 0.8594 | 99916 | Rural | 0.8509
16150 | Cedar County, Iowa | 16 | Rural | 0.8594 | 99916 | Rural | 0.8509
16160 | Cerro Gordo County, Iowa | 16 | Rural | 0.8594 | 99916 | Rural | 0.8509
16170 | Cherokee County, Iowa | 16 | Rural | 0.8594 | 99916 | Rural | 0.8509
16180 | Chickasaw County, Iowa | 16 | Rural | 0.8594 | 99916 | Rural | 0.8509
16190 | Clarke County, Iowa | 16 | Rural | 0.8594 | 99916 | Rural | 0.8509
16200 | Clay County, Iowa | 16 | Rural | 0.8594 | 99916 | Rural | 0.8509
16210 | Clayton County, Iowa | 16 | Rural | 0.8594 | 99916 | Rural | 0.8509
16220 | Clinton County, Iowa | 16 | Rural | 0.8594 | 99916 | Rural | 0.8509
16230 | Crawford County, Iowa | 16 | Rural | 0.8594 | 99916 | Rural | 0.8509
16240 | Dallas County, Iowa | 2120 | Urban | 0.9669 | 19780 | Urban | 0.9669
16250 | Davis County, Iowa | 16 | Rural | 0.8594 | 99916 | Rural | 0.8509
16260 | Decatur County, Iowa | 16 | Rural | 0.8594 | 99916 | Rural | 0.8509
16270 | Delaware County, Iowa | 16 | Rural | 0.8594 | 99916 | Rural | 0.8509
16280 | Des Moines County, Iowa | 16 | Rural | 0.8594 | 99916 | Rural | 0.8509
16290 | Dickinson County, Iowa | 16 | Rural | 0.8594 | 99916 | Rural | 0.8509
16300 | Dubuque County, Iowa | 2200 | Urban | 0.9024 | 20220 | Urban | 0.9024
16310 | Emmet County, Iowa | 16 | Rural | 0.8594 | 99916 | Rural | 0.8509
16320 | Fayette County, Iowa | 16 | Rural | 0.8594 | 99916 | Rural | 0.8509
16330 | Floyd County, Iowa | 16 | Rural | 0.8594 | 99916 | Rural | 0.8509
16340 | Franklin County, Iowa | 16 | Rural | 0.8594 | 99916 | Rural | 0.8509
16350 | Fremont County, Iowa | 16 | Rural | 0.8594 | 99916 | Rural | 0.8509
16360 | Greene County, Iowa | 16 | Rural | 0.8594 | 99916 | Rural | 0.8509
16370 | Grundy County, Iowa | 16 | Rural | 0.8594 | 47940 | Urban | 0.8557
16380 | Guthrie County, Iowa | 16 | Rural | 0.8594 | 19780 | Urban | 0.9669
16390 | Hamilton County, Iowa | 16 | Rural | 0.8594 | 99916 | Rural | 0.8509
16400 | Hancock County, Iowa | 16 | Rural | 0.8594 | 99916 | Rural | 0.8509
16410 | Hardin County, Iowa | 16 | Rural | 0.8594 | 99916 | Rural | 0.8509
16420 | Harrison County, Iowa | 16 | Rural | 0.8594 | 36540 | Urban | 0.9560
16430 | Henry County, Iowa | 16 | Rural | 0.8594 | 99916 | Rural | 0.8509
16440 | Howard County, Iowa | 16 | Rural | 0.8594 | 99916 | Rural | 0.8509
16450 | Humboldt County, Iowa | 16 | Rural | 0.8594 | 99916 | Rural | 0.8509
16460 | Ida County, Iowa | 16 | Rural | 0.8594 | 99916 | Rural | 0.8509
16470 | Iowa County, Iowa | 16 | Rural | 0.8594 | 99916 | Rural | 0.8509
16480 | Jackson County, Iowa | 16 | Rural | 0.8594 | 99916 | Rural | 0.8509
16490 | Jasper County, Iowa | 16 | Rural | 0.8594 | 99916 | Rural | 0.8509
16500 | Jefferson County, Iowa | 16 | Rural | 0.8594 | 99916 | Rural | 0.8509
16510 | Johnson County, Iowa | 3500 | Urban | 0.9747 | 26980 | Urban | 0.9747
16520 | Jones County, Iowa | 16 | Rural | 0.8594 | 16300 | Urban | 0.8825
16530 | Keokuk County, Iowa | 16 | Rural | 0.8594 | 99916 | Rural | 0.8509
16540 | Kossuth County, Iowa | 16 | Rural | 0.8594 | 99916 | Rural | 0.8509
16550 | Lee County, Iowa | 16 | Rural | 0.8594 | 99916 | Rural | 0.8509
16560 | Linn County, Iowa | 1360 | Urban | 0.8825 | 16300 | Urban | 0.8825
16570 | Louisa County, Iowa | 16 | Rural | 0.8594 | 99916 | Rural | 0.8509
16580 | Lucas County, Iowa | 16 | Rural | 0.8594 | 99916 | Rural | 0.8509
16590 | Lyon County, Iowa | 16 | Rural | 0.8594 | 99916 | Rural | 0.8509
16600 | Madison County, Iowa | 16 | Rural | 0.8594 | 19780 | Urban | 0.9669
16610 | Mahaska County, Iowa | 16 | Rural | 0.8594 | 99916 | Rural | 0.8509
16620 | Marion County, Iowa | 16 | Rural | 0.8594 | 99916 | Rural | 0.8509
16630 | Marshall County, Iowa | 16 | Rural | 0.8594 | 99916 | Rural | 0.8509
16640 | Mills County, Iowa | 16 | Rural | 0.8594 | 36540 | Urban | 0.9560
16650 | Mitchell County, Iowa | 16 | Rural | 0.8594 | 99916 | Rural | 0.8509
16660 | Monona County, Iowa | 16 | Rural | 0.8594 | 99916 | Rural | 0.8509
16670 | Monroe County, Iowa | 16 | Rural | 0.8594 | 99916 | Rural | 0.8509
16680 | Montgomery County, Iowa | 16 | Rural | 0.8594 | 99916 | Rural | 0.8509
16690 | Muscatine County, Iowa | 16 | Rural | 0.8594 | 99916 | Rural | 0.8509
16700 | O Brien County, Iowa | 16 | Rural | 0.8594 | 99916 | Rural | 0.8509
16710 | Osceola County, Iowa | 16 | Rural | 0.8594 | 99916 | Rural | 0.8509
16720 | Page County, Iowa | 16 | Rural | 0.8594 | 99916 | Rural | 0.8509
16730 | Palo Alto County, Iowa | 16 | Rural | 0.8594 | 99916 | Rural | 0.8509
16740 | Plymouth County, Iowa | 16 | Rural | 0.8594 | 99916 | Rural | 0.8509
16750 | Pocahontas County, Iowa | 16 | Rural | 0.8594 | 99916 | Rural | 0.8509
16760 | Polk County, Iowa | 2120 | Urban | 0.9669 | 19780 | Urban | 0.9669
16770 | Pottawattamie County, Iowa | 5920 | Urban | 0.9560 | 36540 | Urban | 0.9560
16780 | Poweshiek County, Iowa | 16 | Rural | 0.8594 | 99916 | Rural | 0.8509
16790 | Ringgold County, Iowa | 16 | Rural | 0.8594 | 99916 | Rural | 0.8509
16800 | Sac County, Iowa | 16 | Rural | 0.8594 | 99916 | Rural | 0.8509
16810 | Scott County, Iowa | 1960 | Urban | 0.8724 | 19340 | Urban | 0.8724
16820 | Shelby County, Iowa | 16 | Rural | 0.8594 | 99916 | Rural | 0.8509
16830 | Sioux County, Iowa | 16 | Rural | 0.8594 | 99916 | Rural | 0.8509
16840 | Story County, Iowa | 16 | Rural | 0.8594 | 11180 | Urban | 0.9536
16850 | Tama County, Iowa | 16 | Rural | 0.8594 | 99916 | Rural | 0.8509
16860 | Taylor County, Iowa | 16 | Rural | 0.8594 | 99916 | Rural | 0.8509
16870 | Union County, Iowa | 16 | Rural | 0.8594 | 99916 | Rural | 0.8509
16880 | Van Buren County, Iowa | 16 | Rural | 0.8594 | 99916 | Rural | 0.8509
16890 | Wapello County, Iowa | 16 | Rural | 0.8594 | 99916 | Rural | 0.8509
16900 | Warren County, Iowa | 2120 | Urban | 0.9669 | 19780 | Urban | 0.9669
16910 | Washington County, Iowa | 16 | Rural | 0.8594 | 26980 | Urban | 0.9747
16920 | Wayne County, Iowa | 16 | Rural | 0.8594 | 99916 | Rural | 0.8509
16930 | Webster County, Iowa | 16 | Rural | 0.8594 | 99916 | Rural | 0.8509
16940 | Winnebago County, Iowa | 16 | Rural | 0.8594 | 99916 | Rural | 0.8509
16950 | Winneshiek County, Iowa | 16 | Rural | 0.8594 | 99916 | Rural | 0.8509
16960 | Woodbury County, Iowa | 7720 | Urban | 0.9416 | 43580 | Urban | 0.9381
16970 | Worth County, Iowa | 16 | Rural | 0.8594 | 99916 | Rural | 0.8509
16980 | Wright County, Iowa | 16 | Rural | 0.8594 | 99916 | Rural | 0.8509
17000 | Allen County, Kansas | 17 | Rural | 0.8040 | 99917 | Rural | 0.8035
17010 | Anderson County, Kansas | 17 | Rural | 0.8040 | 99917 | Rural | 0.8035
17020 | Atchison County, Kansas | 17 | Rural | 0.8040 | 99917 | Rural | 0.8035
17030 | Barber County, Kansas | 17 | Rural | 0.8040 | 99917 | Rural | 0.8035
17040 | Barton County, Kansas | 17 | Rural | 0.8040 | 99917 | Rural | 0.8035
17050 | Bourbon County, Kansas | 17 | Rural | 0.8040 | 99917 | Rural | 0.8035
17060 | Brown County, Kansas | 17 | Rural | 0.8040 | 99917 | Rural | 0.8035
17070 | Butler County, Kansas | 9040 | Urban | 0.9175 | 48620 | Urban | 0.9153
17080 | Chase County, Kansas | 17 | Rural | 0.8040 | 99917 | Rural | 0.8035
17090 | Chautauqua County, Kansas | 17 | Rural | 0.8040 | 99917 | Rural | 0.8035
17100 | Cherokee County, Kansas | 17 | Rural | 0.8040 | 99917 | Rural | 0.8035
17110 | Cheyenne County, Kansas | 17 | Rural | 0.8040 | 99917 | Rural | 0.8035
17120 | Clark County, Kansas | 17 | Rural | 0.8040 | 99917 | Rural | 0.8035
17130 | Clay County, Kansas | 17 | Rural | 0.8040 | 99917 | Rural | 0.8035
17140 | Cloud County, Kansas | 17 | Rural | 0.8040 | 99917 | Rural | 0.8035
17150 | Coffey County, Kansas | 17 | Rural | 0.8040 | 99917 | Rural | 0.8035
17160 | Comanche County, Kansas | 17 | Rural | 0.8040 | 99917 | Rural | 0.8035
17170 | Cowley County, Kansas | 17 | Rural | 0.8040 | 99917 | Rural | 0.8035
17180 | Crawford County, Kansas | 17 | Rural | 0.8040 | 99917 | Rural | 0.8035
17190 | Decatur County, Kansas | 17 | Rural | 0.8040 | 99917 | Rural | 0.8035
17200 | Dickinson County, Kansas | 17 | Rural | 0.8040 | 99917 | Rural | 0.8035
17210 | Doniphan County, Kansas | 17 | Rural | 0.8040 | 41140 | Urban | 0.9519
17220 | Douglas County, Kansas | 4150 | Urban | 0.8537 | 29940 | Urban | 0.8537
17230 | Edwards County, Kansas | 17 | Rural | 0.8040 | 99917 | Rural | 0.8035
17240 | Elk County, Kansas | 17 | Rural | 0.8040 | 99917 | Rural | 0.8035
17250 | Ellis County, Kansas | 17 | Rural | 0.8040 | 99917 | Rural | 0.8035
17260 | Ellsworth County, Kansas | 17 | Rural | 0.8040 | 99917 | Rural | 0.8035
17270 | Finney County, Kansas | 17 | Rural | 0.8040 | 99917 | Rural | 0.8035
17280 | Ford County, Kansas | 17 | Rural | 0.8040 | 99917 | Rural | 0.8035
17290 | Franklin County, Kansas | 17 | Rural | 0.8040 | 28140 | Urban | 0.9476
17300 | Geary County, Kansas | 17 | Rural | 0.8040 | 99917 | Rural | 0.8035
17310 | Gove County, Kansas | 17 | Rural | 0.8040 | 99917 | Rural | 0.8035
17320 | Graham County, Kansas | 17 | Rural | 0.8040 | 99917 | Rural | 0.8035
17330 | Grant County, Kansas | 17 | Rural | 0.8040 | 99917 | Rural | 0.8035
17340 | Gray County, Kansas | 17 | Rural | 0.8040 | 99917 | Rural | 0.8035
17350 | Greeley County, Kansas | 17 | Rural | 0.8040 | 99917 | Rural | 0.8035
17360 | Greenwood County, Kansas | 17 | Rural | 0.8040 | 99917 | Rural | 0.8035
17370 | Hamilton County, Kansas | 17 | Rural | 0.8040 | 99917 | Rural | 0.8035
17380 | Harper County, Kansas | 17 | Rural | 0.8040 | 99917 | Rural | 0.8035
17390 | Harvey County, Kansas | 9040 | Urban | 0.9175 | 48620 | Urban | 0.9153
17391 | Haskell County, Kansas | 17 | Rural | 0.8040 | 99917 | Rural | 0.8035
17410 | Hodgeman County, Kansas | 17 | Rural | 0.8040 | 99917 | Rural | 0.8035
17420 | Jackson County, Kansas | 17 | Rural | 0.8040 | 45820 | Urban | 0.8920
17430 | Jefferson County, Kansas | 17 | Rural | 0.8040 | 45820 | Urban | 0.8920
17440 | Jewell County, Kansas | 17 | Rural | 0.8040 | 99917 | Rural | 0.8035
17450 | Johnson County, Kansas | 3760 | Urban | 0.9490 | 28140 | Urban | 0.9476
17451 | Kearny County, Kansas | 17 | Rural | 0.8040 | 99917 | Rural | 0.8035
17470 | Kingman County, Kansas | 17 | Rural | 0.8040 | 99917 | Rural | 0.8035
17480 | Kiowa County, Kansas | 17 | Rural | 0.8040 | 99917 | Rural | 0.8035
17490 | Labette County, Kansas | 17 | Rural | 0.8040 | 99917 | Rural | 0.8035
17500 | Lane County, Kansas | 17 | Rural | 0.8040 | 99917 | Rural | 0.8035
17510 | Leavenworth County, Kansas | 3760 | Urban | 0.9490 | 28140 | Urban | 0.9476
17520 | Lincoln County, Kansas | 17 | Rural | 0.8040 | 99917 | Rural | 0.8035
17530 | Linn County, Kansas | 17 | Rural | 0.8040 | 28140 | Urban | 0.9476
17540 | Logan County, Kansas | 17 | Rural | 0.8040 | 99917 | Rural | 0.8035
17550 | Lyon County, Kansas | 17 | Rural | 0.8040 | 99917 | Rural | 0.8035
17560 | Mc Pherson County, Kansas | 17 | Rural | 0.8040 | 99917 | Rural | 0.8035
17570 | Marion County, Kansas | 17 | Rural | 0.8040 | 99917 | Rural | 0.8035
17580 | Marshall County, Kansas | 17 | Rural | 0.8040 | 99917 | Rural | 0.8035
17590 | Meade County, Kansas | 17 | Rural | 0.8040 | 99917 | Rural | 0.8035
17600 | Miami County, Kansas | 3760 | Urban | 0.9490 | 28140 | Urban | 0.9476
17610 | Mitchell County, Kansas | 17 | Rural | 0.8040 | 99917 | Rural | 0.8035
17620 | Montgomery County, Kansas | 17 | Rural | 0.8040 | 99917 | Rural | 0.8035
17630 | Morris County, Kansas | 17 | Rural | 0.8040 | 99917 | Rural | 0.8035
17640 | Morton County, Kansas | 17 | Rural | 0.8040 | 99917 | Rural | 0.8035
17650 | Nemaha County, Kansas | 17 | Rural | 0.8040 | 99917 | Rural | 0.8035
17660 | Neosho County, Kansas | 17 | Rural | 0.8040 | 99917 | Rural | 0.8035
17670 | Ness County, Kansas | 17 | Rural | 0.8040 | 99917 | Rural | 0.8035
17680 | Norton County, Kansas | 17 | Rural | 0.8040 | 99917 | Rural | 0.8035
17690 | Osage County, Kansas | 17 | Rural | 0.8040 | 45820 | Urban | 0.8920
17700 | Osborne County, Kansas | 17 | Rural | 0.8040 | 99917 | Rural | 0.8035
17710 | Ottawa County, Kansas | 17 | Rural | 0.8040 | 99917 | Rural | 0.8035
17720 | Pawnee County, Kansas | 17 | Rural | 0.8040 | 99917 | Rural | 0.8035
17730 | Phillips County, Kansas | 17 | Rural | 0.8040 | 99917 | Rural | 0.8035
17740 | Pottawatomie County, Kansas | 17 | Rural | 0.8040 | 99917 | Rural | 0.8035
17750 | Pratt County, Kansas | 17 | Rural | 0.8040 | 99917 | Rural | 0.8035
17760 | Rawlins County, Kansas | 17 | Rural | 0.8040 | 99917 | Rural | 0.8035
17770 | Reno County, Kansas | 17 | Rural | 0.8040 | 99917 | Rural | 0.8035
17780 | Republic County, Kansas | 17 | Rural | 0.8040 | 99917 | Rural | 0.8035
17790 | Rice County, Kansas | 17 | Rural | 0.8040 | 99917 | Rural | 0.8035
17800 | Riley County, Kansas | 17 | Rural | 0.8040 | 99917 | Rural | 0.8035
17810 | Rooks County, Kansas | 17 | Rural | 0.8040 | 99917 | Rural | 0.8035
17820 | Rush County, Kansas | 17 | Rural | 0.8040 | 99917 | Rural | 0.8035
17830 | Russell County, Kansas | 17 | Rural | 0.8040 | 99917 | Rural | 0.8035
17840 | Saline County, Kansas | 17 | Rural | 0.8040 | 99917 | Rural | 0.8035
17841 | Scott County, Kansas | 17 | Rural | 0.8040 | 99917 | Rural | 0.8035
17860 | Sedgwick County, Kansas | 9040 | Urban | 0.9175 | 48620 | Urban | 0.9153
17870 | Seward County, Kansas | 17 | Rural | 0.8040 | 99917 | Rural | 0.8035
17880 | Shawnee County, Kansas | 8440 | Urban | 0.8920 | 45820 | Urban | 0.8920
17890 | Sheridan County, Kansas | 17 | Rural | 0.8040 | 99917 | Rural | 0.8035
17900 | Sherman County, Kansas | 17 | Rural | 0.8040 | 99917 | Rural | 0.8035
17910 | Smith County, Kansas | 17 | Rural | 0.8040 | 99917 | Rural | 0.8035
17920 | Stafford County, Kansas | 17 | Rural | 0.8040 | 99917 | Rural | 0.8035
17921 | Stanton County, Kansas | 17 | Rural | 0.8040 | 99917 | Rural | 0.8035
17940 | Stevens County, Kansas | 17 | Rural | 0.8040 | 99917 | Rural | 0.8035
17950 | Sumner County, Kansas | 17 | Rural | 0.8040 | 48620 | Urban | 0.9153
17960 | Thomas County, Kansas | 17 | Rural | 0.8040 | 99917 | Rural | 0.8035
17970 | Trego County, Kansas | 17 | Rural | 0.8040 | 99917 | Rural | 0.8035
17980 | Wabaunsee County, Kansas | 17 | Rural | 0.8040 | 45820 | Urban | 0.8920
17981 | Wallace County, Kansas | 17 | Rural | 0.8040 | 99917 | Rural | 0.8035
17982 | Washington County, Kansas | 17 | Rural | 0.8040 | 99917 | Rural | 0.8035
17983 | Wichita County, Kansas | 17 | Rural | 0.8040 | 99917 | Rural | 0.8035
17984 | Wilson County, Kansas | 17 | Rural | 0.8040 | 99917 | Rural | 0.8035
17985 | Woodson County, Kansas | 17 | Rural | 0.8040 | 99917 | Rural | 0.8035
17986 | Wyandotte County, Kansas | 3760 | Urban | 0.9490 | 28140 | Urban | 0.9476
18000 | Adair County, Kentucky | 18 | Rural | 0.7858 | 99918 | Rural | 0.7766
18010 | Allen County, Kentucky | 18 | Rural | 0.7858 | 99918 | Rural | 0.7766
18020 | Anderson County, Kentucky | 18 | Rural | 0.7858 | 99918 | Rural | 0.7766
18030 | Ballard County, Kentucky | 18 | Rural | 0.7858 | 99918 | Rural | 0.7766
18040 | Barren County, Kentucky | 18 | Rural | 0.7858 | 99918 | Rural | 0.7766
18050 | Bath County, Kentucky | 18 | Rural | 0.7858 | 99918 | Rural | 0.7766
18060 | Bell County, Kentucky | 18 | Rural | 0.7858 | 99918 | Rural | 0.7766
18070 | Boone County, Kentucky | 1640 | Urban | 0.9734 | 17140 | Urban | 0.9615
18080 | Bourbon County, Kentucky | 4280 | Urban | 0.8988 | 30460 | Urban | 0.9075
18090 | Boyd County, Kentucky | 3400 | Urban | 0.9477 | 26580 | Urban | 0.9477
18100 | Boyle County, Kentucky | 18 | Rural | 0.7858 | 99918 | Rural | 0.7766
18110 | Bracken County, Kentucky | 18 | Rural | 0.7858 | 17140 | Urban | 0.9615
18120 | Breathitt County, Kentucky | 18 | Rural | 0.7858 | 99918 | Rural | 0.7766
18130 | Breckinridge County, Kentucky | 18 | Rural | 0.7858 | 99918 | Rural | 0.7766
18140 | Bullitt County, Kentucky | 4520 | Urban | 0.9293 | 31140 | Urban | 0.9251
18150 | Butler County, Kentucky | 18 | Rural | 0.7858 | 99918 | Rural | 0.7766
18160 | Caldwell County, Kentucky | 18 | Rural | 0.7858 | 99918 | Rural | 0.7766
18170 | Calloway County, Kentucky | 18 | Rural | 0.7858 | 99918 | Rural | 0.7766
18180 | Campbell County, Kentucky | 1640 | Urban | 0.9734 | 17140 | Urban | 0.9615
18190 | Carlisle County, Kentucky | 18 | Rural | 0.7858 | 99918 | Rural | 0.7766
18191 | Carroll County, Kentucky | 18 | Rural | 0.7858 | 99918 | Rural | 0.7766
18210 | Carter County, Kentucky | 3400 | Urban | 0.9477 | 99918 | Rural | 0.7766
18220 | Casey County, Kentucky | 18 | Rural | 0.7858 | 99918 | Rural | 0.7766
18230 | Christian County, Kentucky | 1660 | Urban | 0.8284 | 17300 | Urban | 0.8284
18240 | Clark County, Kentucky | 4280 | Urban | 0.8988 | 30460 | Urban | 0.9075
18250 | Clay County, Kentucky | 18 | Rural | 0.7858 | 99918 | Rural | 0.7766
18260 | Clinton County, Kentucky | 18 | Rural | 0.7858 | 99918 | Rural | 0.7766
18270 | Crittenden County, Kentucky | 18 | Rural | 0.7858 | 99918 | Rural | 0.7766
18271 | Cumberland County, Kentucky | 18 | Rural | 0.7858 | 99918 | Rural | 0.7766
18290 | Daviess County, Kentucky | 5990 | Urban | 0.8780 | 36980 | Urban | 0.8780
18291 | Edmonson County, Kentucky | 18 | Rural | 0.7858 | 14540 | Urban | 0.8211
18310 | Elliott County, Kentucky | 18 | Rural | 0.7858 | 99918 | Rural | 0.7766
18320 | Estill County, Kentucky | 18 | Rural | 0.7858 | 99918 | Rural | 0.7766
18330 | Fayette County, Kentucky | 4280 | Urban | 0.8988 | 30460 | Urban | 0.9075
18340 | Fleming County, Kentucky | 18 | Rural | 0.7858 | 99918 | Rural | 0.7766
18350 | Floyd County, Kentucky | 18 | Rural | 0.7858 | 99918 | Rural | 0.7766
18360 | Franklin County, Kentucky | 18 | Rural | 0.7858 | 99918 | Rural | 0.7766
18361 | Fulton County, Kentucky | 18 | Rural | 0.7858 | 99918 | Rural | 0.7766
18362 | Gallatin County, Kentucky | 1640 | Urban | 0.9734 | 17140 | Urban | 0.9615
18390 | Garrard County, Kentucky | 18 | Rural | 0.7858 | 99918 | Rural | 0.7766
18400 | Grant County, Kentucky | 1640 | Urban | 0.9734 | 17140 | Urban | 0.9615
18410 | Graves County, Kentucky | 18 | Rural | 0.7858 | 99918 | Rural | 0.7766
18420 | Grayson County, Kentucky | 18 | Rural | 0.7858 | 99918 | Rural | 0.7766
18421 | Green County, Kentucky | 18 | Rural | 0.7858 | 99918 | Rural | 0.7766
18440 | Greenup County, Kentucky | 3400 | Urban | 0.9477 | 26580 | Urban | 0.9477
18450 | Hancock County, Kentucky | 18 | Rural | 0.7858 | 36980 | Urban | 0.8780
18460 | Hardin County, Kentucky | 18 | Rural | 0.7858 | 21060 | Urban | 0.8802
18470 | Harlan County, Kentucky | 18 | Rural | 0.7858 | 99918 | Rural | 0.7766
18480 | Harrison County, Kentucky | 18 | Rural | 0.7858 | 99918 | Rural | 0.7766
18490 | Hart County, Kentucky | 18 | Rural | 0.7858 | 99918 | Rural | 0.7766
18500 | Henderson County, Kentucky | 2440 | Urban | 0.8713 | 21780 | Urban | 0.8713
18510 | Henry County, Kentucky | 18 | Rural | 0.7858 | 31140 | Urban | 0.9251
18511 | Hickman County, Kentucky | 18 | Rural | 0.7858 | 99918 | Rural | 0.7766
18530 | Hopkins County, Kentucky | 18 | Rural | 0.7858 | 99918 | Rural | 0.7766
18540 | Jackson County, Kentucky | 18 | Rural | 0.7858 | 99918 | Rural | 0.7766
18550 | Jefferson County, Kentucky | 4520 | Urban | 0.9293 | 31140 | Urban | 0.9251
18560 | Jessamine County, Kentucky | 4280 | Urban | 0.8988 | 30460 | Urban | 0.9075
18570 | Johnson County, Kentucky | 18 | Rural | 0.7858 | 99918 | Rural | 0.7766
18580 | Kenton County, Kentucky | 1640 | Urban | 0.9734 | 17140 | Urban | 0.9615
18590 | Knott County, Kentucky | 18 | Rural | 0.7858 | 99918 | Rural | 0.7766
18600 | Knox County, Kentucky | 18 | Rural | 0.7858 | 99918 | Rural | 0.7766
18610 | Larue County, Kentucky | 18 | Rural | 0.7858 | 21060 | Urban | 0.8802
18620 | Laurel County, Kentucky | 18 | Rural | 0.7858 | 99918 | Rural | 0.7766
18630 | Lawrence County, Kentucky | 18 | Rural | 0.7858 | 99918 | Rural | 0.7766
18640 | Lee County, Kentucky | 18 | Rural | 0.7858 | 99918 | Rural | 0.7766
18650 | Leslie County, Kentucky | 18 | Rural | 0.7858 | 99918 | Rural | 0.7766
18660 | Letcher County, Kentucky | 18 | Rural | 0.7858 | 99918 | Rural | 0.7766
18670 | Lewis County, Kentucky | 18 | Rural | 0.7858 | 99918 | Rural | 0.7766
18680 | Lincoln County, Kentucky | 18 | Rural | 0.7858 | 99918 | Rural | 0.7766
18690 | Livingston County, Kentucky | 18 | Rural | 0.7858 | 99918 | Rural | 0.7766
18700 | Logan County, Kentucky | 18 | Rural | 0.7858 | 99918 | Rural | 0.7766
18710 | Lyon County, Kentucky | 18 | Rural | 0.7858 | 99918 | Rural | 0.7766
18720 | Mc Cracken County, Kentucky | 18 | Rural | 0.7858 | 99918 | Rural | 0.7766
18730 | Mc Creary County, Kentucky | 18 | Rural | 0.7858 | 99918 | Rural | 0.7766
18740 | Mc Lean County, Kentucky | 18 | Rural | 0.7858 | 36980 | Urban | 0.8780
18750 | Madison County, Kentucky | 4280 | Urban | 0.8988 | 99918 | Rural | 0.7766
18760 | Magoffin County, Kentucky | 18 | Rural | 0.7858 | 99918 | Rural | 0.7766
18770 | Marion County, Kentucky | 18 | Rural | 0.7858 | 99918 | Rural | 0.7766
18780 | Marshall County, Kentucky | 18 | Rural | 0.7858 | 99918 | Rural | 0.7766
18790 | Martin County, Kentucky | 18 | Rural | 0.7858 | 99918 | Rural | 0.7766
18800 | Mason County, Kentucky | 18 | Rural | 0.7858 | 99918 | Rural | 0.7766
18801 | Meade County, Kentucky | 18 | Rural | 0.7858 | 31140 | Urban | 0.9251
18802 | Menifee County, Kentucky | 18 | Rural | 0.7858 | 99918 | Rural | 0.7766
18830 | Mercer County, Kentucky | 18 | Rural | 0.7858 | 99918 | Rural | 0.7766
18831 | Metcalfe County, Kentucky | 18 | Rural | 0.7858 | 99918 | Rural | 0.7766
18850 | Monroe County, Kentucky | 18 | Rural | 0.7858 | 99918 | Rural | 0.7766
18860 | Montgomery County, Kentucky | 18 | Rural | 0.7858 | 99918 | Rural | 0.7766
18861 | Morgan County, Kentucky | 18 | Rural | 0.7858 | 99918 | Rural | 0.7766
18880 | Muhlenberg County, Kentucky | 18 | Rural | 0.7858 | 99918 | Rural | 0.7766
18890 | Nelson County, Kentucky | 18 | Rural | 0.7858 | 31140 | Urban | 0.9251
18900 | Nicholas County, Kentucky | 18 | Rural | 0.7858 | 99918 | Rural | 0.7766
18910 | Ohio County, Kentucky | 18 | Rural | 0.7858 | 99918 | Rural | 0.7766
18920 | Oldham County, Kentucky | 4520 | Urban | 0.9293 | 31140 | Urban | 0.9251
18930 | Owen County, Kentucky | 18 | Rural | 0.7858 | 99918 | Rural | 0.7766
18931 | Owsley County, Kentucky | 18 | Rural | 0.7858 | 99918 | Rural | 0.7766
18932 | Pendleton County, Kentucky | 1640 | Urban | 0.9734 | 17140 | Urban | 0.9615
18960 | Perry County, Kentucky | 18 | Rural | 0.7858 | 99918 | Rural | 0.7766
18970 | Pike County, Kentucky | 18 | Rural | 0.7858 | 99918 | Rural | 0.7766
18971 | Powell County, Kentucky | 18 | Rural | 0.7858 | 99918 | Rural | 0.7766
18972 | Pulaski County, Kentucky | 18 | Rural | 0.7858 | 99918 | Rural | 0.7766
18973 | Robertson County, Kentucky | 18 | Rural | 0.7858 | 99918 | Rural | 0.7766
18974 | Rockcastle County, Kentucky | 18 | Rural | 0.7858 | 99918 | Rural | 0.7766
18975 | Rowan County, Kentucky | 18 | Rural | 0.7858 | 99918 | Rural | 0.7766
18976 | Russell County, Kentucky | 18 | Rural | 0.7858 | 99918 | Rural | 0.7766
18977 | Scott County, Kentucky | 4280 | Urban | 0.8988 | 30460 | Urban | 0.9075
18978 | Shelby County, Kentucky | 18 | Rural | 0.7858 | 31140 | Urban | 0.9251
18979 | Simpson County, Kentucky | 18 | Rural | 0.7858 | 99918 | Rural | 0.7766
18980 | Spencer County, Kentucky | 18 | Rural | 0.7858 | 31140 | Urban | 0.9251
18981 | Taylor County, Kentucky | 18 | Rural | 0.7858 | 99918 | Rural | 0.7766
18982 | Todd County, Kentucky | 18 | Rural | 0.7858 | 99918 | Rural | 0.7766
18983 | Trigg County, Kentucky | 18 | Rural | 0.7858 | 17300 | Urban | 0.8284
18984 | Trimble County, Kentucky | 18 | Rural | 0.7858 | 31140 | Urban | 0.9251
18985 | Union County, Kentucky | 18 | Rural | 0.7858 | 99918 | Rural | 0.7766
18986 | Warren County, Kentucky | 18 | Rural | 0.7858 | 14540 | Urban | 0.8211
18987 | Washington County, Kentucky | 18 | Rural | 0.7858 | 99918 | Rural | 0.7766
18988 | Wayne County, Kentucky | 18 | Rural | 0.7858 | 99918 | Rural | 0.7766
18989 | Webster County, Kentucky | 18 | Rural | 0.7858 | 21780 | Urban | 0.8713
18990 | Whitley County, Kentucky | 18 | Rural | 0.7858 | 99918 | Rural | 0.7766
18991 | Wolfe County, Kentucky | 18 | Rural | 0.7858 | 99918 | Rural | 0.7766
18992 | Woodford County, Kentucky | 4280 | Urban | 0.8988 | 30460 | Urban | 0.9075
19000 | Acadia County, Louisiana | 3880 | Urban | 0.8251 | 99919 | Rural | 0.7411
19010 | Allen County, Louisiana | 19 | Rural | 0.7340 | 99919 | Rural | 0.7411
19020 | Ascension County, Louisiana | 0760 | Urban | 0.8643 | 12940 | Urban | 0.8593
19030 | Assumption County, Louisiana | 19 | Rural | 0.7340 | 99919 | Rural | 0.7411
19040 | Avoyelles County, Louisiana | 19 | Rural | 0.7340 | 99919 | Rural | 0.7411
19050 | Beauregard County, Louisiana | 19 | Rural | 0.7340 | 99919 | Rural | 0.7411
19060 | Bienville County, Louisiana | 19 | Rural | 0.7340 | 99919 | Rural | 0.7411
19070 | Bossier County, Louisiana | 7680 | Urban | 0.8737 | 43340 | Urban | 0.8760
19080 | Caddo County, Louisiana | 7680 | Urban | 0.8737 | 43340 | Urban | 0.8760
19090 | Calcasieu County, Louisiana | 3960 | Urban | 0.7858 | 29340 | Urban | 0.7833
19100 | Caldwell County, Louisiana | 19 | Rural | 0.7340 | 99919 | Rural | 0.7411
19110 | Cameron County, Louisiana | 19 | Rural | 0.7340 | 29340 | Urban | 0.7833
19120 | Catahoula County, Louisiana | 19 | Rural | 0.7340 | 99919 | Rural | 0.7411
19130 | Claiborne County, Louisiana | 19 | Rural | 0.7340 | 99919 | Rural | 0.7411
19140 | Concordia County, Louisiana | 19 | Rural | 0.7340 | 99919 | Rural | 0.7411
19150 | De Soto County, Louisiana | 19 | Rural | 0.7340 | 43340 | Urban | 0.8760
19160 | East Baton Rouge County, Louisiana | 0760 | Urban | 0.8643 | 12940 | Urban | 0.8593
19170 | East Carroll County, Louisiana | 19 | Rural | 0.7340 | 99919 | Rural | 0.7411
19180 | East Feliciana County, Louisiana | 19 | Rural | 0.7340 | 12940 | Urban | 0.8593
19190 | Evangeline County, Louisiana | 19 | Rural | 0.7340 | 99919 | Rural | 0.7411
19200 | Franklin County, Louisiana | 19 | Rural | 0.7340 | 99919 | Rural | 0.7411
19210 | Grant County, Louisiana | 19 | Rural | 0.7340 | 10780 | Urban | 0.8033
19220 | Iberia County, Louisiana | 19 | Rural | 0.7340 | 99919 | Rural | 0.7411
19230 | Iberville County, Louisiana | 19 | Rural | 0.7340 | 12940 | Urban | 0.8593
19240 | Jackson County, Louisiana | 19 | Rural | 0.7340 | 99919 | Rural | 0.7411
19250 | Jefferson County, Louisiana | 5560 | Urban | 0.8995 | 35380 | Urban | 0.8995
19260 | Jefferson Davis County, Louisiana | 19 | Rural | 0.7340 | 99919 | Rural | 0.7411
19270 | Lafayette County, Louisiana | 3880 | Urban | 0.8251 | 29180 | Urban | 0.8428
19280 | Lafourche County, Louisiana | 3350 | Urban | 0.7894 | 26380 | Urban | 0.7894
19290 | La Salle County, Louisiana | 19 | Rural | 0.7340 | 99919 | Rural | 0.7411
19300 | Lincoln County, Louisiana | 19 | Rural | 0.7340 | 99919 | Rural | 0.7411
19310 | Livingston County, Louisiana | 0760 | Urban | 0.8643 | 12940 | Urban | 0.8593
19320 | Madison County, Louisiana | 19 | Rural | 0.7340 | 99919 | Rural | 0.7411
19330 | Morehouse County, Louisiana | 19 | Rural | 0.7340 | 99919 | Rural | 0.7411
19340 | Natchitoches County, Louisiana | 19 | Rural | 0.7340 | 99919 | Rural | 0.7411
19350 | Orleans County, Louisiana | 5560 | Urban | 0.8995 | 35380 | Urban | 0.8995
19360 | Ouachita County, Louisiana | 5200 | Urban | 0.8044 | 33740 | Urban | 0.8031
19370 | Plaquemines County, Louisiana | 5560 | Urban | 0.8995 | 35380 | Urban | 0.8995
19380 | Pointe Coupee County, Louisiana | 19 | Rural | 0.7340 | 12940 | Urban | 0.8593
19390 | Rapides County, Louisiana | 0220 | Urban | 0.8033 | 10780 | Urban | 0.8033
19400 | Red River County, Louisiana | 19 | Rural | 0.7340 | 99919 | Rural | 0.7411
19410 | Richland County, Louisiana | 19 | Rural | 0.7340 | 99919 | Rural | 0.7411
19420 | Sabine County, Louisiana | 19 | Rural | 0.7340 | 99919 | Rural | 0.7411
19430 | St Bernard County, Louisiana | 5560 | Urban | 0.8995 | 35380 | Urban | 0.8995
19440 | St Charles County, Louisiana | 5560 | Urban | 0.8995 | 35380 | Urban | 0.8995
19450 | St Helena County, Louisiana | 19 | Rural | 0.7340 | 12940 | Urban | 0.8593
19460 | St James County, Louisiana | 5560 | Urban | 0.8995 | 99919 | Rural | 0.7411
19470 | St John Baptist County, Louisiana | 5560 | Urban | 0.8995 | 35380 | Urban | 0.8995
19480 | St Landry County, Louisiana | 3880 | Urban | 0.8251 | 99919 | Rural | 0.7411
19490 | St Martin County, Louisiana | 3880 | Urban | 0.8251 | 29180 | Urban | 0.8428
19500 | St Mary County, Louisiana | 19 | Rural | 0.7340 | 99919 | Rural | 0.7411
19510 | St Tammany County, Louisiana | 5560 | Urban | 0.8995 | 35380 | Urban | 0.8995
19520 | Tangipahoa County, Louisiana | 19 | Rural | 0.7340 | 99919 | Rural | 0.7411
19530 | Tensas County, Louisiana | 19 | Rural | 0.7340 | 99919 | Rural | 0.7411
19540 | Terrebonne County, Louisiana | 3350 | Urban | 0.7894 | 26380 | Urban | 0.7894
19550 | Union County, Louisiana | 19 | Rural | 0.7340 | 33740 | Urban | 0.8031
19560 | Vermilion County, Louisiana | 19 | Rural | 0.7340 | 99919 | Rural | 0.7411
19570 | Vernon County, Louisiana | 19 | Rural | 0.7340 | 99919 | Rural | 0.7411
19580 | Washington County, Louisiana | 19 | Rural | 0.7340 | 99919 | Rural | 0.7411
19590 | Webster County, Louisiana | 7680 | Urban | 0.8737 | 99919 | Rural | 0.7411
19600 | West Baton Rouge County, Louisiana | 0760 | Urban | 0.8643 | 12940 | Urban | 0.8593
19610 | West Carroll County, Louisiana | 19 | Rural | 0.7340 | 99919 | Rural | 0.7411
19620 | West Feliciana County, Louisiana | 19 | Rural | 0.7340 | 12940 | Urban | 0.8593
19630 | Winn County, Louisiana | 19 | Rural | 0.7340 | 99919 | Rural | 0.7411
20000 | Androscoggin County, Maine | 4243 | Urban | 0.9331 | 30340 | Urban | 0.9331
20010 | Aroostook County, Maine | 20 | Rural | 0.8843 | 99920 | Rural | 0.8843
20020 | Cumberland County, Maine | 6403 | Urban | 1.0382 | 38860 | Urban | 1.0382
20030 | Franklin County, Maine | 20 | Rural | 0.8843 | 99920 | Rural | 0.8843
20040 | Hancock County, Maine | 20 | Rural | 0.8843 | 99920 | Rural | 0.8843
20050 | Kennebec County, Maine | 20 | Rural | 0.8843 | 99920 | Rural | 0.8843
20060 | Knox County, Maine | 20 | Rural | 0.8843 | 99920 | Rural | 0.8843
20070 | Lincoln County, Maine | 20 | Rural | 0.8843 | 99920 | Rural | 0.8843
20080 | Oxford County, Maine | 20 | Rural | 0.8843 | 99920 | Rural | 0.8843
20090 | Penobscot County, Maine | 0733 | Urban | 0.9993 | 12620 | Urban | 0.9993
20100 | Piscataquis County, Maine | 20 | Rural | 0.8843 | 99920 | Rural | 0.8843
20110 | Sagadahoc County, Maine | 6403 | Urban | 1.0382 | 38860 | Urban | 1.0382
20120 | Somerset County, Maine | 20 | Rural | 0.8843 | 99920 | Rural | 0.8843
20130 | Waldo County, Maine | 20 | Rural | 0.8843 | 99920 | Rural | 0.8843
20140 | Washington County, Maine | 20 | Rural | 0.8843 | 99920 | Rural | 0.8843
20150 | York County, Maine | 6403 | Urban | 1.0382 | 38860 | Urban | 1.0382
21000 | Allegany County, Maryland | 1900 | Urban | 0.9317 | 19060 | Urban | 0.9317
21010 | Anne Arundel County, Maryland | 0720 | Urban | 0.9897 | 12580 | Urban | 0.9897
21020 | Baltimore County, Maryland | 0720 | Urban | 0.9897 | 12580 | Urban | 0.9897
21030 | Baltimore City County, Maryland | 0720 | Urban | 0.9897 | 12580 | Urban | 0.9897
21040 | Calvert County, Maryland | 8840 | Urban | 1.0976 | 47894 | Urban | 1.0926
21050 | Caroline County, Maryland | 21 | Rural | 0.9230 | 99921 | Rural | 0.9353
21060 | Carroll County, Maryland | 0720 | Urban | 0.9897 | 12580 | Urban | 0.9897
21070 | Cecil County, Maryland | 9160 | Urban | 1.0527 | 48864 | Urban | 1.0471
21080 | Charles County, Maryland | 8840 | Urban | 1.0976 | 47894 | Urban | 1.0926
21090 | Dorchester County, Maryland | 21 | Rural | 0.9230 | 99921 | Rural | 0.9353
21100 | Frederick County, Maryland | 8840 | Urban | 1.0976 | 13644 | Urban | 1.1483
21110 | Garrett County, Maryland | 21 | Rural | 0.9230 | 99921 | Rural | 0.9353
21120 | Harford County, Maryland | 0720 | Urban | 0.9897 | 12580 | Urban | 0.9897
21130 | Howard County, Maryland | 0720 | Urban | 0.9897 | 12580 | Urban | 0.9897
21140 | Kent County, Maryland | 21 | Rural | 0.9230 | 99921 | Rural | 0.9353
21150 | Montgomery County, Maryland | 8840 | Urban | 1.0976 | 13644 | Urban | 1.1483
21160 | Prince Georges County, Maryland | 8840 | Urban | 1.0976 | 47894 | Urban | 1.0926
21170 | Queen Annes County, Maryland | 0720 | Urban | 0.9897 | 12580 | Urban | 0.9897
21180 | St Marys County, Maryland | 21 | Rural | 0.9230 | 99921 | Rural | 0.9353
21190 | Somerset County, Maryland | 21 | Rural | 0.9230 | 41540 | Urban | 0.9064
21200 | Talbot County, Maryland | 21 | Rural | 0.9230 | 99921 | Rural | 0.9353
21210 | Washington County, Maryland | 3180 | Urban | 0.9869 | 25180 | Urban | 0.9489
21220 | Wicomico County, Maryland | 21 | Rural | 0.9230 | 41540 | Urban | 0.9064
21230 | Worcester County, Maryland | 21 | Rural | 0.9230 | 99921 | Rural | 0.9353
22000 | Barnstable County, Massachusetts | 0743 | Urban | 1.2600 | 12700 | Urban | 1.2600
22010 | Berkshire County, Massachusetts | 6323 | Urban | 1.0181 | 38340 | Urban | 1.0181
22020 | Bristol County, Massachusetts | 1123 | Urban | 1.1178 | 39300 | Urban | 1.0966
22030 | Dukes County, Massachusetts | 22 | Rural | 1.0216 | 99922 | Rural | 1.0216
22040 | Essex County, Massachusetts | 1123 | Urban | 1.1178 | 21604 | Urban | 1.0538
22060 | Franklin County, Massachusetts | 22 | Rural | 1.0216 | 44140 | Urban | 1.0248
22070 | Hampden County, Massachusetts | 8003 | Urban | 1.0263 | 44140 | Urban | 1.0248
22080 | Hampshire County, Massachusetts | 8003 | Urban | 1.0263 | 44140 | Urban | 1.0248
22090 | Middlesex County, Massachusetts | 1123 | Urban | 1.1178 | 15764 | Urban | 1.1172
22120 | Nantucket County, Massachusetts | 22 | Rural | 1.0216 | 99922 | Rural | 1.0216
22130 | Norfolk County, Massachusetts | 1123 | Urban | 1.1178 | 14484 | Urban | 1.1558
22150 | Plymouth County, Massachusetts | 1123 | Urban | 1.1178 | 14484 | Urban | 1.1558
22160 | Suffolk County, Massachusetts | 1123 | Urban | 1.1178 | 14484 | Urban | 1.1558
22170 | Worcester County, Massachusetts | 1123 | Urban | 1.1178 | 49340 | Urban | 1.1028
23000 | Alcona County, Michigan | 23 | Rural | 0.8824 | 99923 | Rural | 0.8895
23010 | Alger County, Michigan | 23 | Rural | 0.8824 | 99923 | Rural | 0.8895
23020 | Allegan County, Michigan | 3000 | Urban | 0.9445 | 99923 | Rural | 0.8895
23030 | Alpena County, Michigan | 23 | Rural | 0.8824 | 99923 | Rural | 0.8895
23040 | Antrim County, Michigan | 23 | Rural | 0.8824 | 99923 | Rural | 0.8895
23050 | Arenac County, Michigan | 23 | Rural | 0.8824 | 99923 | Rural | 0.8895
23060 | Baraga County, Michigan | 23 | Rural | 0.8824 | 99923 | Rural | 0.8895
23070 | Barry County, Michigan | 23 | Rural | 0.8824 | 24340 | Urban | 0.9390
23080 | Bay County, Michigan | 6960 | Urban | 0.9241 | 13020 | Urban | 0.9343
23090 | Benzie County, Michigan | 23 | Rural | 0.8824 | 99923 | Rural | 0.8895
23100 | Berrien County, Michigan | 0870 | Urban | 0.8879 | 35660 | Urban | 0.8879
23110 | Branch County, Michigan | 23 | Rural | 0.8824 | 99923 | Rural | 0.8895
23120 | Calhoun County, Michigan | 3720 | Urban | 1.0143 | 12980 | Urban | 0.9508
23130 | Cass County, Michigan | 23 | Rural | 0.8824 | 43780 | Urban | 0.9788
23140 | Charlevoix County, Michigan | 23 | Rural | 0.8824 | 99923 | Rural | 0.8895
23150 | Cheboygan County, Michigan | 23 | Rural | 0.8824 | 99923 | Rural | 0.8895
23160 | Chippewa County, Michigan | 23 | Rural | 0.8824 | 99923 | Rural | 0.8895
23170 | Clare County, Michigan | 23 | Rural | 0.8824 | 99923 | Rural | 0.8895
23180 | Clinton County, Michigan | 4040 | Urban | 0.9794 | 29620 | Urban | 0.9794
23190 | Crawford County, Michigan | 23 | Rural | 0.8824 | 99923 | Rural | 0.8895
23200 | Delta County, Michigan | 23 | Rural | 0.8824 | 99923 | Rural | 0.8895
23210 | Dickinson County, Michigan | 23 | Rural | 0.8824 | 99923 | Rural | 0.8895
23220 | Eaton County, Michigan | 4040 | Urban | 0.9794 | 29620 | Urban | 0.9794
23230 | Emmet County, Michigan | 23 | Rural | 0.8824 | 99923 | Rural | 0.8895
23240 | Genesee County, Michigan | 2640 | Urban | 1.0655 | 22420 | Urban | 1.0655
23250 | Gladwin County, Michigan | 23 | Rural | 0.8824 | 99923 | Rural | 0.8895
23260 | Gogebic County, Michigan | 23 | Rural | 0.8824 | 99923 | Rural | 0.8895
23270 | Grand Traverse County, Michigan | 23 | Rural | 0.8824 | 99923 | Rural | 0.8895
23280 | Gratiot County, Michigan | 23 | Rural | 0.8824 | 99923 | Rural | 0.8895
23290 | Hillsdale County, Michigan | 23 | Rural | 0.8824 | 99923 | Rural | 0.8895
23300 | Houghton County, Michigan | 23 | Rural | 0.8824 | 99923 | Rural | 0.8895
23310 | Huron County, Michigan | 23 | Rural | 0.8824 | 99923 | Rural | 0.8895
23320 | Ingham County, Michigan | 4040 | Urban | 0.9794 | 29620 | Urban | 0.9794
23330 | Ionia County, Michigan | 23 | Rural | 0.8824 | 24340 | Urban | 0.9390
23340 | Iosco County, Michigan | 23 | Rural | 0.8824 | 99923 | Rural | 0.8895
23350 | Iron County, Michigan | 23 | Rural | 0.8824 | 99923 | Rural | 0.8895
23360 | Isabella County, Michigan | 23 | Rural | 0.8824 | 99923 | Rural | 0.8895
23370 | Jackson County, Michigan | 3520 | Urban | 0.9304 | 27100 | Urban | 0.9304
23380 | Kalamazoo County, Michigan | 3720 | Urban | 1.0143 | 28020 | Urban | 1.0381
23390 | Kalkaska County, Michigan | 23 | Rural | 0.8824 | 99923 | Rural | 0.8895
23400 | Kent County, Michigan | 3000 | Urban | 0.9445 | 24340 | Urban | 0.9390
23410 | Keweenaw County, Michigan | 23 | Rural | 0.8824 | 99923 | Rural | 0.8895
23420 | Lake County, Michigan | 23 | Rural | 0.8824 | 99923 | Rural | 0.8895
23430 | Lapeer County, Michigan | 2160 | Urban | 1.0147 | 47644 | Urban | 0.9871
23440 | Leelanau County, Michigan | 23 | Rural | 0.8824 | 99923 | Rural | 0.8895
23450 | Lenawee County, Michigan | 0440 | Urban | 1.0707 | 99923 | Rural | 0.8895
23460 | Livingston County, Michigan | 0440 | Urban | 1.0707 | 47644 | Urban | 0.9871
23470 | Luce County, Michigan | 23 | Rural | 0.8824 | 99923 | Rural | 0.8895
23480 | Mackinac County, Michigan | 23 | Rural | 0.8824 | 99923 | Rural | 0.8895
23490 | Macomb County, Michigan | 2160 | Urban | 1.0147 | 47644 | Urban | 0.9871
23500 | Manistee County, Michigan | 23 | Rural | 0.8824 | 99923 | Rural | 0.8895
23510 | Marquette County, Michigan | 23 | Rural | 0.8824 | 99923 | Rural | 0.8895
23520 | Mason County, Michigan | 23 | Rural | 0.8824 | 99923 | Rural | 0.8895
23530 | Mecosta County, Michigan | 23 | Rural | 0.8824 | 99923 | Rural | 0.8895
23540 | Menominee County, Michigan | 23 | Rural | 0.8824 | 99923 | Rural | 0.8895
23550 | Midland County, Michigan | 6960 | Urban | 0.9241 | 99923 | Rural | 0.8895
23560 | Missaukee County, Michigan | 23 | Rural | 0.8824 | 99923 | Rural | 0.8895
23570 | Monroe County, Michigan | 2160 | Urban | 1.0147 | 33780 | Urban | 0.9468
23580 | Montcalm County, Michigan | 23 | Rural | 0.8824 | 99923 | Rural | 0.8895
23590 | Montmorency County, Michigan | 23 | Rural | 0.8824 | 99923 | Rural | 0.8895
23600 | Muskegon County, Michigan | 3000 | Urban | 0.9445 | 34740 | Urban | 0.9664
23610 | Newaygo County, Michigan | 23 | Rural | 0.8824 | 24340 | Urban | 0.9390
23620 | Oakland County, Michigan | 2160 | Urban | 1.0147 | 47644 | Urban | 0.9871
23630 | Oceana County, Michigan | 23 | Rural | 0.8824 | 99923 | Rural | 0.8895
23640 | Ogemaw County, Michigan | 23 | Rural | 0.8824 | 99923 | Rural | 0.8895
23650 | Ontonagon County, Michigan | 23 | Rural | 0.8824 | 99923 | Rural | 0.8895
23660 | Osceola County, Michigan | 23 | Rural | 0.8824 | 99923 | Rural | 0.8895
23670 | Oscoda County, Michigan | 23 | Rural | 0.8824 | 99923 | Rural | 0.8895
23680 | Otsego County, Michigan | 23 | Rural | 0.8824 | 99923 | Rural | 0.8895
23690 | Ottawa County, Michigan | 3000 | Urban | 0.9445 | 26100 | Urban | 0.9055
23700 | Presque Isle County, Michigan | 23 | Rural | 0.8824 | 99923 | Rural | 0.8895
23710 | Roscommon County, Michigan | 23 | Rural | 0.8824 | 99923 | Rural | 0.8895
23720 | Saginaw County, Michigan | 6960 | Urban | 0.9241 | 40980 | Urban | 0.9088
23730 | St Clair County, Michigan | 2160 | Urban | 1.0147 | 47644 | Urban | 0.9871
23740 | St Joseph County, Michigan | 23 | Rural | 0.8824 | 99923 | Rural | 0.8895
23750 | Sanilac County, Michigan | 23 | Rural | 0.8824 | 99923 | Rural | 0.8895
23760 | Schoolcraft County, Michigan | 23 | Rural | 0.8824 | 99923 | Rural | 0.8895
23770 | Shiawassee County, Michigan | 23 | Rural | 0.8824 | 99923 | Rural | 0.8895
23780 | Tuscola County, Michigan | 23 | Rural | 0.8824 | 99923 | Rural | 0.8895
23790 | Van Buren County, Michigan | 3720 | Urban | 1.0143 | 28020 | Urban | 1.0381
23800 | Washtenaw County, Michigan | 0440 | Urban | 1.0707 | 11460 | Urban | 1.0859
23810 | Wayne County, Michigan | 2160 | Urban | 1.0147 | 19804 | Urban | 1.0424
23830 | Wexford County, Michigan | 23 | Rural | 0.8824 | 99923 | Rural | 0.8895
24000 | Aitkin County, Minnesota | 24 | Rural | 0.9132 | 99924 | Rural | 0.9132
24010 | Anoka County, Minnesota | 5120 | Urban | 1.1075 | 33460 | Urban | 1.1075
24020 | Becker County, Minnesota | 24 | Rural | 0.9132 | 99924 | Rural | 0.9132
24030 | Beltrami County, Minnesota | 24 | Rural | 0.9132 | 99924 | Rural | 0.9132
24040 | Benton County, Minnesota | 6980 | Urban | 0.9965 | 41060 | Urban | 0.9965
24050 | Big Stone County, Minnesota | 24 | Rural | 0.9132 | 99924 | Rural | 0.9132
24060 | Blue Earth County, Minnesota | 24 | Rural | 0.9132 | 99924 | Rural | 0.9132
24070 | Brown County, Minnesota | 24 | Rural | 0.9132 | 99924 | Rural | 0.9132
24080 | Carlton County, Minnesota | 24 | Rural | 0.9132 | 20260 | Urban | 1.0213
24090 | Carver County, Minnesota | 5120 | Urban | 1.1075 | 33460 | Urban | 1.1075
24100 | Cass County, Minnesota | 24 | Rural | 0.9132 | 99924 | Rural | 0.9132
24110 | Chippewa County, Minnesota | 24 | Rural | 0.9132 | 99924 | Rural | 0.9132
24120 | Chisago County, Minnesota | 5120 | Urban | 1.1075 | 33460 | Urban | 1.1075
24130 | Clay County, Minnesota | 2520 | Urban | 0.8486 | 22020 | Urban | 0.8486
24140 | Clearwater County, Minnesota | 24 | Rural | 0.9132 | 99924 | Rural | 0.9132
24150 | Cook County, Minnesota | 24 | Rural | 0.9132 | 99924 | Rural | 0.9132
24160 | Cottonwood County, Minnesota | 24 | Rural | 0.9132 | 99924 | Rural | 0.9132
24170 | Crow Wing County, Minnesota | 24 | Rural | 0.9132 | 99924 | Rural | 0.9132
24180 | Dakota County, Minnesota | 5120 | Urban | 1.1075 | 33460 | Urban | 1.1075
24190 | Dodge County, Minnesota | 24 | Rural | 0.9132 | 40340 | Urban | 1.1131
24200 | Douglas County, Minnesota | 24 | Rural | 0.9132 | 99924 | Rural | 0.9132
24210 | Faribault County, Minnesota | 24 | Rural | 0.9132 | 99924 | Rural | 0.9132
24220 | Fillmore County, Minnesota | 24 | Rural | 0.9132 | 99924 | Rural | 0.9132
24230 | Freeborn County, Minnesota | 24 | Rural | 0.9132 | 99924 | Rural | 0.9132
24240 | Goodhue County, Minnesota | 24 | Rural | 0.9132 | 99924 | Rural | 0.9132
24250 | Grant County, Minnesota | 24 | Rural | 0.9132 | 99924 | Rural | 0.9132
24260 | Hennepin County, Minnesota | 5120 | Urban | 1.1075 | 33460 | Urban | 1.1075
24270 | Houston County, Minnesota | 3870 | Urban | 0.9564 | 29100 | Urban | 0.9564
24280 | Hubbard County, Minnesota | 24 | Rural | 0.9132 | 99924 | Rural | 0.9132
24290 | Isanti County, Minnesota | 5120 | Urban | 1.1075 | 33460 | Urban | 1.1075
24300 | Itasca County, Minnesota | 24 | Rural | 0.9132 | 99924 | Rural | 0.9132
24310 | Jackson County, Minnesota | 24 | Rural | 0.9132 | 99924 | Rural | 0.9132
24320 | Kanabec County, Minnesota | 24 | Rural | 0.9132 | 99924 | Rural | 0.9132
24330 | Kandiyohi County, Minnesota | 24 | Rural | 0.9132 | 99924 | Rural | 0.9132
24340 | Kittson County, Minnesota | 24 | Rural | 0.9132 | 99924 | Rural | 0.9132
24350 | Koochiching County, Minnesota | 24 | Rural | 0.9132 | 99924 | Rural | 0.9132
24360 | Lac Qui Parle County, Minnesota | 24 | Rural | 0.9132 | 99924 | Rural | 0.9132
24370 | Lake County, Minnesota | 24 | Rural | 0.9132 | 99924 | Rural | 0.9132
24380 | Lake Of Woods County, Minnesota | 24 | Rural | 0.9132 | 99924 | Rural | 0.9132
24390 | Le Sueur County, Minnesota | 24 | Rural | 0.9132 | 99924 | Rural | 0.9132
24400 | Lincoln County, Minnesota | 24 | Rural | 0.9132 | 99924 | Rural | 0.9132
24410 | Lyon County, Minnesota | 24 | Rural | 0.9132 | 99924 | Rural | 0.9132
24420 | Mc Leod County, Minnesota | 24 | Rural | 0.9132 | 99924 | Rural | 0.9132
24430 | Mahnomen County, Minnesota | 24 | Rural | 0.9132 | 99924 | Rural | 0.9132
24440 | Marshall County, Minnesota | 24 | Rural | 0.9132 | 99924 | Rural | 0.9132
24450 | Martin County, Minnesota | 24 | Rural | 0.9132 | 99924 | Rural | 0.9132
24460 | Meeker County, Minnesota | 24 | Rural | 0.9132 | 99924 | Rural | 0.9132
24470 | Mille Lacs County, Minnesota | 24 | Rural | 0.9132 | 99924 | Rural | 0.9132
24480 | Morrison County, Minnesota | 24 | Rural | 0.9132 | 99924 | Rural | 0.9132
24490 | Mower County, Minnesota | 24 | Rural | 0.9132 | 99924 | Rural | 0.9132
24500 | Murray County, Minnesota | 24 | Rural | 0.9132 | 99924 | Rural | 0.9132
24510 | Nicollet County, Minnesota | 24 | Rural | 0.9132 | 99924 | Rural | 0.9132
24520 | Nobles County, Minnesota | 24 | Rural | 0.9132 | 99924 | Rural | 0.9132
24530 | Norman County, Minnesota | 24 | Rural | 0.9132 | 99924 | Rural | 0.9132
24540 | Olmsted County, Minnesota | 6820 | Urban | 1.1131 | 40340 | Urban | 1.1131
24550 | Otter Tail County, Minnesota | 24 | Rural | 0.9132 | 99924 | Rural | 0.9132
24560 | Pennington County, Minnesota | 24 | Rural | 0.9132 | 99924 | Rural | 0.9132
24570 | Pine County, Minnesota | 24 | Rural | 0.9132 | 99924 | Rural | 0.9132
24580 | Pipestone County, Minnesota | 24 | Rural | 0.9132 | 99924 | Rural | 0.9132
24590 | Polk County, Minnesota | 2985 | Urban | 0.7901 | 24220 | Urban | 0.7901
24600 | Pope County, Minnesota | 24 | Rural | 0.9132 | 99924 | Rural | 0.9132
24610 | Ramsey County, Minnesota | 5120 | Urban | 1.1075 | 33460 | Urban | 1.1075
24620 | Red Lake County, Minnesota | 24 | Rural | 0.9132 | 99924 | Rural | 0.9132
24630 | Redwood County, Minnesota | 24 | Rural | 0.9132 | 99924 | Rural | 0.9132
24640 | Renville County, Minnesota | 24 | Rural | 0.9132 | 99924 | Rural | 0.9132
24650 | Rice County, Minnesota | 24 | Rural | 0.9132 | 99924 | Rural | 0.9132
24660 | Rock County, Minnesota | 24 | Rural | 0.9132 | 99924 | Rural | 0.9132
24670 | Roseau County, Minnesota | 24 | Rural | 0.9132 | 99924 | Rural | 0.9132
24680 | St Louis County, Minnesota | 2240 | Urban | 1.0213 | 20260 | Urban | 1.0213
24690 | Scott County, Minnesota | 5120 | Urban | 1.1075 | 33460 | Urban | 1.1075
24700 | Sherburne County, Minnesota | 5120 | Urban | 1.1075 | 33460 | Urban | 1.1075
24710 | Sibley County, Minnesota | 24 | Rural | 0.9132 | 99924 | Rural | 0.9132
24720 | Stearns County, Minnesota | 6980 | Urban | 0.9965 | 41060 | Urban | 0.9965
24730 | Steele County, Minnesota | 24 | Rural | 0.9132 | 99924 | Rural | 0.9132
24740 | Stevens County, Minnesota | 24 | Rural | 0.9132 | 99924 | Rural | 0.9132
24750 | Swift County, Minnesota | 24 | Rural | 0.9132 | 99924 | Rural | 0.9132
24760 | Todd County, Minnesota | 24 | Rural | 0.9132 | 99924 | Rural | 0.9132
24770 | Traverse County, Minnesota | 24 | Rural | 0.9132 | 99924 | Rural | 0.9132
24780 | Wabasha County, Minnesota | 24 | Rural | 0.9132 | 40340 | Urban | 1.1131
24790 | Wadena County, Minnesota | 24 | Rural | 0.9132 | 99924 | Rural | 0.9132
24800 | Waseca County, Minnesota | 24 | Rural | 0.9132 | 99924 | Rural | 0.9132
24810 | Washington County, Minnesota | 5120 | Urban | 1.1075 | 33460 | Urban | 1.1075
24820 | Watonwan County, Minnesota | 24 | Rural | 0.9132 | 99924 | Rural | 0.9132
24830 | Wilkin County, Minnesota | 24 | Rural | 0.9132 | 99924 | Rural | 0.9132
24840 | Winona County, Minnesota | 24 | Rural | 0.9132 | 99924 | Rural | 0.9132
24850 | Wright County, Minnesota | 5120 | Urban | 1.1075 | 33460 | Urban | 1.1075
24860 | Yellow Medicine County, Minnesota | 24 | Rural | 0.9132 | 99924 | Rural | 0.9132
25000 | Adams County, Mississippi | 25 | Rural | 0.7634 | 99925 | Rural | 0.7674
25010 | Alcorn County, Mississippi | 25 | Rural | 0.7634 | 99925 | Rural | 0.7674
25020 | Amite County, Mississippi | 25 | Rural | 0.7634 | 99925 | Rural | 0.7674
25030 | Attala County, Mississippi | 25 | Rural | 0.7634 | 99925 | Rural | 0.7674
25040 | Benton County, Mississippi | 25 | Rural | 0.7634 | 99925 | Rural | 0.7674
25050 | Bolivar County, Mississippi | 25 | Rural | 0.7634 | 99925 | Rural | 0.7674
25060 | Calhoun County, Mississippi | 25 | Rural | 0.7634 | 99925 | Rural | 0.7674
25070 | Carroll County, Mississippi | 25 | Rural | 0.7634 | 99925 | Rural | 0.7674
25080 | Chickasaw County, Mississippi | 25 | Rural | 0.7634 | 99925 | Rural | 0.7674
25090 | Choctaw County, Mississippi | 25 | Rural | 0.7634 | 99925 | Rural | 0.7674
25100 | Claiborne County, Mississippi | 25 | Rural | 0.7634 | 99925 | Rural | 0.7674
25110 | Clarke County, Mississippi | 25 | Rural | 0.7634 | 99925 | Rural | 0.7674
25120 | Clay County, Mississippi | 25 | Rural | 0.7634 | 99925 | Rural | 0.7674
25130 | Coahoma County, Mississippi | 25 | Rural | 0.7634 | 99925 | Rural | 0.7674
25140 | Copiah County, Mississippi | 25 | Rural | 0.7634 | 27140 | Urban | 0.8311
25150 | Covington County, Mississippi | 25 | Rural | 0.7634 | 99925 | Rural | 0.7674
25160 | Desoto County, Mississippi | 4920 | Urban | 0.9416 | 32820 | Urban | 0.9397
25170 | Forrest County, Mississippi | 3285 | Urban | 0.7601 | 25620 | Urban | 0.7601
25180 | Franklin County, Mississippi | 25 | Rural | 0.7634 | 99925 | Rural | 0.7674
25190 | George County, Mississippi | 25 | Rural | 0.7634 | 37700 | Urban | 0.8156
25200 | Greene County, Mississippi | 25 | Rural | 0.7634 | 99925 | Rural | 0.7674
25210 | Grenada County, Mississippi | 25 | Rural | 0.7634 | 99925 | Rural | 0.7674
25220 | Hancock County, Mississippi | 0920 | Urban | 0.8706 | 25060 | Urban | 0.8929
25230 | Harrison County, Mississippi | 0920 | Urban | 0.8706 | 25060 | Urban | 0.8929
25240 | Hinds County, Mississippi | 3560 | Urban | 0.8382 | 27140 | Urban | 0.8311
25250 | Holmes County, Mississippi | 25 | Rural | 0.7634 | 99925 | Rural | 0.7674
25260 | Humphreys County, Mississippi | 25 | Rural | 0.7634 | 99925 | Rural | 0.7674
25270 | Issaquena County, Mississippi | 25 | Rural | 0.7634 | 99925 | Rural | 0.7674
25280 | Itawamba County, Mississippi | 25 | Rural | 0.7634 | 99925 | Rural | 0.7674
25290 | Jackson County, Mississippi | 0920 | Urban | 0.8706 | 37700 | Urban | 0.8156
25300 | Jasper County, Mississippi | 25 | Rural | 0.7634 | 99925 | Rural | 0.7674
25310 | Jefferson County, Mississippi | 25 | Rural | 0.7634 | 99925 | Rural | 0.7674
25320 | Jefferson Davis County, Mississippi | 25 | Rural | 0.7634 | 99925 | Rural | 0.7674
25330 | Jones County, Mississippi | 25 | Rural | 0.7634 | 99925 | Rural | 0.7674
25340 | Kemper County, Mississippi | 25 | Rural | 0.7634 | 99925 | Rural | 0.7674
25350 | Lafayette County, Mississippi | 25 | Rural | 0.7634 | 99925 | Rural | 0.7674
25360 | Lamar County, Mississippi | 3285 | Urban | 0.7601 | 25620 | Urban | 0.7601
25370 | Lauderdale County, Mississippi | 25 | Rural | 0.7634 | 99925 | Rural | 0.7674
25380 | Lawrence County, Mississippi | 25 | Rural | 0.7634 | 99925 | Rural | 0.7674
25390 | Leake County, Mississippi | 25 | Rural | 0.7634 | 99925 | Rural | 0.7674
25400 | Lee County, Mississippi | 25 | Rural | 0.7634 | 99925 | Rural | 0.7674
25410 | Leflore County, Mississippi | 25 | Rural | 0.7634 | 99925 | Rural | 0.7674
25420 | Lincoln County, Mississippi | 25 | Rural | 0.7634 | 99925 | Rural | 0.7674
25430 | Lowndes County, Mississippi | 25 | Rural | 0.7634 | 99925 | Rural | 0.7674
25440 | Madison County, Mississippi | 3560 | Urban | 0.8382 | 27140 | Urban | 0.8311
25450 | Marion County, Mississippi | 25 | Rural | 0.7634 | 99925 | Rural | 0.7674
25460 | Marshall County, Mississippi | 25 | Rural | 0.7634 | 32820 | Urban | 0.9397
25470 | Monroe County, Mississippi | 25 | Rural | 0.7634 | 99925 | Rural | 0.7674
25480 | Montgomery County, Mississippi | 25 | Rural | 0.7634 | 99925 | Rural | 0.7674
25490 | Neshoba County, Mississippi | 25 | Rural | 0.7634 | 99925 | Rural | 0.7674
25500 | Newton County, Mississippi | 25 | Rural | 0.7634 | 99925 | Rural | 0.7674
25510 | Noxubee County, Mississippi | 25 | Rural | 0.7634 | 99925 | Rural | 0.7674
25520 | Oktibbeha County, Mississippi | 25 | Rural | 0.7634 | 99925 | Rural | 0.7674
25530 | Panola County, Mississippi | 25 | Rural | 0.7634 | 99925 | Rural | 0.7674
25540 | Pearl River County, Mississippi | 25 | Rural | 0.7634 | 99925 | Rural | 0.7674
25550 | Perry County, Mississippi | 25 | Rural | 0.7634 | 25620 | Urban | 0.7601
25560 | Pike County, Mississippi | 25 | Rural | 0.7634 | 99925 | Rural | 0.7674
25570 | Pontotoc County, Mississippi | 25 | Rural | 0.7634 | 99925 | Rural | 0.7674
25580 | Prentiss County, Mississippi | 25 | Rural | 0.7634 | 99925 | Rural | 0.7674
25590 | Quitman County, Mississippi | 25 | Rural | 0.7634 | 99925 | Rural | 0.7674
25600 | Rankin County, Mississippi | 3560 | Urban | 0.8382 | 27140 | Urban | 0.8311
25610 | Scott County, Mississippi | 25 | Rural | 0.7634 | 99925 | Rural | 0.7674
25620 | Sharkey County, Mississippi | 25 | Rural | 0.7634 | 99925 | Rural | 0.7674
25630 | Simpson County, Mississippi | 25 | Rural | 0.7634 | 27140 | Urban | 0.8311
25640 | Smith County, Mississippi | 25 | Rural | 0.7634 | 99925 | Rural | 0.7674
25650 | Stone County, Mississippi | 25 | Rural | 0.7634 | 25060 | Urban | 0.8929
25660 | Sunflower County, Mississippi | 25 | Rural | 0.7634 | 99925 | Rural | 0.7674
25670 | Tallahatchie County, Mississippi | 25 | Rural | 0.7634 | 99925 | Rural | 0.7674
25680 | Tate County, Mississippi | 25 | Rural | 0.7634 | 32820 | Urban | 0.9397
25690 | Tippah County, Mississippi | 25 | Rural | 0.7634 | 99925 | Rural | 0.7674
25700 | Tishomingo County, Mississippi | 25 | Rural | 0.7634 | 99925 | Rural | 0.7674
25710 | Tunica County, Mississippi | 25 | Rural | 0.7634 | 32820 | Urban | 0.9397
25720 | Union County, Mississippi | 25 | Rural | 0.7634 | 99925 | Rural | 0.7674
25730 | Walthall County, Mississippi | 25 | Rural | 0.7634 | 99925 | Rural | 0.7674
25740 | Warren County, Mississippi | 25 | Rural | 0.7634 | 99925 | Rural | 0.7674
25750 | Washington County, Mississippi | 25 | Rural | 0.7634 | 99925 | Rural | 0.7674
25760 | Wayne County, Mississippi | 25 | Rural | 0.7634 | 99925 | Rural | 0.7674
25770 | Webster County, Mississippi | 25 | Rural | 0.7634 | 99925 | Rural | 0.7674
25780 | Wilkinson County, Mississippi | 25 | Rural | 0.7634 | 99925 | Rural | 0.7674
25790 | Winston County, Mississippi | 25 | Rural | 0.7634 | 99925 | Rural | 0.7674
25800 | Yalobusha County, Mississippi | 25 | Rural | 0.7634 | 99925 | Rural | 0.7674
25810 | Yazoo County, Mississippi | 25 | Rural | 0.7634 | 99925 | Rural | 0.7674
26000 | Adair County, Missouri | 26 | Rural | 0.7959 | 99926 | Rural | 0.7900
26010 | Andrew County, Missouri | 7000 | Urban | 0.9519 | 41140 | Urban | 0.9519
26020 | Atchison County, Missouri | 26 | Rural | 0.7959 | 99926 | Rural | 0.7900
26030 | Audrain County, Missouri | 26 | Rural | 0.7959 | 99926 | Rural | 0.7900
26040 | Barry County, Missouri | 26 | Rural | 0.7959 | 99926 | Rural | 0.7900
26050 | Barton County, Missouri | 26 | Rural | 0.7959 | 99926 | Rural | 0.7900
26060 | Bates County, Missouri | 26 | Rural | 0.7959 | 28140 | Urban | 0.9476
26070 | Benton County, Missouri | 26 | Rural | 0.7959 | 99926 | Rural | 0.7900
26080 | Bollinger County, Missouri | 26 | Rural | 0.7959 | 99926 | Rural | 0.7900
26090 | Boone County, Missouri | 1740 | Urban | 0.8345 | 17860 | Urban | 0.8345
26100 | Buchanan County, Missouri | 7000 | Urban | 0.9519 | 41140 | Urban | 0.9519
26110 | Butler County, Missouri | 26 | Rural | 0.7959 | 99926 | Rural | 0.7900
26120 | Caldwell County, Missouri | 26 | Rural | 0.7959 | 28140 | Urban | 0.9476
26130 | Callaway County, Missouri | 26 | Rural | 0.7959 | 27620 | Urban | 0.8387
26140 | Camden County, Missouri | 26 | Rural | 0.7959 | 99926 | Rural | 0.7900
26150 | Cape Girardeau County, Missouri | 26 | Rural | 0.7959 | 99926 | Rural | 0.7900
26160 | Carroll County, Missouri | 26 | Rural | 0.7959 | 99926 | Rural | 0.7900
26170 | Carter County, Missouri | 26 | Rural | 0.7959 | 99926 | Rural | 0.7900
26180 | Cass County, Missouri | 3760 | Urban | 0.9490 | 28140 | Urban | 0.9476
26190 | Cedar County, Missouri | 26 | Rural | 0.7959 | 99926 | Rural | 0.7900
26200 | Chariton County, Missouri | 26 | Rural | 0.7959 | 99926 | Rural | 0.7900
26210 | Christian County, Missouri | 7920 | Urban | 0.8250 | 44180 | Urban | 0.8237
26220 | Clark County, Missouri | 26 | Rural | 0.7959 | 99926 | Rural | 0.7900
26230 | Clay County, Missouri | 3760 | Urban | 0.9490 | 28140 | Urban | 0.9476
26240 | Clinton County, Missouri | 3760 | Urban | 0.9490 | 28140 | Urban | 0.9476
26250 | Cole County, Missouri | 26 | Rural | 0.7959 | 27620 | Urban | 0.8387
26260 | Cooper County, Missouri | 26 | Rural | 0.7959 | 99926 | Rural | 0.7900
26270 | Crawford County, Missouri | 26 | Rural | 0.7959 | 41180 | Urban | 0.8954
26280 | Dade County, Missouri | 26 | Rural | 0.7959 | 99926 | Rural | 0.7900
26290 | Dallas County, Missouri | 26 | Rural | 0.7959 | 44180 | Urban | 0.8237
26300 | Daviess County, Missouri | 26 | Rural | 0.7959 | 99926 | Rural | 0.7900
26310 | De Kalb County, Missouri | 26 | Rural | 0.7959 | 41140 | Urban | 0.9519
26320 | Dent County, Missouri | 26 | Rural | 0.7959 | 99926 | Rural | 0.7900
26330 | Douglas County, Missouri | 26 | Rural | 0.7959 | 99926 | Rural | 0.7900
26340 | Dunklin County, Missouri | 26 | Rural | 0.7959 | 99926 | Rural | 0.7900
26350 | Franklin County, Missouri | 7040 | Urban | 0.8962 | 41180 | Urban | 0.8954
26360 | Gasconade County, Missouri | 26 | Rural | 0.7959 | 99926 | Rural | 0.7900
26370 | Gentry County, Missouri | 26 | Rural | 0.7959 | 99926 | Rural | 0.7900
26380 | Greene County, Missouri | 7920 | Urban | 0.8250 | 44180 | Urban | 0.8237
26390 | Grundy County, Missouri | 26 | Rural | 0.7959 | 99926 | Rural | 0.7900
26400 | Harrison County, Missouri | 26 | Rural | 0.7959 | 99926 | Rural | 0.7900
26410 | Henry County, Missouri | 26 | Rural | 0.7959 | 99926 | Rural | 0.7900
26411 | Hickory County, Missouri | 26 | Rural | 0.7959 | 99926 | Rural | 0.7900
26412 | Holt County, Missouri | 26 | Rural | 0.7959 | 99926 | Rural | 0.7900
26440 | Howard County, Missouri | 26 | Rural | 0.7959 | 17860 | Urban | 0.8345
26450 | Howell County, Missouri | 26 | Rural | 0.7959 | 99926 | Rural | 0.7900
26460 | Iron County, Missouri | 26 | Rural | 0.7959 | 99926 | Rural | 0.7900
26470 | Jackson County, Missouri | 3760 | Urban | 0.9490 | 28140 | Urban | 0.9476
26480 | Jasper County, Missouri | 3710 | Urban | 0.8582 | 27900 | Urban | 0.8582
26490 | Jefferson County, Missouri | 7040 | Urban | 0.8962 | 41180 | Urban | 0.8954
26500 | Johnson County, Missouri | 26 | Rural | 0.7959 | 99926 | Rural | 0.7900
26510 | Knox County, Missouri | 26 | Rural | 0.7959 | 99926 | Rural | 0.7900
26520 | Laclede County, Missouri | 26 | Rural | 0.7959 | 99926 | Rural | 0.7900
26530 | Lafayette County, Missouri | 3760 | Urban | 0.9490 | 28140 | Urban | 0.9476
26540 | Lawrence County, Missouri | 26 | Rural | 0.7959 | 99926 | Rural | 0.7900
26541 | Lewis County, Missouri | 26 | Rural | 0.7959 | 99926 | Rural | 0.7900
26560 | Lincoln County, Missouri | 7040 | Urban | 0.8962 | 41180 | Urban | 0.8954
26570 | Linn County, Missouri | 26 | Rural | 0.7959 | 99926 | Rural | 0.7900
26580 | Livingston County, Missouri | 26 | Rural | 0.7959 | 99926 | Rural | 0.7900
26590 | Mc Donald County, Missouri | 26 | Rural | 0.7959 | 22220 | Urban | 0.8661
26600 | Macon County, Missouri | 26 | Rural | 0.7959 | 99926 | Rural | 0.7900
26601 | Madison County, Missouri | 26 | Rural | 0.7959 | 99926 | Rural | 0.7900
26620 | Maries County, Missouri | 26 | Rural | 0.7959 | 99926 | Rural | 0.7900
26630 | Marion County, Missouri | 26 | Rural | 0.7959 | 99926 | Rural | 0.7900
26631 | Mercer County, Missouri | 26 | Rural | 0.7959 | 99926 | Rural | 0.7900
26650 | Miller County, Missouri | 26 | Rural | 0.7959 | 99926 | Rural | 0.7900
26660 | Mississippi County, Missouri | 26 | Rural | 0.7959 | 99926 | Rural | 0.7900
26670 | Moniteau County, Missouri | 26 | Rural | 0.7959 | 27620 | Urban | 0.8387
26680 | Monroe County, Missouri | 26 | Rural | 0.7959 | 99926 | Rural | 0.7900
26690 | Montgomery County, Missouri | 26 | Rural | 0.7959 | 99926 | Rural | 0.7900
26700 | Morgan County, Missouri | 26 | Rural | 0.7959 | 99926 | Rural | 0.7900
26710 | New Madrid County, Missouri | 26 | Rural | 0.7959 | 99926 | Rural | 0.7900
26720 | Newton County, Missouri | 3710 | Urban | 0.8582 | 27900 | Urban | 0.8582
26730 | Nodaway County, Missouri | 26 | Rural | 0.7959 | 99926 | Rural | 0.7900
26740 | Oregon County, Missouri | 26 | Rural | 0.7959 | 99926 | Rural | 0.7900
26750 | Osage County, Missouri | 26 | Rural | 0.7959 | 27620 | Urban | 0.8387
26751 | Ozark County, Missouri | 26 | Rural | 0.7959 | 99926 | Rural | 0.7900
26770 | Pemiscot County, Missouri | 26 | Rural | 0.7959 | 99926 | Rural | 0.7900
26780 | Perry County, Missouri | 26 | Rural | 0.7959 | 99926 | Rural | 0.7900
26790 | Pettis County, Missouri | 26 | Rural | 0.7959 | 99926 | Rural | 0.7900
26800 | Phelps County, Missouri | 26 | Rural | 0.7959 | 99926 | Rural | 0.7900
26810 | Pike County, Missouri | 26 | Rural | 0.7959 | 99926 | Rural | 0.7900
26820 | Platte County, Missouri | 3760 | Urban | 0.9490 | 28140 | Urban | 0.9476
26821 | Polk County, Missouri | 26 | Rural | 0.7959 | 44180 | Urban | 0.8237
26840 | Pulaski County, Missouri | 26 | Rural | 0.7959 | 99926 | Rural | 0.7900
26850 | Putnam County, Missouri | 26 | Rural | 0.7959 | 99926 | Rural | 0.7900
26860 | Ralls County, Missouri | 26 | Rural | 0.7959 | 99926 | Rural | 0.7900
26870 | Randolph County, Missouri | 26 | Rural | 0.7959 | 99926 | Rural | 0.7900
26880 | Ray County, Missouri | 3760 | Urban | 0.9490 | 28140 | Urban | 0.9476
26881 | Reynolds County, Missouri | 26 | Rural | 0.7959 | 99926 | Rural | 0.7900
26900 | Ripley County, Missouri | 26 | Rural | 0.7959 | 99926 | Rural | 0.7900
26910 | St Charles County, Missouri | 7040 | Urban | 0.8962 | 41180 | Urban | 0.8954
26911 | St Clair County, Missouri | 26 | Rural | 0.7959 | 99926 | Rural | 0.7900
26930 | St Francois County, Missouri | 26 | Rural | 0.7959 | 99926 | Rural | 0.7900
26940 | St Louis County, Missouri | 7040 | Urban | 0.8962 | 41180 | Urban | 0.8954
26950 | St Louis City County, Missouri | 7040 | Urban | 0.8962 | 41180 | Urban | 0.8954
26960 | Ste Genevieve County, Missouri | 26 | Rural | 0.7959 | 99926 | Rural | 0.7900
26970 | Saline County, Missouri | 26 | Rural | 0.7959 | 99926 | Rural | 0.7900
26980 | Schuyler County, Missouri | 26 | Rural | 0.7959 | 99926 | Rural | 0.7900
26981 | Scotland County, Missouri | 26 | Rural | 0.7959 | 99926 | Rural | 0.7900
26982 | Scott County, Missouri | 26 | Rural | 0.7959 | 99926 | Rural | 0.7900
26983 | Shannon County, Missouri | 26 | Rural | 0.7959 | 99926 | Rural | 0.7900
26984 | Shelby County, Missouri | 26 | Rural | 0.7959 | 99926 | Rural | 0.7900
26985 | Stoddard County, Missouri | 26 | Rural | 0.7959 | 99926 | Rural | 0.7900
26986 | Stone County, Missouri | 26 | Rural | 0.7959 | 99926 | Rural | 0.7900
26987 | Sullivan County, Missouri | 26 | Rural | 0.7959 | 99926 | Rural | 0.7900
26988 | Taney County, Missouri | 26 | Rural | 0.7959 | 99926 | Rural | 0.7900
26989 | Texas County, Missouri | 26 | Rural | 0.7959 | 99926 | Rural | 0.7900
26990 | Vernon County, Missouri | 26 | Rural | 0.7959 | 99926 | Rural | 0.7900
26991 | Warren County, Missouri | 7040 | Urban | 0.8962 | 41180 | Urban | 0.8954
26992 | Washington County, Missouri | 26 | Rural | 0.7959 | 41180 | Urban | 0.8954
26993 | Wayne County, Missouri | 26 | Rural | 0.7959 | 99926 | Rural | 0.7900
26994 | Webster County, Missouri | 7920 | Urban | 0.8250 | 44180 | Urban | 0.8237
26995 | Worth County, Missouri | 26 | Rural | 0.7959 | 99926 | Rural | 0.7900
26996 | Wright County, Missouri | 26 | Rural | 0.7959 | 99926 | Rural | 0.7900
27000 | Beaverhead County, Montana | 27 | Rural | 0.8762 | 99927 | Rural | 0.8762
27010 | Big Horn County, Montana | 27 | Rural | 0.8762 | 99927 | Rural | 0.8762
27020 | Blaine County, Montana | 27 | Rural | 0.8762 | 99927 | Rural | 0.8762
27030 | Broadwater County, Montana | 27 | Rural | 0.8762 | 99927 | Rural | 0.8762
27040 | Carbon County, Montana | 27 | Rural | 0.8762 | 13740 | Urban | 0.8834
27050 | Carter County, Montana | 27 | Rural | 0.8762 | 99927 | Rural | 0.8762
27060 | Cascade County, Montana | 3040 | Urban | 0.9052 | 24500 | Urban | 0.9052
27070 | Chouteau County, Montana | 27 | Rural | 0.8762 | 99927 | Rural | 0.8762
27080 | Custer County, Montana | 27 | Rural | 0.8762 | 99927 | Rural | 0.8762
27090 | Daniels County, Montana | 27 | Rural | 0.8762 | 99927 | Rural | 0.8762
27100 | Dawson County, Montana | 27 | Rural | 0.8762 | 99927 | Rural | 0.8762
27110 | Deer Lodge County, Montana | 27 | Rural | 0.8762 | 99927 | Rural | 0.8762
27113 | Yellowstone National Park, Montana | 27 | Rural | 0.8762 | 99927 | Rural | 0.8762
27120 | Fallon County, Montana | 27 | Rural | 0.8762 | 99927 | Rural | 0.8762
27130 | Fergus County, Montana | 27 | Rural | 0.8762 | 99927 | Rural | 0.8762
27140 | Flathead County, Montana | 27 | Rural | 0.8762 | 99927 | Rural | 0.8762
27150 | Gallatin County, Montana | 27 | Rural | 0.8762 | 99927 | Rural | 0.8762
27160 | Garfield County, Montana | 27 | Rural | 0.8762 | 99927 | Rural | 0.8762
27170 | Glacier County, Montana | 27 | Rural | 0.8762 | 99927 | Rural | 0.8762
27180 | Golden Valley County, Montana | 27 | Rural | 0.8762 | 99927 | Rural | 0.8762
27190 | Granite County, Montana | 27 | Rural | 0.8762 | 99927 | Rural | 0.8762
27200 | Hill County, Montana | 27 | Rural | 0.8762 | 99927 | Rural | 0.8762
27210 | Jefferson County, Montana | 27 | Rural | 0.8762 | 99927 | Rural | 0.8762
27220 | Judith Basin County, Montana | 27 | Rural | 0.8762 | 99927 | Rural | 0.8762
27230 | Lake County, Montana | 27 | Rural | 0.8762 | 99927 | Rural | 0.8762
27240 | Lewis And Clark County, Montana | 27 | Rural | 0.8762 | 99927 | Rural | 0.8762
27250 | Liberty County, Montana | 27 | Rural | 0.8762 | 99927 | Rural | 0.8762
27260 | Lincoln County, Montana | 27 | Rural | 0.8762 | 99927 | Rural | 0.8762
27270 | Mc Cone County, Montana | 27 | Rural | 0.8762 | 99927 | Rural | 0.8762
27280 | Madison County, Montana | 27 | Rural | 0.8762 | 99927 | Rural | 0.8762
27290 | Meagher County, Montana | 27 | Rural | 0.8762 | 99927 | Rural | 0.8762
27300 | Mineral County, Montana | 27 | Rural | 0.8762 | 99927 | Rural | 0.8762
27310 | Missoula County, Montana | 5140 | Urban | 0.9473 | 33540 | Urban | 0.9473
27320 | Musselshell County, Montana | 27 | Rural | 0.8762 | 99927 | Rural | 0.8762
27330 | Park County, Montana | 27 | Rural | 0.8762 | 99927 | Rural | 0.8762
27340 | Petroleum County, Montana | 27 | Rural | 0.8762 | 99927 | Rural | 0.8762
27350 | Phillips County, Montana | 27 | Rural | 0.8762 | 99927 | Rural | 0.8762
27360 | Pondera County, Montana | 27 | Rural | 0.8762 | 99927 | Rural | 0.8762
27370 | Powder River County, Montana | 27 | Rural | 0.8762 | 99927 | Rural | 0.8762
27380 | Powell County, Montana | 27 | Rural | 0.8762 | 99927 | Rural | 0.8762
27390 | Prairie County, Montana | 27 | Rural | 0.8762 | 99927 | Rural | 0.8762
27400 | Ravalli County, Montana | 27 | Rural | 0.8762 | 99927 | Rural | 0.8762
27410 | Richland County, Montana | 27 | Rural | 0.8762 | 99927 | Rural | 0.8762
27420 | Roosevelt County, Montana | 27 | Rural | 0.8762 | 99927 | Rural | 0.8762
27430 | Rosebud County, Montana | 27 | Rural | 0.8762 | 99927 | Rural | 0.8762
27440 | Sanders County, Montana | 27 | Rural | 0.8762 | 99927 | Rural | 0.8762
27450 | Sheridan County, Montana | 27 | Rural | 0.8762 | 99927 | Rural | 0.8762
27460 | Silver Bow County, Montana | 27 | Rural | 0.8762 | 99927 | Rural | 0.8762
27470 | Stillwater County, Montana | 27 | Rural | 0.8762 | 99927 | Rural | 0.8762
27480 | Sweet Grass County, Montana | 27 | Rural | 0.8762 | 99927 | Rural | 0.8762
27490 | Teton County, Montana | 27 | Rural | 0.8762 | 99927 | Rural | 0.8762
27500 | Toole County, Montana | 27 | Rural | 0.8762 | 99927 | Rural | 0.8762
27510 | Treasure County, Montana | 27 | Rural | 0.8762 | 99927 | Rural | 0.8762
27520 | Valley County, Montana | 27 | Rural | 0.8762 | 99927 | Rural | 0.8762
27530 | Wheatland County, Montana | 27 | Rural | 0.8762 | 99927 | Rural | 0.8762
27540 | Wibaux County, Montana | 27 | Rural | 0.8762 | 99927 | Rural | 0.8762
27550 | Yellowstone County, Montana | 0880 | Urban | 0.8834 | 13740 | Urban | 0.8834
28000 | Adams County, Nebraska | 28 | Rural | 0.8657 | 99928 | Rural | 0.8657
28010 | Antelope County, Nebraska | 28 | Rural | 0.8657 | 99928 | Rural | 0.8657
28020 | Arthur County, Nebraska | 28 | Rural | 0.8657 | 99928 | Rural | 0.8657
28030 | Banner County, Nebraska | 28 | Rural | 0.8657 | 99928 | Rural | 0.8657
28040 | Blaine County, Nebraska | 28 | Rural | 0.8657 | 99928 | Rural | 0.8657
28050 | Boone County, Nebraska | 28 | Rural | 0.8657 | 99928 | Rural | 0.8657
28060 | Box Butte County, Nebraska | 28 | Rural | 0.8657 | 99928 | Rural | 0.8657
28070 | Boyd County, Nebraska | 28 | Rural | 0.8657 | 99928 | Rural | 0.8657
28080 | Brown County, Nebraska | 28 | Rural | 0.8657 | 99928 | Rural | 0.8657
28090 | Buffalo County, Nebraska | 28 | Rural | 0.8657 | 99928 | Rural | 0.8657
28100 | Burt County, Nebraska | 28 | Rural | 0.8657 | 99928 | Rural | 0.8657
28110 | Butler County, Nebraska | 28 | Rural | 0.8657 | 99928 | Rural | 0.8657
28120 | Cass County, Nebraska | 5920 | Urban | 0.9560 | 36540 | Urban | 0.9560
28130 | Cedar County, Nebraska | 28 | Rural | 0.8657 | 99928 | Rural | 0.8657
28140 | Chase County, Nebraska | 28 | Rural | 0.8657 | 99928 | Rural | 0.8657
28150 | Cherry County, Nebraska | 28 | Rural | 0.8657 | 99928 | Rural | 0.8657
28160 | Cheyenne County, Nebraska | 28 | Rural | 0.8657 | 99928 | Rural | 0.8657
28170 | Clay County, Nebraska | 28 | Rural | 0.8657 | 99928 | Rural | 0.8657
28180 | Colfax County, Nebraska | 28 | Rural | 0.8657 | 99928 | Rural | 0.8657
28190 | Cuming County, Nebraska | 28 | Rural | 0.8657 | 99928 | Rural | 0.8657
28200 | Custer County, Nebraska | 28 | Rural | 0.8657 | 99928 | Rural | 0.8657
28210 | Dakota County, Nebraska | 7720 | Urban | 0.9416 | 43580 | Urban | 0.9381
28220 | Dawes County, Nebraska | 28 | Rural | 0.8657 | 99928 | Rural | 0.8657
28230 | Dawson County, Nebraska | 28 | Rural | 0.8657 | 99928 | Rural | 0.8657
28240 | Deuel County, Nebraska | 28 | Rural | 0.8657 | 99928 | Rural | 0.8657
28250 | Dixon County, Nebraska | 28 | Rural | 0.8657 | 43580 | Urban | 0.9381
28260 | Dodge County, Nebraska | 28 | Rural | 0.8657 | 99928 | Rural | 0.8657
28270 | Douglas County, Nebraska | 5920 | Urban | 0.9560 | 36540 | Urban | 0.9560
28280 | Dundy County, Nebraska | 28 | Rural | 0.8657 | 99928 | Rural | 0.8657
28290 | Fillmore County, Nebraska | 28 | Rural | 0.8657 | 99928 | Rural | 0.8657
28300 | Franklin County, Nebraska | 28 | Rural | 0.8657 | 99928 | Rural | 0.8657
28310 | Frontier County, Nebraska | 28 | Rural | 0.8657 | 99928 | Rural | 0.8657
28320 | Furnas County, Nebraska | 28 | Rural | 0.8657 | 99928 | Rural | 0.8657
28330 | Gage County, Nebraska | 28 | Rural | 0.8657 | 99928 | Rural | 0.8657
28340 | Garden County, Nebraska | 28 | Rural | 0.8657 | 99928 | Rural | 0.8657
28350 | Garfield County, Nebraska | 28 | Rural | 0.8657 | 99928 | Rural | 0.8657
28360 | Gosper County, Nebraska | 28 | Rural | 0.8657 | 99928 | Rural | 0.8657
28370 | Grant County, Nebraska | 28 | Rural | 0.8657 | 99928 | Rural | 0.8657
28380 | Greeley County, Nebraska | 28 | Rural | 0.8657 | 99928 | Rural | 0.8657
28390 | Hall County, Nebraska | 28 | Rural | 0.8657 | 99928 | Rural | 0.8657
28400 | Hamilton County, Nebraska | 28 | Rural | 0.8657 | 99928 | Rural | 0.8657
28410 | Harlan County, Nebraska | 28 | Rural | 0.8657 | 99928 | Rural | 0.8657
28420 | Hayes County, Nebraska | 28 | Rural | 0.8657 | 99928 | Rural | 0.8657
28430 | Hitchcock County, Nebraska | 28 | Rural | 0.8657 | 99928 | Rural | 0.8657
28440 | Holt County, Nebraska | 28 | Rural | 0.8657 | 99928 | Rural | 0.8657
28450 | Hooker County, Nebraska | 28 | Rural | 0.8657 | 99928 | Rural | 0.8657
28460 | Howard County, Nebraska | 28 | Rural | 0.8657 | 99928 | Rural | 0.8657
28470 | Jefferson County, Nebraska | 28 | Rural | 0.8657 | 99928 | Rural | 0.8657
28480 | Johnson County, Nebraska | 28 | Rural | 0.8657 | 99928 | Rural | 0.8657
28490 | Kearney County, Nebraska | 28 | Rural | 0.8657 | 99928 | Rural | 0.8657
28500 | Keith County, Nebraska | 28 | Rural | 0.8657 | 99928 | Rural | 0.8657
28510 | Keya Paha County, Nebraska | 28 | Rural | 0.8657 | 99928 | Rural | 0.8657
28520 | Kimball County, Nebraska | 28 | Rural | 0.8657 | 99928 | Rural | 0.8657
28530 | Knox County, Nebraska | 28 | Rural | 0.8657 | 99928 | Rural | 0.8657
28540 | Lancaster County, Nebraska | 4360 | Urban | 1.0214 | 30700 | Urban | 1.0214
28550 | Lincoln County, Nebraska | 28 | Rural | 0.8657 | 99928 | Rural | 0.8657
28560 | Logan County, Nebraska | 28 | Rural | 0.8657 | 99928 | Rural | 0.8657
28570 | Loup County, Nebraska | 28 | Rural | 0.8657 | 99928 | Rural | 0.8657
28580 | Mc Pherson County, Nebraska | 28 | Rural | 0.8657 | 99928 | Rural | 0.8657
28590 | Madison County, Nebraska | 28 | Rural | 0.8657 | 99928 | Rural | 0.8657
28600 | Merrick County, Nebraska | 28 | Rural | 0.8657 | 99928 | Rural | 0.8657
28610 | Morrill County, Nebraska | 28 | Rural | 0.8657 | 99928 | Rural | 0.8657
28620 | Nance County, Nebraska | 28 | Rural | 0.8657 | 99928 | Rural | 0.8657
28630 | Nemaha County, Nebraska | 28 | Rural | 0.8657 | 99928 | Rural | 0.8657
28640 | Nuckolls County, Nebraska | 28 | Rural | 0.8657 | 99928 | Rural | 0.8657
28650 | Otoe County, Nebraska | 28 | Rural | 0.8657 | 99928 | Rural | 0.8657
28660 | Pawnee County, Nebraska | 28 | Rural | 0.8657 | 99928 | Rural | 0.8657
28670 | Perkins County, Nebraska | 28 | Rural | 0.8657 | 99928 | Rural | 0.8657
28680 | Phelps County, Nebraska | 28 | Rural | 0.8657 | 99928 | Rural | 0.8657
28690 | Pierce County, Nebraska | 28 | Rural | 0.8657 | 99928 | Rural | 0.8657
28700 | Platte County, Nebraska | 28 | Rural | 0.8657 | 99928 | Rural | 0.8657
28710 | Polk County, Nebraska | 28 | Rural | 0.8657 | 99928 | Rural | 0.8657
28720 | Redwillow County, Nebraska | 28 | Rural | 0.8657 | 99928 | Rural | 0.8657
28730 | Richardson County, Nebraska | 28 | Rural | 0.8657 | 99928 | Rural | 0.8657
28740 | Rock County, Nebraska | 28 | Rural | 0.8657 | 99928 | Rural | 0.8657
28750 | Saline County, Nebraska | 28 | Rural | 0.8657 | 99928 | Rural | 0.8657
28760 | Sarpy County, Nebraska | 5920 | Urban | 0.9560 | 36540 | Urban | 0.9560
28770 | Saunders County, Nebraska | 28 | Rural | 0.8657 | 36540 | Urban | 0.9560
28780 | Scotts Bluff County, Nebraska | 28 | Rural | 0.8657 | 99928 | Rural | 0.8657
28790 | Seward County, Nebraska | 28 | Rural | 0.8657 | 30700 | Urban | 1.0214
28800 | Sheridan County, Nebraska | 28 | Rural | 0.8657 | 99928 | Rural | 0.8657
28810 | Sherman County, Nebraska | 28 | Rural | 0.8657 | 99928 | Rural | 0.8657
28820 | Sioux County, Nebraska | 28 | Rural | 0.8657 | 99928 | Rural | 0.8657
28830 | Stanton County, Nebraska | 28 | Rural | 0.8657 | 99928 | Rural | 0.8657
28840 | Thayer County, Nebraska | 28 | Rural | 0.8657 | 99928 | Rural | 0.8657
28850 | Thomas County, Nebraska | 28 | Rural | 0.8657 | 99928 | Rural | 0.8657
28860 | Thurston County, Nebraska | 28 | Rural | 0.8657 | 99928 | Rural | 0.8657
28870 | Valley County, Nebraska | 28 | Rural | 0.8657 | 99928 | Rural | 0.8657
28880 | Washington County, Nebraska | 5920 | Urban | 0.9560 | 36540 | Urban | 0.9560
28890 | Wayne County, Nebraska | 28 | Rural | 0.8657 | 99928 | Rural | 0.8657
28900 | Webster County, Nebraska | 28 | Rural | 0.8657 | 99928 | Rural | 0.8657
28910 | Wheeler County, Nebraska | 28 | Rural | 0.8657 | 99928 | Rural | 0.8657
28920 | York County, Nebraska | 28 | Rural | 0.8657 | 99928 | Rural | 0.8657
29000 | Churchill County, Nevada | 29 | Rural | 0.9687 | 99929 | Rural | 0.9065
29010 | Clark County, Nevada | 4120 | Urban | 1.1155 | 29820 | Urban | 1.1437
29020 | Douglas County, Nevada | 29 | Rural | 0.9687 | 99929 | Rural | 0.9065
29030 | Elko County, Nevada | 29 | Rural | 0.9687 | 99929 | Rural | 0.9065
29040 | Esmeralda County, Nevada | 29 | Rural | 0.9687 | 99929 | Rural | 0.9065
29050 | Eureka County, Nevada | 29 | Rural | 0.9687 | 99929 | Rural | 0.9065
29060 | Humboldt County, Nevada | 29 | Rural | 0.9687 | 99929 | Rural | 0.9065
29070 | Lander County, Nevada | 29 | Rural | 0.9687 | 99929 | Rural | 0.9065
29080 | Lincoln County, Nevada | 29 | Rural | 0.9687 | 99929 | Rural | 0.9065
29090 | Lyon County, Nevada | 29 | Rural | 0.9687 | 99929 | Rural | 0.9065
29100 | Mineral County, Nevada | 29 | Rural | 0.9687 | 99929 | Rural | 0.9065
29110 | Nye County, Nevada | 4120 | Urban | 1.1155 | 99929 | Rural | 0.9065
29120 | Carson City County, Nevada | 29 | Rural | 0.9687 | 16180 | Urban | 1.0234
29130 | Pershing County, Nevada | 29 | Rural | 0.9687 | 99929 | Rural | 0.9065
29140 | Storey County, Nevada | 29 | Rural | 0.9687 | 39900 | Urban | 1.0982
29150 | Washoe County, Nevada | 6720 | Urban | 1.0982 | 39900 | Urban | 1.0982
29160 | White Pine County, Nevada | 29 | Rural | 0.9687 | 99929 | Rural | 0.9065
30000 | Belknap County, New Hampshire | 30 | Rural | 1.0817 | 99930 | Rural | 1.0817
30010 | Carroll County, New Hampshire | 30 | Rural | 1.0817 | 99930 | Rural | 1.0817
30020 | Cheshire County, New Hampshire | 30 | Rural | 1.0817 | 99930 | Rural | 1.0817
30030 | Coos County, New Hampshire | 30 | Rural | 1.0817 | 99930 | Rural | 1.0817
30040 | Grafton County, New Hampshire | 30 | Rural | 1.0817 | 99930 | Rural | 1.0817
30050 | Hillsboro County, New Hampshire | 1123 | Urban | 1.1178 | 31700 | Urban | 1.0354
30060 | Merrimack County, New Hampshire | 1123 | Urban | 1.1178 | 31700 | Urban | 1.0354
30070 | Rockingham County, New Hampshire | 1123 | Urban | 1.1178 | 40484 | Urban | 1.0374
30080 | Strafford County, New Hampshire | 1123 | Urban | 1.1178 | 40484 | Urban | 1.0374
30090 | Sullivan County, New Hampshire | 30 | Rural | 1.0817 | 99930 | Rural | 1.0817
31000 | Atlantic County, New Jersey | 0560 | Urban | 1.1496 | 12100 | Urban | 1.1615
31100 | Bergen County, New Jersey | 0875 | Urban | 1.1651 | 35644 | Urban | 1.3188
31150 | Burlington County, New Jersey | 6160 | Urban | 1.0922 | 15804 | Urban | 1.0517
31160 | Camden County, New Jersey | 6160 | Urban | 1.0922 | 15804 | Urban | 1.0517
31180 | Cape May County, New Jersey | 0560 | Urban | 1.1496 | 36140 | Urban | 1.1011
31190 | Cumberland County, New Jersey | 8760 | Urban | 0.9827 | 47220 | Urban | 0.9827
31200 | Essex County, New Jersey | 5640 | Urban | 1.1834 | 35084 | Urban | 1.1883
31220 | Gloucester County, New Jersey | 6160 | Urban | 1.0922 | 15804 | Urban | 1.0517
31230 | Hudson County, New Jersey | 3640 | Urban | 1.1338 | 35644 | Urban | 1.3188
31250 | Hunterdon County, New Jersey | 5015 | Urban | 1.1167 | 35084 | Urban | 1.1883
31260 | Mercer County, New Jersey | 8480 | Urban | 1.0834 | 45940 | Urban | 1.0834
31270 | Middlesex County, New Jersey | 5015 | Urban | 1.1167 | 20764 | Urban | 1.1249
31290 | Monmouth County, New Jersey | 5190 | Urban | 1.1260 | 20764 | Urban | 1.1249
31300 | Morris County, New Jersey | 5640 | Urban | 1.1834 | 35084 | Urban | 1.1883
31310 | Ocean County, New Jersey | 5190 | Urban | 1.1260 | 20764 | Urban | 1.1249
31320 | Passaic County, New Jersey | 0875 | Urban | 1.1651 | 35644 | Urban | 1.3188
31340 | Salem County, New Jersey | 6160 | Urban | 1.0922 | 48864 | Urban | 1.0471
31350 | Somerset County, New Jersey | 5015 | Urban | 1.1167 | 20764 | Urban | 1.1249
31360 | Sussex County, New Jersey | 5640 | Urban | 1.1834 | 35084 | Urban | 1.1883
31370 | Union County, New Jersey | 5640 | Urban | 1.1834 | 35084 | Urban | 1.1883
31390 | Warren County, New Jersey | 5640 | Urban | 1.1834 | 10900 | Urban | 0.9818
32000 | Bernalillo County, New Mexico | 0200 | Urban | 0.9684 | 10740 | Urban | 0.9684
32010 | Catron County, New Mexico | 32 | Rural | 0.8563 | 99932 | Rural | 0.8635
32020 | Chaves County, New Mexico | 32 | Rural | 0.8563 | 99932 | Rural | 0.8635
32025 | Cibola County, New Mexico | 32 | Rural | 0.8563 | 99932 | Rural | 0.8635
32030 | Colfax County, New Mexico | 32 | Rural | 0.8563 | 99932 | Rural | 0.8635
32040 | Curry County, New Mexico | 32 | Rural | 0.8563 | 99932 | Rural | 0.8635
32050 | De Baca County, New Mexico | 32 | Rural | 0.8563 | 99932 | Rural | 0.8635
32060 | Dona Ana County, New Mexico | 4100 | Urban | 0.8467 | 29740 | Urban | 0.8467
32070 | Eddy County, New Mexico | 32 | Rural | 0.8563 | 99932 | Rural | 0.8635
32080 | Grant County, New Mexico | 32 | Rural | 0.8563 | 99932 | Rural | 0.8635
32090 | Guadalupe County, New Mexico | 32 | Rural | 0.8563 | 99932 | Rural | 0.8635
32100 | Harding County, New Mexico | 32 | Rural | 0.8563 | 99932 | Rural | 0.8635
32110 | Hidalgo County, New Mexico | 32 | Rural | 0.8563 | 99932 | Rural | 0.8635
32120 | Lea County, New Mexico | 32 | Rural | 0.8563 | 99932 | Rural | 0.8635
32130 | Lincoln County, New Mexico | 32 | Rural | 0.8563 | 99932 | Rural | 0.8635
32131 | Los Alamos County, New Mexico | 7490 | Urban | 1.0748 | 99932 | Rural | 0.8635
32140 | Luna County, New Mexico | 32 | Rural | 0.8563 | 99932 | Rural | 0.8635
32150 | Mc Kinley County, New Mexico | 32 | Rural | 0.8563 | 99932 | Rural | 0.8635
32160 | Mora County, New Mexico | 32 | Rural | 0.8563 | 99932 | Rural | 0.8635
32170 | Otero County, New Mexico | 32 | Rural | 0.8563 | 99932 | Rural | 0.8635
32180 | Quay County, New Mexico | 32 | Rural | 0.8563 | 99932 | Rural | 0.8635
32190 | Rio Arriba County, New Mexico | 32 | Rural | 0.8563 | 99932 | Rural | 0.8635
32200 | Roosevelt County, New Mexico | 32 | Rural | 0.8563 | 99932 | Rural | 0.8635
32210 | Sandoval County, New Mexico | 0200 | Urban | 0.9684 | 10740 | Urban | 0.9684
32220 | San Juan County, New Mexico | 32 | Rural | 0.8563 | 22140 | Urban | 0.8509
32230 | San Miguel County, New Mexico | 32 | Rural | 0.8563 | 99932 | Rural | 0.8635
32240 | Santa Fe County, New Mexico | 7490 | Urban | 1.0748 | 42140 | Urban | 1.0920
32250 | Sierra County, New Mexico | 32 | Rural | 0.8563 | 99932 | Rural | 0.8635
32260 | Socorro County, New Mexico | 32 | Rural | 0.8563 | 99932 | Rural | 0.8635
32270 | Taos County, New Mexico | 32 | Rural | 0.8563 | 99932 | Rural | 0.8635
32280 | Torrance County, New Mexico | 32 | Rural | 0.8563 | 10740 | Urban | 0.9684
32290 | Union County, New Mexico | 32 | Rural | 0.8563 | 99932 | Rural | 0.8635
32300 | Valencia County, New Mexico | 0200 | Urban | 0.9684 | 10740 | Urban | 0.9684
33000 | Albany County, New York | 0160 | Urban | 0.8559 | 10580 | Urban | 0.8589
33010 | Allegany County, New York | 33 | Rural | 0.8395 | 99933 | Rural | 0.8154
33020 | Bronx County, New York | 5600 | Urban | 1.3464 | 35644 | Urban | 1.3188
33030 | Broome County, New York | 0960 | Urban | 0.8562 | 13780 | Urban | 0.8562
33040 | Cattaraugus County, New York | 33 | Rural | 0.8395 | 99933 | Rural | 0.8154
33050 | Cayuga County, New York | 8160 | Urban | 0.9492 | 99933 | Rural | 0.8154
33060 | Chautauqua County, New York | 3610 | Urban | 0.7544 | 99933 | Rural | 0.8154
33070 | Chemung County, New York | 2335 | Urban | 0.8250 | 21300 | Urban | 0.8250
33080 | Chenango County, New York | 33 | Rural | 0.8395 | 99933 | Rural | 0.8154
33090 | Clinton County, New York | 33 | Rural | 0.8395 | 99933 | Rural | 0.8154
33200 | Columbia County, New York | 33 | Rural | 0.8395 | 99933 | Rural | 0.8154
33210 | Cortland County, New York | 33 | Rural | 0.8395 | 99933 | Rural | 0.8154
33220 | Delaware County, New York | 33 | Rural | 0.8395 | 99933 | Rural | 0.8154
33230 | Dutchess County, New York | 2281 | Urban | 1.0475 | 39100 | Urban | 1.0891
33240 | Erie County, New York | 1280 | Urban | 0.9511 | 15380 | Urban | 0.9511
33260 | Essex County, New York | 33 | Rural | 0.8395 | 99933 | Rural | 0.8154
33270 | Franklin County, New York | 33 | Rural | 0.8395 | 99933 | Rural | 0.8154
33280 | Fulton County, New York | 33 | Rural | 0.8395 | 99933 | Rural | 0.8154
33290 | Genesee County, New York | 6840 | Urban | 0.9049 | 99933 | Rural | 0.8154
33300 | Greene County, New York | 33 | Rural | 0.8395 | 99933 | Rural | 0.8154
33310 | Hamilton County, New York | 33 | Rural | 0.8395 | 99933 | Rural | 0.8154
33320 | Herkimer County, New York | 8680 | Urban | 0.8358 | 46540 | Urban | 0.8358
33330 | Jefferson County, New York | 33 | Rural | 0.8395 | 99933 | Rural | 0.8154
33331 | Kings County, New York | 5600 | Urban | 1.3464 | 35644 | Urban | 1.3188
33340 | Lewis County, New York | 33 | Rural | 0.8395 | 99933 | Rural | 0.8154
33350 | Livingston County, New York | 6840 | Urban | 0.9049 | 40380 | Urban | 0.9121
33360 | Madison County, New York | 8160 | Urban | 0.9492 | 45060 | Urban | 0.9574
33370 | Monroe County, New York | 6840 | Urban | 0.9049 | 40380 | Urban | 0.9121
33380 | Montgomery County, New York | 0160 | Urban | 0.8559 | 99933 | Rural | 0.8154
33400 | Nassau County, New York | 5380 | Urban | 1.2719 | 35004 | Urban | 1.2719
33420 | New York County, New York | 5600 | Urban | 1.3464 | 35644 | Urban | 1.3188
33500 | Niagara County, New York | 1280 | Urban | 0.9511 | 15380 | Urban | 0.9511
33510 | Oneida County, New York | 8680 | Urban | 0.8358 | 46540 | Urban | 0.8358
33520 | Onondaga County, New York | 8160 | Urban | 0.9492 | 45060 | Urban | 0.9574
33530 | Ontario County, New York | 6840 | Urban | 0.9049 | 40380 | Urban | 0.9121
33540 | Orange County, New York | 5660 | Urban | 1.1207 | 39100 | Urban | 1.0891
33550 | Orleans County, New York | 6840 | Urban | 0.9049 | 40380 | Urban | 0.9121
33560 | Oswego County, New York | 8160 | Urban | 0.9492 | 45060 | Urban | 0.9574
33570 | Otsego County, New York | 33 | Rural | 0.8395 | 99933 | Rural | 0.8154
33580 | Putnam County, New York | 5600 | Urban | 1.3464 | 35644 | Urban | 1.3188
33590 | Queens County, New York | 5600 | Urban | 1.3464 | 35644 | Urban | 1.3188
33600 | Rensselaer County, New York | 0160 | Urban | 0.8559 | 10580 | Urban | 0.8589
33610 | Richmond County, New York | 5600 | Urban | 1.3464 | 35644 | Urban | 1.3188
33620 | Rockland County, New York | 5600 | Urban | 1.3464 | 35644 | Urban | 1.3188
33630 | St Lawrence County, New York | 33 | Rural | 0.8395 | 99933 | Rural | 0.8154
33640 | Saratoga County, New York | 0160 | Urban | 0.8559 | 10580 | Urban | 0.8589
33650 | Schenectady County, New York | 0160 | Urban | 0.8559 | 10580 | Urban | 0.8589
33660 | Schoharie County, New York | 0160 | Urban | 0.8559 | 10580 | Urban | 0.8589
33670 | Schuyler County, New York | 33 | Rural | 0.8395 | 99933 | Rural | 0.8154
33680 | Seneca County, New York | 33 | Rural | 0.8395 | 99933 | Rural | 0.8154
33690 | Steuben County, New York | 33 | Rural | 0.8395 | 99933 | Rural | 0.8154
33700 | Suffolk County, New York | 5380 | Urban | 1.2719 | 35004 | Urban | 1.2719
33710 | Sullivan County, New York | 33 | Rural | 0.8395 | 99933 | Rural | 0.8154
33720 | Tioga County, New York | 0960 | Urban | 0.8562 | 13780 | Urban | 0.8562
33730 | Tompkins County, New York | 33 | Rural | 0.8395 | 27060 | Urban | 0.9793
33740 | Ulster County, New York | 33 | Rural | 0.8395 | 28740 | Urban | 0.9255
33750 | Warren County, New York | 2975 | Urban | 0.8559 | 24020 | Urban | 0.8559
33760 | Washington County, New York | 2975 | Urban | 0.8559 | 24020 | Urban | 0.8559
33770 | Wayne County, New York | 6840 | Urban | 0.9049 | 40380 | Urban | 0.9121
33800 | Westchester County, New York | 5600 | Urban | 1.3464 | 35644 | Urban | 1.3188
33900 | Wyoming County, New York | 33 | Rural | 0.8395 | 99933 | Rural | 0.8154
33910 | Yates County, New York | 33 | Rural | 0.8395 | 99933 | Rural | 0.8154
34000 | Alamance County, N Carolina | 3120 | Urban | 0.9018 | 15500 | Urban | 0.8905
34010 | Alexander County, N Carolina | 3290 | Urban | 0.8921 | 25860 | Urban | 0.8921
34020 | Alleghany County, N Carolina | 34 | Rural | 0.8462 | 99934 | Rural | 0.8540
34030 | Anson County, N Carolina | 34 | Rural | 0.8462 | 16740 | Urban | 0.9750
34040 | Ashe County, N Carolina | 34 | Rural | 0.8462 | 99934 | Rural | 0.8540
34050 | Avery County, N Carolina | 34 | Rural | 0.8462 | 99934 | Rural | 0.8540
34060 | Beaufort County, N Carolina | 34 | Rural | 0.8462 | 99934 | Rural | 0.8540
34070 | Bertie County, N Carolina | 34 | Rural | 0.8462 | 99934 | Rural | 0.8540
34080 | Bladen County, N Carolina | 34 | Rural | 0.8462 | 99934 | Rural | 0.8540
34090 | Brunswick County, N Carolina | 9200 | Urban | 0.9582 | 48900 | Urban | 0.9582
34100 | Buncombe County, N Carolina | 0480 | Urban | 0.9737 | 11700 | Urban | 0.9285
34110 | Burke County, N Carolina | 3290 | Urban | 0.8921 | 25860 | Urban | 0.8921
34120 | Cabarrus County, N Carolina | 1520 | Urban | 0.9715 | 16740 | Urban | 0.9750
34130 | Caldwell County, N Carolina | 3290 | Urban | 0.8921 | 25860 | Urban | 0.8921
34140 | Camden County, N Carolina | 34 | Rural | 0.8462 | 99934 | Rural | 0.8540
34150 | Carteret County, N Carolina | 34 | Rural | 0.8462 | 99934 | Rural | 0.8540
34160 | Caswell County, N Carolina | 34 | Rural | 0.8462 | 99934 | Rural | 0.8540
34170 | Catawba County, N Carolina | 3290 | Urban | 0.8921 | 25860 | Urban | 0.8921
34180 | Chatham County, N Carolina | 6640 | Urban | 1.0034 | 20500 | Urban | 1.0244
34190 | Cherokee County, N Carolina | 34 | Rural | 0.8462 | 99934 | Rural | 0.8540
34200 | Chowan County, N Carolina | 34 | Rural | 0.8462 | 99934 | Rural | 0.8540
34210 | Clay County, N Carolina | 34 | Rural | 0.8462 | 99934 | Rural | 0.8540
34220 | Cleveland County, N Carolina | 34 | Rural | 0.8462 | 99934 | Rural | 0.8540
34230 | Columbus County, N Carolina | 34 | Rural | 0.8462 | 99934 | Rural | 0.8540
34240 | Craven County, N Carolina | 34 | Rural | 0.8462 | 99934 | Rural | 0.8540
34250 | Cumberland County, N Carolina | 2560 | Urban | 0.9416 | 22180 | Urban | 0.9416
34251 | Currituck County, N Carolina | 5720 | Urban | 0.8799 | 47260 | Urban | 0.8799
34270 | Dare County, N Carolina | 34 | Rural | 0.8462 | 99934 | Rural | 0.8540
34280 | Davidson County, N Carolina | 3120 | Urban | 0.9018 | 99934 | Rural | 0.8540
34290 | Davie County, N Carolina | 3120 | Urban | 0.9018 | 49180 | Urban | 0.8944
34300 | Duplin County, N Carolina | 34 | Rural | 0.8462 | 99934 | Rural | 0.8540
34310 | Durham County, N Carolina | 6640 | Urban | 1.0034 | 20500 | Urban | 1.0244
34320 | Edgecombe County, N Carolina | 6895 | Urban | 0.8915 | 40580 | Urban | 0.8915
34330 | Forsyth County, N Carolina | 3120 | Urban | 0.9018 | 49180 | Urban | 0.8944
34340 | Franklin County, N Carolina | 6640 | Urban | 1.0034 | 39580 | Urban | 0.9691
34350 | Gaston County, N Carolina | 1520 | Urban | 0.9715 | 16740 | Urban | 0.9750
34360 | Gates County, N Carolina | 34 | Rural | 0.8462 | 99934 | Rural | 0.8540
34370 | Graham County, N Carolina | 34 | Rural | 0.8462 | 99934 | Rural | 0.8540
34380 | Granville County, N Carolina | 34 | Rural | 0.8462 | 99934 | Rural | 0.8540
34390 | Greene County, N Carolina | 34 | Rural | 0.8462 | 24780 | Urban | 0.9425
34400 | Guilford County, N Carolina | 3120 | Urban | 0.9018 | 24660 | Urban | 0.9104
34410 | Halifax County, N Carolina | 34 | Rural | 0.8462 | 99934 | Rural | 0.8540
34420 | Harnett County, N Carolina | 34 | Rural | 0.8462 | 99934 | Rural | 0.8540
34430 | Haywood County, N Carolina | 34 | Rural | 0.8462 | 11700 | Urban | 0.9285
34440 | Henderson County, N Carolina | 34 | Rural | 0.8462 | 11700 | Urban | 0.9285
34450 | Hertford County, N Carolina | 34 | Rural | 0.8462 | 99934 | Rural | 0.8540
34460 | Hoke County, N Carolina | 34 | Rural | 0.8462 | 22180 | Urban | 0.9416
34470 | Hyde County, N Carolina | 34 | Rural | 0.8462 | 99934 | Rural | 0.8540
34480 | Iredell County, N Carolina | 34 | Rural | 0.8462 | 99934 | Rural | 0.8540
34490 | Jackson County, N Carolina | 34 | Rural | 0.8462 | 99934 | Rural | 0.8540
34500 | Johnston County, N Carolina | 6640 | Urban | 1.0034 | 39580 | Urban | 0.9691
34510 | Jones County, N Carolina | 34 | Rural | 0.8462 | 99934 | Rural | 0.8540
34520 | Lee County, N Carolina | 34 | Rural | 0.8462 | 99934 | Rural | 0.8540
34530 | Lenoir County, N Carolina | 34 | Rural | 0.8462 | 99934 | Rural | 0.8540
34540 | Lincoln County, N Carolina | 1520 | Urban | 0.9715 | 99934 | Rural | 0.8540
34550 | Mc Dowell County, N Carolina | 34 | Rural | 0.8462 | 99934 | Rural | 0.8540
34560 | Macon County, N Carolina | 34 | Rural | 0.8462 | 99934 | Rural | 0.8540
34570 | Madison County, N Carolina | 0480 | Urban | 0.9737 | 11700 | Urban | 0.9285
34580 | Martin County, N Carolina | 34 | Rural | 0.8462 | 99934 | Rural | 0.8540
34590 | Mecklenburg County, N Carolina | 1520 | Urban | 0.9715 | 16740 | Urban | 0.9750
34600 | Mitchell County, N Carolina | 34 | Rural | 0.8462 | 99934 | Rural | 0.8540
34610 | Montgomery County, N Carolina | 34 | Rural | 0.8462 | 99934 | Rural | 0.8540
34620 | Moore County, N Carolina | 34 | Rural | 0.8462 | 99934 | Rural | 0.8540
34630 | Nash County, N Carolina | 6895 | Urban | 0.8915 | 40580 | Urban | 0.8915
34640 | New Hanover County, N Carolina | 9200 | Urban | 0.9582 | 48900 | Urban | 0.9582
34650 | Northampton County, N Carolina | 34 | Rural | 0.8462 | 99934 | Rural | 0.8540
34660 | Onslow County, N Carolina | 3605 | Urban | 0.8236 | 27340 | Urban | 0.8236
34670 | Orange County, N Carolina | 6640 | Urban | 1.0034 | 20500 | Urban | 1.0244
34680 | Pamlico County, N Carolina | 34 | Rural | 0.8462 | 99934 | Rural | 0.8540
34690 | Pasquotank County, N Carolina | 34 | Rural | 0.8462 | 99934 | Rural | 0.8540
34700 | Pender County, N Carolina | 34 | Rural | 0.8462 | 48900 | Urban | 0.9582
34710 | Perquimans County, N Carolina | 34 | Rural | 0.8462 | 99934 | Rural | 0.8540
34720 | Person County, N Carolina | 34 | Rural | 0.8462 | 20500 | Urban | 1.0244
34730 | Pitt County, N Carolina | 3150 | Urban | 0.9425 | 24780 | Urban | 0.9425
34740 | Polk County, N Carolina | 34 | Rural | 0.8462 | 99934 | Rural | 0.8540
34750 | Randolph County, N Carolina | 3120 | Urban | 0.9018 | 24660 | Urban | 0.9104
34760 | Richmond County, N Carolina | 34 | Rural | 0.8462 | 99934 | Rural | 0.8540
34770 | Robeson County, N Carolina | 34 | Rural | 0.8462 | 99934 | Rural | 0.8540
34780 | Rockingham County, N Carolina | 34 | Rural | 0.8462 | 24660 | Urban | 0.9104
34790 | Rowan County, N Carolina | 1520 | Urban | 0.9715 | 99934 | Rural | 0.8540
34800 | Rutherford County, N Carolina | 34 | Rural | 0.8462 | 99934 | Rural | 0.8540
34810 | Sampson County, N Carolina | 34 | Rural | 0.8462 | 99934 | Rural | 0.8540
34820 | Scotland County, N Carolina | 34 | Rural | 0.8462 | 99934 | Rural | 0.8540
34830 | Stanly County, N Carolina | 34 | Rural | 0.8462 | 99934 | Rural | 0.8540
34840 | Stokes County, N Carolina | 3120 | Urban | 0.9018 | 49180 | Urban | 0.8944
34850 | Surry County, N Carolina | 34 | Rural | 0.8462 | 99934 | Rural | 0.8540
34860 | Swain County, N Carolina | 34 | Rural | 0.8462 | 99934 | Rural | 0.8540
34870 | Transylvania County, N Carolina | 34 | Rural | 0.8462 | 99934 | Rural | 0.8540
34880 | Tyrrell County, N Carolina | 34 | Rural | 0.8462 | 99934 | Rural | 0.8540
34890 | Union County, N Carolina | 1520 | Urban | 0.9715 | 16740 | Urban | 0.9750
34900 | Vance County, N Carolina | 34 | Rural | 0.8462 | 99934 | Rural | 0.8540
34910 | Wake County, N Carolina | 6640 | Urban | 1.0034 | 39580 | Urban | 0.9691
34920 | Warren County, N Carolina | 34 | Rural | 0.8462 | 99934 | Rural | 0.8540
34930 | Washington County, N Carolina | 34 | Rural | 0.8462 | 99934 | Rural | 0.8540
34940 | Watauga County, N Carolina | 34 | Rural | 0.8462 | 99934 | Rural | 0.8540
34950 | Wayne County, N Carolina | 2980 | Urban | 0.8775 | 24140 | Urban | 0.8775
34960 | Wilkes County, N Carolina | 34 | Rural | 0.8462 | 99934 | Rural | 0.8540
34970 | Wilson County, N Carolina | 34 | Rural | 0.8462 | 99934 | Rural | 0.8540
34980 | Yadkin County, N Carolina | 3120 | Urban | 0.9018 | 49180 | Urban | 0.8944
34981 | Yancey County, N Carolina | 34 | Rural | 0.8462 | 99934 | Rural | 0.8540
35000 | Adams County, N Dakota | 35 | Rural | 0.7261 | 99935 | Rural | 0.7261
35010 | Barnes County, N Dakota | 35 | Rural | 0.7261 | 99935 | Rural | 0.7261
35020 | Benson County, N Dakota | 35 | Rural | 0.7261 | 99935 | Rural | 0.7261
35030 | Billings County, N Dakota | 35 | Rural | 0.7261 | 99935 | Rural | 0.7261
35040 | Bottineau County, N Dakota | 35 | Rural | 0.7261 | 99935 | Rural | 0.7261
35050 | Bowman County, N Dakota | 35 | Rural | 0.7261 | 99935 | Rural | 0.7261
35060 | Burke County, N Dakota | 35 | Rural | 0.7261 | 99935 | Rural | 0.7261
35070 | Burleigh County, N Dakota | 1010 | Urban | 0.7574 | 13900 | Urban | 0.7574
35080 | Cass County, N Dakota | 2520 | Urban | 0.8486 | 22020 | Urban | 0.8486
35090 | Cavalier County, N Dakota | 35 | Rural | 0.7261 | 99935 | Rural | 0.7261
35100 | Dickey County, N Dakota | 35 | Rural | 0.7261 | 99935 | Rural | 0.7261
35110 | Divide County, N Dakota | 35 | Rural | 0.7261 | 99935 | Rural | 0.7261
35120 | Dunn County, N Dakota | 35 | Rural | 0.7261 | 99935 | Rural | 0.7261
35130 | Eddy County, N Dakota | 35 | Rural | 0.7261 | 99935 | Rural | 0.7261
35140 | Emmons County, N Dakota | 35 | Rural | 0.7261 | 99935 | Rural | 0.7261
35150 | Foster County, N Dakota | 35 | Rural | 0.7261 | 99935 | Rural | 0.7261
35160 | Golden Valley County, N Dakota | 35 | Rural | 0.7261 | 99935 | Rural | 0.7261
35170 | Grand Forks County, N Dakota | 2985 | Urban | 0.7901 | 24220 | Urban | 0.7901
35180 | Grant County, N Dakota | 35 | Rural | 0.7261 | 99935 | Rural | 0.7261
35190 | Griggs County, N Dakota | 35 | Rural | 0.7261 | 99935 | Rural | 0.7261
35200 | Hettinger County, N Dakota | 35 | Rural | 0.7261 | 99935 | Rural | 0.7261
35210 | Kidder County, N Dakota | 35 | Rural | 0.7261 | 99935 | Rural | 0.7261
35220 | La Moure County, N Dakota | 35 | Rural | 0.7261 | 99935 | Rural | 0.7261
35230 | Logan County, N Dakota | 35 | Rural | 0.7261 | 99935 | Rural | 0.7261
35240 | Mc Henry County, N Dakota | 35 | Rural | 0.7261 | 99935 | Rural | 0.7261
35250 | Mc Intosh County, N Dakota | 35 | Rural | 0.7261 | 99935 | Rural | 0.7261
35260 | Mc Kenzie County, N Dakota | 35 | Rural | 0.7261 | 99935 | Rural | 0.7261
35270 | Mc Lean County, N Dakota | 35 | Rural | 0.7261 | 99935 | Rural | 0.7261
35280 | Mercer County, N Dakota | 35 | Rural | 0.7261 | 99935 | Rural | 0.7261
35290 | Morton County, N Dakota | 1010 | Urban | 0.7574 | 13900 | Urban | 0.7574
35300 | Mountrail County, N Dakota | 35 | Rural | 0.7261 | 99935 | Rural | 0.7261
35310 | Nelson County, N Dakota | 35 | Rural | 0.7261 | 99935 | Rural | 0.7261
35320 | Oliver County, N Dakota | 35 | Rural | 0.7261 | 99935 | Rural | 0.7261
35330 | Pembina County, N Dakota | 35 | Rural | 0.7261 | 99935 | Rural | 0.7261
35340 | Pierce County, N Dakota | 35 | Rural | 0.7261 | 99935 | Rural | 0.7261
35350 | Ramsey County, N Dakota | 35 | Rural | 0.7261 | 99935 | Rural | 0.7261
35360 | Ransom County, N Dakota | 35 | Rural | 0.7261 | 99935 | Rural | 0.7261
35370 | Renville County, N Dakota | 35 | Rural | 0.7261 | 99935 | Rural | 0.7261
35380 | Richland County, N Dakota | 35 | Rural | 0.7261 | 99935 | Rural | 0.7261
35390 | Rolette County, N Dakota | 35 | Rural | 0.7261 | 99935 | Rural | 0.7261
35400 | Sargent County, N Dakota | 35 | Rural | 0.7261 | 99935 | Rural | 0.7261
35410 | Sheridan County, N Dakota | 35 | Rural | 0.7261 | 99935 | Rural | 0.7261
35420 | Sioux County, N Dakota | 35 | Rural | 0.7261 | 99935 | Rural | 0.7261
35430 | Slope County, N Dakota | 35 | Rural | 0.7261 | 99935 | Rural | 0.7261
35440 | Stark County, N Dakota | 35 | Rural | 0.7261 | 99935 | Rural | 0.7261
35450 | Steele County, N Dakota | 35 | Rural | 0.7261 | 99935 | Rural | 0.7261
35460 | Stutsman County, N Dakota | 35 | Rural | 0.7261 | 99935 | Rural | 0.7261
35470 | Towner County, N Dakota | 35 | Rural | 0.7261 | 99935 | Rural | 0.7261
35480 | Traill County, N Dakota | 35 | Rural | 0.7261 | 99935 | Rural | 0.7261
35490 | Walsh County, N Dakota | 35 | Rural | 0.7261 | 99935 | Rural | 0.7261
35500 | Ward County, N Dakota | 35 | Rural | 0.7261 | 99935 | Rural | 0.7261
35510 | Wells County, N Dakota | 35 | Rural | 0.7261 | 99935 | Rural | 0.7261
35520 | Williams County, N Dakota | 35 | Rural | 0.7261 | 99935 | Rural | 0.7261
36000 | Adams County, Ohio | 36 | Rural | 0.8921 | 99936 | Rural | 0.8826
36010 | Allen County, Ohio | 4320 | Urban | 0.9119 | 30620 | Urban | 0.9225
36020 | Ashland County, Ohio | 36 | Rural | 0.8921 | 99936 | Rural | 0.8826
36030 | Ashtabula County, Ohio | 1680 | Urban | 0.9183 | 99936 | Rural | 0.8826
36040 | Athens County, Ohio | 36 | Rural | 0.8921 | 99936 | Rural | 0.8826
36050 | Auglaize County, Ohio | 4320 | Urban | 0.9119 | 99936 | Rural | 0.8826
36060 | Belmont County, Ohio | 9000 | Urban | 0.7161 | 48540 | Urban | 0.7161
36070 | Brown County, Ohio | 1640 | Urban | 0.9734 | 17140 | Urban | 0.9615
36080 | Butler County, Ohio | 3200 | Urban | 0.8951 | 17140 | Urban | 0.9615
36090 | Carroll County, Ohio | 1320 | Urban | 0.8935 | 15940 | Urban | 0.8935
36100 | Champaign County, Ohio | 36 | Rural | 0.8921 | 99936 | Rural | 0.8826
36110 | Clark County, Ohio | 2000 | Urban | 0.8980 | 44220 | Urban | 0.8396
36120 | Clermont County, Ohio | 1640 | Urban | 0.9734 | 17140 | Urban | 0.9615
36130 | Clinton County, Ohio | 36 | Rural | 0.8921 | 99936 | Rural | 0.8826
36140 | Columbiana County, Ohio | 9320 | Urban | 0.8848 | 99936 | Rural | 0.8826
36150 | Coshocton County, Ohio | 36 | Rural | 0.8921 | 99936 | Rural | 0.8826
36160 | Crawford County, Ohio | 4800 | Urban | 0.9891 | 99936 | Rural | 0.8826
36170 | Cuyahoga County, Ohio | 1680 | Urban | 0.9183 | 17460 | Urban | 0.9213
36190 | Darke County, Ohio | 36 | Rural | 0.8921 | 99936 | Rural | 0.8826
36200 | Defiance County, Ohio | 36 | Rural | 0.8921 | 99936 | Rural | 0.8826
36210 | Delaware County, Ohio | 1840 | Urban | 0.9874 | 18140 | Urban | 0.9860
36220 | Erie County, Ohio | 36 | Rural | 0.8921 | 41780 | Urban | 0.9019
36230 | Fairfield County, Ohio | 1840 | Urban | 0.9874 | 18140 | Urban | 0.9860
36240 | Fayette County, Ohio | 36 | Rural | 0.8921 | 99936 | Rural | 0.8826
36250 | Franklin County, Ohio | 1840 | Urban | 0.9874 | 18140 | Urban | 0.9860
36260 | Fulton County, Ohio | 8400 | Urban | 0.9574 | 45780 | Urban | 0.9574
36270 | Gallia County, Ohio | 36 | Rural | 0.8921 | 99936 | Rural | 0.8826
36280 | Geauga County, Ohio | 1680 | Urban | 0.9183 | 17460 | Urban | 0.9213
36290 | Greene County, Ohio | 2000 | Urban | 0.8980 | 19380 | Urban | 0.9064
36300 | Guernsey County, Ohio | 36 | Rural | 0.8921 | 99936 | Rural | 0.8826
36310 | Hamilton County, Ohio | 1640 | Urban | 0.9734 | 17140 | Urban | 0.9615
36330 | Hancock County, Ohio | 36 | Rural | 0.8921 | 99936 | Rural | 0.8826
36340 | Hardin County, Ohio | 36 | Rural | 0.8921 | 99936 | Rural | 0.8826
36350 | Harrison County, Ohio | 36 | Rural | 0.8921 | 99936 | Rural | 0.8826
36360 | Henry County, Ohio | 36 | Rural | 0.8921 | 99936 | Rural | 0.8826
36370 | Highland County, Ohio | 36 | Rural | 0.8921 | 99936 | Rural | 0.8826
36380 | Hocking County, Ohio | 36 | Rural | 0.8921 | 99936 | Rural | 0.8826
36390 | Holmes County, Ohio | 36 | Rural | 0.8921 | 99936 | Rural | 0.8826
36400 | Huron County, Ohio | 36 | Rural | 0.8921 | 99936 | Rural | 0.8826
36410 | Jackson County, Ohio | 36 | Rural | 0.8921 | 99936 | Rural | 0.8826
36420 | Jefferson County, Ohio | 8080 | Urban | 0.7819 | 48260 | Urban | 0.7819
36430 | Knox County, Ohio | 36 | Rural | 0.8921 | 99936 | Rural | 0.8826
36440 | Lake County, Ohio | 1680 | Urban | 0.9183 | 17460 | Urban | 0.9213
36450 | Lawrence County, Ohio | 3400 | Urban | 0.9477 | 26580 | Urban | 0.9477
36460 | Licking County, Ohio | 1840 | Urban | 0.9874 | 18140 | Urban | 0.9860
36470 | Logan County, Ohio | 36 | Rural | 0.8921 | 99936 | Rural | 0.8826
36480 | Lorain County, Ohio | 1680 | Urban | 0.9183 | 17460 | Urban | 0.9213
36490 | Lucas County, Ohio | 8400 | Urban | 0.9574 | 45780 | Urban | 0.9574
36500 | Madison County, Ohio | 1840 | Urban | 0.9874 | 18140 | Urban | 0.9860
36510 | Mahoning County, Ohio | 9320 | Urban | 0.8848 | 49660 | Urban | 0.8603
36520 | Marion County, Ohio | 36 | Rural | 0.8921 | 99936 | Rural | 0.8826
36530 | Medina County, Ohio | 1680 | Urban | 0.9183 | 17460 | Urban | 0.9213
36540 | Meigs County, Ohio | 36 | Rural | 0.8921 | 99936 | Rural | 0.8826
36550 | Mercer County, Ohio | 36 | Rural | 0.8921 | 99936 | Rural | 0.8826
36560 | Miami County, Ohio | 2000 | Urban | 0.8980 | 19380 | Urban | 0.9064
36570 | Monroe County, Ohio | 36 | Rural | 0.8921 | 99936 | Rural | 0.8826
36580 | Montgomery County, Ohio | 2000 | Urban | 0.8980 | 19380 | Urban | 0.9064
36590 | Morgan County, Ohio | 36 | Rural | 0.8921 | 99936 | Rural | 0.8826
36600 | Morrow County, Ohio | 36 | Rural | 0.8921 | 18140 | Urban | 0.9860
36610 | Muskingum County, Ohio | 36 | Rural | 0.8921 | 99936 | Rural | 0.8826
36620 | Noble County, Ohio | 36 | Rural | 0.8921 | 99936 | Rural | 0.8826
36630 | Ottawa County, Ohio | 36 | Rural | 0.8921 | 45780 | Urban | 0.9574
36640 | Paulding County, Ohio | 36 | Rural | 0.8921 | 99936 | Rural | 0.8826
36650 | Perry County, Ohio | 36 | Rural | 0.8921 | 99936 | Rural | 0.8826
36660 | Pickaway County, Ohio | 1840 | Urban | 0.9874 | 18140 | Urban | 0.9860
36670 | Pike County, Ohio | 36 | Rural | 0.8921 | 99936 | Rural | 0.8826
36680 | Portage County, Ohio | 0080 | Urban | 0.8982 | 10420 | Urban | 0.8982
36690 | Preble County, Ohio | 36 | Rural | 0.8921 | 19380 | Urban | 0.9064
36700 | Putnam County, Ohio | 36 | Rural | 0.8921 | 99936 | Rural | 0.8826
36710 | Richland County, Ohio | 4800 | Urban | 0.9891 | 31900 | Urban | 0.9891
36720 | Ross County, Ohio | 36 | Rural | 0.8921 | 99936 | Rural | 0.8826
36730 | Sandusky County, Ohio | 36 | Rural | 0.8921 | 99936 | Rural | 0.8826
36740 | Scioto County, Ohio | 36 | Rural | 0.8921 | 99936 | Rural | 0.8826
36750 | Seneca County, Ohio | 36 | Rural | 0.8921 | 99936 | Rural | 0.8826
36760 | Shelby County, Ohio | 36 | Rural | 0.8921 | 99936 | Rural | 0.8826
36770 | Stark County, Ohio | 1320 | Urban | 0.8935 | 15940 | Urban | 0.8935
36780 | Summit County, Ohio | 0080 | Urban | 0.8982 | 10420 | Urban | 0.8982
36790 | Trumbull County, Ohio | 9320 | Urban | 0.8848 | 49660 | Urban | 0.8603
36800 | Tuscarawas County, Ohio | 36 | Rural | 0.8921 | 99936 | Rural | 0.8826
36810 | Union County, Ohio | 36 | Rural | 0.8921 | 18140 | Urban | 0.9860
36820 | Van Wert County, Ohio | 36 | Rural | 0.8921 | 99936 | Rural | 0.8826
36830 | Vinton County, Ohio | 36 | Rural | 0.8921 | 99936 | Rural | 0.8826
36840 | Warren County, Ohio | 1640 | Urban | 0.9734 | 17140 | Urban | 0.9615
36850 | Washington County, Ohio | 6020 | Urban | 0.8270 | 37620 | Urban | 0.8270
36860 | Wayne County, Ohio | 36 | Rural | 0.8921 | 99936 | Rural | 0.8826
36870 | Williams County, Ohio | 36 | Rural | 0.8921 | 99936 | Rural | 0.8826
36880 | Wood County, Ohio | 8400 | Urban | 0.9574 | 45780 | Urban | 0.9574
36890 | Wyandot County, Ohio | 36 | Rural | 0.8921 | 99936 | Rural | 0.8826
37000 | Adair County, Oklahoma | 37 | Rural | 0.7442 | 99937 | Rural | 0.7581
37010 | Alfalfa County, Oklahoma | 37 | Rural | 0.7442 | 99937 | Rural | 0.7581
37020 | Atoka County, Oklahoma | 37 | Rural | 0.7442 | 99937 | Rural | 0.7581
37030 | Beaver County, Oklahoma | 37 | Rural | 0.7442 | 99937 | Rural | 0.7581
37040 | Beckham County, Oklahoma | 37 | Rural | 0.7442 | 99937 | Rural | 0.7581
37050 | Blaine County, Oklahoma | 37 | Rural | 0.7442 | 99937 | Rural | 0.7581
37060 | Bryan County, Oklahoma | 37 | Rural | 0.7442 | 99937 | Rural | 0.7581
37070 | Caddo County, Oklahoma | 37 | Rural | 0.7442 | 99937 | Rural | 0.7581
37080 | Canadian County, Oklahoma | 5880 | Urban | 0.9025 | 36420 | Urban | 0.9031
37090 | Carter County, Oklahoma | 37 | Rural | 0.7442 | 99937 | Rural | 0.7581
37100 | Cherokee County, Oklahoma | 37 | Rural | 0.7442 | 99937 | Rural | 0.7581
37110 | Choctaw County, Oklahoma | 37 | Rural | 0.7442 | 99937 | Rural | 0.7581
37120 | Cimarron County, Oklahoma | 37 | Rural | 0.7442 | 99937 | Rural | 0.7581
37130 | Cleveland County, Oklahoma | 5880 | Urban | 0.9025 | 36420 | Urban | 0.9031
37140 | Coal County, Oklahoma | 37 | Rural | 0.7442 | 99937 | Rural | 0.7581
37150 | Comanche County, Oklahoma | 4200 | Urban | 0.7872 | 30020 | Urban | 0.7872
37160 | Cotton County, Oklahoma | 37 | Rural | 0.7442 | 99937 | Rural | 0.7581
37170 | Craig County, Oklahoma | 37 | Rural | 0.7442 | 99937 | Rural | 0.7581
37180 | Creek County, Oklahoma | 8560 | Urban | 0.8587 | 46140 | Urban | 0.8543
37190 | Custer County, Oklahoma | 37 | Rural | 0.7442 | 99937 | Rural | 0.7581
37200 | Delaware County, Oklahoma | 37 | Rural | 0.7442 | 99937 | Rural | 0.7581
37210 | Dewey County, Oklahoma | 37 | Rural | 0.7442 | 99937 | Rural | 0.7581
37220 | Ellis County, Oklahoma | 37 | Rural | 0.7442 | 99937 | Rural | 0.7581
37230 | Garfield County, Oklahoma | 2340 | Urban | 0.8666 | 99937 | Rural | 0.7581
37240 | Garvin County, Oklahoma | 37 | Rural | 0.7442 | 99937 | Rural | 0.7581
37250 | Grady County, Oklahoma | 37 | Rural | 0.7442 | 36420 | Urban | 0.9031
37260 | Grant County, Oklahoma | 37 | Rural | 0.7442 | 99937 | Rural | 0.7581
37270 | Greer County, Oklahoma | 37 | Rural | 0.7442 | 99937 | Rural | 0.7581
37280 | Harmon County, Oklahoma | 37 | Rural | 0.7442 | 99937 | Rural | 0.7581
37290 | Harper County, Oklahoma | 37 | Rural | 0.7442 | 99937 | Rural | 0.7581
37300 | Haskell County, Oklahoma | 37 | Rural | 0.7442 | 99937 | Rural | 0.7581
37310 | Hughes County, Oklahoma | 37 | Rural | 0.7442 | 99937 | Rural | 0.7581
37320 | Jackson County, Oklahoma | 37 | Rural | 0.7442 | 99937 | Rural | 0.7581
37330 | Jefferson County, Oklahoma | 37 | Rural | 0.7442 | 99937 | Rural | 0.7581
37340 | Johnston County, Oklahoma | 37 | Rural | 0.7442 | 99937 | Rural | 0.7581
37350 | Kay County, Oklahoma | 37 | Rural | 0.7442 | 99937 | Rural | 0.7581
37360 | Kingfisher County, Oklahoma | 37 | Rural | 0.7442 | 99937 | Rural | 0.7581
37370 | Kiowa County, Oklahoma | 37 | Rural | 0.7442 | 99937 | Rural | 0.7581
37380 | Latimer County, Oklahoma | 37 | Rural | 0.7442 | 99937 | Rural | 0.7581
37390 | Le Flore County, Oklahoma | 37 | Rural | 0.7442 | 22900 | Urban | 0.8230
37400 | Lincoln County, Oklahoma | 37 | Rural | 0.7442 | 36420 | Urban | 0.9031
37410 | Logan County, Oklahoma | 5880 | Urban | 0.9025 | 36420 | Urban | 0.9031
37420 | Love County, Oklahoma | 37 | Rural | 0.7442 | 99937 | Rural | 0.7581
37430 | Mc Clain County, Oklahoma | 5880 | Urban | 0.9025 | 36420 | Urban | 0.9031
37440 | Mc Curtain County, Oklahoma | 37 | Rural | 0.7442 | 99937 | Rural | 0.7581
37450 | Mc Intosh County, Oklahoma | 37 | Rural | 0.7442 | 99937 | Rural | 0.7581
37460 | Major County, Oklahoma | 37 | Rural | 0.7442 | 99937 | Rural | 0.7581
37470 | Marshall County, Oklahoma | 37 | Rural | 0.7442 | 99937 | Rural | 0.7581
37480 | Mayes County, Oklahoma | 37 | Rural | 0.7442 | 99937 | Rural | 0.7581
37490 | Murray County, Oklahoma | 37 | Rural | 0.7442 | 99937 | Rural | 0.7581
37500 | Muskogee County, Oklahoma | 37 | Rural | 0.7442 | 99937 | Rural | 0.7581
37510 | Noble County, Oklahoma | 37 | Rural | 0.7442 | 99937 | Rural | 0.7581
37520 | Nowata County, Oklahoma | 37 | Rural | 0.7442 | 99937 | Rural | 0.7581
37530 | Okfuskee County, Oklahoma | 37 | Rural | 0.7442 | 99937 | Rural | 0.7581
37540 | Oklahoma County, Oklahoma | 5880 | Urban | 0.9025 | 36420 | Urban | 0.9031
37550 | Okmulgee County, Oklahoma | 37 | Rural | 0.7442 | 46140 | Urban | 0.8543
37560 | Osage County, Oklahoma | 8560 | Urban | 0.8587 | 46140 | Urban | 0.8543
37570 | Ottawa County, Oklahoma | 37 | Rural | 0.7442 | 99937 | Rural | 0.7581
37580 | Pawnee County, Oklahoma | 37 | Rural | 0.7442 | 46140 | Urban | 0.8543
37590 | Payne County, Oklahoma | 37 | Rural | 0.7442 | 99937 | Rural | 0.7581
37600 | Pittsburg County, Oklahoma | 37 | Rural | 0.7442 | 99937 | Rural | 0.7581
37610 | Pontotoc County, Oklahoma | 37 | Rural | 0.7442 | 99937 | Rural | 0.7581
37620 | Pottawatomie County, Oklahoma | 5880 | Urban | 0.9025 | 99937 | Rural | 0.7581
37630 | Pushmataha County, Oklahoma | 37 | Rural | 0.7442 | 99937 | Rural | 0.7581
37640 | Roger Mills County, Oklahoma | 37 | Rural | 0.7442 | 99937 | Rural | 0.7581
37650 | Rogers County, Oklahoma | 8560 | Urban | 0.8587 | 46140 | Urban | 0.8543
37660 | Seminole County, Oklahoma | 37 | Rural | 0.7442 | 99937 | Rural | 0.7581
37670 | Sequoyah County, Oklahoma | 2720 | Urban | 0.8246 | 22900 | Urban | 0.8230
37680 | Stephens County, Oklahoma | 37 | Rural | 0.7442 | 99937 | Rural | 0.7581
37690 | Texas County, Oklahoma | 37 | Rural | 0.7442 | 99937 | Rural | 0.7581
37700 | Tillman County, Oklahoma | 37 | Rural | 0.7442 | 99937 | Rural | 0.7581
37710 | Tulsa County, Oklahoma | 8560 | Urban | 0.8587 | 46140 | Urban | 0.8543
37720 | Wagoner County, Oklahoma | 8560 | Urban | 0.8587 | 46140 | Urban | 0.8543
37730 | Washington County, Oklahoma | 37 | Rural | 0.7442 | 99937 | Rural | 0.7581
37740 | Washita County, Oklahoma | 37 | Rural | 0.7442 | 99937 | Rural | 0.7581
37750 | Woods County, Oklahoma | 37 | Rural | 0.7442 | 99937 | Rural | 0.7581
37760 | Woodward County, Oklahoma | 37 | Rural | 0.7442 | 99937 | Rural | 0.7581
38000 | Baker County, Oregon | 38 | Rural | 1.0052 | 99938 | Rural | 0.9826
38010 | Benton County, Oregon | 1890 | Urban | 1.0729 | 18700 | Urban | 1.0729
38020 | Clackamas County, Oregon | 6440 | Urban | 1.1266 | 38900 | Urban | 1.1266
38030 | Clatsop County, Oregon | 38 | Rural | 1.0052 | 99938 | Rural | 0.9826
38040 | Columbia County, Oregon | 6440 | Urban | 1.1266 | 38900 | Urban | 1.1266
38050 | Coos County, Oregon | 38 | Rural | 1.0052 | 99938 | Rural | 0.9826
38060 | Crook County, Oregon | 38 | Rural | 1.0052 | 99938 | Rural | 0.9826
38070 | Curry County, Oregon | 38 | Rural | 1.0052 | 99938 | Rural | 0.9826
38080 | Deschutes County, Oregon | 38 | Rural | 1.0052 | 13460 | Urban | 1.0786
38090 | Douglas County, Oregon | 38 | Rural | 1.0052 | 99938 | Rural | 0.9826
38100 | Gilliam County, Oregon | 38 | Rural | 1.0052 | 99938 | Rural | 0.9826
38110 | Grant County, Oregon | 38 | Rural | 1.0052 | 99938 | Rural | 0.9826
38120 | Harney County, Oregon | 38 | Rural | 1.0052 | 99938 | Rural | 0.9826
38130 | Hood River County, Oregon | 38 | Rural | 1.0052 | 99938 | Rural | 0.9826
38140 | Jackson County, Oregon | 4890 | Urban | 1.0225 | 32780 | Urban | 1.0225
38150 | Jefferson County, Oregon | 38 | Rural | 1.0052 | 99938 | Rural | 0.9826
38160 | Josephine County, Oregon | 38 | Rural | 1.0052 | 99938 | Rural | 0.9826
38170 | Klamath County, Oregon | 38 | Rural | 1.0052 | 99938 | Rural | 0.9826
38180 | Lake County, Oregon | 38 | Rural | 1.0052 | 99938 | Rural | 0.9826
38190 | Lane County, Oregon | 2400 | Urban | 1.0818 | 21660 | Urban | 1.0818
38200 | Lincoln County, Oregon | 38 | Rural | 1.0052 | 99938 | Rural | 0.9826
38210 | Linn County, Oregon | 38 | Rural | 1.0052 | 99938 | Rural | 0.9826
38220 | Malheur County, Oregon | 38 | Rural | 1.0052 | 99938 | Rural | 0.9826
38230 | Marion County, Oregon | 7080 | Urban | 1.0442 | 41420 | Urban | 1.0442
38240 | Morrow County, Oregon | 38 | Rural | 1.0052 | 99938 | Rural | 0.9826
38250 | Multnomah County, Oregon | 6440 | Urban | 1.1266 | 38900 | Urban | 1.1266
38260 | Polk County, Oregon | 7080 | Urban | 1.0442 | 41420 | Urban | 1.0442
38270 | Sherman County, Oregon | 38 | Rural | 1.0052 | 99938 | Rural | 0.9826
38280 | Tillamook County, Oregon | 38 | Rural | 1.0052 | 99938 | Rural | 0.9826
38290 | Umatilla County, Oregon | 38 | Rural | 1.0052 | 99938 | Rural | 0.9826
38300 | Union County, Oregon | 38 | Rural | 1.0052 | 99938 | Rural | 0.9826
38310 | Wallowa County, Oregon | 38 | Rural | 1.0052 | 99938 | Rural | 0.9826
38320 | Wasco County, Oregon | 38 | Rural | 1.0052 | 99938 | Rural | 0.9826
38330 | Washington County, Oregon | 6440 | Urban | 1.1266 | 38900 | Urban | 1.1266
38340 | Wheeler County, Oregon | 38 | Rural | 1.0052 | 99938 | Rural | 0.9826
38350 | Yamhill County, Oregon | 6440 | Urban | 1.1266 | 38900 | Urban | 1.1266
39000 | Adams County, Pennsylvania | 39 | Rural | 0.8319 | 99939 | Rural | 0.8291
39010 | Allegheny County, Pennsylvania | 6280 | Urban | 0.8860 | 38300 | Urban | 0.8845
39070 | Armstrong County, Pennsylvania | 39 | Rural | 0.8319 | 38300 | Urban | 0.8845
39080 | Beaver County, Pennsylvania | 6280 | Urban | 0.8860 | 38300 | Urban | 0.8845
39100 | Bedford County, Pennsylvania | 39 | Rural | 0.8319 | 99939 | Rural | 0.8291
39110 | Berks County, Pennsylvania | 6680 | Urban | 0.9686 | 39740 | Urban | 0.9686
39120 | Blair County, Pennsylvania | 0280 | Urban | 0.8944 | 11020 | Urban | 0.8944
39130 | Bradford County, Pennsylvania | 39 | Rural | 0.8319 | 99939 | Rural | 0.8291
39140 | Bucks County, Pennsylvania | 6160 | Urban | 1.0922 | 37964 | Urban | 1.1038
39150 | Butler County, Pennsylvania | 6280 | Urban | 0.8860 | 38300 | Urban | 0.8845
39160 | Cambria County, Pennsylvania | 3680 | Urban | 0.8086 | 27780 | Urban | 0.8354
39180 | Cameron County, Pennsylvania | 39 | Rural | 0.8319 | 99939 | Rural | 0.8291
39190 | Carbon County, Pennsylvania | 0240 | Urban | 0.9845 | 10900 | Urban | 0.9818
39200 | Centre County, Pennsylvania | 8050 | Urban | 0.8356 | 44300 | Urban | 0.8356
39210 | Chester County, Pennsylvania | 6160 | Urban | 1.0922 | 37964 | Urban | 1.1038
39220 | Clarion County, Pennsylvania | 39 | Rural | 0.8319 | 99939 | Rural | 0.8291
39230 | Clearfield County, Pennsylvania | 39 | Rural | 0.8319 | 99939 | Rural | 0.8291
39240 | Clinton County, Pennsylvania | 39 | Rural | 0.8319 | 99939 | Rural | 0.8291
39250 | Columbia County, Pennsylvania | 7560 | Urban | 0.8524 | 99939 | Rural | 0.8291
39260 | Crawford County, Pennsylvania | 39 | Rural | 0.8319 | 99939 | Rural | 0.8291
39270 | Cumberland County, Pennsylvania | 3240 | Urban | 0.9233 | 25420 | Urban | 0.9313
39280 | Dauphin County, Pennsylvania | 3240 | Urban | 0.9233 | 25420 | Urban | 0.9313
39290 | Delaware County, Pennsylvania | 6160 | Urban | 1.0922 | 37964 | Urban | 1.1038
39310 | Elk County, Pennsylvania | 39 | Rural | 0.8319 | 99939 | Rural | 0.8291
39320 | Erie County, Pennsylvania | 2360 | Urban | 0.8737 | 21500 | Urban | 0.8737
39330 | Fayette County, Pennsylvania | 6280 | Urban | 0.8860 | 38300 | Urban | 0.8845
39340 | Forest County, Pennsylvania | 39 | Rural | 0.8319 | 99939 | Rural | 0.8291
39350 | Franklin County, Pennsylvania | 39 | Rural | 0.8319 | 99939 | Rural | 0.8291
39360 | Fulton County, Pennsylvania | 39 | Rural | 0.8319 | 99939 | Rural | 0.8291
39370 | Greene County, Pennsylvania | 39 | Rural | 0.8319 | 99939 | Rural | 0.8291
39380 | Huntingdon County, Pennsylvania | 39 | Rural | 0.8319 | 99939 | Rural | 0.8291
39390 | Indiana County, Pennsylvania | 39 | Rural | 0.8319 | 99939 | Rural | 0.8291
39400 | Jefferson County, Pennsylvania | 39 | Rural | 0.8319 | 99939 | Rural | 0.8291
39410 | Juniata County, Pennsylvania | 39 | Rural | 0.8319 | 99939 | Rural | 0.8291
39420 | Lackawanna County, Pennsylvania | 7560 | Urban | 0.8524 | 42540 | Urban | 0.8540
39440 | Lancaster County, Pennsylvania | 4000 | Urban | 0.9694 | 29540 | Urban | 0.9694
39450 | Lawrence County, Pennsylvania | 39 | Rural | 0.8319 | 99939 | Rural | 0.8291
39460 | Lebanon County, Pennsylvania | 3240 | Urban | 0.9233 | 30140 | Urban | 0.8459
39470 | Lehigh County, Pennsylvania | 0240 | Urban | 0.9845 | 10900 | Urban | 0.9818
39480 | Luzerne County, Pennsylvania | 7560 | Urban | 0.8524 | 42540 | Urban | 0.8540
39510 | Lycoming County, Pennsylvania | 9140 | Urban | 0.8364 | 48700 | Urban | 0.8364
39520 | Mc Kean County, Pennsylvania | 39 | Rural | 0.8319 | 99939 | Rural | 0.8291
39530 | Mercer County, Pennsylvania | 7610 | Urban | 0.7793 | 49660 | Urban | 0.8603
39540 | Mifflin County, Pennsylvania | 39 | Rural | 0.8319 | 99939 | Rural | 0.8291
39550 | Monroe County, Pennsylvania | 39 | Rural | 0.8319 | 99939 | Rural | 0.8291
39560 | Montgomery County, Pennsylvania | 6160 | Urban | 1.0922 | 37964 | Urban | 1.1038
39580 | Montour County, Pennsylvania | 39 | Rural | 0.8319 | 99939 | Rural | 0.8291
39590 | Northampton County, Pennsylvania | 0240 | Urban | 0.9845 | 10900 | Urban | 0.9818
39600 | Northumberland County, Pennsylvania | 39 | Rural | 0.8319 | 99939 | Rural | 0.8291
39610 | Perry County, Pennsylvania | 3240 | Urban | 0.9233 | 25420 | Urban | 0.9313
39620 | Philadelphia County, Pennsylvania | 6160 | Urban | 1.0922 | 37964 | Urban | 1.1038
39630 | Pike County, Pennsylvania | 5660 | Urban | 1.1207 | 35084 | Urban | 1.1883
39640 | Potter County, Pennsylvania | 39 | Rural | 0.8319 | 99939 | Rural | 0.8291
39650 | Schuylkill County, Pennsylvania | 39 | Rural | 0.8319 | 99939 | Rural | 0.8291
39670 | Snyder County, Pennsylvania | 39 | Rural | 0.8319 | 99939 | Rural | 0.8291
39680 | Somerset County, Pennsylvania | 3680 | Urban | 0.8086 | 99939 | Rural | 0.8291
39690 | Sullivan County, Pennsylvania | 39 | Rural | 0.8319 | 99939 | Rural | 0.8291
39700 | Susquehanna County, Pennsylvania | 39 | Rural | 0.8319 | 99939 | Rural | 0.8291
39710 | Tioga County, Pennsylvania | 39 | Rural | 0.8319 | 99939 | Rural | 0.8291
39720 | Union County, Pennsylvania | 39 | Rural | 0.8319 | 99939 | Rural | 0.8291
39730 | Venango County, Pennsylvania | 39 | Rural | 0.8319 | 99939 | Rural | 0.8291
39740 | Warren County, Pennsylvania | 39 | Rural | 0.8319 | 99939 | Rural | 0.8291
39750 | Washington County, Pennsylvania | 6280 | Urban | 0.8860 | 38300 | Urban | 0.8845
39760 | Wayne County, Pennsylvania | 39 | Rural | 0.8319 | 99939 | Rural | 0.8291
39770 | Westmoreland County, Pennsylvania | 6280 | Urban | 0.8860 | 38300 | Urban | 0.8845
39790 | Wyoming County, Pennsylvania | 7560 | Urban | 0.8524 | 42540 | Urban | 0.8540
39800 | York County, Pennsylvania | 9280 | Urban | 0.9347 | 49620 | Urban | 0.9347
40010 | Adjuntas County, Puerto Rico | 40 | Rural | 0.3604 | 99940 | Rural | 0.4047
40020 | Aguada County, Puerto Rico | 0060 | Urban | 0.4876 | 10380 | Urban | 0.4738
40030 | Aguadilla County, Puerto Rico | 0060 | Urban | 0.4876 | 10380 | Urban | 0.4738
40040 | Aguas Buenas County, Puerto Rico | 7440 | Urban | 0.4752 | 41980 | Urban | 0.4621
40050 | Aibonito County, Puerto Rico | 40 | Rural | 0.3604 | 41980 | Urban | 0.4621
40060 | Anasco County, Puerto Rico | 4840 | Urban | 0.4243 | 10380 | Urban | 0.4738
40070 | Arecibo County, Puerto Rico | 0470 | Urban | 0.4112 | 41980 | Urban | 0.4621
40080 | Arroyo County, Puerto Rico | 40 | Rural | 0.3604 | 25020 | Urban | 0.3181
40090 | Barceloneta County, Puerto Rico | 7440 | Urban | 0.4752 | 41980 | Urban | 0.4621
40100 | Barranquitas County, Puerto Rico | 40 | Rural | 0.3604 | 41980 | Urban | 0.4621
40110 | Bayamon County, Puerto Rico | 7440 | Urban | 0.4752 | 41980 | Urban | 0.4621
40120 | Cabo Rojo County, Puerto Rico | 4840 | Urban | 0.4243 | 41900 | Urban | 0.4650
40130 | Caguas County, Puerto Rico | 1310 | Urban | 0.4120 | 41980 | Urban | 0.4621
40140 | Camuy County, Puerto Rico | 0470 | Urban | 0.4112 | 41980 | Urban | 0.4621
40145 | Canovanas County, Puerto Rico | 7440 | Urban | 0.4752 | 41980 | Urban | 0.4621
40150 | Carolina County, Puerto Rico | 7440 | Urban | 0.4752 | 41980 | Urban | 0.4621
40160 | Catano County, Puerto Rico | 7440 | Urban | 0.4752 | 41980 | Urban | 0.4621
40170 | Cayey County, Puerto Rico | 1310 | Urban | 0.4120 | 41980 | Urban | 0.4621
40180 | Ceiba County, Puerto Rico | 7440 | Urban | 0.4752 | 21940 | Urban | 0.4153
40190 | Ciales County, Puerto Rico | 40 | Rural | 0.3604 | 41980 | Urban | 0.4621
40200 | Cidra County, Puerto Rico | 1310 | Urban | 0.4120 | 41980 | Urban | 0.4621
40210 | Coamo County, Puerto Rico | 40 | Rural | 0.3604 | 99940 | Rural | 0.4047
40220 | Comerio County, Puerto Rico | 7440 | Urban | 0.4752 | 41980 | Urban | 0.4621
40230 | Corozal County, Puerto Rico | 7440 | Urban | 0.4752 | 41980 | Urban | 0.4621
40240 | Culebra County, Puerto Rico | 40 | Rural | 0.3604 | 99940 | Rural | 0.4047
40250 | Dorado County, Puerto Rico | 7440 | Urban | 0.4752 | 41980 | Urban | 0.4621
40260 | Fajardo County, Puerto Rico | 7440 | Urban | 0.4752 | 21940 | Urban | 0.4153
40265 | Florida County, Puerto Rico | 7440 | Urban | 0.4752 | 41980 | Urban | 0.4621
40270 | Guanica County, Puerto Rico | 40 | Rural | 0.3604 | 49500 | Urban | 0.4408
40280 | Guayama County, Puerto Rico | 40 | Rural | 0.3604 | 25020 | Urban | 0.3181
40290 | Guayanilla County, Puerto Rico | 6360 | Urban | 0.4881 | 49500 | Urban | 0.4408
40300 | Guaynabo County, Puerto Rico | 7440 | Urban | 0.4752 | 41980 | Urban | 0.4621
40310 | Gurabo County, Puerto Rico | 1310 | Urban | 0.4120 | 41980 | Urban | 0.4621
40320 | Hatillo County, Puerto Rico | 0470 | Urban | 0.4112 | 41980 | Urban | 0.4621
40330 | Hormigueros County, Puerto Rico | 4840 | Urban | 0.4243 | 32420 | Urban | 0.4020
40340 | Humacao County, Puerto Rico | 7440 | Urban | 0.4752 | 41980 | Urban | 0.4621
40350 | Isabela County, Puerto Rico | 40 | Rural | 0.3604 | 10380 | Urban | 0.4738
40360 | Jayuya County, Puerto Rico | 40 | Rural | 0.3604 | 99940 | Rural | 0.4047
40370 | Juana Diaz County, Puerto Rico | 6360 | Urban | 0.4881 | 38660 | Urban | 0.4939
40380 | Juncos County, Puerto Rico | 7440 | Urban | 0.4752 | 41980 | Urban | 0.4621
40390 | Lajas County, Puerto Rico | 40 | Rural | 0.3604 | 41900 | Urban | 0.4650
40400 | Lares County, Puerto Rico | 40 | Rural | 0.3604 | 10380 | Urban | 0.4738
40410 | Las Marias County, Puerto Rico | 40 | Rural | 0.3604 | 99940 | Rural | 0.4047
40420 | Las Piedras County, Puerto Rico | 7440 | Urban | 0.4752 | 41980 | Urban | 0.4621
40430 | Loiza County, Puerto Rico | 7440 | Urban | 0.4752 | 41980 | Urban | 0.4621
40440 | Luquillo County, Puerto Rico | 7440 | Urban | 0.4752 | 21940 | Urban | 0.4153
40450 | Manati County, Puerto Rico | 7440 | Urban | 0.4752 | 41980 | Urban | 0.4621
40460 | Maricao County, Puerto Rico | 40 | Rural | 0.3604 | 99940 | Rural | 0.4047
40470 | Maunabo County, Puerto Rico | 40 | Rural | 0.3604 | 41980 | Urban | 0.4621
40480 | Mayaguez County, Puerto Rico | 4840 | Urban | 0.4243 | 32420 | Urban | 0.4020
40490 | Moca County, Puerto Rico | 0060 | Urban | 0.4876 | 10380 | Urban | 0.4738
40500 | Morovis County, Puerto Rico | 7440 | Urban | 0.4752 | 41980 | Urban | 0.4621
40510 | Naguabo County, Puerto Rico | 7440 | Urban | 0.4752 | 41980 | Urban | 0.4621
40520 | Naranjito County, Puerto Rico | 7440 | Urban | 0.4752 | 41980 | Urban | 0.4621
40530 | Orocovis County, Puerto Rico | 40 | Rural | 0.3604 | 41980 | Urban | 0.4621
40540 | Patillas County, Puerto Rico | 40 | Rural | 0.3604 | 25020 | Urban | 0.3181
40550 | Penuelas County, Puerto Rico | 6360 | Urban | 0.4881 | 49500 | Urban | 0.4408
40560 | Ponce County, Puerto Rico | 6360 | Urban | 0.4881 | 38660 | Urban | 0.4939
40570 | Quebradillas County, Puerto Rico | 40 | Rural | 0.3604 | 41980 | Urban | 0.4621
40580 | Rincon County, Puerto Rico | 40 | Rural | 0.3604 | 10380 | Urban | 0.4738
40590 | Rio Grande County, Puerto Rico | 7440 | Urban | 0.4752 | 41980 | Urban | 0.4621
40610 | Sabana Grande County, Puerto Rico | 4840 | Urban | 0.4243 | 41900 | Urban | 0.4650
40620 | Salinas County, Puerto Rico | 40 | Rural | 0.3604 | 99940 | Rural | 0.4047
40630 | San German County, Puerto Rico | 4840 | Urban | 0.4243 | 41900 | Urban | 0.4650
40640 | San Juan County, Puerto Rico | 7440 | Urban | 0.4752 | 41980 | Urban | 0.4621
40650 | San Lorenzo County, Puerto Rico | 1310 | Urban | 0.4120 | 41980 | Urban | 0.4621
40660 | San Sebastian County, Puerto Rico | 40 | Rural | 0.3604 | 10380 | Urban | 0.4738
40670 | Santa Isabel County, Puerto Rico | 40 | Rural | 0.3604 | 99940 | Rural | 0.4047
40680 | Toa Alta County, Puerto Rico | 7440 | Urban | 0.4752 | 41980 | Urban | 0.4621
40690 | Toa Baja County, Puerto Rico | 7440 | Urban | 0.4752 | 41980 | Urban | 0.4621
40700 | Trujillo Alto County, Puerto Rico | 7440 | Urban | 0.4752 | 41980 | Urban | 0.4621
40710 | Utuado County, Puerto Rico | 40 | Rural | 0.3604 | 99940 | Rural | 0.4047
40720 | Vega Alta County, Puerto Rico | 7440 | Urban | 0.4752 | 41980 | Urban | 0.4621
40730 | Vega Baja County, Puerto Rico | 7440 | Urban | 0.4752 | 41980 | Urban | 0.4621
40740 | Vieques County, Puerto Rico | 40 | Rural | 0.3604 | 99940 | Rural | 0.4047
40750 | Villalba County, Puerto Rico | 6360 | Urban | 0.4881 | 38660 | Urban | 0.4939
40760 | Yabucoa County, Puerto Rico | 7440 | Urban | 0.4752 | 41980 | Urban | 0.4621
40770 | Yauco County, Puerto Rico | 6360 | Urban | 0.4881 | 49500 | Urban | 0.4408
41000 | Bristol County, Rhode Island | 6483 | Urban | 1.1058 | 39300 | Urban | 1.0966
41010 | Kent County, Rhode Island | 6483 | Urban | 1.1058 | 39300 | Urban | 1.0966
41020 | Newport County, Rhode Island | 6483 | Urban | 1.1058 | 39300 | Urban | 1.0966
41030 | Providence County, Rhode Island | 6483 | Urban | 1.1058 | 39300 | Urban | 1.0966
41050 | Washington County, Rhode Island | 6483 | Urban | 1.1058 | 39300 | Urban | 1.0966
42000 | Abbeville County, S Carolina | 42 | Rural | 0.8631 | 99942 | Rural | 0.8638
42010 | Aiken County, S Carolina | 0600 | Urban | 0.9808 | 12260 | Urban | 0.9748
42020 | Allendale County, S Carolina | 42 | Rural | 0.8631 | 99942 | Rural | 0.8638
42030 | Anderson County, S Carolina | 3160 | Urban | 0.9615 | 11340 | Urban | 0.8997
42040 | Bamberg County, S Carolina | 42 | Rural | 0.8631 | 99942 | Rural | 0.8638
42050 | Barnwell County, S Carolina | 42 | Rural | 0.8631 | 99942 | Rural | 0.8638
42060 | Beaufort County, S Carolina | 42 | Rural | 0.8631 | 99942 | Rural | 0.8638
42070 | Berkeley County, S Carolina | 1440 | Urban | 0.9245 | 16700 | Urban | 0.9245
42080 | Calhoun County, S Carolina | 42 | Rural | 0.8631 | 17900 | Urban | 0.9057
42090 | Charleston County, S Carolina | 1440 | Urban | 0.9245 | 16700 | Urban | 0.9245
42100 | Cherokee County, S Carolina | 3160 | Urban | 0.9615 | 99942 | Rural | 0.8638
42110 | Chester County, S Carolina | 42 | Rural | 0.8631 | 99942 | Rural | 0.8638
42120 | Chesterfield County, S Carolina | 42 | Rural | 0.8631 | 99942 | Rural | 0.8638
42130 | Clarendon County, S Carolina | 42 | Rural | 0.8631 | 99942 | Rural | 0.8638
42140 | Colleton County, S Carolina | 42 | Rural | 0.8631 | 99942 | Rural | 0.8638
42150 | Darlington County, S Carolina | 42 | Rural | 0.8631 | 22500 | Urban | 0.8947
42160 | Dillon County, S Carolina | 42 | Rural | 0.8631 | 99942 | Rural | 0.8638
42170 | Dorchester County, S Carolina | 1440 | Urban | 0.9245 | 16700 | Urban | 0.9245
42180 | Edgefield County, S Carolina | 0600 | Urban | 0.9808 | 12260 | Urban | 0.9748
42190 | Fairfield County, S Carolina | 42 | Rural | 0.8631 | 17900 | Urban | 0.9057
42200 | Florence County, S Carolina | 2655 | Urban | 0.9042 | 22500 | Urban | 0.8947
42210 | Georgetown County, S Carolina | 42 | Rural | 0.8631 | 99942 | Rural | 0.8638
42220 | Greenville County, S Carolina | 3160 | Urban | 0.9615 | 24860 | Urban | 1.0027
42230 | Greenwood County, S Carolina | 42 | Rural | 0.8631 | 99942 | Rural | 0.8638
42240 | Hampton County, S Carolina | 42 | Rural | 0.8631 | 99942 | Rural | 0.8638
42250 | Horry County, S Carolina | 5330 | Urban | 0.8934 | 34820 | Urban | 0.8934
42260 | Jasper County, S Carolina | 42 | Rural | 0.8631 | 99942 | Rural | 0.8638
42270 | Kershaw County, S Carolina | 42 | Rural | 0.8631 | 17900 | Urban | 0.9057
42280 | Lancaster County, S Carolina | 42 | Rural | 0.8631 | 99942 | Rural | 0.8638
42290 | Laurens County, S Carolina | 42 | Rural | 0.8631 | 24860 | Urban | 1.0027
42300 | Lee County, S Carolina | 42 | Rural | 0.8631 | 99942 | Rural | 0.8638
42310 | Lexington County, S Carolina | 1760 | Urban | 0.9082 | 17900 | Urban | 0.9057
42320 | Mc Cormick County, S Carolina | 42 | Rural | 0.8631 | 99942 | Rural | 0.8638
42330 | Marion County, S Carolina | 42 | Rural | 0.8631 | 99942 | Rural | 0.8638
42340 | Marlboro County, S Carolina | 42 | Rural | 0.8631 | 99942 | Rural | 0.8638
42350 | Newberry County, S Carolina | 42 | Rural | 0.8631 | 99942 | Rural | 0.8638
42360 | Oconee County, S Carolina | 42 | Rural | 0.8631 | 99942 | Rural | 0.8638
42370 | Orangeburg County, S Carolina | 42 | Rural | 0.8631 | 99942 | Rural | 0.8638
42380 | Pickens County, S Carolina | 3160 | Urban | 0.9615 | 24860 | Urban | 1.0027
42390 | Richland County, S Carolina | 1760 | Urban | 0.9082 | 17900 | Urban | 0.9057
42400 | Saluda County, S Carolina | 42 | Rural | 0.8631 | 17900 | Urban | 0.9057
42410 | Spartanburg County, S Carolina | 3160 | Urban | 0.9615 | 43900 | Urban | 0.9172
42420 | Sumter County, S Carolina | 8140 | Urban | 0.8377 | 44940 | Urban | 0.8377
42430 | Union County, S Carolina | 42 | Rural | 0.8631 | 99942 | Rural | 0.8638
42440 | Williamsburg County, S Carolina | 42 | Rural | 0.8631 | 99942 | Rural | 0.8638
42450 | York County, S Carolina | 1520 | Urban | 0.9715 | 16740 | Urban | 0.9750
43010 | Aurora County, S Dakota | 43 | Rural | 0.8551 | 99943 | Rural | 0.8560
43020 | Beadle County, S Dakota | 43 | Rural | 0.8551 | 99943 | Rural | 0.8560
43030 | Bennett County, S Dakota | 43 | Rural | 0.8551 | 99943 | Rural | 0.8560
43040 | Bon Homme County, S Dakota | 43 | Rural | 0.8551 | 99943 | Rural | 0.8560
43050 | Brookings County, S Dakota | 43 | Rural | 0.8551 | 99943 | Rural | 0.8560
43060 | Brown County, S Dakota | 43 | Rural | 0.8551 | 99943 | Rural | 0.8560
43070 | Brule County, S Dakota | 43 | Rural | 0.8551 | 99943 | Rural | 0.8560
43080 | Buffalo County, S Dakota | 43 | Rural | 0.8551 | 99943 | Rural | 0.8560
43090 | Butte County, S Dakota | 43 | Rural | 0.8551 | 99943 | Rural | 0.8560
43100 | Campbell County, S Dakota | 43 | Rural | 0.8551 | 99943 | Rural | 0.8560
43110 | Charles Mix County, S Dakota | 43 | Rural | 0.8551 | 99943 | Rural | 0.8560
43120 | Clark County, S Dakota | 43 | Rural | 0.8551 | 99943 | Rural | 0.8560
43130 | Clay County, S Dakota | 43 | Rural | 0.8551 | 99943 | Rural | 0.8560
43140 | Codington County, S Dakota | 43 | Rural | 0.8551 | 99943 | Rural | 0.8560
43150 | Corson County, S Dakota | 43 | Rural | 0.8551 | 99943 | Rural | 0.8560
43160 | Custer County, S Dakota | 43 | Rural | 0.8551 | 99943 | Rural | 0.8560
43170 | Davison County, S Dakota | 43 | Rural | 0.8551 | 99943 | Rural | 0.8560
43180 | Day County, S Dakota | 43 | Rural | 0.8551 | 99943 | Rural | 0.8560
43190 | Deuel County, S Dakota | 43 | Rural | 0.8551 | 99943 | Rural | 0.8560
43200 | Dewey County, S Dakota | 43 | Rural | 0.8551 | 99943 | Rural | 0.8560
43210 | Douglas County, S Dakota | 43 | Rural | 0.8551 | 99943 | Rural | 0.8560
43220 | Edmunds County, S Dakota | 43 | Rural | 0.8551 | 99943 | Rural | 0.8560
43230 | Fall River County, S Dakota | 43 | Rural | 0.8551 | 99943 | Rural | 0.8560
43240 | Faulk County, S Dakota | 43 | Rural | 0.8551 | 99943 | Rural | 0.8560
43250 | Grant County, S Dakota | 43 | Rural | 0.8551 | 99943 | Rural | 0.8560
43260 | Gregory County, S Dakota | 43 | Rural | 0.8551 | 99943 | Rural | 0.8560
43270 | Haakon County, S Dakota | 43 | Rural | 0.8551 | 99943 | Rural | 0.8560
43280 | Hamlin County, S Dakota | 43 | Rural | 0.8551 | 99943 | Rural | 0.8560
43290 | Hand County, S Dakota | 43 | Rural | 0.8551 | 99943 | Rural | 0.8560
43300 | Hanson County, S Dakota | 43 | Rural | 0.8551 | 99943 | Rural | 0.8560
43310 | Harding County, S Dakota | 43 | Rural | 0.8551 | 99943 | Rural | 0.8560
43320 | Hughes County, S Dakota | 43 | Rural | 0.8551 | 99943 | Rural | 0.8560
43330 | Hutchinson County, S Dakota | 43 | Rural | 0.8551 | 99943 | Rural | 0.8560
43340 | Hyde County, S Dakota | 43 | Rural | 0.8551 | 99943 | Rural | 0.8560
43350 | Jackson County, S Dakota | 43 | Rural | 0.8551 | 99943 | Rural | 0.8560
43360 | Jerauld County, S Dakota | 43 | Rural | 0.8551 | 99943 | Rural | 0.8560
43370 | Jones County, S Dakota | 43 | Rural | 0.8551 | 99943 | Rural | 0.8560
43380 | Kingsbury County, S Dakota | 43 | Rural | 0.8551 | 99943 | Rural | 0.8560
43390 | Lake County, S Dakota | 43 | Rural | 0.8551 | 99943 | Rural | 0.8560
43400 | Lawrence County, S Dakota | 43 | Rural | 0.8551 | 99943 | Rural | 0.8560
43410 | Lincoln County, S Dakota | 7760 | Urban | 0.9635 | 43620 | Urban | 0.9635
43420 | Lyman County, S Dakota | 43 | Rural | 0.8551 | 99943 | Rural | 0.8560
43430 | Mc Cook County, S Dakota | 43 | Rural | 0.8551 | 43620 | Urban | 0.9635
43440 | Mc Pherson County, S Dakota | 43 | Rural | 0.8551 | 99943 | Rural | 0.8560
43450 | Marshall County, S Dakota | 43 | Rural | 0.8551 | 99943 | Rural | 0.8560
43460 | Meade County, S Dakota | 43 | Rural | 0.8551 | 39660 | Urban | 0.8987
43470 | Mellette County, S Dakota | 43 | Rural | 0.8551 | 99943 | Rural | 0.8560
43480 | Miner County, S Dakota | 43 | Rural | 0.8551 | 99943 | Rural | 0.8560
43490 | Minnehaha County, S Dakota | 7760 | Urban | 0.9635 | 43620 | Urban | 0.9635
43500 | Moody County, S Dakota | 43 | Rural | 0.8551 | 99943 | Rural | 0.8560
43510 | Pennington County, S Dakota | 6660 | Urban | 0.8987 | 39660 | Urban | 0.8987
43520 | Perkins County, S Dakota | 43 | Rural | 0.8551 | 99943 | Rural | 0.8560
43530 | Potter County, S Dakota | 43 | Rural | 0.8551 | 99943 | Rural | 0.8560
43540 | Roberts County, S Dakota | 43 | Rural | 0.8551 | 99943 | Rural | 0.8560
43550 | Sanborn County, S Dakota | 43 | Rural | 0.8551 | 99943 | Rural | 0.8560
43560 | Shannon County, S Dakota | 43 | Rural | 0.8551 | 99943 | Rural | 0.8560
43570 | Spink County, S Dakota | 43 | Rural | 0.8551 | 99943 | Rural | 0.8560
43580 | Stanley County, S Dakota | 43 | Rural | 0.8551 | 99943 | Rural | 0.8560
43590 | Sully County, S Dakota | 43 | Rural | 0.8551 | 99943 | Rural | 0.8560
43600 | Todd County, S Dakota | 43 | Rural | 0.8551 | 99943 | Rural | 0.8560
43610 | Tripp County, S Dakota | 43 | Rural | 0.8551 | 99943 | Rural | 0.8560
43620 | Turner County, S Dakota | 43 | Rural | 0.8551 | 43620 | Urban | 0.9635
43630 | Union County, S Dakota | 43 | Rural | 0.8551 | 43580 | Urban | 0.9381
43640 | Walworth County, S Dakota | 43 | Rural | 0.8551 | 99943 | Rural | 0.8560
43650 | Washabaugh County, S Dakota | 43 | Rural | 0.8551 | 99943 | Rural | 0.8560
43670 | Yankton County, S Dakota | 43 | Rural | 0.8551 | 99943 | Rural | 0.8560
43680 | Ziebach County, S Dakota | 43 | Rural | 0.8551 | 99943 | Rural | 0.8560
44000 | Anderson County, Tennessee | 3840 | Urban | 0.8397 | 28940 | Urban | 0.8441
44010 | Bedford County, Tennessee | 44 | Rural | 0.7935 | 99944 | Rural | 0.7895
44020 | Benton County, Tennessee | 44 | Rural | 0.7935 | 99944 | Rural | 0.7895
44030 | Bledsoe County, Tennessee | 44 | Rural | 0.7935 | 99944 | Rural | 0.7895
44040 | Blount County, Tennessee | 3840 | Urban | 0.8397 | 28940 | Urban | 0.8441
44050 | Bradley County, Tennessee | 44 | Rural | 0.7935 | 17420 | Urban | 0.8139
44060 | Campbell County, Tennessee | 44 | Rural | 0.7935 | 99944 | Rural | 0.7895
44070 | Cannon County, Tennessee | 44 | Rural | 0.7935 | 34980 | Urban | 0.9790
44080 | Carroll County, Tennessee | 44 | Rural | 0.7935 | 99944 | Rural | 0.7895
44090 | Carter County, Tennessee | 3660 | Urban | 0.8007 | 27740 | Urban | 0.7937
44100 | Cheatham County, Tennessee | 5360 | Urban | 0.9808 | 34980 | Urban | 0.9790
44110 | Chester County, Tennessee | 3580 | Urban | 0.8964 | 27180 | Urban | 0.8964
44120 | Claiborne County, Tennessee | 44 | Rural | 0.7935 | 99944 | Rural | 0.7895
44130 | Clay County, Tennessee | 44 | Rural | 0.7935 | 99944 | Rural | 0.7895
44140 | Cocke County, Tennessee | 44 | Rural | 0.7935 | 99944 | Rural | 0.7895
44150 | Coffee County, Tennessee | 44 | Rural | 0.7935 | 99944 | Rural | 0.7895
44160 | Crockett County, Tennessee | 44 | Rural | 0.7935 | 99944 | Rural | 0.7895
44170 | Cumberland County, Tennessee | 44 | Rural | 0.7935 | 99944 | Rural | 0.7895
44180 | Davidson County, Tennessee | 5360 | Urban | 0.9808 | 34980 | Urban | 0.9790
44190 | Decatur County, Tennessee | 44 | Rural | 0.7935 | 99944 | Rural | 0.7895
44200 | De Kalb County, Tennessee | 44 | Rural | 0.7935 | 99944 | Rural | 0.7895
44210 | Dickson County, Tennessee | 5360 | Urban | 0.9808 | 34980 | Urban | 0.9790
44220 | Dyer County, Tennessee | 44 | Rural | 0.7935 | 99944 | Rural | 0.7895
44230 | Fayette County, Tennessee | 4920 | Urban | 0.9416 | 32820 | Urban | 0.9397
44240 | Fentress County, Tennessee | 44 | Rural | 0.7935 | 99944 | Rural | 0.7895
44250 | Franklin County, Tennessee | 44 | Rural | 0.7935 | 99944 | Rural | 0.7895
44260 | Gibson County, Tennessee | 44 | Rural | 0.7935 | 99944 | Rural | 0.7895
44270 | Giles County, Tennessee | 44 | Rural | 0.7935 | 99944 | Rural | 0.7895
44280 | Grainger County, Tennessee | 44 | Rural | 0.7935 | 34100 | Urban | 0.7961
44290 | Greene County, Tennessee | 44 | Rural | 0.7935 | 99944 | Rural | 0.7895
44300 | Grundy County, Tennessee | 44 | Rural | 0.7935 | 99944 | Rural | 0.7895
44310 | Hamblen County, Tennessee | 44 | Rural | 0.7935 | 34100 | Urban | 0.7961
44320 | Hamilton County, Tennessee | 1560 | Urban | 0.9088 | 16860 | Urban | 0.9088
44330 | Hancock County, Tennessee | 44 | Rural | 0.7935 | 99944 | Rural | 0.7895
44340 | Hardeman County, Tennessee | 44 | Rural | 0.7935 | 99944 | Rural | 0.7895
44350 | Hardin County, Tennessee | 44 | Rural | 0.7935 | 99944 | Rural | 0.7895
44360 | Hawkins County, Tennessee | 3660 | Urban | 0.8007 | 28700 | Urban | 0.8054
44370 | Haywood County, Tennessee | 44 | Rural | 0.7935 | 99944 | Rural | 0.7895
44380 | Henderson County, Tennessee | 44 | Rural | 0.7935 | 99944 | Rural | 0.7895
44390 | Henry County, Tennessee | 44 | Rural | 0.7935 | 99944 | Rural | 0.7895
44400 | Hickman County, Tennessee | 44 | Rural | 0.7935 | 34980 | Urban | 0.9790
44410 | Houston County, Tennessee | 44 | Rural | 0.7935 | 99944 | Rural | 0.7895
44420 | Humphreys County, Tennessee | 44 | Rural | 0.7935 | 99944 | Rural | 0.7895
44430 | Jackson County, Tennessee | 44 | Rural | 0.7935 | 99944 | Rural | 0.7895
44440 | Jefferson County, Tennessee | 44 | Rural | 0.7935 | 34100 | Urban | 0.7961
44450 | Johnson County, Tennessee | 44 | Rural | 0.7935 | 99944 | Rural | 0.7895
44460 | Knox County, Tennessee | 3840 | Urban | 0.8397 | 28940 | Urban | 0.8441
44470 | Lake County, Tennessee | 44 | Rural | 0.7935 | 99944 | Rural | 0.7895
44480 | Lauderdale County, Tennessee | 44 | Rural | 0.7935 | 99944 | Rural | 0.7895
44490 | Lawrence County, Tennessee | 44 | Rural | 0.7935 | 99944 | Rural | 0.7895
44500 | Lewis County, Tennessee | 44 | Rural | 0.7935 | 99944 | Rural | 0.7895
44510 | Lincoln County, Tennessee | 44 | Rural | 0.7935 | 99944 | Rural | 0.7895
44520 | Loudon County, Tennessee | 3840 | Urban | 0.8397 | 28940 | Urban | 0.8441
44530 | Mc Minn County, Tennessee | 44 | Rural | 0.7935 | 99944 | Rural | 0.7895
44540 | Mc Nairy County, Tennessee | 44 | Rural | 0.7935 | 99944 | Rural | 0.7895
44550 | Macon County, Tennessee | 44 | Rural | 0.7935 | 34980 | Urban | 0.9790
44560 | Madison County, Tennessee | 3580 | Urban | 0.8964 | 27180 | Urban | 0.8964
44570 | Marion County, Tennessee | 1560 | Urban | 0.9088 | 16860 | Urban | 0.9088
44580 | Marshall County, Tennessee | 44 | Rural | 0.7935 | 99944 | Rural | 0.7895
44590 | Maury County, Tennessee | 44 | Rural | 0.7935 | 99944 | Rural | 0.7895
44600 | Meigs County, Tennessee | 44 | Rural | 0.7935 | 99944 | Rural | 0.7895
44610 | Monroe County, Tennessee | 44 | Rural | 0.7935 | 99944 | Rural | 0.7895
44620 | Montgomery County, Tennessee | 1660 | Urban | 0.8284 | 17300 | Urban | 0.8284
44630 | Moore County, Tennessee | 44 | Rural | 0.7935 | 99944 | Rural | 0.7895
44640 | Morgan County, Tennessee | 44 | Rural | 0.7935 | 99944 | Rural | 0.7895
44650 | Obion County, Tennessee | 44 | Rural | 0.7935 | 99944 | Rural | 0.7895
44660 | Overton County, Tennessee | 44 | Rural | 0.7935 | 99944 | Rural | 0.7895
44670 | Perry County, Tennessee | 44 | Rural | 0.7935 | 99944 | Rural | 0.7895
44680 | Pickett County, Tennessee | 44 | Rural | 0.7935 | 99944 | Rural | 0.7895
44690 | Polk County, Tennessee | 44 | Rural | 0.7935 | 17420 | Urban | 0.8139
44700 | Putnam County, Tennessee | 44 | Rural | 0.7935 | 99944 | Rural | 0.7895
44710 | Rhea County, Tennessee | 44 | Rural | 0.7935 | 99944 | Rural | 0.7895
44720 | Roane County, Tennessee | 44 | Rural | 0.7935 | 99944 | Rural | 0.7895
44730 | Robertson County, Tennessee | 5360 | Urban | 0.9808 | 34980 | Urban | 0.9790
44740 | Rutherford County, Tennessee | 5360 | Urban | 0.9808 | 34980 | Urban | 0.9790
44750 | Scott County, Tennessee | 44 | Rural | 0.7935 | 99944 | Rural | 0.7895
44760 | Sequatchie County, Tennessee | 44 | Rural | 0.7935 | 16860 | Urban | 0.9088
44770 | Sevier County, Tennessee | 3840 | Urban | 0.8397 | 99944 | Rural | 0.7895
44780 | Shelby County, Tennessee | 4920 | Urban | 0.9416 | 32820 | Urban | 0.9397
44790 | Smith County, Tennessee | 44 | Rural | 0.7935 | 34980 | Urban | 0.9790
44800 | Stewart County, Tennessee | 44 | Rural | 0.7935 | 17300 | Urban | 0.8284
44810 | Sullivan County, Tennessee | 3660 | Urban | 0.8007 | 28700 | Urban | 0.8054
44820 | Sumner County, Tennessee | 5360 | Urban | 0.9808 | 34980 | Urban | 0.9790
44830 | Tipton County, Tennessee | 4920 | Urban | 0.9416 | 32820 | Urban | 0.9397
44840 | Trousdale County, Tennessee | 44 | Rural | 0.7935 | 34980 | Urban | 0.9790
44850 | Unicoi County, Tennessee | 3660 | Urban | 0.8007 | 27740 | Urban | 0.7937
44860 | Union County, Tennessee | 3840 | Urban | 0.8397 | 28940 | Urban | 0.8441
44870 | Van Buren County, Tennessee | 44 | Rural | 0.7935 | 99944 | Rural | 0.7895
44880 | Warren County, Tennessee | 44 | Rural | 0.7935 | 99944 | Rural | 0.7895
44890 | Washington County, Tennessee | 3660 | Urban | 0.8007 | 27740 | Urban | 0.7937
44900 | Wayne County, Tennessee | 44 | Rural | 0.7935 | 99944 | Rural | 0.7895
44910 | Weakley County, Tennessee | 44 | Rural | 0.7935 | 99944 | Rural | 0.7895
44920 | White County, Tennessee | 44 | Rural | 0.7935 | 99944 | Rural | 0.7895
44930 | Williamson County, Tennessee | 5360 | Urban | 0.9808 | 34980 | Urban | 0.9790
44940 | Wilson County, Tennessee | 5360 | Urban | 0.9808 | 34980 | Urban | 0.9790
45000 | Anderson County, Texas | 45 | Rural | 0.7931 | 99945 | Rural | 0.8003
45010 | Andrews County, Texas | 45 | Rural | 0.7931 | 99945 | Rural | 0.8003
45020 | Angelina County, Texas | 45 | Rural | 0.7931 | 99945 | Rural | 0.8003
45030 | Aransas County, Texas | 45 | Rural | 0.7931 | 18580 | Urban | 0.8550
45040 | Archer County, Texas | 9080 | Urban | 0.8365 | 48660 | Urban | 0.8285
45050 | Armstrong County, Texas | 45 | Rural | 0.7931 | 11100 | Urban | 0.9156
45060 | Atascosa County, Texas | 45 | Rural | 0.7931 | 41700 | Urban | 0.8980
45070 | Austin County, Texas | 45 | Rural | 0.7931 | 26420 | Urban | 0.9996
45080 | Bailey County, Texas | 45 | Rural | 0.7931 | 99945 | Rural | 0.8003
45090 | Bandera County, Texas | 45 | Rural | 0.7931 | 41700 | Urban | 0.8980
45100 | Bastrop County, Texas | 0640 | Urban | 0.9437 | 12420 | Urban | 0.9437
45110 | Baylor County, Texas | 45 | Rural | 0.7931 | 99945 | Rural | 0.8003
45113 | Bee County, Texas | 45 | Rural | 0.7931 | 99945 | Rural | 0.8003
45120 | Bell County, Texas | 3810 | Urban | 0.8526 | 28660 | Urban | 0.8526
45130 | Bexar County, Texas | 7240 | Urban | 0.8984 | 41700 | Urban | 0.8980
45140 | Blanco County, Texas | 45 | Rural | 0.7931 | 99945 | Rural | 0.8003
45150 | Borden County, Texas | 45 | Rural | 0.7931 | 99945 | Rural | 0.8003
45160 | Bosque County, Texas | 45 | Rural | 0.7931 | 99945 | Rural | 0.8003
45170 | Bowie County, Texas | 8360 | Urban | 0.8283 | 45500 | Urban | 0.8283
45180 | Brazoria County, Texas | 1145 | Urban | 0.8563 | 26420 | Urban | 0.9996
45190 | Brazos County, Texas | 1260 | Urban | 0.8900 | 17780 | Urban | 0.8900
45200 | Brewster County, Texas | 45 | Rural | 0.7931 | 99945 | Rural | 0.8003
45201 | qBriscoe County, Texas | 45 | Rural | 0.7931 | 99945 | Rural | 0.8003
45210 | Brooks County, Texas | 45 | Rural | 0.7931 | 99945 | Rural | 0.8003
45220 | Brown County, Texas | 45 | Rural | 0.7931 | 99945 | Rural | 0.8003
45221 | Burleson County, Texas | 45 | Rural | 0.7931 | 17780 | Urban | 0.8900
45222 | Burnet County, Texas | 45 | Rural | 0.7931 | 99945 | Rural | 0.8003
45223 | Caldwell County, Texas | 0640 | Urban | 0.9437 | 12420 | Urban | 0.9437
45224 | Calhoun County, Texas | 45 | Rural | 0.7931 | 47020 | Urban | 0.8160
45230 | Callahan County, Texas | 45 | Rural | 0.7931 | 10180 | Urban | 0.7896
45240 | Cameron County, Texas | 1240 | Urban | 0.9804 | 15180 | Urban | 0.9804
45250 | Camp County, Texas | 45 | Rural | 0.7931 | 99945 | Rural | 0.8003
45251 | Carson County, Texas | 45 | Rural | 0.7931 | 11100 | Urban | 0.9156
45260 | Cass County, Texas | 45 | Rural | 0.7931 | 99945 | Rural | 0.8003
45270 | Castro County, Texas | 45 | Rural | 0.7931 | 99945 | Rural | 0.8003
45280 | Chambers County, Texas | 3360 | Urban | 1.0091 | 26420 | Urban | 0.9996
45281 | Cherokee County, Texas | 45 | Rural | 0.7931 | 99945 | Rural | 0.8003
45290 | Childress County, Texas | 45 | Rural | 0.7931 | 99945 | Rural | 0.8003
45291 | Clay County, Texas | 45 | Rural | 0.7931 | 48660 | Urban | 0.8285
45292 | Cochran County, Texas | 45 | Rural | 0.7931 | 99945 | Rural | 0.8003
45300 | Coke County, Texas | 45 | Rural | 0.7931 | 99945 | Rural | 0.8003
45301 | Coleman County, Texas | 45 | Rural | 0.7931 | 99945 | Rural | 0.8003
45310 | Collin County, Texas | 1920 | Urban | 1.0205 | 19124 | Urban | 1.0228
45311 | Collingsworth County, Texas | 45 | Rural | 0.7931 | 99945 | Rural | 0.8003
45312 | Colorado County, Texas | 45 | Rural | 0.7931 | 99945 | Rural | 0.8003
45320 | Comal County, Texas | 7240 | Urban | 0.8984 | 41700 | Urban | 0.8980
45321 | Comanche County, Texas | 45 | Rural | 0.7931 | 99945 | Rural | 0.8003
45330 | Concho County, Texas | 45 | Rural | 0.7931 | 99945 | Rural | 0.8003
45340 | Cooke County, Texas | 45 | Rural | 0.7931 | 99945 | Rural | 0.8003
45341 | Coryell County, Texas | 3810 | Urban | 0.8526 | 28660 | Urban | 0.8526
45350 | Cottle County, Texas | 45 | Rural | 0.7931 | 99945 | Rural | 0.8003
45360 | Crane County, Texas | 45 | Rural | 0.7931 | 99945 | Rural | 0.8003
45361 | Crockett County, Texas | 45 | Rural | 0.7931 | 99945 | Rural | 0.8003
45362 | Crosby County, Texas | 45 | Rural | 0.7931 | 31180 | Urban | 0.8783
45370 | Culberson County, Texas | 45 | Rural | 0.7931 | 99945 | Rural | 0.8003
45380 | Dallam County, Texas | 45 | Rural | 0.7931 | 99945 | Rural | 0.8003
45390 | Dallas County, Texas | 1920 | Urban | 1.0205 | 19124 | Urban | 1.0228
45391 | Dawson County, Texas | 45 | Rural | 0.7931 | 99945 | Rural | 0.8003
45392 | Deaf Smith County, Texas | 45 | Rural | 0.7931 | 99945 | Rural | 0.8003
45400 | Delta County, Texas | 45 | Rural | 0.7931 | 19124 | Urban | 1.0228
45410 | Denton County, Texas | 1920 | Urban | 1.0205 | 19124 | Urban | 1.0228
45420 | De Witt County, Texas | 45 | Rural | 0.7931 | 99945 | Rural | 0.8003
45421 | Dickens County, Texas | 45 | Rural | 0.7931 | 99945 | Rural | 0.8003
45430 | Dimmit County, Texas | 45 | Rural | 0.7931 | 99945 | Rural | 0.8003
45431 | Donley County, Texas | 45 | Rural | 0.7931 | 99945 | Rural | 0.8003
45440 | Duval County, Texas | 45 | Rural | 0.7931 | 99945 | Rural | 0.8003
45450 | Eastland County, Texas | 45 | Rural | 0.7931 | 99945 | Rural | 0.8003
45451 | Ector County, Texas | 5800 | Urban | 0.9741 | 36220 | Urban | 0.9884
45460 | Edwards County, Texas | 45 | Rural | 0.7931 | 99945 | Rural | 0.8003
45470 | Ellis County, Texas | 1920 | Urban | 1.0205 | 19124 | Urban | 1.0228
45480 | El Paso County, Texas | 2320 | Urban | 0.8977 | 21340 | Urban | 0.8977
45490 | Erath County, Texas | 45 | Rural | 0.7931 | 99945 | Rural | 0.8003
45500 | Falls County, Texas | 45 | Rural | 0.7931 | 99945 | Rural | 0.8003
45510 | Fannin County, Texas | 45 | Rural | 0.7931 | 99945 | Rural | 0.8003
45511 | Fayette County, Texas | 45 | Rural | 0.7931 | 99945 | Rural | 0.8003
45520 | Fisher County, Texas | 45 | Rural | 0.7931 | 99945 | Rural | 0.8003
45521 | Floyd County, Texas | 45 | Rural | 0.7931 | 99945 | Rural | 0.8003
45522 | Foard County, Texas | 45 | Rural | 0.7931 | 99945 | Rural | 0.8003
45530 | Fort Bend County, Texas | 3360 | Urban | 1.0091 | 26420 | Urban | 0.9996
45531 | Franklin County, Texas | 45 | Rural | 0.7931 | 99945 | Rural | 0.8003
45540 | Freestone County, Texas | 45 | Rural | 0.7931 | 99945 | Rural | 0.8003
45541 | Frio County, Texas | 45 | Rural | 0.7931 | 99945 | Rural | 0.8003
45542 | Gaines County, Texas | 45 | Rural | 0.7931 | 99945 | Rural | 0.8003
45550 | Galveston County, Texas | 2920 | Urban | 0.9635 | 26420 | Urban | 0.9996
45551 | Garza County, Texas | 45 | Rural | 0.7931 | 99945 | Rural | 0.8003
45552 | Gillespie County, Texas | 45 | Rural | 0.7931 | 99945 | Rural | 0.8003
45560 | Glasscock County, Texas | 45 | Rural | 0.7931 | 99945 | Rural | 0.8003
45561 | Goliad County, Texas | 45 | Rural | 0.7931 | 47020 | Urban | 0.8160
45562 | Gonzales County, Texas | 45 | Rural | 0.7931 | 99945 | Rural | 0.8003
45563 | Gray County, Texas | 45 | Rural | 0.7931 | 99945 | Rural | 0.8003
45564 | Grayson County, Texas | 7640 | Urban | 0.9507 | 43300 | Urban | 0.9507
45570 | Gregg County, Texas | 4420 | Urban | 0.8888 | 30980 | Urban | 0.8730
45580 | Grimes County, Texas | 45 | Rural | 0.7931 | 99945 | Rural | 0.8003
45581 | Guadaloupe County, Texas | 7240 | Urban | 0.8984 | 41700 | Urban | 0.8980
45582 | Hale County, Texas | 45 | Rural | 0.7931 | 99945 | Rural | 0.8003
45583 | Hall County, Texas | 45 | Rural | 0.7931 | 99945 | Rural | 0.8003
45590 | Hamilton County, Texas | 45 | Rural | 0.7931 | 99945 | Rural | 0.8003
45591 | Hansford County, Texas | 45 | Rural | 0.7931 | 99945 | Rural | 0.8003
45592 | Hardeman County, Texas | 45 | Rural | 0.7931 | 99945 | Rural | 0.8003
45600 | Hardin County, Texas | 0840 | Urban | 0.8412 | 13140 | Urban | 0.8412
45610 | Harris County, Texas | 3360 | Urban | 1.0091 | 26420 | Urban | 0.9996
45620 | Harrison County, Texas | 4420 | Urban | 0.8888 | 99945 | Rural | 0.8003
45621 | Hartley County, Texas | 45 | Rural | 0.7931 | 99945 | Rural | 0.8003
45630 | Haskell County, Texas | 45 | Rural | 0.7931 | 99945 | Rural | 0.8003
45631 | Hays County, Texas | 0640 | Urban | 0.9437 | 12420 | Urban | 0.9437
45632 | Hemphill County, Texas | 45 | Rural | 0.7931 | 99945 | Rural | 0.8003
45640 | Henderson County, Texas | 1920 | Urban | 1.0205 | 99945 | Rural | 0.8003
45650 | Hidalgo County, Texas | 4880 | Urban | 0.8934 | 32580 | Urban | 0.8934
45651 | Hill County, Texas | 45 | Rural | 0.7931 | 99945 | Rural | 0.8003
45652 | Hockley County, Texas | 45 | Rural | 0.7931 | 99945 | Rural | 0.8003
45653 | Hood County, Texas | 2800 | Urban | 0.9522 | 99945 | Rural | 0.8003
45654 | Hopkins County, Texas | 45 | Rural | 0.7931 | 99945 | Rural | 0.8003
45660 | Houston County, Texas | 45 | Rural | 0.7931 | 99945 | Rural | 0.8003
45661 | Howard County, Texas | 45 | Rural | 0.7931 | 99945 | Rural | 0.8003
45662 | Hudspeth County, Texas | 45 | Rural | 0.7931 | 99945 | Rural | 0.8003
45670 | Hunt County, Texas | 1920 | Urban | 1.0205 | 19124 | Urban | 1.0228
45671 | Hutchinson County, Texas | 45 | Rural | 0.7931 | 99945 | Rural | 0.8003
45672 | Irion County, Texas | 45 | Rural | 0.7931 | 41660 | Urban | 0.8271
45680 | Jack County, Texas | 45 | Rural | 0.7931 | 99945 | Rural | 0.8003
45681 | Jackson County, Texas | 45 | Rural | 0.7931 | 99945 | Rural | 0.8003
45690 | Jasper County, Texas | 45 | Rural | 0.7931 | 99945 | Rural | 0.8003
45691 | Jeff Davis County, Texas | 45 | Rural | 0.7931 | 99945 | Rural | 0.8003
45700 | Jefferson County, Texas | 0840 | Urban | 0.8412 | 13140 | Urban | 0.8412
45710 | Jim Hogg County, Texas | 45 | Rural | 0.7931 | 99945 | Rural | 0.8003
45711 | Jim Wells County, Texas | 45 | Rural | 0.7931 | 99945 | Rural | 0.8003
45720 | Johnson County, Texas | 2800 | Urban | 0.9522 | 23104 | Urban | 0.9486
45721 | Jones County, Texas | 45 | Rural | 0.7931 | 10180 | Urban | 0.7896
45722 | Karnes County, Texas | 45 | Rural | 0.7931 | 99945 | Rural | 0.8003
45730 | Kaufman County, Texas | 1920 | Urban | 1.0205 | 19124 | Urban | 1.0228
45731 | Kendall County, Texas | 45 | Rural | 0.7931 | 41700 | Urban | 0.8980
45732 | Kenedy County, Texas | 45 | Rural | 0.7931 | 99945 | Rural | 0.8003
45733 | Kent County, Texas | 45 | Rural | 0.7931 | 99945 | Rural | 0.8003
45734 | Kerr County, Texas | 45 | Rural | 0.7931 | 99945 | Rural | 0.8003
45740 | Kimble County, Texas | 45 | Rural | 0.7931 | 99945 | Rural | 0.8003
45741 | King County, Texas | 45 | Rural | 0.7931 | 99945 | Rural | 0.8003
45742 | Kinney County, Texas | 45 | Rural | 0.7931 | 99945 | Rural | 0.8003
45743 | Kleberg County, Texas | 45 | Rural | 0.7931 | 99945 | Rural | 0.8003
45744 | Knox County, Texas | 45 | Rural | 0.7931 | 99945 | Rural | 0.8003
45750 | Lamar County, Texas | 45 | Rural | 0.7931 | 99945 | Rural | 0.8003
45751 | Lamb County, Texas | 45 | Rural | 0.7931 | 99945 | Rural | 0.8003
45752 | Lampasas County, Texas | 45 | Rural | 0.7931 | 28660 | Urban | 0.8526
45753 | La Salle County, Texas | 45 | Rural | 0.7931 | 99945 | Rural | 0.8003
45754 | Lavaca County, Texas | 45 | Rural | 0.7931 | 99945 | Rural | 0.8003
45755 | Lee County, Texas | 45 | Rural | 0.7931 | 99945 | Rural | 0.8003
45756 | Leon County, Texas | 45 | Rural | 0.7931 | 99945 | Rural | 0.8003
45757 | Liberty County, Texas | 3360 | Urban | 1.0091 | 26420 | Urban | 0.9996
45758 | Limestone County, Texas | 45 | Rural | 0.7931 | 99945 | Rural | 0.8003
45759 | Lipscomb County, Texas | 45 | Rural | 0.7931 | 99945 | Rural | 0.8003
45760 | Live Oak County, Texas | 45 | Rural | 0.7931 | 99945 | Rural | 0.8003
45761 | Llano County, Texas | 45 | Rural | 0.7931 | 99945 | Rural | 0.8003
45762 | Loving County, Texas | 45 | Rural | 0.7931 | 99945 | Rural | 0.8003
45770 | Lubbock County, Texas | 4600 | Urban | 0.8783 | 31180 | Urban | 0.8783
45771 | Lynn County, Texas | 45 | Rural | 0.7931 | 99945 | Rural | 0.8003
45772 | Mc Culloch County, Texas | 45 | Rural | 0.7931 | 99945 | Rural | 0.8003
45780 | Mc Lennan County, Texas | 8800 | Urban | 0.8518 | 47380 | Urban | 0.8518
45781 | Mc Mullen County, Texas | 45 | Rural | 0.7931 | 99945 | Rural | 0.8003
45782 | Madison County, Texas | 45 | Rural | 0.7931 | 99945 | Rural | 0.8003
45783 | Marion County, Texas | 45 | Rural | 0.7931 | 99945 | Rural | 0.8003
45784 | Martin County, Texas | 45 | Rural | 0.7931 | 99945 | Rural | 0.8003
45785 | Mason County, Texas | 45 | Rural | 0.7931 | 99945 | Rural | 0.8003
45790 | Matagorda County, Texas | 45 | Rural | 0.7931 | 99945 | Rural | 0.8003
45791 | Maverick County, Texas | 45 | Rural | 0.7931 | 99945 | Rural | 0.8003
45792 | Medina County, Texas | 45 | Rural | 0.7931 | 41700 | Urban | 0.8980
45793 | Menard County, Texas | 45 | Rural | 0.7931 | 99945 | Rural | 0.8003
45794 | Midland County, Texas | 5800 | Urban | 0.9741 | 33260 | Urban | 0.9514
45795 | Milam County, Texas | 45 | Rural | 0.7931 | 99945 | Rural | 0.8003
45796 | Mills County, Texas | 45 | Rural | 0.7931 | 99945 | Rural | 0.8003
45797 | Mitchell County, Texas | 45 | Rural | 0.7931 | 99945 | Rural | 0.8003
45800 | Montague County, Texas | 45 | Rural | 0.7931 | 99945 | Rural | 0.8003
45801 | Montgomery County, Texas | 3360 | Urban | 1.0091 | 26420 | Urban | 0.9996
45802 | Moore County, Texas | 45 | Rural | 0.7931 | 99945 | Rural | 0.8003
45803 | Morris County, Texas | 45 | Rural | 0.7931 | 99945 | Rural | 0.8003
45804 | Motley County, Texas | 45 | Rural | 0.7931 | 99945 | Rural | 0.8003
45810 | Nacogdoches County, Texas | 45 | Rural | 0.7931 | 99945 | Rural | 0.8003
45820 | Navarro County, Texas | 45 | Rural | 0.7931 | 99945 | Rural | 0.8003
45821 | Newton County, Texas | 45 | Rural | 0.7931 | 99945 | Rural | 0.8003
45822 | Nolan County, Texas | 45 | Rural | 0.7931 | 99945 | Rural | 0.8003
45830 | Nueces County, Texas | 1880 | Urban | 0.8550 | 18580 | Urban | 0.8550
45831 | Ochiltree County, Texas | 45 | Rural | 0.7931 | 99945 | Rural | 0.8003
45832 | Oldham County, Texas | 45 | Rural | 0.7931 | 99945 | Rural | 0.8003
45840 | Orange County, Texas | 0840 | Urban | 0.8412 | 13140 | Urban | 0.8412
45841 | Palo Pinto County, Texas | 45 | Rural | 0.7931 | 99945 | Rural | 0.8003
45842 | Panola County, Texas | 45 | Rural | 0.7931 | 99945 | Rural | 0.8003
45843 | Parker County, Texas | 2800 | Urban | 0.9522 | 23104 | Urban | 0.9486
45844 | Parmer County, Texas | 45 | Rural | 0.7931 | 99945 | Rural | 0.8003
45845 | Pecos County, Texas | 45 | Rural | 0.7931 | 99945 | Rural | 0.8003
45850 | Polk County, Texas | 45 | Rural | 0.7931 | 99945 | Rural | 0.8003
45860 | Potter County, Texas | 0320 | Urban | 0.9156 | 11100 | Urban | 0.9156
45861 | Presidio County, Texas | 45 | Rural | 0.7931 | 99945 | Rural | 0.8003
45870 | Rains County, Texas | 45 | Rural | 0.7931 | 99945 | Rural | 0.8003
45871 | Randall County, Texas | 0320 | Urban | 0.9156 | 11100 | Urban | 0.9156
45872 | Reagan County, Texas | 45 | Rural | 0.7931 | 99945 | Rural | 0.8003
45873 | Real County, Texas | 45 | Rural | 0.7931 | 99945 | Rural | 0.8003
45874 | Red River County, Texas | 45 | Rural | 0.7931 | 99945 | Rural | 0.8003
45875 | Reeves County, Texas | 45 | Rural | 0.7931 | 99945 | Rural | 0.8003
45876 | Refugio County, Texas | 45 | Rural | 0.7931 | 99945 | Rural | 0.8003
45877 | Roberts County, Texas | 45 | Rural | 0.7931 | 99945 | Rural | 0.8003
45878 | Robertson County, Texas | 45 | Rural | 0.7931 | 17780 | Urban | 0.8900
45879 | Rockwall County, Texas | 1920 | Urban | 1.0205 | 19124 | Urban | 1.0228
45880 | Runnels County, Texas | 45 | Rural | 0.7931 | 99945 | Rural | 0.8003
45881 | Rusk County, Texas | 45 | Rural | 0.7931 | 30980 | Urban | 0.8730
45882 | Sabine County, Texas | 45 | Rural | 0.7931 | 99945 | Rural | 0.8003
45883 | San Augustine County, Texas | 45 | Rural | 0.7931 | 99945 | Rural | 0.8003
45884 | San Jacinto County, Texas | 45 | Rural | 0.7931 | 26420 | Urban | 0.9996
45885 | San Patricio County, Texas | 1880 | Urban | 0.8550 | 18580 | Urban | 0.8550
45886 | San Saba County, Texas | 45 | Rural | 0.7931 | 99945 | Rural | 0.8003
45887 | Schleicher County, Texas | 45 | Rural | 0.7931 | 99945 | Rural | 0.8003
45888 | Scurry County, Texas | 45 | Rural | 0.7931 | 99945 | Rural | 0.8003
45889 | Shackelford County, Texas | 45 | Rural | 0.7931 | 99945 | Rural | 0.8003
45890 | Shelby County, Texas | 45 | Rural | 0.7931 | 99945 | Rural | 0.8003
45891 | Sherman County, Texas | 45 | Rural | 0.7931 | 99945 | Rural | 0.8003
45892 | Smith County, Texas | 8640 | Urban | 0.9168 | 46340 | Urban | 0.9168
45893 | Somervell County, Texas | 45 | Rural | 0.7931 | 99945 | Rural | 0.8003
45900 | Starr County, Texas | 45 | Rural | 0.7931 | 99945 | Rural | 0.8003
45901 | Stephens County, Texas | 45 | Rural | 0.7931 | 99945 | Rural | 0.8003
45902 | Sterling County, Texas | 45 | Rural | 0.7931 | 99945 | Rural | 0.8003
45903 | Stonewall County, Texas | 45 | Rural | 0.7931 | 99945 | Rural | 0.8003
45904 | Sutton County, Texas | 45 | Rural | 0.7931 | 99945 | Rural | 0.8003
45905 | Swisher County, Texas | 45 | Rural | 0.7931 | 99945 | Rural | 0.8003
45910 | Tarrant County, Texas | 2800 | Urban | 0.9522 | 23104 | Urban | 0.9486
45911 | Taylor County, Texas | 0040 | Urban | 0.8054 | 10180 | Urban | 0.7896
45912 | Terrell County, Texas | 45 | Rural | 0.7931 | 99945 | Rural | 0.8003
45913 | Terry County, Texas | 45 | Rural | 0.7931 | 99945 | Rural | 0.8003
45920 | Throckmorton County, Texas | 45 | Rural | 0.7931 | 99945 | Rural | 0.8003
45921 | Titus County, Texas | 45 | Rural | 0.7931 | 99945 | Rural | 0.8003
45930 | Tom Green County, Texas | 7200 | Urban | 0.8271 | 41660 | Urban | 0.8271
45940 | Travis County, Texas | 0640 | Urban | 0.9437 | 12420 | Urban | 0.9437
45941 | Trinity County, Texas | 45 | Rural | 0.7931 | 99945 | Rural | 0.8003
45942 | Tyler County, Texas | 45 | Rural | 0.7931 | 99945 | Rural | 0.8003
45943 | Upshur County, Texas | 4420 | Urban | 0.8888 | 30980 | Urban | 0.8730
45944 | Upton County, Texas | 45 | Rural | 0.7931 | 99945 | Rural | 0.8003
45945 | Uvalde County, Texas | 45 | Rural | 0.7931 | 99945 | Rural | 0.8003
45946 | Val Verde County, Texas | 45 | Rural | 0.7931 | 99945 | Rural | 0.8003
45947 | Van Zandt County, Texas | 45 | Rural | 0.7931 | 99945 | Rural | 0.8003
45948 | Victoria County, Texas | 8750 | Urban | 0.8160 | 47020 | Urban | 0.8160
45949 | Walker County, Texas | 45 | Rural | 0.7931 | 99945 | Rural | 0.8003
45950 | Waller County, Texas | 3360 | Urban | 1.0091 | 26420 | Urban | 0.9996
45951 | Ward County, Texas | 45 | Rural | 0.7931 | 99945 | Rural | 0.8003
45952 | Washington County, Texas | 45 | Rural | 0.7931 | 99945 | Rural | 0.8003
45953 | Webb County, Texas | 4080 | Urban | 0.8068 | 29700 | Urban | 0.8068
45954 | Wharton County, Texas | 45 | Rural | 0.7931 | 99945 | Rural | 0.8003
45955 | Wheeler County, Texas | 45 | Rural | 0.7931 | 99945 | Rural | 0.8003
45960 | Wichita County, Texas | 9080 | Urban | 0.8365 | 48660 | Urban | 0.8285
45961 | Wilbarger County, Texas | 45 | Rural | 0.7931 | 99945 | Rural | 0.8003
45962 | Willacy County, Texas | 45 | Rural | 0.7931 | 99945 | Rural | 0.8003
45970 | Williamson County, Texas | 0640 | Urban | 0.9437 | 12420 | Urban | 0.9437
45971 | Wilson County, Texas | 7240 | Urban | 0.8984 | 41700 | Urban | 0.8980
45972 | Winkler County, Texas | 45 | Rural | 0.7931 | 99945 | Rural | 0.8003
45973 | Wise County, Texas | 45 | Rural | 0.7931 | 23104 | Urban | 0.9486
45974 | Wood County, Texas | 45 | Rural | 0.7931 | 99945 | Rural | 0.8003
45980 | Yoakum County, Texas | 45 | Rural | 0.7931 | 99945 | Rural | 0.8003
45981 | Young County, Texas | 45 | Rural | 0.7931 | 99945 | Rural | 0.8003
45982 | Zapata County, Texas | 45 | Rural | 0.7931 | 99945 | Rural | 0.8003
45983 | Zavala County, Texas | 45 | Rural | 0.7931 | 99945 | Rural | 0.8003
46000 | Beaver County, Utah | 46 | Rural | 0.8762 | 99946 | Rural | 0.8118
46010 | Box Elder County, Utah | 46 | Rural | 0.8762 | 99946 | Rural | 0.8118
46020 | Cache County, Utah | 46 | Rural | 0.8762 | 30860 | Urban | 0.9164
46030 | Carbon County, Utah | 46 | Rural | 0.8762 | 99946 | Rural | 0.8118
46040 | Daggett County, Utah | 46 | Rural | 0.8762 | 99946 | Rural | 0.8118
46050 | Davis County, Utah | 7160 | Urban | 0.9340 | 36260 | Urban | 0.9029
46060 | Duchesne County, Utah | 46 | Rural | 0.8762 | 99946 | Rural | 0.8118
46070 | Emery County, Utah | 46 | Rural | 0.8762 | 99946 | Rural | 0.8118
46080 | Garfield County, Utah | 46 | Rural | 0.8762 | 99946 | Rural | 0.8118
46090 | Grand County, Utah | 46 | Rural | 0.8762 | 99946 | Rural | 0.8118
46100 | Iron County, Utah | 46 | Rural | 0.8762 | 99946 | Rural | 0.8118
46110 | Juab County, Utah | 46 | Rural | 0.8762 | 39340 | Urban | 0.9500
46120 | Kane County, Utah | 2620 | Urban | 1.1845 | 99946 | Rural | 0.8118
46130 | Millard County, Utah | 46 | Rural | 0.8762 | 99946 | Rural | 0.8118
46140 | Morgan County, Utah | 46 | Rural | 0.8762 | 36260 | Urban | 0.9029
46150 | Piute County, Utah | 46 | Rural | 0.8762 | 99946 | Rural | 0.8118
46160 | Rich County, Utah | 46 | Rural | 0.8762 | 99946 | Rural | 0.8118
46170 | Salt Lake County, Utah | 7160 | Urban | 0.9340 | 41620 | Urban | 0.9421
46180 | San Juan County, Utah | 46 | Rural | 0.8762 | 99946 | Rural | 0.8118
46190 | Sanpete County, Utah | 46 | Rural | 0.8762 | 99946 | Rural | 0.8118
46200 | Sevier County, Utah | 46 | Rural | 0.8762 | 99946 | Rural | 0.8118
46210 | Summit County, Utah | 46 | Rural | 0.8762 | 41620 | Urban | 0.9421
46220 | Tooele County, Utah | 46 | Rural | 0.8762 | 41620 | Urban | 0.9421
46230 | Uintah County, Utah | 46 | Rural | 0.8762 | 99946 | Rural | 0.8118
46240 | Utah County, Utah | 6520 | Urban | 0.9500 | 39340 | Urban | 0.9500
46250 | Wasatch County, Utah | 46 | Rural | 0.8762 | 99946 | Rural | 0.8118
46260 | Washington County, Utah | 46 | Rural | 0.8762 | 41100 | Urban | 0.9392
46270 | Wayne County, Utah | 46 | Rural | 0.8762 | 99946 | Rural | 0.8118
46280 | Weber County, Utah | 7160 | Urban | 0.9340 | 36260 | Urban | 0.9029
47000 | Addison County, Vermont | 47 | Rural | 0.9830 | 99947 | Rural | 0.9830
47010 | Bennington County, Vermont | 47 | Rural | 0.9830 | 99947 | Rural | 0.9830
47020 | Caledonia County, Vermont | 47 | Rural | 0.9830 | 99947 | Rural | 0.9830
47030 | Chittenden County, Vermont | 1303 | Urban | 0.9410 | 15540 | Urban | 0.9410
47040 | Essex County, Vermont | 47 | Rural | 0.9830 | 99947 | Rural | 0.9830
47050 | Franklin County, Vermont | 1303 | Urban | 0.9410 | 15540 | Urban | 0.9410
47060 | Grand Isle County, Vermont | 1303 | Urban | 0.9410 | 15540 | Urban | 0.9410
47070 | Lamoille County, Vermont | 47 | Rural | 0.9830 | 99947 | Rural | 0.9830
47080 | Orange County, Vermont | 47 | Rural | 0.9830 | 99947 | Rural | 0.9830
47090 | Orleans County, Vermont | 47 | Rural | 0.9830 | 99947 | Rural | 0.9830
47100 | Rutland County, Vermont | 47 | Rural | 0.9830 | 99947 | Rural | 0.9830
47110 | Washington County, Vermont | 47 | Rural | 0.9830 | 99947 | Rural | 0.9830
47120 | Windham County, Vermont | 47 | Rural | 0.9830 | 99947 | Rural | 0.9830
47130 | Windsor County, Vermont | 47 | Rural | 0.9830 | 99947 | Rural | 0.9830
48010 | St Croix County, Virgin Islands | 48 | Rural | 0.7615 | 99948 | Rural | 0.7615
48020 | St Thomas-John County, Virgin Islands | 48 | Rural | 0.7615 | 99948 | Rural | 0.7615
49000 | Accomack County, Virginia | 49 | Rural | 0.8417 | 99949 | Rural | 0.8013
49010 | Albemarle County, Virginia | 1540 | Urban | 1.0187 | 16820 | Urban | 1.0187
49011 | Alexandria City County, Virginia | 8840 | Urban | 1.0976 | 47894 | Urban | 1.0926
49020 | Alleghany County, Virginia | 49 | Rural | 0.8417 | 99949 | Rural | 0.8013
49030 | Amelia County, Virginia | 49 | Rural | 0.8417 | 40060 | Urban | 0.9328
49040 | Amherst County, Virginia | 4640 | Urban | 0.8691 | 31340 | Urban | 0.8691
49050 | Appomattox County, Virginia | 49 | Rural | 0.8417 | 31340 | Urban | 0.8691
49060 | Arlington County, Virginia | 8840 | Urban | 1.0976 | 47894 | Urban | 1.0926
49070 | Augusta County, Virginia | 49 | Rural | 0.8417 | 99949 | Rural | 0.8013
49080 | Bath County, Virginia | 49 | Rural | 0.8417 | 99949 | Rural | 0.8013
49088 | Bedford City County, Virginia | 4640 | Urban | 0.8691 | 31340 | Urban | 0.8691
49090 | Bedford County, Virginia | 4640 | Urban | 0.8691 | 31340 | Urban | 0.8691
49100 | Bland County, Virginia | 49 | Rural | 0.8417 | 99949 | Rural | 0.8013
49110 | Botetourt County, Virginia | 6800 | Urban | 0.8387 | 40220 | Urban | 0.8374
49111 | Bristol City County, Virginia | 3660 | Urban | 0.8007 | 28700 | Urban | 0.8054
49120 | Brunswick County, Virginia | 49 | Rural | 0.8417 | 99949 | Rural | 0.8013
49130 | Buchanan County, Virginia | 49 | Rural | 0.8417 | 99949 | Rural | 0.8013
49140 | Buckingham County, Virginia | 49 | Rural | 0.8417 | 99949 | Rural | 0.8013
49141 | Buena Vista City County, Virginia | 49 | Rural | 0.8417 | 99949 | Rural | 0.8013
49150 | Campbell County, Virginia | 4640 | Urban | 0.8691 | 31340 | Urban | 0.8691
49160 | Caroline County, Virginia | 49 | Rural | 0.8417 | 40060 | Urban | 0.9328
49170 | Carroll County, Virginia | 49 | Rural | 0.8417 | 99949 | Rural | 0.8013
49180 | Charles City County, Virginia | 6760 | Urban | 0.9328 | 40060 | Urban | 0.9328
49190 | Charlotte County, Virginia | 49 | Rural | 0.8417 | 99949 | Rural | 0.8013
49191 | Charlottesville City County, Virginia | 1540 | Urban | 1.0187 | 16820 | Urban | 1.0187
49194 | Chesapeake County, Virginia | 5720 | Urban | 0.8799 | 47260 | Urban | 0.8799
49200 | Chesterfield County, Virginia | 6760 | Urban | 0.9328 | 40060 | Urban | 0.9328
49210 | Clarke County, Virginia | 8840 | Urban | 1.0976 | 47894 | Urban | 1.0926
49211 | Clifton Forge City County, Virginia | 49 | Rural | 0.8417 | 99949 | Rural | 0.8013
49212 | Colonial Heights County, Virginia | 6760 | Urban | 0.9328 | 40060 | Urban | 0.9328
49213 | Covington City County, Virginia | 49 | Rural | 0.8417 | 99949 | Rural | 0.8013
49220 | Craig County, Virginia | 49 | Rural | 0.8417 | 40220 | Urban | 0.8374
49230 | Culpeper County, Virginia | 8840 | Urban | 1.0976 | 99949 | Rural | 0.8013
49240 | Cumberland County, Virginia | 49 | Rural | 0.8417 | 40060 | Urban | 0.9328
49241 | Danville City County, Virginia | 1950 | Urban | 0.8489 | 19260 | Urban | 0.8489
49250 | Dickenson County, Virginia | 49 | Rural | 0.8417 | 99949 | Rural | 0.8013
49260 | Dinniddie County, Virginia | 6760 | Urban | 0.9328 | 40060 | Urban | 0.9328
49270 | Emporia County, Virginia | 49 | Rural | 0.8417 | 99949 | Rural | 0.8013
49280 | Essex County, Virginia | 49 | Rural | 0.8417 | 99949 | Rural | 0.8013
49288 | Fairfax City County, Virginia | 8840 | Urban | 1.0976 | 47894 | Urban | 1.0926
49290 | Fairfax County, Virginia | 8840 | Urban | 1.0976 | 47894 | Urban | 1.0926
49291 | Falls Church City County, Virginia | 8840 | Urban | 1.0976 | 47894 | Urban | 1.0926
49300 | Fauquier County, Virginia | 8840 | Urban | 1.0976 | 47894 | Urban | 1.0926
49310 | Floyd County, Virginia | 49 | Rural | 0.8417 | 99949 | Rural | 0.8013
49320 | Fluvanna County, Virginia | 1540 | Urban | 1.0187 | 16820 | Urban | 1.0187
49328 | Franklin City County, Virginia | 49 | Rural | 0.8417 | 99949 | Rural | 0.8013
49330 | Franklin County, Virginia | 49 | Rural | 0.8417 | 40220 | Urban | 0.8374
49340 | Frederick County, Virginia | 49 | Rural | 0.8417 | 49020 | Urban | 1.0214
49342 | Fredericksburg City County, Virginia | 8840 | Urban | 1.0976 | 47894 | Urban | 1.0926
49343 | Galax City County, Virginia | 49 | Rural | 0.8417 | 99949 | Rural | 0.8013
49350 | Giles County, Virginia | 49 | Rural | 0.8417 | 13980 | Urban | 0.7954
49360 | Gloucester County, Virginia | 5720 | Urban | 0.8799 | 47260 | Urban | 0.8799
49370 | Goochland County, Virginia | 6760 | Urban | 0.9328 | 40060 | Urban | 0.9328
49380 | Grayson County, Virginia | 49 | Rural | 0.8417 | 99949 | Rural | 0.8013
49390 | Greene County, Virginia | 1540 | Urban | 1.0187 | 16820 | Urban | 1.0187
49400 | Greensville County, Virginia | 49 | Rural | 0.8417 | 99949 | Rural | 0.8013
49410 | Halifax County, Virginia | 49 | Rural | 0.8417 | 99949 | Rural | 0.8013
49411 | Hampton City County, Virginia | 5720 | Urban | 0.8799 | 47260 | Urban | 0.8799
49420 | Hanover County, Virginia | 6760 | Urban | 0.9328 | 40060 | Urban | 0.9328
49421 | Harrisonburg City County, Virginia | 49 | Rural | 0.8417 | 25500 | Urban | 0.9088
49430 | Henrico County, Virginia | 6760 | Urban | 0.9328 | 40060 | Urban | 0.9328
49440 | Henry County, Virginia | 49 | Rural | 0.8417 | 99949 | Rural | 0.8013
49450 | Highland County, Virginia | 49 | Rural | 0.8417 | 99949 | Rural | 0.8013
49451 | Hopewell City County, Virginia | 6760 | Urban | 0.9328 | 40060 | Urban | 0.9328
49460 | Isle Of Wight County, Virginia | 5720 | Urban | 0.8799 | 47260 | Urban | 0.8799
49470 | James City Co County, Virginia | 5720 | Urban | 0.8799 | 47260 | Urban | 0.8799
49480 | King And Queen County, Virginia | 49 | Rural | 0.8417 | 40060 | Urban | 0.9328
49490 | King George County, Virginia | 8840 | Urban | 1.0976 | 99949 | Rural | 0.8013
49500 | King William County, Virginia | 49 | Rural | 0.8417 | 40060 | Urban | 0.9328
49510 | Lancaster County, Virginia | 49 | Rural | 0.8417 | 99949 | Rural | 0.8013
49520 | Lee County, Virginia | 49 | Rural | 0.8417 | 99949 | Rural | 0.8013
49522 | Lexington County, Virginia | 49 | Rural | 0.8417 | 99949 | Rural | 0.8013
49530 | Loudoun County, Virginia | 8840 | Urban | 1.0976 | 47894 | Urban | 1.0926
49540 | Louisa County, Virginia | 49 | Rural | 0.8417 | 40060 | Urban | 0.9328
49550 | Lunenburg County, Virginia | 49 | Rural | 0.8417 | 99949 | Rural | 0.8013
49551 | Lynchburg City County, Virginia | 4640 | Urban | 0.8691 | 31340 | Urban | 0.8691
49560 | Madison County, Virginia | 49 | Rural | 0.8417 | 99949 | Rural | 0.8013
49561 | Martinsville City County, Virginia | 49 | Rural | 0.8417 | 99949 | Rural | 0.8013
49563 | Manassas City County, Virginia | 8840 | Urban | 1.0976 | 47894 | Urban | 1.0926
49565 | Manassas Park City County, Virginia | 8840 | Urban | 1.0976 | 47894 | Urban | 1.0926
49570 | Mathews County, Virginia | 5720 | Urban | 0.8799 | 47260 | Urban | 0.8799
49580 | Mecklenburg County, Virginia | 49 | Rural | 0.8417 | 99949 | Rural | 0.8013
49590 | Middlesex County, Virginia | 49 | Rural | 0.8417 | 99949 | Rural | 0.8013
49600 | Montgomery County, Virginia | 49 | Rural | 0.8417 | 13980 | Urban | 0.7954
49610 | Nansemond County, Virginia | 49 | Rural | 0.8417 | 99949 | Rural | 0.8013
49620 | Nelson County, Virginia | 49 | Rural | 0.8417 | 16820 | Urban | 1.0187
49621 | New Kent County, Virginia | 6760 | Urban | 0.9328 | 40060 | Urban | 0.9328
49622 | Newport News City County, Virginia | 5720 | Urban | 0.8799 | 47260 | Urban | 0.8799
49641 | Norfolk City County, Virginia | 5720 | Urban | 0.8799 | 47260 | Urban | 0.8799
49650 | Northampton County, Virginia | 49 | Rural | 0.8417 | 99949 | Rural | 0.8013
49660 | Northumberland County, Virginia | 49 | Rural | 0.8417 | 99949 | Rural | 0.8013
49661 | Norton City County, Virginia | 49 | Rural | 0.8417 | 99949 | Rural | 0.8013
49670 | Nottoway County, Virginia | 49 | Rural | 0.8417 | 99949 | Rural | 0.8013
49680 | Orange County, Virginia | 49 | Rural | 0.8417 | 99949 | Rural | 0.8013
49690 | Page County, Virginia | 49 | Rural | 0.8417 | 99949 | Rural | 0.8013
49700 | Patrick County, Virginia | 49 | Rural | 0.8417 | 99949 | Rural | 0.8013
49701 | Petersburg City County, Virginia | 6760 | Urban | 0.9328 | 40060 | Urban | 0.9328
49710 | Pittsylvania County, Virginia | 1950 | Urban | 0.8489 | 19260 | Urban | 0.8489
49711 | Portsmouth City County, Virginia | 5720 | Urban | 0.8799 | 47260 | Urban | 0.8799
49712 | Poquoson City County, Virginia | 5720 | Urban | 0.8799 | 47260 | Urban | 0.8799
49720 | Powhatan County, Virginia | 6760 | Urban | 0.9328 | 40060 | Urban | 0.9328
49730 | Prince Edward County, Virginia | 49 | Rural | 0.8417 | 99949 | Rural | 0.8013
49740 | Prince George County, Virginia | 6760 | Urban | 0.9328 | 40060 | Urban | 0.9328
49750 | Prince William County, Virginia | 8840 | Urban | 1.0976 | 47894 | Urban | 1.0926
49770 | Pulaski County, Virginia | 49 | Rural | 0.8417 | 13980 | Urban | 0.7954
49771 | Radford City County, Virginia | 49 | Rural | 0.8417 | 13980 | Urban | 0.7954
49780 | Rappahannock County, Virginia | 49 | Rural | 0.8417 | 99949 | Rural | 0.8013
49790 | Richmond County, Virginia | 49 | Rural | 0.8417 | 99949 | Rural | 0.8013
49791 | Richmond City County, Virginia | 6760 | Urban | 0.9328 | 40060 | Urban | 0.9328
49800 | Roanoke County, Virginia | 6800 | Urban | 0.8387 | 40220 | Urban | 0.8374
49801 | Roanoke City County, Virginia | 6800 | Urban | 0.8387 | 40220 | Urban | 0.8374
49810 | Rockbridge County, Virginia | 49 | Rural | 0.8417 | 99949 | Rural | 0.8013
49820 | Rockingham County, Virginia | 49 | Rural | 0.8417 | 25500 | Urban | 0.9088
49830 | Russell County, Virginia | 49 | Rural | 0.8417 | 99949 | Rural | 0.8013
49838 | Salem County, Virginia | 6800 | Urban | 0.8387 | 40220 | Urban | 0.8374
49840 | Scott County, Virginia | 3660 | Urban | 0.8007 | 28700 | Urban | 0.8054
49850 | Shenandoah County, Virginia | 49 | Rural | 0.8417 | 99949 | Rural | 0.8013
49860 | Smyth County, Virginia | 49 | Rural | 0.8417 | 99949 | Rural | 0.8013
49867 | South Boston City County, Virginia | 49 | Rural | 0.8417 | 99949 | Rural | 0.8013
49870 | Southampton County, Virginia | 49 | Rural | 0.8417 | 99949 | Rural | 0.8013
49880 | Spotsylvania County, Virginia | 8840 | Urban | 1.0976 | 47894 | Urban | 1.0926
49890 | Stafford County, Virginia | 8840 | Urban | 1.0976 | 47894 | Urban | 1.0926
49891 | Staunton City County, Virginia | 49 | Rural | 0.8417 | 99949 | Rural | 0.8013
49892 | Suffolk City County, Virginia | 5720 | Urban | 0.8799 | 47260 | Urban | 0.8799
49900 | Surry County, Virginia | 49 | Rural | 0.8417 | 47260 | Urban | 0.8799
49910 | Sussex County, Virginia | 49 | Rural | 0.8417 | 40060 | Urban | 0.9328
49920 | Tazewell County, Virginia | 49 | Rural | 0.8417 | 99949 | Rural | 0.8013
49921 | Virginia Beach City County, Virginia | 5720 | Urban | 0.8799 | 47260 | Urban | 0.8799
49930 | Warren County, Virginia | 8840 | Urban | 1.0976 | 47894 | Urban | 1.0926
49950 | Washington County, Virginia | 3660 | Urban | 0.8007 | 28700 | Urban | 0.8054
49951 | Waynesboro City County, Virginia | 49 | Rural | 0.8417 | 99949 | Rural | 0.8013
49960 | Westmoreland County, Virginia | 49 | Rural | 0.8417 | 99949 | Rural | 0.8013
49961 | Williamsburg City County, Virginia | 5720 | Urban | 0.8799 | 47260 | Urban | 0.8799
49962 | Winchester City County, Virginia | 49 | Rural | 0.8417 | 49020 | Urban | 1.0214
49970 | Wise County, Virginia | 49 | Rural | 0.8417 | 99949 | Rural | 0.8013
49980 | Wythe County, Virginia | 49 | Rural | 0.8417 | 99949 | Rural | 0.8013
49981 | York County, Virginia | 5720 | Urban | 0.8799 | 47260 | Urban | 0.8799
50000 | Adams County, Washington | 50 | Rural | 1.0217 | 99950 | Rural | 1.0510
50010 | Asotin County, Washington | 50 | Rural | 1.0217 | 30300 | Urban | 0.9886
50020 | Benton County, Washington | 6740 | Urban | 1.0619 | 28420 | Urban | 1.0619
50030 | Chelan County, Washington | 50 | Rural | 1.0217 | 48300 | Urban | 1.0070
50040 | Clallam County, Washington | 50 | Rural | 1.0217 | 99950 | Rural | 1.0510
50050 | Clark County, Washington | 6440 | Urban | 1.1266 | 38900 | Urban | 1.1266
50060 | Columbia County, Washington | 50 | Rural | 1.0217 | 99950 | Rural | 1.0510
50070 | Cowlitz County, Washington | 50 | Rural | 1.0217 | 31020 | Urban | 0.9579
50080 | Douglas County, Washington | 50 | Rural | 1.0217 | 48300 | Urban | 1.0070
50090 | Ferry County, Washington | 50 | Rural | 1.0217 | 99950 | Rural | 1.0510
50100 | Franklin County, Washington | 6740 | Urban | 1.0619 | 28420 | Urban | 1.0619
50110 | Garfield County, Washington | 50 | Rural | 1.0217 | 99950 | Rural | 1.0510
50120 | Grant County, Washington | 50 | Rural | 1.0217 | 99950 | Rural | 1.0510
50130 | Grays Harbor County, Washington | 50 | Rural | 1.0217 | 99950 | Rural | 1.0510
50140 | Island County, Washington | 7600 | Urban | 1.1567 | 99950 | Rural | 1.0510
50150 | Jefferson County, Washington | 50 | Rural | 1.0217 | 99950 | Rural | 1.0510
50160 | King County, Washington | 7600 | Urban | 1.1567 | 42644 | Urban | 1.1577
50170 | Kitsap County, Washington | 1150 | Urban | 1.0675 | 14740 | Urban | 1.0675
50180 | Kittitas County, Washington | 50 | Rural | 1.0217 | 99950 | Rural | 1.0510
50190 | Klickitat County, Washington | 50 | Rural | 1.0217 | 99950 | Rural | 1.0510
50200 | Lewis County, Washington | 50 | Rural | 1.0217 | 99950 | Rural | 1.0510
50210 | Lincoln County, Washington | 50 | Rural | 1.0217 | 99950 | Rural | 1.0510
50220 | Mason County, Washington | 50 | Rural | 1.0217 | 99950 | Rural | 1.0510
50230 | Okanogan County, Washington | 50 | Rural | 1.0217 | 99950 | Rural | 1.0510
50240 | Pacific County, Washington | 50 | Rural | 1.0217 | 99950 | Rural | 1.0510
50250 | Pend Oreille County, Washington | 50 | Rural | 1.0217 | 99950 | Rural | 1.0510
50260 | Pierce County, Washington | 8200 | Urban | 1.0742 | 45104 | Urban | 1.0742
50270 | San Juan County, Washington | 50 | Rural | 1.0217 | 99950 | Rural | 1.0510
50280 | Skagit County, Washington | 50 | Rural | 1.0217 | 34580 | Urban | 1.0454
50290 | Skamania County, Washington | 50 | Rural | 1.0217 | 38900 | Urban | 1.1266
50300 | Snohomish County, Washington | 7600 | Urban | 1.1567 | 42644 | Urban | 1.1577
50310 | Spokane County, Washington | 7840 | Urban | 1.0905 | 44060 | Urban | 1.0905
50320 | Stevens County, Washington | 50 | Rural | 1.0217 | 99950 | Rural | 1.0510
50330 | Thurston County, Washington | 5910 | Urban | 1.0927 | 36500 | Urban | 1.0927
50340 | Wahkiakum County, Washington | 50 | Rural | 1.0217 | 99950 | Rural | 1.0510
50350 | Walla Walla County, Washington | 50 | Rural | 1.0217 | 99950 | Rural | 1.0510
50360 | Whatcom County, Washington | 0860 | Urban | 1.1731 | 13380 | Urban | 1.1731
50370 | Whitman County, Washington | 50 | Rural | 1.0217 | 99950 | Rural | 1.0510
50380 | Yakima County, Washington | 9260 | Urban | 1.0155 | 49420 | Urban | 1.0155
51000 | Barbour County, W Virginia | 51 | Rural | 0.7900 | 99951 | Rural | 0.7717
51010 | Berkeley County, W Virginia | 8840 | Urban | 1.0976 | 25180 | Urban | 0.9489
51020 | Boone County, W Virginia | 51 | Rural | 0.7900 | 16620 | Urban | 0.8445
51030 | Braxton County, W Virginia | 51 | Rural | 0.7900 | 99951 | Rural | 0.7717
51040 | Brooke County, W Virginia | 8080 | Urban | 0.7819 | 48260 | Urban | 0.7819
51050 | Cabell County, W Virginia | 3400 | Urban | 0.9477 | 26580 | Urban | 0.9477
51060 | Calhoun County, W Virginia | 51 | Rural | 0.7900 | 99951 | Rural | 0.7717
51070 | Clay County, W Virginia | 51 | Rural | 0.7900 | 16620 | Urban | 0.8445
51080 | Doddridge County, W Virginia | 51 | Rural | 0.7900 | 99951 | Rural | 0.7717
51090 | Fayette County, W Virginia | 51 | Rural | 0.7900 | 99951 | Rural | 0.7717
51100 | Gilmer County, W Virginia | 51 | Rural | 0.7900 | 99951 | Rural | 0.7717
51110 | Grant County, W Virginia | 51 | Rural | 0.7900 | 99951 | Rural | 0.7717
51120 | Greenbrier County, W Virginia | 51 | Rural | 0.7900 | 99951 | Rural | 0.7717
51130 | Hampshire County, W Virginia | 51 | Rural | 0.7900 | 49020 | Urban | 1.0214
51140 | Hancock County, W Virginia | 8080 | Urban | 0.7819 | 48260 | Urban | 0.7819
51150 | Hardy County, W Virginia | 51 | Rural | 0.7900 | 99951 | Rural | 0.7717
51160 | Harrison County, W Virginia | 51 | Rural | 0.7900 | 99951 | Rural | 0.7717
51170 | Jackson County, W Virginia | 51 | Rural | 0.7900 | 99951 | Rural | 0.7717
51180 | Jefferson County, W Virginia | 8840 | Urban | 1.0976 | 47894 | Urban | 1.0926
51190 | Kanawha County, W Virginia | 1480 | Urban | 0.8445 | 16620 | Urban | 0.8445
51200 | Lewis County, W Virginia | 51 | Rural | 0.7900 | 99951 | Rural | 0.7717
51210 | Lincoln County, W Virginia | 51 | Rural | 0.7900 | 16620 | Urban | 0.8445
51220 | Logan County, W Virginia | 51 | Rural | 0.7900 | 99951 | Rural | 0.7717
51230 | Mc Dowell County, W Virginia | 51 | Rural | 0.7900 | 99951 | Rural | 0.7717
51240 | Marion County, W Virginia | 51 | Rural | 0.7900 | 99951 | Rural | 0.7717
51250 | Marshall County, W Virginia | 9000 | Urban | 0.7161 | 48540 | Urban | 0.7161
51260 | Mason County, W Virginia | 51 | Rural | 0.7900 | 99951 | Rural | 0.7717
51270 | Mercer County, W Virginia | 51 | Rural | 0.7900 | 99951 | Rural | 0.7717
51280 | Mineral County, W Virginia | 1900 | Urban | 0.9317 | 19060 | Urban | 0.9317
51290 | Mingo County, W Virginia | 51 | Rural | 0.7900 | 99951 | Rural | 0.7717
51300 | Monongalia County, W Virginia | 51 | Rural | 0.7900 | 34060 | Urban | 0.8420
51310 | Monroe County, W Virginia | 51 | Rural | 0.7900 | 99951 | Rural | 0.7717
51320 | Morgan County, W Virginia | 51 | Rural | 0.7900 | 25180 | Urban | 0.9489
51330 | Nicholas County, W Virginia | 51 | Rural | 0.7900 | 99951 | Rural | 0.7717
51340 | Ohio County, W Virginia | 9000 | Urban | 0.7161 | 48540 | Urban | 0.7161
51350 | Pendleton County, W Virginia | 51 | Rural | 0.7900 | 99951 | Rural | 0.7717
51360 | Pleasants County, W Virginia | 51 | Rural | 0.7900 | 37620 | Urban | 0.8270
51370 | Pocahontas County, W Virginia | 51 | Rural | 0.7900 | 99951 | Rural | 0.7717
51380 | Preston County, W Virginia | 51 | Rural | 0.7900 | 34060 | Urban | 0.8420
51390 | Putnam County, W Virginia | 1480 | Urban | 0.8445 | 16620 | Urban | 0.8445
51400 | Raleigh County, W Virginia | 51 | Rural | 0.7900 | 99951 | Rural | 0.7717
51410 | Randolph County, W Virginia | 51 | Rural | 0.7900 | 99951 | Rural | 0.7717
51420 | Ritchie County, W Virginia | 51 | Rural | 0.7900 | 99951 | Rural | 0.7717
51430 | Roane County, W Virginia | 51 | Rural | 0.7900 | 99951 | Rural | 0.7717
51440 | Summers County, W Virginia | 51 | Rural | 0.7900 | 99951 | Rural | 0.7717
51450 | Taylor County, W Virginia | 51 | Rural | 0.7900 | 99951 | Rural | 0.7717
51460 | Tucker County, W Virginia | 51 | Rural | 0.7900 | 99951 | Rural | 0.7717
51470 | Tyler County, W Virginia | 51 | Rural | 0.7900 | 99951 | Rural | 0.7717
51480 | Upshur County, W Virginia | 51 | Rural | 0.7900 | 99951 | Rural | 0.7717
51490 | Wayne County, W Virginia | 3400 | Urban | 0.9477 | 26580 | Urban | 0.9477
51500 | Webster County, W Virginia | 51 | Rural | 0.7900 | 99951 | Rural | 0.7717
51510 | Wetzel County, W Virginia | 51 | Rural | 0.7900 | 99951 | Rural | 0.7717
51520 | Wirt County, W Virginia | 51 | Rural | 0.7900 | 37620 | Urban | 0.8270
51530 | Wood County, W Virginia | 6020 | Urban | 0.8270 | 37620 | Urban | 0.8270
51540 | Wyoming County, W Virginia | 51 | Rural | 0.7900 | 99951 | Rural | 0.7717
52000 | Adams County, Wisconsin | 52 | Rural | 0.9478 | 99952 | Rural | 0.9509
52010 | Ashland County, Wisconsin | 52 | Rural | 0.9478 | 99952 | Rural | 0.9509
52020 | Barron County, Wisconsin | 52 | Rural | 0.9478 | 99952 | Rural | 0.9509
52030 | Bayfield County, Wisconsin | 52 | Rural | 0.9478 | 99952 | Rural | 0.9509
52040 | Brown County, Wisconsin | 3080 | Urban | 0.9483 | 24580 | Urban | 0.9483
52050 | Buffalo County, Wisconsin | 52 | Rural | 0.9478 | 99952 | Rural | 0.9509
52060 | Burnett County, Wisconsin | 52 | Rural | 0.9478 | 99952 | Rural | 0.9509
52070 | Calumet County, Wisconsin | 0460 | Urban | 0.9239 | 11540 | Urban | 0.9288
52080 | Chippewa County, Wisconsin | 2290 | Urban | 0.9201 | 20740 | Urban | 0.9201
52090 | Clark County, Wisconsin | 52 | Rural | 0.9478 | 99952 | Rural | 0.9509
52100 | Columbia County, Wisconsin | 52 | Rural | 0.9478 | 31540 | Urban | 1.0659
52110 | Crawford County, Wisconsin | 52 | Rural | 0.9478 | 99952 | Rural | 0.9509
52120 | Dane County, Wisconsin | 4720 | Urban | 1.0754 | 31540 | Urban | 1.0659
52130 | Dodge County, Wisconsin | 52 | Rural | 0.9478 | 99952 | Rural | 0.9509
52140 | Door County, Wisconsin | 52 | Rural | 0.9478 | 99952 | Rural | 0.9509
52150 | Douglas County, Wisconsin | 2240 | Urban | 1.0213 | 20260 | Urban | 1.0213
52160 | Dunn County, Wisconsin | 52 | Rural | 0.9478 | 99952 | Rural | 0.9509
52170 | Eau Claire County, Wisconsin | 2290 | Urban | 0.9201 | 20740 | Urban | 0.9201
52180 | Florence County, Wisconsin | 52 | Rural | 0.9478 | 99952 | Rural | 0.9509
52190 | Fond Du Lac County, Wisconsin | 52 | Rural | 0.9478 | 22540 | Urban | 0.9640
52200 | Forest County, Wisconsin | 52 | Rural | 0.9478 | 99952 | Rural | 0.9509
52210 | Grant County, Wisconsin | 52 | Rural | 0.9478 | 99952 | Rural | 0.9509
52220 | Green County, Wisconsin | 52 | Rural | 0.9478 | 99952 | Rural | 0.9509
52230 | Green Lake County, Wisconsin | 52 | Rural | 0.9478 | 99952 | Rural | 0.9509
52240 | Iowa County, Wisconsin | 52 | Rural | 0.9478 | 31540 | Urban | 1.0659
52250 | Iron County, Wisconsin | 52 | Rural | 0.9478 | 99952 | Rural | 0.9509
52260 | Jackson County, Wisconsin | 52 | Rural | 0.9478 | 99952 | Rural | 0.9509
52270 | Jefferson County, Wisconsin | 52 | Rural | 0.9478 | 99952 | Rural | 0.9509
52280 | Juneau County, Wisconsin | 52 | Rural | 0.9478 | 99952 | Rural | 0.9509
52290 | Kenosha County, Wisconsin | 3800 | Urban | 0.9760 | 29404 | Urban | 1.0429
52300 | Kewaunee County, Wisconsin | 52 | Rural | 0.9478 | 24580 | Urban | 0.9483
52310 | La Crosse County, Wisconsin | 3870 | Urban | 0.9564 | 29100 | Urban | 0.9564
52320 | Lafayette County, Wisconsin | 52 | Rural | 0.9478 | 99952 | Rural | 0.9509
52330 | Langlade County, Wisconsin | 52 | Rural | 0.9478 | 99952 | Rural | 0.9509
52340 | Lincoln County, Wisconsin | 52 | Rural | 0.9478 | 99952 | Rural | 0.9509
52350 | Manitowoc County, Wisconsin | 52 | Rural | 0.9478 | 99952 | Rural | 0.9509
52360 | Marathon County, Wisconsin | 8940 | Urban | 0.9590 | 48140 | Urban | 0.9590
52370 | Marinette County, Wisconsin | 52 | Rural | 0.9478 | 99952 | Rural | 0.9509
52380 | Marquette County, Wisconsin | 52 | Rural | 0.9478 | 99952 | Rural | 0.9509
52381 | Menominee County, Wisconsin | 52 | Rural | 0.9478 | 99952 | Rural | 0.9509
52390 | Milwaukee County, Wisconsin | 5080 | Urban | 1.0146 | 33340 | Urban | 1.0146
52400 | Monroe County, Wisconsin | 52 | Rural | 0.9478 | 99952 | Rural | 0.9509
52410 | Oconto County, Wisconsin | 52 | Rural | 0.9478 | 24580 | Urban | 0.9483
52420 | Oneida County, Wisconsin | 52 | Rural | 0.9478 | 99952 | Rural | 0.9509
52430 | Outagamie County, Wisconsin | 0460 | Urban | 0.9239 | 11540 | Urban | 0.9288
52440 | Ozaukee County, Wisconsin | 5080 | Urban | 1.0146 | 33340 | Urban | 1.0146
52450 | Pepin County, Wisconsin | 52 | Rural | 0.9478 | 99952 | Rural | 0.9509
52460 | Pierce County, Wisconsin | 5120 | Urban | 1.1075 | 33460 | Urban | 1.1075
52470 | Polk County, Wisconsin | 52 | Rural | 0.9478 | 99952 | Rural | 0.9509
52480 | Portage County, Wisconsin | 52 | Rural | 0.9478 | 99952 | Rural | 0.9509
52490 | Price County, Wisconsin | 52 | Rural | 0.9478 | 99952 | Rural | 0.9509
52500 | Racine County, Wisconsin | 6600 | Urban | 0.8997 | 39540 | Urban | 0.8997
52510 | Richland County, Wisconsin | 52 | Rural | 0.9478 | 99952 | Rural | 0.9509
52520 | Rock County, Wisconsin | 3620 | Urban | 0.9538 | 27500 | Urban | 0.9538
52530 | Rusk County, Wisconsin | 52 | Rural | 0.9478 | 99952 | Rural | 0.9509
52540 | St Croix County, Wisconsin | 5120 | Urban | 1.1075 | 33460 | Urban | 1.1075
52550 | Sauk County, Wisconsin | 52 | Rural | 0.9478 | 99952 | Rural | 0.9509
52560 | Sawyer County, Wisconsin | 52 | Rural | 0.9478 | 99952 | Rural | 0.9509
52570 | Shawano County, Wisconsin | 52 | Rural | 0.9478 | 99952 | Rural | 0.9509
52580 | Sheboygan County, Wisconsin | 7620 | Urban | 0.8911 | 43100 | Urban | 0.8911
52590 | Taylor County, Wisconsin | 52 | Rural | 0.9478 | 99952 | Rural | 0.9509
52600 | Trempealeau County, Wisconsin | 52 | Rural | 0.9478 | 99952 | Rural | 0.9509
52610 | Vernon County, Wisconsin | 52 | Rural | 0.9478 | 99952 | Rural | 0.9509
52620 | Vilas County, Wisconsin | 52 | Rural | 0.9478 | 99952 | Rural | 0.9509
52630 | Walworth County, Wisconsin | 52 | Rural | 0.9478 | 99952 | Rural | 0.9509
52640 | Washburn County, Wisconsin | 52 | Rural | 0.9478 | 99952 | Rural | 0.9509
52650 | Washington County, Wisconsin | 5080 | Urban | 1.0146 | 33340 | Urban | 1.0146
52660 | Waukesha County, Wisconsin | 5080 | Urban | 1.0146 | 33340 | Urban | 1.0146
52670 | Waupaca County, Wisconsin | 52 | Rural | 0.9478 | 99952 | Rural | 0.9509
52680 | Waushara County, Wisconsin | 52 | Rural | 0.9478 | 99952 | Rural | 0.9509
52690 | Winnebago County, Wisconsin | 0460 | Urban | 0.9239 | 36780 | Urban | 0.9183
52700 | Wood County, Wisconsin | 52 | Rural | 0.9478 | 99952 | Rural | 0.9509
53000 | Albany County, Wyoming | 53 | Rural | 0.9257 | 99953 | Rural | 0.9257
53010 | Big Horn County, Wyoming | 53 | Rural | 0.9257 | 99953 | Rural | 0.9257
53020 | Campbell County, Wyoming | 53 | Rural | 0.9257 | 99953 | Rural | 0.9257
53030 | Carbon County, Wyoming | 53 | Rural | 0.9257 | 99953 | Rural | 0.9257
53040 | Converse County, Wyoming | 53 | Rural | 0.9257 | 99953 | Rural | 0.9257
53050 | Crook County, Wyoming | 53 | Rural | 0.9257 | 99953 | Rural | 0.9257
53060 | Fremont County, Wyoming | 53 | Rural | 0.9257 | 99953 | Rural | 0.9257
53070 | Goshen County, Wyoming | 53 | Rural | 0.9257 | 99953 | Rural | 0.9257
53080 | Hot Springs County, Wyoming | 53 | Rural | 0.9257 | 99953 | Rural | 0.9257
53090 | Johnson County, Wyoming | 53 | Rural | 0.9257 | 99953 | Rural | 0.9257
53100 | Laramie County, Wyoming | 1580 | Urban | 0.8775 | 16940 | Urban | 0.8775
53110 | Lincoln County, Wyoming | 53 | Rural | 0.9257 | 99953 | Rural | 0.9257
53120 | Natrona County, Wyoming | 1350 | Urban | 0.9026 | 16220 | Urban | 0.9026
53130 | Niobrara County, Wyoming | 53 | Rural | 0.9257 | 99953 | Rural | 0.9257
53140 | Park County, Wyoming | 53 | Rural | 0.9257 | 99953 | Rural | 0.9257
53150 | Platte County, Wyoming | 53 | Rural | 0.9257 | 99953 | Rural | 0.9257
53160 | Sheridan County, Wyoming | 53 | Rural | 0.9257 | 99953 | Rural | 0.9257
53170 | Sublette County, Wyoming | 53 | Rural | 0.9257 | 99953 | Rural | 0.9257
53180 | Sweetwater County, Wyoming | 53 | Rural | 0.9257 | 99953 | Rural | 0.9257
53190 | Teton County, Wyoming | 53 | Rural | 0.9257 | 99953 | Rural | 0.9257
53200 | Uinta County, Wyoming | 53 | Rural | 0.9257 | 99953 | Rural | 0.9257
53210 | Washakie County, Wyoming | 53 | Rural | 0.9257 | 99953 | Rural | 0.9257
53220 | Weston County, Wyoming | 53 | Rural | 0.9257 | 99953 | Rural | 0.9257
65010 | Agana County, Guam | 65 | Rural | 0.9611 | 99965 | Rural | 0.9611
65020 | Agana Heights County, Guam | 65 | Rural | 0.9611 | 99965 | Rural | 0.9611
65030 | Agat County, Guam | 65 | Rural | 0.9611 | 99965 | Rural | 0.9611
65040 | Asan County, Guam | 65 | Rural | 0.9611 | 99965 | Rural | 0.9611
65050 | Barrigada County, Guam | 65 | Rural | 0.9611 | 99965 | Rural | 0.9611
65060 | Chalan Pago County, Guam | 65 | Rural | 0.9611 | 99965 | Rural | 0.9611
65070 | Dededo County, Guam | 65 | Rural | 0.9611 | 99965 | Rural | 0.9611
65080 | Inarajan County, Guam | 65 | Rural | 0.9611 | 99965 | Rural | 0.9611
65090 | Maite County, Guam | 65 | Rural | 0.9611 | 99965 | Rural | 0.9611
65100 | Mangilao County, Guam | 65 | Rural | 0.9611 | 99965 | Rural | 0.9611
65110 | Merizo County, Guam | 65 | Rural | 0.9611 | 99965 | Rural | 0.9611
65120 | Mongmong County, Guam | 65 | Rural | 0.9611 | 99965 | Rural | 0.9611
65130 | Ordot County, Guam | 65 | Rural | 0.9611 | 99965 | Rural | 0.9611
65140 | Piti County, Guam | 65 | Rural | 0.9611 | 99965 | Rural | 0.9611
65150 | Santa Rita County, Guam | 65 | Rural | 0.9611 | 99965 | Rural | 0.9611
65160 | Sinajana County, Guam | 65 | Rural | 0.9611 | 99965 | Rural | 0.9611
65170 | Talofofo County, Guam | 65 | Rural | 0.9611 | 99965 | Rural | 0.9611
65180 | Tamuning County, Guam | 65 | Rural | 0.9611 | 99965 | Rural | 0.9611
65190 | Toto County, Guam | 65 | Rural | 0.9611 | 99965 | Rural | 0.9611
65200 | Umatac County, Guam | 65 | Rural | 0.9611 | 99965 | Rural | 0.9611
65210 | Yigo County, Guam | 65 | Rural | 0.9611 | 99965 | Rural | 0.9611
65220 | Yona County, Guam | 65 | Rural | 0.9611 | 99965 | Rural | 0.9611
¹ At this time, there are no hospitals located in these CBSA-based urban areas on which to base a wage index. Therefore, the wage index value is based on the average wage index for all urban areas within the state.

Addendum C—Wage Index Tables

In this addendum, we provide the tables referred to throughout the preamble in this final rule. Tables 1 and 2 below provide the CBSA-based wage index values for urban and rural providers.

Table 1.—Proposed Wage Index For Urban Areas Based On CBSA Labor Market Areas
CBSA code | Urban area (constituent counties) | Wage index
10180 | Abilene, TX | 0.7896
| Callahan County, TX
| Jones County, TX
| Taylor County, TX
10380 | Aguadilla-Isabela-San Sebastián, PR | 0.4738
| Aguada Municipio, PR
| Aguadilla Municipio, PR
| Añasco Municipio, PR
| Isabela Municipio, PR
| Lares Municipio, PR
| Moca Municipio, PR
| Rincón Municipio, PR
| San Sebastian Municipio, PR
10420 | Akron, OH | 0.8982
| Portage County, OH
| Summit County, OH
10500 | Albany, GA | 0.8628
| Baker County, GA
| Dougherty County, GA
| Lee County, GA
| Terrell County, GA
| Worth County, GA
10580 | Albany-Schenectady-Troy, NY | 0.8589
| Albany County, NY
| Rensselaer County, NY
| Saratoga County, NY
| Schenectady County, NY
| Schoharie County, NY
10740 | Albuquerque, NM | 0.9684
| Bernalillo County, NM
| Sandoval County, NM
| Torrance County, NM
| Valencia County, NM
10780 | Alexandria, LA | 0.8033
| Grant Parish, LA
| Rapides Parish, LA
10900 | Allentown-Bethlehem-Easton, PA-NJ | 0.9818
| Warren County, NJ
| Carbon County, PA
| Lehigh County, PA
| Northampton County, PA
11020 | Altoona, PA | 0.8944
| Blair County, PA
11100 | Amarillo, TX | 0.9156
| Armstrong County, TX
| Carson County, TX
| Potter County, TX
| Randall County, TX
11180 | Ames, IA | 0.9536
| Story County, IA
11260 | Anchorage, AK | 1.1895
| Anchorage Municipality, AK
| Matanuska-Susitna Borough, AK
11300 | Anderson, IN | 0.8586
| Madison County, IN
11340 | Anderson, SC | 0.8997
| Anderson County, SC
11460 | Ann Arbor, MI | 1.0859
| Washtenaw County, MI
11500 | Anniston-Oxford, AL | 0.7682
| Calhoun County, AL
11540 | Appleton, WI | 0.9288
| Calumet County, WI
| Outagamie County, WI
11700 | Asheville, NC | 0.9285
| Buncombe County, NC
| Haywood County, NC
| Henderson County, NC
| Madison County, NC
12020 | Athens-Clarke County, GA | 0.9855
| Clarke County, GA
| Madison County, GA
| Oconee County, GA
| Oglethorpe County, GA
12060 | Atlanta-Sandy Springs-Marietta, GA | 0.9793
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1615
| Atlantic County, NJ
12220 | Auburn-Opelika, AL | 0.8100
| Lee County, AL
12260 | Augusta-Richmond County, GA-SC | 0.9748
| Burke County, GA
| Columbia County, GA
| McDuffie County, GA
| Richmond County, GA
| Aiken County, SC
| Edgefield County, SC
12420 | Austin-Round Rock, TX | 0.9437
| Bastrop County, TX
| Caldwell County, TX
| Hays County, TX
| Travis County, TX
| Williamson County, TX
12540 | Bakersfield, CA | 1.0470
| Kern County, CA
12580 | Baltimore-Towson, MD | 0.9897
| Anne Arundel County, MD
| Baltimore County, MD
| Carroll County, MD
| Harford County, MD
| Howard County, MD
| Queen Anne's County, MD
| Baltimore City, MD
12620 | Bangor, ME | 0.9993
| Penobscot County, ME
12700 | Barnstable Town, MA | 1.2600
| Barnstable County, MA
12940 | Baton Rouge, LA | 0.8593
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9508
| Calhoun County, MI
13020 | Bay City, MI | 0.9343
| Bay County, MI
13140 | Beaumont-Port Arthur, TX | 0.8412
| Hardin County, TX
| Jefferson County, TX
| Orange County, TX
13380 | Bellingham, WA | 1.1731
| Whatcom County, WA
13460 | Bend, OR | 1.0786
| Deschutes County, OR
13644 | Bethesda-Gaithersburg-Frederick, MD | 1.1483
| Frederick County, MD
| Montgomery County, MD
13740 | Billings, MT | 0.8834
| Carbon County, MT
| Yellowstone County, MT
13780 | Binghamton, NY | 0.8562
| Broome County, NY
| Tioga County, NY
13820 | Birmingham-Hoover, AL | 0.8959
| Bibb County, AL
| Blount County, AL
| Chilton County, AL
| Jefferson County, AL
| St. Clair County, AL
| Shelby County, AL
| Walker County, AL
13900 | Bismarck, ND | 0.7574
| Burleigh County, ND
| Morton County, ND
13980 | Blacksburg-Christiansburg-Radford, VA | 0.7954
| Giles County, VA
| Montgomery County, VA
| Pulaski County, VA
| Radford City, VA
14020 | Bloomington, IN | 0.8447
| Greene County, IN
| Monroe County, IN
| Owen County, IN
14060 | Bloomington-Normal, IL | 0.9075
| McLean County, IL
14260 | Boise City-Nampa, ID | 0.9052
| Ada County, ID
| Boise County, ID
| Canyon County, ID
| Gem County, ID
| Owyhee County, ID
14484 | Boston-Quincy, MA | 1.1558
| Norfolk County, MA
| Plymouth County, MA
| Suffolk County, MA
14500 | Boulder, CO | 0.9734
| Boulder County, CO
14540 | Bowling Green, KY | 0.8211
| Edmonson County, KY
| Warren County, KY
14740 | Bremerton-Silverdale, WA | 1.0675
| Kitsap County, WA
14860 | Bridgeport-Stamford-Norwalk, CT | 1.2592
| Fairfield County, CT
15180 | Brownsville-Harlingen, TX | 0.9804
| Cameron County, TX
15260 | Brunswick, GA | 0.9311
| Brantley County, GA
| Glynn County, GA
| McIntosh County, GA
15380 | Buffalo-Niagara Falls, NY | 0.9511
| Erie County, NY
| Niagara County, NY
15500 | Burlington, NC | 0.8905
| Alamance County, NC
15540 | Burlington-South Burlington, VT | 0.9410
| Chittenden County, VT
| Franklin County, VT
| Grand Isle County, VT
15764 | Cambridge-Newton-Framingham, MA | 1.1172
| Middlesex County, MA
15804 | Camden, NJ | 1.0517
| Burlington County, NJ
| Camden County, NJ
| Gloucester County, NJ
15940 | Canton-Massillon, OH | 0.8935
| Carroll County, OH
| Stark County, OH
15980 | Cape Coral-Fort Myers, FL | 0.9356
| Lee County, FL
16180 | Carson City, NV | 1.0234
| Carson City, NV
16220 | Casper, WY | 0.9026
| Natrona County, WY
16300 | Cedar Rapids, IA | 0.8825
| Benton County, IA
| Jones County, IA
| Linn County, IA
16580 | Champaign-Urbana, IL | 0.9594
| Champaign County, IL
| Ford County, IL
| Piatt County, IL
16620 | Charleston, WV | 0.8445
| Boone County, WV
| Clay County, WV
| Kanawha County, WV
| Lincoln County, WV
| Putnam County, WV
16700 | Charleston-North Charleston, SC | 0.9245
| Berkeley County, SC
| Charleston County, SC
| Dorchester County, SC
16740 | Charlotte-Gastonia-Concord, NC-SC | 0.9750
| Anson County, NC
| Cabarrus County, NC
| Gaston County, NC
| Mecklenburg County, NC
| Union County, NC
| York County, SC
16820 | Charlottesville, VA | 1.0187
| Albemarle County, VA
| Fluvanna County, VA
| Greene County, VA
| Nelson County, VA
| Charlottesville City, VA
16860 | Chattanooga, TN-GA | 0.9088
| Catoosa County, GA
| Dade County, GA
| Walker County, GA
| Hamilton County, TN
| Marion County, TN
| Sequatchie County, TN
16940 | Cheyenne, WY | 0.8775
| Laramie County, WY
16974 | Chicago-Naperville-Joliet, IL | 1.0790
| Cook County, IL
| DeKalb County, IL
| DuPage County, IL
| Grundy County, IL
| Kane County, IL
| Kendall County, IL
| McHenry County, IL
| Will County, IL
17020 | Chico, CA | 1.0511
| Butte County, CA
17140 | Cincinnati-Middletown, OH-KY-IN | 0.9615
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8284
| Christian County, KY
| Trigg County, KY
| Montgomery County, TN
| Stewart County, TN
17420 | Cleveland, TN | 0.8139
| Bradley County, TN
| Polk County, TN
17460 | Cleveland-Elyria-Mentor, OH | 0.9213
| Cuyahoga County, OH
| Geauga County, OH
| Lake County, OH
| Lorain County, OH
| Medina County, OH
17660 | Coeur d'Alene, ID | 0.9647
| Kootenai County, ID
17780 | College Station-Bryan, TX | 0.8900
| Brazos County, TX
| Burleson County, TX
| Robertson County, TX
17820 | Colorado Springs, CO | 0.9468
| El Paso County, CO
| Teller County, CO
17860 | Columbia, MO | 0.8345
| Boone County, MO
| Howard County, MO
17900 | Columbia, SC | 0.9057
| Calhoun County, SC
| Fairfield County, SC
| Kershaw County, SC
| Lexington County, SC
| Richland County, SC
| Saluda County, SC
17980 | Columbus, GA-AL | 0.8560
| Russell County, AL
| Chattahoochee County, GA
| Harris County, GA
| Marion County, GA
| Muscogee County, GA
18020 | Columbus, IN | 0.9588
| Bartholomew County, IN
18140 | Columbus, OH | 0.9860
| Delaware County, OH
| Fairfield County, OH
| Franklin County, OH
| Licking County, OH
| Madison County, OH
| Morrow County, OH
| Pickaway County, OH
| Union County, OH
18580 | Corpus Christi, TX | 0.8550
| Aransas County, TX
| Nueces County, TX
| San Patricio County, TX
18700 | Corvallis, OR | 1.0729
| Benton County, OR
19060 | Cumberland, MD-WV | 0.9317
| Allegany County, MD
| Mineral County, WV
19124 | Dallas-Plano-Irving, TX | 1.0228
| Collin County, TX
| Dallas County, TX
| Delta County, TX
| Denton County, TX
| Ellis County, TX
| Hunt County, TX
| Kaufman County, TX
| Rockwall County, TX
19140 | Dalton, GA | 0.9079
| Murray County, GA
| Whitfield County, GA
19180 | Danville, IL | 0.9028
| Vermilion County, IL
19260 | Danville, VA | 0.8489
| Pittsylvania County, VA
| Danville City, VA
19340 | Davenport-Moline-Rock Island, IA-IL | 0.8724
| Henry County, IL
| Mercer County, IL
| Rock Island County, IL
| Scott County, IA
19380 | Dayton, OH | 0.9064
| Greene County, OH
| Miami County, OH
| Montgomery County, OH
| Preble County, OH
19460 | Decatur, AL | 0.8469
| Lawrence County, AL
| Morgan County, AL
19500 | Decatur, IL | 0.8067
| Macon County, IL
19660 | Deltona-Daytona Beach-Ormond Beach, FL | 0.9299
| Volusia County, FL
19740 | Denver-Aurora, CO | 1.0723
| Adams County, CO
| Arapahoe County, CO
| Broomfield County, CO
| Clear Creek County, CO
| Denver County, CO
| Douglas County, CO
| Elbert County, CO
| Gilpin County, CO
| Jefferson County, CO
| Park County, CO
19780 | Des Moines-West Des Moines, IA | 0.9669
| Dallas County, IA
| Guthrie County, IA
| Madison County, IA
| Polk County, IA
| Warren County, IA
19804 | Detroit-Livonia-Dearborn, MI | 1.0424
| Wayne County, MI
20020 | Dothan, AL | 0.7721
| Geneva County, AL
| Henry County, AL
| Houston County, AL
20100 | Dover, DE | 0.9776
| Kent County, DE
20220 | Dubuque, IA | 0.9024
| Dubuque County, IA
20260 | Duluth, MN-WI | 1.0213
| Carlton County, MN
| St. Louis County, MN
| Douglas County, WI
20500 | Durham, NC | 1.0244
| Chatham County, NC
| Durham County, NC
| Orange County, NC
| Person County, NC
20740 | Eau Claire, WI | 0.9201
| Chippewa County, WI
| Eau Claire County, WI
20764 | Edison, NJ | 1.1249
| Middlesex County, NJ
| Monmouth County, NJ
| Ocean County, NJ
| Somerset County, NJ
20940 | El Centro, CA | 0.8906
| Imperial County, CA
21060 | Elizabethtown, KY | 0.8802
| Hardin County, KY
| Larue County, KY
21140 | Elkhart-Goshen, IN | 0.9627
| Elkhart County, IN
21300 | Elmira, NY | 0.8250
| Chemung County, NY
21340 | El Paso, TX | 0.8977
| El Paso County, TX
21500 | Erie, PA | 0.8737
| Erie County, PA
21604 | Essex County, MA | 1.0538
| Essex County, MA
21660 | Eugene-Springfield, OR | 1.0818
| Lane County, OR
21780 | Evansville, IN-KY | 0.8713
| Gibson County, IN
| Posey County, IN
| Vanderburgh County, IN
| Warrick County, IN
| Henderson County, KY
| Webster County, KY
21820 | Fairbanks, AK | 1.1408
| Fairbanks North Star Borough, AK
21940 | Fajardo, PR | 0.4153
| Ceiba Municipio, PR
| Fajardo Municipio, PR
| Luquillo Municipio, PR
22020 | Fargo, ND-MN | 0.8486
| Cass County, ND
| Clay County, MN
22140 | Farmington, NM | 0.8509
| San Juan County, NM
22180 | Fayetteville, NC | 0.9416
| Cumberland County, NC
| Hoke County, NC
22220 | Fayetteville-Springdale-Rogers, AR-MO | 0.8661
| Benton County, AR
| Madison County, AR
| Washington County, AR
| McDonald County, MO
22380 | Flagstaff, AZ | 1.2092
| Coconino County, AZ
22420 | Flint, MI | 1.0655
| Genesee County, MI
22500 | Florence, SC | 0.8947
| Darlington County, SC
| Florence County, SC
22520 | Florence-Muscle Shoals, AL | 0.8272
| Colbert County, AL
| Lauderdale County, AL
22540 | Fond du Lac, WI | 0.9640
| Fond du Lac County, WI
22660 | Fort Collins-Loveland, CO | 1.0122
| Larimer County, CO
22744 | Fort Lauderdale-Pompano Beach-Deerfield Beach, FL | 1.0432
| Broward County, FL
22900 | Fort Smith, AR-OK | 0.8230
| Crawford County, AR
| Franklin County, AR
| Sebastian County, AR
| Le Flore County, OK
| Sequoyah County, OK
23020 | Fort Walton Beach-Crestview-Destin, FL | 0.8872
| Okaloosa County, FL
23060 | Fort Wayne, IN | 0.9793
| Allen County, IN
| Wells County, IN
| Whitley County, IN
23104 | Fort Worth-Arlington, TX | 0.9486
| Johnson County, TX
| Parker County, TX
| Tarrant County, TX
| Wise County, TX
23420 | Fresno, CA | 1.0538
| Fresno County, CA
23460 | Gadsden, AL | 0.7938
| Etowah County, AL
23540 | Gainesville, FL | 0.9388
| Alachua County, FL
| Gilchrist County, FL
23580 | Gainesville, GA | 0.8874
| Hall County, GA
23844 | Gary, IN | 0.9395
| Jasper County, IN
| Lake County, IN
| Newton County, IN
| Porter County, IN
24020 | Glens Falls, NY | 0.8559
| Warren County, NY
| Washington County, NY
24140 | Goldsboro, NC | 0.8775
| Wayne County, NC
24220 | Grand Forks, ND-MN | 0.7901
| Polk County, MN
| Grand Forks County, ND
24300 | Grand Junction, CO | 0.9550
| Mesa County, CO
24340 | Grand Rapids-Wyoming, MI | 0.9390
| Barry County, MI
| Ionia County, MI
| Kent County, MI
| Newaygo County, MI
24500 | Great Falls, MT | 0.9052
| Cascade County, MT
24540 | Greeley, CO | 0.9570
| Weld County, CO
24580 | Green Bay, WI | 0.9483
| Brown County, WI
| Kewaunee County, WI
| Oconto County, WI
24660 | Greensboro-High Point, NC | 0.9104
| Guilford County, NC
| Randolph County, NC
| Rockingham County, NC
24780 | Greenville, NC | 0.9425
| Greene County, NC
| Pitt County, NC
24860 | Greenville, SC | 1.0027
| Greenville County, SC
| Laurens County, SC
| Pickens County, SC
25020 | Guayama, PR | 0.3181
| Arroyo Municipio, PR
| Guayama Municipio, PR
| Patillas Municipio, PR
25060 | Gulfport-Biloxi, MS | 0.8929
| Hancock County, MS
| Harrison County, MS
| Stone County, MS
25180 | Hagerstown-Martinsburg, MD-WV | 0.9489
| Washington County, MD
| Berkeley County, WV
| Morgan County, WV
25260 | Hanford-Corcoran, CA | 1.0036
| Kings County, CA
25420 | Harrisburg-Carlisle, PA | 0.9313
| Cumberland County, PA
| Dauphin County, PA
| Perry County, PA
25500 | Harrisonburg, VA | 0.9088
| Rockingham County, VA
| Harrisonburg City, VA
25540 | Hartford-West Hartford-East Hartford, CT | 1.1073
| Hartford County, CT
| Litchfield County, CT
| Middlesex County, CT
| Tolland County, CT
25620 | Hattiesburg, MS | 0.7601
| Forrest County, MS
| Lamar County, MS
| Perry County, MS
25860 | Hickory-Lenoir-Morganton, NC | 0.8921
| Alexander County, NC
| Burke County, NC
| Caldwell County, NC
| Catawba County, NC
25980 | Hinesville-Fort Stewart, GA1 | 0.9198
| Liberty County, GA
| Long County, GA
26100 | Holland-Grand Haven, MI | 0.9055
| Ottawa County, MI
26180 | Honolulu, HI | 1.1214
| Honolulu County, HI
26300 | Hot Springs, AR | 0.9005
| Garland County, AR
26380 | Houma-Bayou Cane-Thibodaux, LA | 0.7894
| Lafourche Parish, LA
| Terrebonne Parish, LA
26420 | Houston-Sugar Land-Baytown, TX | 0.9996
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9477
| Boyd County, KY
| Greenup County, KY
| Lawrence County, OH
| Cabell County, WV
| Wayne County, WV
26620 | Huntsville, AL | 0.9146
| Limestone County, AL
| Madison County, AL
26820 | Idaho Falls, ID | 0.9420
| Bonneville County, ID
| Jefferson County, ID
26900 | Indianapolis-Carmel, IN | 0.9920
| Boone County, IN
| Brown County, IN
| Hamilton County, IN
| Hancock County, IN
| Hendricks County, IN
| Johnson County, IN
| Marion County, IN
| Morgan County, IN
| Putnam County, IN
| Shelby County, IN
26980 | Iowa City, IA | 0.9747
| Johnson County, IA
| Washington County, IA
27060 | Ithaca, NY | 0.9793
| Tompkins County, NY
27100 | Jackson, MI | 0.9304
| Jackson County, MI
27140 | Jackson, MS | 0.8311
| Copiah County, MS
| Hinds County, MS
| Madison County, MS
| Rankin County, MS
| Simpson County, MS
27180 | Jackson, TN | 0.8964
| Chester County, TN
| Madison County, TN
27260 | Jacksonville, FL | 0.9290
| Baker County, FL
| Clay County, FL
| Duval County, FL
| Nassau County, FL
| St. Johns County, FL
27340 | Jacksonville, NC | 0.8236
| Onslow County, NC
27500 | Janesville, WI | 0.9538
| Rock County, WI
27620 | Jefferson City, MO | 0.8387
| Callaway County, MO
| Cole County, MO
| Moniteau County, MO
| Osage County, MO
27740 | Johnson City, TN | 0.7937
| Carter County, TN
| Unicoi County, TN
| Washington County, TN
27780 | Johnstown, PA | 0.8354
| Cambria County, PA
27860 | Jonesboro, AR | 0.7911
| Craighead County, AR
| Poinsett County, AR
27900 | Joplin, MO | 0.8582
| Jasper County, MO
| Newton County, MO
28020 | Kalamazoo-Portage, MI | 1.0381
| Kalamazoo County, MI
| Van Buren County, MI
28100 | Kankakee-Bradley, IL | 1.0721
| Kankakee County, IL
28140 | Kansas City, MO-KS | 0.9476
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0619
| Benton County, WA
| Franklin County, WA
28660 | Killeen-Temple-Fort Hood, TX | 0.8526
| Bell County, TX
| Coryell County, TX
| Lampasas County, TX
28700 | Kingsport-Bristol-Bristol, TN-VA | 0.8054
| Hawkins County, TN
| Sullivan County, TN
| Bristol City, VA
| Scott County, VA
| Washington County, VA
28740 | Kingston, NY | 0.9255
| Ulster County, NY
28940 | Knoxville, TN | 0.8441
| Anderson County, TN
| Blount County, TN
| Knox County, TN
| Loudon County, TN
| Union County, TN
29020 | Kokomo, IN | 0.9508
| Howard County, IN
| Tipton County, IN
29100 | La Crosse, WI-MN | 0.9564
| Houston County, MN
| La Crosse County, WI
29140 | Lafayette, IN | 0.8736
| Benton County, IN
| Carroll County, IN
| Tippecanoe County, IN
29180 | Lafayette, LA | 0.8428
| Lafayette Parish, LA
| St. Martin Parish, LA
29340 | Lake Charles, LA | 0.7833
| Calcasieu Parish, LA
| Cameron Parish, LA
29404 | Lake County-Kenosha County, IL-WI | 1.0429
| Lake County, IL
| Kenosha County, WI
29460 | Lakeland, FL | 0.8912
| Polk County, FL
29540 | Lancaster, PA | 0.9694
| Lancaster County, PA
29620 | Lansing-East Lansing, MI | 0.9794
| Clinton County, MI
| Eaton County, MI
| Ingham County, MI
29700 | Laredo, TX | 0.8068
| Webb County, TX
29740 | Las Cruces, NM | 0.8467
| Dona Ana County, NM
29820 | Las Vegas-Paradise, NV | 1.1437
| Clark County, NV
29940 | Lawrence, KS | 0.8537
| Douglas County, KS
30020 | Lawton, OK | 0.7872
| Comanche County, OK
30140 | Lebanon, PA | 0.8459
| Lebanon County, PA
30300 | Lewiston, ID-WA | 0.9886
| Nez Perce County, ID
| Asotin County, WA
30340 | Lewiston-Auburn, ME | 0.9331
| Androscoggin County, ME
30460 | Lexington-Fayette, KY | 0.9075
| Bourbon County, KY
| Clark County, KY
| Fayette County, KY
| Jessamine County, KY
| Scott County, KY
| Woodford County, KY
30620 | Lima, OH | 0.9225
| Allen County, OH
30700 | Lincoln, NE | 1.0214
| Lancaster County, NE
| Seward County, NE
30780 | Little Rock-North Little Rock, AR | 0.8747
| Faulkner County, AR
| Grant County, AR
| Lonoke County, AR
| Perry County, AR
| Pulaski County, AR
| Saline County, AR
30860 | Logan, UT-ID | 0.9164
| Franklin County, ID
| Cache County, UT
30980 | Longview, TX | 0.8730
| Gregg County, TX
| Rusk County, TX
| Upshur County, TX
31020 | Longview, WA | 0.9579
| Cowlitz County, WA
31084 | Los Angeles-Long Beach-Glendale, CA | 1.1783
| Los Angeles County, CA
31140 | Louisville-Jefferson County, KY-IN | 0.9251
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8783
| Crosby County, TX
| Lubbock County, TX
31340 | Lynchburg, VA | 0.8691
| Amherst County, VA
| Appomattox County, VA
| Bedford County, VA
| Campbell County, VA
| Bedford City, VA
| Lynchburg City, VA
31420 | Macon, GA | 0.9443
| Bibb County, GA
| Crawford County, GA
| Jones County, GA
| Monroe County, GA
| Twiggs County, GA
31460 | Madera, CA | 0.8713
| Madera County, CA
31540 | Madison, WI | 1.0659
| Columbia County, WI
| Dane County, WI
| Iowa County, WI
31700 | Manchester-Nashua, NH | 1.0354
| Hillsborough County, NH
| Merrimack County, NH
31900 | Mansfield, OH | 0.9891
| Richland County, OH
32420 | Mayagüez, PR | 0.4020
| Hormigueros Municipio, PR
| Mayagüez Municipio, PR
32580 | McAllen-Edinburg-Mission, TX | 0.8934
| Hidalgo County, TX
32780 | Medford, OR | 1.0225
| Jackson County, OR
32820 | Memphis, TN-MS-AR | 0.9397
| Crittenden County, AR
| DeSoto County, MS
| Marshall County, MS
| Tate County, MS
| Tunica County, MS
| Fayette County, TN
| Shelby County, TN
| Tipton County, TN
32900 | Merced, CA | 1.1109
| Merced County, CA
33124 | Miami-Miami Beach-Kendall, FL | 0.9750
| Miami-Dade County, FL
33140 | Michigan City-La Porte, IN | 0.9399
| LaPorte County, IN
33260 | Midland, TX | 0.9514
| Midland County, TX
33340 | Milwaukee-Waukesha-West Allis, WI | 1.0146
| Milwaukee County, WI
| Ozaukee County, WI
| Washington County, WI
| Waukesha County, WI
33460 | Minneapolis-St. Paul-Bloomington, MN-WI | 1.1075
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9473
| Missoula County, MT
33660 | Mobile, AL | 0.7891
| Mobile County, AL
33700 | Modesto, CA | 1.1885
| Stanislaus County, CA
33740 | Monroe, LA | 0.8031
| Ouachita Parish, LA
| Union Parish, LA
33780 | Monroe, MI | 0.9468
| Monroe County, MI
33860 | Montgomery, AL | 0.8618
| Autauga County, AL
| Elmore County, AL
| Lowndes County, AL
| Montgomery County, AL
34060 | Morgantown, WV | 0.8420
| Monongalia County, WV
| Preston County, WV
34100 | Morristown, TN | 0.7961
| Grainger County, TN
| Hamblen County, TN
| Jefferson County, TN
34580 | Mount Vernon-Anacortes, WA | 1.0454
| Skagit County, WA
34620 | Muncie, IN | 0.8930
| Delaware County, IN
34740 | Muskegon-Norton Shores, MI | 0.9664
| Muskegon County, MI
34820 | Myrtle Beach-Conway-North Myrtle Beach, SC | 0.8934
| Horry County, SC
34900 | Napa, CA | 1.2643
| Napa County, CA
34940 | Naples-Marco Island, FL | 1.0139
| Collier County, FL
34980 | Nashville-Davidson--Murfreesboro, TN | 0.9790
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | Nassau-Suffolk, NY | 1.2719
| Nassau County, NY
| Suffolk County, NY
35084 | Newark-Union, NJ-PA | 1.1883
| Essex County, NJ
| Hunterdon County, NJ
| Morris County, NJ
| Sussex County, NJ
| Union County, NJ
| Pike County, PA
35300 | New Haven-Milford, CT | 1.1887
| New Haven County, CT
35380 | New Orleans-Metairie-Kenner, LA | 0.8995
| Jefferson Parish, LA
| Orleans Parish, LA
| Plaquemines Parish, LA
| St. Bernard Parish, LA
| St. Charles Parish, LA
| St. John the Baptist Parish, LA
| St. Tammany Parish, LA
35644 | New York-White Plains-Wayne, NY-NJ | 1.3188
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8879
| Berrien County, MI
35980 | Norwich-New London, CT | 1.1345
| New London County, CT
36084 | Oakland-Fremont-Hayward, CA | 1.5346
| Alameda County, CA
| Contra Costa County, CA
36100 | Ocala, FL | 0.8925
| Marion County, FL
36140 | Ocean City, NJ | 1.1011
| Cape May County, NJ
36220 | Odessa, TX | 0.9884
| Ector County, TX
36260 | Ogden-Clearfield, UT | 0.9029
| Davis County, UT
| Morgan County, UT
| Weber County, UT
36420 | Oklahoma City, OK | 0.9031
| Canadian County, OK
| Cleveland County, OK
| Grady County, OK
| Lincoln County, OK
| Logan County, OK
| McClain County, OK
| Oklahoma County, OK
36500 | Olympia, WA | 1.0927
| Thurston County, WA
36540 | Omaha-Council Bluffs, NE-IA | 0.9560
| Harrison County, IA
| Mills County, IA
| Pottawattamie County, IA
| Cass County, NE
| Douglas County, NE
| Sarpy County, NE
| Saunders County, NE
| Washington County, NE
36740 | Orlando-Kissimmee, FL | 0.9464
| Lake County, FL
| Orange County, FL
| Osceola County, FL
| Seminole County, FL
36780 | Oshkosh-Neenah, WI | 0.9183
| Winnebago County, WI
36980 | Owensboro, KY | 0.8780
| Daviess County, KY
| Hancock County, KY
| McLean County, KY
37100 | Oxnard-Thousand Oaks-Ventura, CA | 1.1622
| Ventura County, CA
37340 | Palm Bay-Melbourne-Titusville, FL | 0.9839
| Brevard County, FL
37460 | Panama City-Lynn Haven, FL | 0.8005
| Bay County, FL
37620 | Parkersburg-Marietta-Vienna, WV-OH | 0.8270
| Washington County, OH
| Pleasants County, WV
| Wirt County, WV
| Wood County, WV
37700 | Pascagoula, MS | 0.8156
| George County, MS
| Jackson County, MS
37860 | Pensacola-Ferry Pass-Brent, FL | 0.8096
| Escambia County, FL
| Santa Rosa County, FL
37900 | Peoria, IL | 0.8870
| Marshall County, IL
| Peoria County, IL
| Stark County, IL
| Tazewell County, IL
| Woodford County, IL
37964 | Philadelphia, PA | 1.1038
| Bucks County, PA
| Chester County, PA
| Delaware County, PA
| Montgomery County, PA
| Philadelphia County, PA
38060 | Phoenix-Mesa-Scottsdale, AZ | 1.0127
| Maricopa County, AZ
| Pinal County, AZ
38220 | Pine Bluff, AR | 0.8680
| Cleveland County, AR
| Jefferson County, AR
| Lincoln County, AR
38300 | Pittsburgh, PA | 0.8845
| Allegheny County, PA
| Armstrong County, PA
| Beaver County, PA
| Butler County, PA
| Fayette County, PA
| Washington County, PA
| Westmoreland County, PA
38340 | Pittsfield, MA | 1.0181
| Berkshire County, MA
38540 | Pocatello, ID | 0.9351
| Bannock County, ID
| Power County, ID
38660 | Ponce, PR | 0.4939
| Juana Díaz Municipio, PR
| Ponce Municipio, PR
| Villalba Municipio, PR
38860 | Portland-South Portland-Biddeford, ME | 1.0382
| Cumberland County, ME
| Sagadahoc County, ME
| York County, ME
38900 | Portland-Vancouver-Beaverton, OR-WA | 1.1266
| Clackamas County, OR
| Columbia County, OR
| Multnomah County, OR
| Washington County, OR
| Yamhill County, OR
| Clark County, WA
| Skamania County, WA
38940 | Port St. Lucie-Fort Pierce, FL | 1.0123
| Martin County, FL
| St. Lucie County, FL
39100 | Poughkeepsie-Newburgh-Middletown, NY | 1.0891
| Dutchess County, NY
| Orange County, NY
39140 | Prescott, AZ | 0.9869
| Yavapai County, AZ
39300 | Providence-New Bedford-Fall River, RI-MA | 1.0966
| Bristol County, MA
| Bristol County, RI
| Kent County, RI
| Newport County, RI
| Providence County, RI
| Washington County, RI
39340 | Provo-Orem, UT | 0.9500
| Juab County, UT
| Utah County, UT
39380 | Pueblo, CO | 0.8623
| Pueblo County, CO
39460 | Punta Gorda, FL | 0.9255
| Charlotte County, FL
39540 | Racine, WI | 0.8997
| Racine County, WI
39580 | Raleigh-Cary, NC | 0.9691
| Franklin County, NC
| Johnston County, NC
| Wake County, NC
39660 | Rapid City, SD | 0.8987
| Meade County, SD
| Pennington County, SD
39740 | Reading, PA | 0.9686
| Berks County, PA
39820 | Redding, CA | 1.2203
| Shasta County, CA
39900 | Reno-Sparks, NV | 1.0982
| Storey County, NV
| Washoe County, NV
40060 | Richmond, VA | 0.9328
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA | 1.1027
| Riverside County, CA
| San Bernardino County, CA
40220 | Roanoke, VA | 0.8374
| Botetourt County, VA
| Craig County, VA
| Franklin County, VA
| Roanoke County, VA
| Roanoke City, VA
| Salem City, VA
40340 | Rochester, MN | 1.1131
| Dodge County, MN
| Olmsted County, MN
| Wabasha County, MN
40380 | Rochester, NY | 0.9121
| Livingston County, NY
| Monroe County, NY
| Ontario County, NY
| Orleans County, NY
| Wayne County, NY
40420 | Rockford, IL | 0.9984
| Boone County, IL
| Winnebago County, IL
40484 | Rockingham County-Strafford County, NH | 1.0374
| Rockingham County, NH
| Strafford County, NH
40580 | Rocky Mount, NC | 0.8915
| Edgecombe County, NC
| Nash County, NC
40660 | Rome, GA | 0.9414
| Floyd County, GA
40900 | Sacramento—Arden-Arcade—Roseville, CA | 1.2969
| El Dorado County, CA
| Placer County, CA
| Sacramento County, CA
| Yolo County, CA
40980 | Saginaw-Saginaw Township North, MI | 0.9088
| Saginaw County, MI
41060 | St. Cloud, MN | 0.9965
| Benton County, MN
| Stearns County, MN
41100 | St. George, UT | 0.9392
| Washington County, UT
41140 | St. Joseph, MO-KS | 0.9519
| Doniphan County, KS
| Andrew County, MO
| Buchanan County, MO
| DeKalb County, MO
41180 | St. Louis, MO-IL | 0.8954
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0442
| Marion County, OR
| Polk County, OR
41500 | Salinas, CA | 1.4128
| Monterey County, CA
41540 | Salisbury, MD | 0.9064
| Somerset County, MD
| Wicomico County, MD
41620 | Salt Lake City, UT | 0.9421
| Salt Lake County, UT
| Summit County, UT
| Tooele County, UT
41660 | San Angelo, TX | 0.8271
| Irion County, TX
| Tom Green County, TX
41700 | San Antonio, TX | 0.8980
| Atascosa County, TX
| Bandera County, TX
| Bexar County, TX
| Comal County, TX
| Guadalupe County, TX
| Kendall County, TX
| Medina County, TX
| Wilson County, TX
41740 | San Diego-Carlsbad-San Marcos, CA | 1.1413
| San Diego County, CA
41780 | Sandusky, OH | 0.9019
| Erie County, OH
41884 | San Francisco-San Mateo-Redwood City, CA | 1.4994
| Marin County, CA
| San Francisco County, CA
| San Mateo County, CA
41900 | San Germán-Cabo Rojo, PR | 0.4650
| Cabo Rojo Municipio, PR
| Lajas Municipio, PR
| Sabana Grande Municipio, PR
| San Germán Municipio, PR
41940 | San Jose-Sunnyvale-Santa Clara, CA | 1.5099
| San Benito County, CA
| Santa Clara County, CA
41980 | San Juan-Caguas-Guaynabo, PR | 0.4621
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1349
| San Luis Obispo County, CA
42044 | Santa Ana-Anaheim-Irvine, CA | 1.1559
| Orange County, CA
42060 | Santa Barbara-Santa Maria, CA | 1.1694
| Santa Barbara County, CA
42100 | Santa Cruz-Watsonville, CA | 1.5166
| Santa Cruz County, CA
42140 | Santa Fe, NM | 1.0920
| Santa Fe County, NM
42220 | Santa Rosa-Petaluma, CA | 1.3493
| Sonoma County, CA
42260 | Sarasota-Bradenton-Venice, FL | 0.9639
| Manatee County, FL
| Sarasota County, FL
42340 | Savannah, GA | 0.9461
| Bryan County, GA
| Chatham County, GA
| Effingham County, GA
42540 | Scranton-Wilkes-Barre, PA | 0.8540
| Lackawanna County, PA
| Luzerne County, PA
| Wyoming County, PA
42644 | Seattle-Bellevue-Everett, WA | 1.1577
42680 | Sebastian-Vero Beach, FL | 0.9434
| Indian River County, FL
43100 | Sheboygan, WI | 0.8911
| Sheboygan County, WI
43300 | Sherman-Denison, TX | 0.9507
| Grayson County, TX
43340 | Shreveport-Bossier City, LA | 0.8760
| Bossier Parish, LA
| Caddo Parish, LA
| De Soto Parish, LA
43580 | Sioux City, IA-NE-SD | 0.9381
| Woodbury County, IA
| Dakota County, NE
| Dixon County, NE
| Union County, SD
43620 | Sioux Falls, SD | 0.9635
| Lincoln County, SD
| McCook County, SD
| Minnehaha County, SD
| Turner County, SD
43780 | South Bend-Mishawaka, IN-MI | 0.9788
| St. Joseph County, IN
| Cass County, MI
43900 | Spartanburg, SC | 0.9172
| Spartanburg County, SC
44060 | Spokane, WA | 1.0905
| Spokane County, WA
44100 | Springfield, IL | 0.8792
| Menard County, IL
| Sangamon County, IL
44140 | Springfield, MA | 1.0248
| Franklin County, MA
| Hampden County, MA
| Hampshire County, MA
44180 | Springfield, MO | 0.8237
| Christian County, MO
| Dallas County, MO
| Greene County, MO
| Polk County, MO
| Webster County, MO
44220 | Springfield, OH | 0.8396
| Clark County, OH
44300 | State College, PA | 0.8356
| Centre County, PA
44700 | Stockton, CA | 1.1307
| San Joaquin County, CA
44940 | Sumter, SC | 0.8377
| Sumter County, SC
45060 | Syracuse, NY | 0.9574
| Madison County, NY
| Onondaga County, NY
| Oswego County, NY
45104 | Tacoma, WA | 1.0742
| Pierce County, WA
45220 | Tallahassee, FL | 0.8688
| Gadsden County, FL
| Jefferson County, FL
| Leon County, FL
| Wakulla County, FL
45300 | Tampa-St. Petersburg-Clearwater, FL | 0.9233
| Hernando County, FL
| Hillsborough County, FL
| Pasco County, FL
| Pinellas County, FL
45460 | Terre Haute, IN | 0.8304
| Clay County, IN
| Sullivan County, IN
| Vermillion County, IN
| Vigo County, IN
45500 | Texarkana, TX-Texarkana, AR | 0.8283
| Miller County, AR
| Bowie County, TX
45780 | Toledo, OH | 0.9574
| Fulton County, OH
| Lucas County, OH
| Ottawa County, OH
| Wood County, OH
45820 | Topeka, KS | 0.8920
| Jackson County, KS
| Jefferson County, KS
| Osage County, KS
| Shawnee County, KS
| Wabaunsee County, KS
45940 | Trenton-Ewing, NJ | 1.0834
| Mercer County, NJ
46060 | Tucson, AZ | 0.9007
| Pima County, AZ
46140 | Tulsa, OK | 0.8543
| Creek County, OK
| Okmulgee County, OK
| Osage County, OK
| Pawnee County, OK
| Rogers County, OK
| Tulsa County, OK
| Wagoner County, OK
46220 | Tuscaloosa, AL | 0.8645
| Greene County, AL
| Hale County, AL
| Tuscaloosa County, AL
46340 | Tyler, TX | 0.9168
| Smith County, TX
46540 | Utica-Rome, NY | 0.8358
| Herkimer County, NY
| Oneida County, NY
46660 | Valdosta, GA | 0.8866
| Brooks County, GA
| Echols County, GA
| Lanier County, GA
| Lowndes County, GA
46700 | Vallejo-Fairfield, CA | 1.4936
| Solano County, CA
47020 | Victoria, TX | 0.8160
| Calhoun County, TX
| Goliad County, TX
| Victoria County, TX
47220 | Vineland-Millville-Bridgeton, NJ | 0.9827
| Cumberland County, NJ
47260 | Virginia Beach-Norfolk-Newport News, VA-NC | 0.8799
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA | 1.0123
| Tulare County, CA
47380 | Waco, TX | 0.8518
| McLennan County, TX
47580 | Warner Robins, GA | 0.8645
| Houston County, GA
47644 | Warren-Troy-Farmington Hills, MI | 0.9871
| Lapeer County, MI
| Livingston County, MI
| Macomb County, MI
| Oakland County, MI
| St. Clair County, MI
47894 | Washington-Arlington-Alexandria, DC-VA-MD-WV | 1.0926
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8557
| Black Hawk County, IA
| Bremer County, IA
| Grundy County, IA
48140 | Wausau, WI | 0.9590
| Marathon County, WI
48260 | Weirton-Steubenville, WV-OH | 0.7819
| Jefferson County, OH
| Brooke County, WV
| Hancock County, WV
48300 | Wenatchee, WA | 1.0070
| Chelan County, WA
| Douglas County, WA
48424 | West Palm Beach-Boca Raton-Boynton Beach, FL | 1.0067
| Palm Beach County, FL
48540 | Wheeling, WV-OH | 0.7161
| Belmont County, OH
| Marshall County, WV
| Ohio County, WV
48620 | Wichita, KS | 0.9153
| Butler County, KS
| Harvey County, KS
| Sedgwick County, KS
| Sumner County, KS
48660 | Wichita Falls, TX | 0.8285
| Archer County, TX
| Clay County, TX
| Wichita County, TX
48700 | Williamsport, PA | 0.8364
| Lycoming County, PA
48864 | Wilmington, DE-MD-NJ | 1.0471
| New Castle County, DE
| Cecil County, MD
| Salem County, NJ
48900 | Wilmington, NC | 0.9582
| Brunswick County, NC
| New Hanover County, NC
| Pender County, NC
49020 | Winchester, VA-WV | 1.0214
| Frederick County, VA
| Winchester City, VA
| Hampshire County, WV
49180 | Winston-Salem, NC | 0.8944
| Davie County, NC
| Forsyth County, NC
| Stokes County, NC
| Yadkin County, NC
49340 | Worcester, MA | 1.1028
| Worcester County, MA
49420 | Yakima, WA | 1.0155
| Yakima County, WA
49500 | Yauco, PR | 0.4408
| Guanica Municipio, PR
| Guayanilla Municipio, PR
| Peñuelas Municipio, PR
| Yauco Municipio, PR
49620 | York-Hanover, PA | 0.9347
| York County, PA
49660 | Youngstown-Warren-Boardman, OH-PA | 0.8603
| Mahoning County, OH
| Trumbull County, OH
| Mercer County, PA
49700 | Yuba City, CA | 1.0921
| Sutter County, CA
| Yuba County, CA
49740 | Yuma, AZ | 0.9126
| Yuma County, AZ
¹ At this time, there are no hospitals located in this urban area on which to base a wage index. Therefore, the urban wage index value is based on the average wage index for all urban areas within the State.

Table 2.—Proposed Wage Index Based on CBSA Labor Market Areas for Rural Areas
CBSA code | Nonurban | Wage Index
01 | Alabama | 0.7446
02 | Alaska | 1.1977
03 | Arizona | 0.8768
04 | Arkansas | 0.7466
05 | California | 1.1054
06 | Colorado | 0.9380
07 | Connecticut | 1.1730
08 | Delaware | 0.9579
10 | Florida | 0.8568
11 | Georgia | 0.7662
12 | Hawaii | 1.0551
13 | Idaho | 0.8037
14 | Illinois | 0.8271
15 | Indiana | 0.8624
16 | Iowa | 0.8509
17 | Kansas | 0.8035
18 | Kentucky | 0.7766
19 | Louisiana | 0.7411
20 | Maine | 0.8843
21 | Maryland | 0.9353
22 | Massachusetts ¹ | 1.0216
23 | Michigan | 0.8895
24 | Minnesota | 0.9132
25 | Mississippi | 0.7674
26 | Missouri | 0.7900
27 | Montana | 0.8762
28 | Nebraska | 0.8657
29 | Nevada | 0.9065
30 | New Hampshire | 1.0817
31 | New Jersey ¹ |
32 | New Mexico | 0.8635
33 | New York | 0.8154
34 | North Carolina | 0.8540
35 | North Dakota | 0.7261
36 | Ohio | 0.8826
37 | Oklahoma | 0.7581
38 | Oregon | 0.9826
39 | Pennsylvania | 0.8291
40 | Puerto Rico ¹ | 0.4047
41 | Rhode Island ¹ |
42 | South Carolina | 0.8638
43 | South Dakota | 0.8560
44 | Tennessee | 0.7895
45 | Texas | 0.8003
46 | Utah | 0.8118
47 | Vermont | 0.9830
48 | Virginia | 0.8013
50 | Washington | 1.0510
51 | West Virginia | 0.7717
52 | Wisconsin | 0.9509
53 | Wyoming | 0.9257
65 | Guam | 0.9611
¹ All counties within the State are classified as urban, with the exception of Massachusetts and Puerto Rico. Massachusetts and Puerto Rico have areas designated as rural, however, no short-term, acute care hospitals are located in the area(s) for FY 2006. Because more recent data is not available for those areas, we are using last year's wage index value.

[FR Doc. 06-4202 Filed 5-1-06; 4:00 pm]

BILLING CODE 4120-01-P